DEPARTMENT OF HOMELAND SECURITY

Coast Guard

46 CFR Parts 1, 10, 11, 12, 13, 14, and 15

[Docket No. USCG-2004-17914]

RIN 1625-AA16

Implementation of the Amendments to the International Convention on Standards of Training, Certification and Watchkeeping for Seafarers, 1978, and Changes to Domestic Endorsements.

AGENCY: Coast Guard, DHS.

ACTION: Supplemental notice of proposed rulemaking; notice of public meetings.

SUMMARY: The Coast Guard proposes to amend the existing regulations that implement the International Convention on Standards of Training, Certification and Watchkeeping for Seafarers, 1978, as amended (STCW Convention), as well as the Seafarer's Training, Certification and Watchkeeping Code (STCW Code). The changes proposed in this Supplemental Notice of Proposed Rulemaking (SNPRM) address the comments received from the public response to the Notice of Proposed Rulemaking (NPRM), in most cases through revisions based on those comments, and propose to incorporate the 2010 amendments to the STCW Convention that will come into force on January 1, 2012. In addition, this SNPRM proposes to make other non-STCW changes necessary to reorganize, clarify, and update these regulations.

DATES: Comments and related material must either be submitted to our online docket via http://www.regulations.gov on or before September 30, 2011 or reach the Docket Management Facility by that date. Comments sent to the Office of Management and Budget (OMB) on collection of information must reach OMB on or before September 30, 2011.

ADDRESSES: You may submit comments identified by docket number USCG-2004-17914 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

Collection of Information Comments: If you have comments on the collection of information discussed in section VIII.D of this NPRM, you must also send comments to the Office of Information and Regulatory Affairs (OIRA), Office of Management and Budget. To ensure that your comments to OIRA are received on time, the preferred methods are by e-mail to oira_submission@omb.eop.gov (include the docket number and “Attention: Desk Officer for Coast Guard, DHS” in the subject line of the e-mail) or fax at 202-395-6566. An alternate, though slower, method is by U.S. mail to the Office of Information and Regulatory Affairs, Office of Management and Budget, 725 17th Street NW., Washington, DC 20503, ATTN: Desk Officer, U.S. Coast Guard.

Viewing incorporation by reference material: You may inspect the material proposed for incorporation by reference at room 1210, U.S. Coast Guard Headquarters, 2100 Second Street SW., Washington, DC 20593-0001 between 8 a.m. and 4 p.m., Monday through Friday, except Federal holidays. The telephone number is 202-372-1401. Copies of the material are available as indicated in the “Incorporation by Reference” section of this preamble.

FOR FURTHER INFORMATION CONTACT: If you have questions on this proposed rule, call or e-mail Ms. Zoe Goss, Maritime Personnel Qualifications Division, Coast Guard; telephone 202-372-1425, e-mail Zoe.A.Goss@uscg.mil. If you have questions on viewing or submitting material to the docket, call Renee V. Wright, Program Manager, Docket Operations, telephone 202-366-9826.

SUPPLEMENTARY INFORMATION:

Table of Contents for Preamble

I. Public Participation and Request for Comments

A. Submitting Comments

B. Viewing Comments and Documents

C. Privacy Act

D. Public Meeting

II. Abbreviations

III. Regulatory History

IV. Basis and Purpose

V. Background

VI. Discussion of Proposed Rule

A. Overview

B. Differences Between This SNPRM and the Coast Guard's Current Regulations

C. Table of Proposed Changes

D. Part 12 Re-Numbering

VII. Discussion of Comments on the NPRM

VIII. Incorporation by Reference

IX. Regulatory Analyses

A. Regulatory Planning and Review

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Public Participation and Request for Comments

We encourage you to participate in this rulemaking by submitting comments and related materials. All comments received will be posted without change to http://www.regulations.gov and will include any personal information you have provided.

A. Submitting Comments

If you submit a comment, please include the docket number for this rulemaking (USCG-2004-17914), indicate the specific section of this document to which each comment applies, and provide a reason for each suggestion or recommendation. You may submit your comments and material online or by fax, mail, or hand delivery, but please use only one of these means. We recommend that you include your name and a mailing address, an e-mail address, or a phone number in the body of your document so that we can contact you if we have questions regarding your submission.

To submit your comment online, go to http://www.regulations.gov, click on the “submit a comment” box, which will then become highlighted in blue. In the “Document Type” drop down menu select “Proposed Rule” and insert “USCG-2004-17914” in the “Keyword” box. Click “Search” then click on the balloon shape in the “Actions” column. If you submit your comments by mail or hand delivery, submit them in an unbound format, no larger than 8½; by 11 inches, suitable for copying and electronic filing. If you submit comments by mail and would like to know that they reached the Facility, please enclose a stamped, self-addressed postcard or envelope.

We will consider all comments and material received during the comment period and may change this proposed rule based on your comments.

B. Additional Request for Comments

In addition to encouraging your comments on all of the proposals within this rulemaking, the Coast Guard seeks specific comment on the issues outlined below:

1. The value of tonnage and route restrictions for engineer endorsements. Current regulations restrict Designated Duty Engineers (DDEs) with 1,000 horsepower (HP) and 4,000 HP limits to inland and near-coastal waters, and all DDEs to 500 gross register tons (GRT) vessels. Also, the limited series of engineer credentials authorize service on vessels less than 1,600 GRT/3,000 gross tonnage (GT), with two classes of chief engineer, one of which authorizes sailing only on near-coastal waters. The Coast Guard seeks comment from the public regarding the possible elimination or retention of these tonnage and route restrictions.

2. Alternative or additional requirements for limiting engineer authority, such as maintaining current horsepower limits, adding equipment restrictions, or any other alternative requirements.

3. Potential changes to the qualification requirements for a Designated Examiner (DE) for Towing Officer's Assessment Record (TOARs) to allow mariners to serve as DEs by virtue of their endorsement without any further approval process.

4. Who, within the mariner population, will take advantage of the alternatives provided to meet the standards of competence, besides formal training, for an STCW endorsement.

5. The extent to which changes to sea service requirements, particularly in § 10.232, will increase the availability of mariners for service on ocean-going ships.

6. Possible changes to fee payment options, as proposed in § 10.219, which would eliminate the ability to pay by cash or check.

C. Viewing Comments and Documents

To view comments, as well as documents mentioned in this preamble as being available in the docket, go to http://www.regulations.gov, click on the “read comments” box, which will then become highlighted in blue. In the “Keyword” box insert “USCG-2004-17914” and click “Search.” Click the “Open Docket Folder” in the “Actions” column. If you do not have access to the internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

D. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

E. Public Meeting

We plan to hold public meetings in Miami, New Orleans, Seattle, and Washington, DC.

We will be providing the dates, times, and exact locations of those meetings by later Federal Register notice.

II. Abbreviations

A/B Able Seaman

ARPA Automatic Radar Plotting Aid

ATB Articulated Tug Barge

BCO Ballast Control Operator

BRM Bridge Resource Management

BS Barge Supervisor

BST Basic Safety Training

CFR Code of Federal Regulations

COI Certificate of Inspection

COLREGS International Regulations for Preventing Collisions at Sea

CPR Cardio-Pulmonary Resuscitation

DC Damage Control

DDE Designated Duty Engineer

DE Designated Examiner

DL Dangerous Liquid

DOT Department of Transportation

ECDIS Electronic Chart Display Information System

EEZ Exclusive Economic Zone

ERM Engine Room Resource Management

FCC Federal Communications Commission

F.H. Food Handler

FR Federal Register

GMDSS Global Maritime Distress and Safety System

GRT Gross Register Tons

GT Gross Tonnage

HP Horsepower

IMDG The International Maritime Dangerous Goods Code

IMO International Maritime Organization

IR Interim Rule

IRFA Initial Regulatory Flexibility Act

ISM International Safety Management Code

ISO International Organization for Standardization

ISPS International Ship and Port Facility Security

ITB Integrated Tug Barge

ITC International Tonnage Convention on Tonnage Measurement of Ships, 1969

KUP Knowledge, Understanding, and Proficiency

kW Kilowatts

LG Liquefied Gas

MARAD Maritime Administration

MARPOL 73/78 International Convention for the Prevention of Pollution From Ships, 1973 as modified by the Protocol of 1978

MERPAC Merchant Marine Personnel Advisory Committee

MMC Merchant Mariner Credential

MMD Merchant Mariner Document

MODU Mobile Offshore Drilling Unit

NAVSAC Navigation Safety Advisory Committee

NDR National Driver Register

NMC U.S. Coast Guard National Maritime Center

NEPA National Environment Policy Act of 1969

NPRM Notice of Proposed Rulemaking

NVIC Navigation and Vessel Inspection Circular

OCMI Officer in Charge, Marine Inspection

OICEW Officer in Charge of an Engineering Watch

OICNW Officer in Charge of a Navigational Watch

OIM Offshore Installation Manager

OIRA Office of Information and Regulatory Affairs

OJT On-the-job training

OMB Office of Management and Budget

OSV Offshore Supply Vessel

OUPV Operator of an Uninspected Passenger Vessel

PIC Person in Charge

PMS Preventive Maintenance System

PSC Proficiency in Survival Craft

QA Qualified Assessor

QMED Qualified Member of the Engineering Department

QSS Quality Standard Systems

REC Regional Examination Center

RFA Regulatory Flexibility Act

RFPEW Ratings Forming Part of an Engineering Watch

RFPNW Ratings Forming Part of a Navigational Watch

SHIP Seafarers' Health Improvement Program

SOLAS The International Convention for the Safety of Life at Sea (1974)

STCW Code Seafarer's Training, Certification and Watchkeeping Code

STCW Convention International Convention on Standards of Training, Certification, and Watchkeeping for Seafarers, 1978, as amended

STCW-F International Convention on Standards of Training, Certification, and Watchkeeping for Fishing Vessel Personnel

TOAR Towing Officer's Assessment Record

TRB Training Record Book

TSA Transportation Security Administration

TSAC Towing Safety Advisory Committee

UPV Uninspected Passenger Vessel

UTV Uninspected Towing Vessel

VSO Vessel Security Officer

III. Regulatory History

The Coast Guard first published changes to the regulations governing the credentialing of merchant mariners serving on U.S. flag vessels with an Interim Rule (IR) on June 26, 1997 (62 FR 34505). The 1997 IR ensured that U.S. merchant mariner credentials would meet IMO standards, thereby reducing the possibility of U.S. ships being detained in a foreign port for non-compliance.

In 2009, The Coast Guard proposed to update the changes made by the 1997 IR through experience gained during the implementation of that rule. To that end, the Coast Guard published a Notice of Proposed Rulemaking (NPRM) on November 17, 2009 (74 FR 59354). The proposed rule sought to incorporate all effective amendments as of that publication date to the STCW Convention and Code. The Coast Guard determined, as a result of comments from the public and federal advisory committees (specifically the Merchant Marine Personnel Advisory Committee (MERPAC)), that more information, including more detailed regulatory text, was required for the affected public, and incorporated those comments as proposals within the NPRM.

Five public meetings were held to receive comments on the NPRM. These meetings were announced in the Federal Register on November 18, 2009 (74 FR 59502). The comments received during these five meetings are discussed in the “Discussion of Comments on the NPRM” section of this preamble.

IV. Basis and Purpose

The Coast Guard has identified two basic concerns with the existing mariner credentialing regulations that it intends to remedy with this supplemental proposal. First, the existing regulations, which combine domestic and international requirements, are confusing to mariners and others in the maritime industry. Second, in June 2010 the International Maritime Organization (IMO) amended the International Convention on Standards of Training, Certification and Watchkeeping for Seafarers (STCW), 1978. This proposal intends to clarify the Coast Guard's domestic and international mariner license endorsement regulations, and implement provisions related to the amended STCW Convention.

The International Convention on Standards of Training, Certification and Watchkeeping for Seafarers, 1978 as amended, sets forth minimum training and demonstrations of proficiency requirements for merchant mariners. The IMO adopted amendments to the STCW in 1995. Those amendments entered into force on February 1, 1997. In 2007, the IMO embarked on a comprehensive review of the entire STCW Convention and STCW Code, which sets forth provisions for implementing provisions from the STCW Convention. Five meetings were held at IMO headquarters in London on the comprehensive review, and the Parties developed draft 2010 amendments to the Convention. The Parties adopted these amendments on June 25, 2010, at the STCW Diplomatic Conference in Manila, Philippines. They will enter into force for all ratifying countries on January 1, 2012. Because these amendments were not adopted until after the previous NPRM was published, they were not included in the NPRM's proposals.

The Coast Guard is publishing this Supplemental Notice of Proposed Rulemaking (SNPRM) to implement amendments to the STCW, including the 2010 amendments, and ensure that the U.S. is meeting its obligations under the Convention. The Coast Guard considered issuing a Final Rule implementing the 1995 amendments before issuing these proposals but determined it would be less confusing to the mariner to combine into one rule the lessons learned from the implementation of the 1995 amendments and the 2010 amendments.

In addition, the Coast Guard is issuing the SNPRM to respond to the comments, feedback, and concerns received from the public as a result of the NPRM. In order to address those comments and concerns, the SNPRM will: simplify domestic licensing requirements and separate them from STCW requirements; provide alternative means for demonstrating competence; clarify oversight requirements for approved courses; amend lifeboatmen requirements; allow for acceptance of sea service on vessels serving the Great Lakes and inland waters to meet STCW requirements; and permit acceptance of maritime academies' documentation in compliance with national accreditation bodies to meet STCW requirements. The SNPRM will also give the public an opportunity to comment on these changes.

V. Background

In 2007, the IMO embarked on a comprehensive review of the entire STCW Convention and STCW Code. The Coast Guard held public meetings prior to each one of the IMO meetings in London for the review to determine what positions U.S. delegations should advocate and to exchange views about amendments to STCW that were under discussion. In addition, the Coast Guard also took advantage of advisory committee meetings, specifically MERPAC, to discuss developments and implementation of the requirements relating to the 2010 amendments. The 2010 amendments resulting from that review were adopted on June 25, 2010.

The Convention is not self-implementing; therefore, the United States, as a signatory to the STCW Convention, must initiate regulatory changes to ensure full implementation of all amendments to the STCW Convention and STCW Code. The United States implements these provisions under the Convention and under the authority of United States domestic laws at United States Code titles 5, 14, 33 and 46, as cited with the proposed rule text under “Authorities.”

Parties to the STCW Convention have port state control authority to detain vessels that do not appear to be in compliance with the Convention. If U.S. regulations are non-compliant with the STCW Convention and STCW Code, there is a risk that U.S. ships will be detained in foreign ports by member nations and that U.S. mariners would not be able to seek employment on foreign flag vessels.

VI. Discussion of Proposed Rule

A. Overview

This proposed rule is a result of ongoing work to ensure that U.S. mariners comply with the standards set forth in the STCW Convention and Code and to clarify and update the regulations of 46 CFR Subchapter B. In responding to the comments, feedback, and concerns received from the public as a result of the 2009 NPRM, and due to the adoption of the 2010 amendments to the STCW Convention and STCW Code, the Coast Guard recognized a need to make substantial changes to the merchant mariner licensing and documentation credentialing program. Because of these substantial changes, we recognize the necessity of developing a more comprehensive rule, and of providing additional opportunity—through this SNPRM—for the public to comment on these changes.

Most seagoing merchant mariners must comply with the requirements of the STCW Convention and STCW Code. The Coast Guard recognizes that the CFR regulations implementing the STCW Convention and STCW Code requirements have been the subject of different interpretations and that the requirements reflected in the CFR are not currently organized in a manner that is easy to read and understand. This SNPRM seeks to implement all of the provisions in the STCW Convention by taking full advantage of the flexibilities incorporated in the STCW Convention and of the robustness of an existing domestic licensing scheme, without compromising the safety, security and protection of mariners or the marine environment.

This SNPRM also seeks to revise other sections of 46 CFR Subchapter B in order to clarify, address omissions in, and update these regulations.

B. Differences Between This SNPRM and the Coast Guard's Current Regulations

This list provides a brief summary of the significant changes proposed in this SNPRM. The “Table of Proposed Changes” in part C of this section provides more detailed information and explanation of the key changes in the summarized listing below.

1. Separation of STCW and Domestic Endorsements

The Coast Guard proposes to clearly separate the two licensing schemes for STCW and domestic endorsements. For STCW endorsements, this proposed rule incorporates the sea service, assessment and training requirements directly from the STCW Convention and STCW Code to ensure consistency and clarity. In addition, the Coast Guard has provided entry paths from domestic endorsements to the equivalent STCW endorsement. These proposed changes would make it easier for mariners to read and understand the requirements for each Merchant Mariner Credential (MMC) STCW endorsement.

2. Methods for Demonstrating Competence

The Coast Guard proposes to accept various methods for assessment of competence as provided in the Tables of Competence in the STCW Code. This would allow the preservation of the “hawsepipe” program, which permits the use of on-the-job training (OJT) or practical experience, to obtain endorsements, and would foster career paths that were not previously available.

Implementation of an assessment-based process would provide acceptance of the various methods for demonstrating competence, including, but not limited to: (1) On-the-job training and/or in-service experience; (2) formal training (classroom or distance-learning), including laboratory assessment; and (3) simulator training. The complete list of acceptable methods of demonstrating competence can be found in proposed §§ 11.301, 12.601, and 13.601 accordingly.

3. Sea Service Credit for Great Lakes and Inland Mariners

The Coast Guard proposes to add provisions to grant sea service credit towards STCW and domestic endorsements of unlimited tonnage for those mariners who provide proof of service on the Great Lakes or inland waters. A large portion of the skills and assessments that the STCW Code requires for its endorsements overlaps with the skills and techniques these officers are currently using as deck and engineer officers on the Great Lakes or inland waters. Applicants serving on Great Lakes waters will receive day-for-day credit. Applicants serving on inland waters will be credited 1 day of ocean service for every 2 days of inland service for up to 50 percent of the total required service. The reason for the difference in service credit is based on the fact that Great Lakes service most closely resembles the length, breadth, equipment, and operation of ocean service.

4. Medical Examinations and Endorsements

The Coast Guard proposes to add provisions regarding the issuance of medical endorsements for mariners to improve maritime safety and provide consistency with the 2010 STCW amendments. Medical endorsements issued to a mariner serving under the authority of an STCW endorsement would be issued for a maximum period of 2 years unless the mariner is under the age of 18, in which case the maximum period of validity would be 1 year, as stipulated in the 2010 amendments to the STCW Convention. Medical endorsements issued to a mariner who is serving as a first-class pilot, or acting as a pilot under § 15.812, would be issued for a maximum period of 1 year consistent with the already implemented requirement for a first-class pilot to complete an annual medical exam. All other mariners would be issued a medical certificate/endorsement valid for a maximum period of 5 years, consistent with the current practice and requirements.

The Coast Guard proposes to revise the physical requirements for mariners applying for domestic and STCW credentials issued by the Coast Guard. These proposed changes include: annual submission of physical examination results by pilots, removal of some specific tests for color vision, revision of vision standards, revision of hearing standards, and clarification regarding demonstration of physical ability. These changes would provide the Coast Guard some flexibility in the acceptance of other tests, as well as serve as acknowledgement that some of the vision tests are no longer available. They would enable mariners and examining physicians to use a range of effective tests to demonstrate physical competence, rather than limit them to specific tests which may have become outdated or unavailable. They also implement the STCW requirement that mariners seeking an STCW endorsement demonstrate physical ability.

In particular, the Coast Guard proposes to revise the vision standards for deck personnel with STCW endorsements by expanding the applicability of the vision standards from one eye to both eyes. This proposal would provide consistency with the 2010 amendments to the STCW Convention. Requirements for mariners who suffer from vision loss or lost vision in one eye remain the same. At the time of application for an endorsement, mariners must hold a valid medical certificate or endorsement, or they must submit an application for a medical certificate. Unless provided otherwise, mariners sailing onboard vessels to which STCW applies must hold a valid 2-year medical certificate.

5. Ceremonial License

The Coast Guard proposes to add a provision for issuance of a ceremonial license, which reflects his or her existing domestic officer endorsements, and is suitable for framing. The addition of this optional license is being proposed in response to numerous requests from the public.

6. Quality Standards System (QSS)

The Coast Guard proposes to add Quality Standards System (QSS) requirements for Coast Guard-approved courses. A QSS is a set of policies, procedures, processes, and data that help an organization fulfill its objectives. The use of a QSS by training providers helps in the oversight of courses, ensuring that mariners obtain the training that they need. This proposal would provide consistency with the obligation under the STCW Convention for approved training to be part of a QSS. This would also require providers of approved courses and training programs to be compliant with QSS provisions.

To make it easier for training providers to meet the QSS requirements, the Coast Guard proposes to accept documentation from a National Academic accreditation body or from a national or international quality standard system as meeting one or more of the QSS requirements.

The Coast Guard also proposes to clarify that Coast Guard-accepted QSS organizations may accept and monitor training on behalf of the Coast Guard. Coast Guard-accepted QSS organizations will need to have processes for reviewing, accepting, and monitoring training that are equal to the Coast Guard's course approval and oversight processes.

Additionally, the Coast Guard proposes to introduce a grandfather provision to ensure that approved courses, programs, and training creditable towards an STCW endorsement approved prior to July 1, 2013 must meet the requirements of this section at the next renewal.

7. Post-Dating of MMCs

The Coast Guard proposes to add requirements for an applicant to request post-dating of his or her MMC upon submitting an application. These changes would provide flexibility to the mariner to post-date an MMC for up to 12 months allowing a mariner to start his or her application process early in case a problem arises or he or she has to return to sea. Their application can continue to be processed in their absence. This change will alleviate the situation where a mariner was not getting the benefit of the full 5-year credential.

8. New Towing Endorsements

The Coast Guard proposes to add three new towing endorsements and the associated requirements to obtain them: Apprentice mate (steersman) of towing vessels (utility), Master of Towing Vessels (Utility), and Master of Towing Vessels (Harbor Assist). These endorsements are being proposed in response to recommendations from the Towing Safety Advisory Committee (TSAC) in its review of the towing vessel NVIC 04-01. TSAC recommended the addition of these three endorsements because some mariners were performing these functions without the proper authority, experience, and in some cases, qualifications.

The Coast Guard is establishing a towing vessel (utility) progression, including apprentice mate (steersmen) and a Master of Towing Vessels (Utility) endorsement to cover Towing Vessels performing marine repair, construction, and other utility type services where a full, unlimited Master of Towing Vessels endorsement is inappropriate, and where some persons with Assistance Towing endorsements are currently working beyond the authority of their credentials.

The Master of Towing Vessels (Utility) will authorize service to tow: (1) Barges not used for moving bulk cargo (commodities) for trade; (2) Barges associated with Marine Construction; (3) Dredges; and (4) Pile Drivers.

The Master of Towing Vessels (Harbor Assist) endorsement authorizes service on towing vessels for escorting ships with limited propulsion or navigating capabilities in restricted waters, and for assisting ships to dock and undock in limited local areas. This endorsement may be added to a Master of Towing Vessels (Limited) endorsement after a period of service and the completion of a specified TOAR.

9. Bridge Resource Management (BRM), Leadership and Teamworking Skills, Leadership and Managerial Skills

The Coast Guard proposes to change the name of Procedures for Bridge Team Work to Bridge Resource Management (BRM). BRM and leadership and teamworking skills would be required for the operational-level credential only; and leadership and managerial skills would be required for the management-level credential, as provided in the 2010 amendments to the STCW Convention. These requirements would allow for the approval of BRM courses or combined BRM and leadership and managerial skills courses.

10. Engine Room Resource Management (ERM), Leadership and Teamworking Skills, Leadership and Managerial Skills

The Coast Guard proposes to require Engine room resource management (ERM) training for engineers seeking STCW endorsements. Basic ERM will be required for the operational-level credential, and leadership and managerial skills would be required for the management-level credential in accordance with the 2010 amendments to the STCW Convention. These requirements would allow for the approval of ERM courses or combined ERM and leadership and managerial skills courses.

11. Grandfathering and Transitional Provisions

The Coast Guard proposes transitional and grandfathering provisions consistent with the 2010 amendments to the STCW Convention. The 2010 amendments to the STCW Convention will enter into force on January 1, 2012. However, STCW Regulation I/15 on transitional provisions, allows requirements to come into effect over a 5-year period in order to avoid disruption to the maritime industry. STCW Regulation I/15 also provides that a Party may continue, until January 1, 2017, to issue certificates (MMC) in accordance with the credentialing rules it has in place before the 2010 amendments come into force (January 1, 2012) only with respect to seafarers who begin their sea service or their approved maritime training before July 1, 2013. Candidates who begin their service or their training on or after July 1, 2013, will be subject to the full application of the revised STCW requirements. The Coast Guard has drafted this SNPRM to allow for this phase-in process. These provisions require any seafarer who holds an STCW endorsement prior to January 1, 2012, to provide evidence of meeting the appropriate standard of competence for the applicable STCW endorsement by January 1, 2017.

Domestic requirements provided in this proposed rule will be transitioned during a 5-year period (after the effective date of the final rule) to coincide with the renewal of existing domestic endorsements. Individuals seeking an original credential or raise of grade to an existing credential during this period, and who begin training or service before January 1, 2012, need only meet the requirements in place before that date. Those individuals who start training or service on or after January 1, 2012, must meet all provisions described in the final rule.

12. Tankerman Endorsements

The Coast Guard proposes to add new STCW endorsements for basic and advanced tankerman for oil and chemical, and for basic and advanced tankerman for liquefied gas tanker cargo operations, as required by the 2010 amendments to the STCW Convention. The Coast Guard proposes to use the domestic requirements for the tankerman endorsements as the means to qualify for an STCW tankerman endorsement. Candidates for an STCW endorsement will only need to complete the appropriate assessments of competence in accordance with the appropriate table of competence in the STCW Code.

The Coast Guard proposes to include an STCW endorsement equivalent to the tankerman-PIC (barge).

All of these changes are being proposed to ensure compliance with the 2010 amendments.

The Coast Guard proposes to clarify and update the list of subjects that the tanker courses must cover by including tables of topics for each tanker course.

13. Lifeboatman and Proficiency in Survival Craft Endorsements

In response to comments we received objecting to the use of the term “survivalman”, the Coast Guard has withdrawn its proposed use and substitutes, in its place, the term “lifeboatman-limited” for the domestic endorsement. Regarding the STCW endorsement, the Coast Guard is proposing to use the term proficiency in survival craft and rescue boats other than lifeboats and fast rescue boats—limited (PSC—limited), to ensure consistency with the STCW Convention.

To ensure consistency and clarity, the Coast Guard is proposing to separate the domestic requirements for lifeboatman endorsements (found in §§ 12.407 and 12.409) from the STCW Code requirements for proficiency in survival craft endorsements (found in §§ 12.613 and 12.615). Persons who meet the requirements for a domestic lifeboatman (lifeboatman or lifeboatman-limited) endorsement will be deemed to meet the requirements for an STCW endorsement for proficiency in survival craft (PSC or PSC-limited).

Mariners holding an STCW endorsement will be required to prove that they have maintained the standard of competence every 5 years, in accordance with the 2010 amendments to the STCW Convention. This may be accomplished through a combination of drills and onboard training and experience, with shore-side assessments. The Coast Guard is proposing to accept proof of sea service, specifically one year in the last 5 years, as proof of meeting the requirements for those components of the competence table that can be performed through drills and/or training on board vessels. For those components that cannot be performed onboard a ship, shore-side assessments must be successfully demonstrated.

14. Basic Safety Training (BST) and Advanced Firefighting

The Coast Guard proposes to amend the BST and advanced firefighting requirements to require that mariners prove they have maintained the standard of competence every 5 years, in accordance with the 2010 amendments to the STCW Convention and Code. This may be accomplished through a combination of drills and onboard training and experience, with shore-side assessments. The Coast Guard is proposing to retain the existing arrangement of acceptance of sea service, specifically one year in the last 5 years, as proof of meeting the requirements only for those components of the competence table that can be performed through drills and/or training on board vessels. For those components that cannot be performed onboard a ship, shore-side assessments must be successfully demonstrated.

15. Recognition of Certificates Issued by Other Parties to the STCW Convention

The Coast Guard proposes to establish requirements and procedures for the recognition and endorsement of officer certificates of competence issued by other Parties signatory to the STCW Convention in accordance with the existing laws of the United States.

46 U.S.C. 8103(b)(3)(A) waives the citizenship requirements (except for master) for offshore supply vessels (OSVs) operating from a foreign port. To ensure compliance with the STCW Convention, in the limited cases of OSVs, the U.S. needs to recognize seafarer competence certificates from other countries that have ratified the STCW Convention and are known to issue STCW certificates.

16. Work Hours and Rest Periods

In accordance with the 2010 amendments to the STCW Convention and Code, the Coast Guard proposes to amend the work and rest hours requirements as follows: (1) Expand the application for hours of work and rest periods for mariners to include all personnel with designated safety, prevention of pollution, and security duties onboard any vessel; (2) change the weekly rest hours requirements from 70 hours to 77 hours; (3) require the recording of hours of rest; and (4) include flexibility from the rest hours requirements in exceptional circumstances.

17. Certification for Vessel Personnel With Security Duties and Security Awareness

The Coast Guard is proposing that, after July 1, 2012, all personnel with designated security duties must hold a valid endorsement as vessel personnel with designated security duties or a certificate of course completion from an appropriate Coast Guard-accepted course meeting the requirements of 33 CFR 104.220. This requirement is consistent with the STCW 2010 amendments to ensure that all personnel hold a certificate of proficiency.

The Coast Guard also is proposing that, after July 1, 2012, all other vessel personnel, including contractors, whether part-time, full-time, temporary, or permanent, must hold a valid endorsement in security awareness, or a certificate of course completion from an appropriate Coast Guard-accepted course meeting the requirements of 33 CFR 104.225. This requirement is consistent with the 2010 STCW amendments to ensure that personnel hold a certificate of proficiency.

The training requirements for vessel personnel with designated security duties and for security awareness in compliance with the 2010 amendments to the STCW Convention and Code will be part of a separate rulemaking.

C. Thirty Months of Training for Officer in Charge of an Engineering Watch (OICEW)/Designated Duty Engineer (DDE) Candidates

The November 17, 2009, NPRM proposed to include a requirement for an OICEW or DDE candidate to complete approved education and training of at least 30 months in accordance with Regulation III/1 of the 1995 amendments to the STCW requirements. The 2010 amendments deleted this requirement from regulation; therefore, this SNPRM does not include this provision.

D. Table of Proposed Changes

The following table provides a more detailed summary of significant changes proposed in this SNPRM. The table includes the changes noted in the brief summary of the significant changes listed in part B above, “Differences between this SNPRM and the Coast Guard's current regulations”.

Current cite | Cite under proposed rule | Summary of proposed changes | Explanation of and reasons for proposed changes
§ 10.107 | N/A | Removes definition of Competent Person | Moved relevant information into part 13 to ensure consistency, because “competent person” deals with tankerman endorsements.
§ 10.107 | § 10.107 | Revises the definition for Coast Guard-accepted | The definition is being revised to provide clarification on the instances where something may be approved by the Coast Guard for use in meeting a particular requirement.
§ 10.107 | § 10.107 | Revises definition of Day | References authorization by the U.S. Code and the two-watch system, in accordance with part 15. Adds clarification on service on MODUs. This will link the definition to the U.S. Code and provide further clarification within the regulations.
§ 10.107 | § 10.107 | Revises definition of Designated examiner | The definition was revised to ensure that a DE applies to the Towing Officer Assessment Record only, as DE previously applied to all qualification processes.
§ 10.107 | § 10.107 | Revises the definition of Near-coastal | Amends to include exceptions for operator of uninspected passenger vessels (OUPVs) in order to formalize a pre-existing exception for OUPVs.
§ 10.109 | § 10.109 | Revises list of endorsements | Adds new endorsements in accordance with parts 11 and 12 to ensure that the lists of endorsements are consistent throughout the regulations.
§ 10.209, 10.231 | § 10.209, 10.231 | Adds required documentation for medical examinations | Adds a medical certificate issued by the Coast Guard.
|  |  | This serves as documentary proof of passing the medical examination.
§ 10.215 | Part 10, subpart C | Transfer medical requirements to a new subpart. Revises the physical requirements for mariners applying for a Coast Guard-issued credential These changes include: annual submission of physicals by pilots, revision of vision standard, revision of hearing standard, clarification regarding demonstration of physical ability | Provides the Coast Guard some flexibility in the acceptance of other tests. The requirement to demonstrate physical ability provides information required for those mariners serving on vessels to which STCW applies.
§ 10.215 | § 10.301 | Revises medical certificate validity period | Adds issuance of the new medical certificates with the following period of validity:
|  |  | (1) 2 years for STCW-endorsed mariners, unless the mariner is under the age of 18, in which case the maximum period of validity would be 1 year;
|  |  | (2) 1 year for a mariner who is serving as a first-class pilot, or acting as a pilot under § 15.812; and
|  |  | (3) 5 years for all other mariners, consistent with the current practice and requirements.
§ 10.215 | § 10.305 | Vision requirements | The 2010 amendments have expanded the applicability of vision standards from one eye to both eyes for deck personnel with STCW endorsements.
§ 10.217 | § 10.217 | Removes reference to temporary permits. | Temporary permits are no longer issued.
|  |  | Formalizes long-standing Coast Guard practice.
§ 10.219 | § 10.219 | Amends the manner in which user fees may be paid to credit card or electronic payment only | This change would eliminate the ability of a mariner to pay by cash and by attaching a check or money order to their application package.
|  |  | This would update fee payment practices by permitting electronic payment of fees.
§§ 10.227, 10.231 | §§ 10.227, 10.231 | Revises renewal requirements for credentials | Removes the requirement to submit an old, original credential in an application for renewal.
|  |  | This would permit mariners to retain their previous credentials.
§ 10.303 | § 10.410 | Removed QSS requirements from § 10.303 and moved them into a new § 10.410 | Adds QSS information into a new section and adds requirement for training providers to develop a QSS.
|  |  | This reflects the STCW requirement to use a QSS.
|  |  | Adds a grandfather provision to ensure that approved courses, programs, and training creditable towards an STCW endorsement approved prior to July 1, 2013 must meet the requirements of this section at the next renewal.
N/A | § 10.107 | Adds the definition of Boundary line | Adding the definition will assist applicants in understanding the limits of the STCW Convention.
N/A | § 10.107 | Adds definition of Ceremonial license | Provides mariners an MMC endorsement suitable for framing.
|  |  | This is in response to mariner demand for a ceremonial license.
N/A | § 10.107 | Adds the definition of a Coast Guard-accepted quality standards system (QSS) organization | Adds definition regarding those organizations that may conduct QSS activities in regard to training, consistent with STCW requirements.
N/A | § 10.107 | Adds definition of Coastwise Voyage | This is being done to add clarity to the boundaries of these types of voyages.
N/A | § 10.107 | Adds definition of Deck department | To clarify the functions of this department.
N/A | § 10.107 | Adds definition of Designated medical examiner | To clarify who can give medical examinations to mariners, establishing a network of medical examiners who have demonstrated an understanding of mariner fitness.
N/A | § 10.107 | Adds the definition of Domestic voyage | To clarify that domestic service does not include entering foreign waters.
|  |  | This will assist those operating small passenger vessels in waters close to or adjacent to foreign waters in determining whether the operator would be required to hold an STCW endorsement.
N/A | § 10.107 | Adds definition of Dual-mode integrated tug barge | To clarify what is included in the operations and configuration of this type of ITB.
N/A | § 10.107 | Adds definition of Engine department | To clarify the functions of this department.
N/A | § 10.107 | Adds definition of Gross register tons (GRT) | Provides definition for term used in the proposed rule and establishes an abbreviation for the use of this term throughout this subchapter.
|  |  | This will help the mariner to readily distinguish between GRT and gross tonnage.
N/A | § 10.107 | Adds the definition of Gross tonnage (GT) | This will provide consistency with the STCW Convention and simplify the regulations by establishing an abbreviation for use throughout this subchapter.
N/A | § 10.107 | Adds definition of Integrated tug barge | To specify and make clear the features and capabilities of this type of tug barge combination.
N/A | § 10.107 | Adds the definition of Kilowatt (kW) | To provide clarity and consistency, as the term is used in conjunction with the implementation of the STCW Convention and STCW Code.
N/A | § 10.107 | Adds the definition of Management level | To explain that master, chief mate, chief engineer and first assistant engineer (second engineer officer) are considered management level under the STCW Convention.
N/A | § 10.107 | Adds definition of Officer in Charge of a Navigational Watch (OICEW) | To clarify that this endorsement is at the operational level.
N/A | § 10.107 | Adds definition of Officer in Charge of an Engineering Watch (OICEW) | To clarify that this endorsement is at the operational level.
N/A | § 10.107 | Adds the definition of Operational level | Provides that officer endorsements other than management level are considered operational level under the STCW Convention.
|  |  | This will provide consistency with STCW.
N/A | § 10.107 | Adds the definition of Periodically unattended engine room | Provides clarity in the application of the service requirements for engineers.
N/A | § 10.107 | Adds the definition of Propulsion power | To provide consistency with the use of the term “propulsion power” in STCW and to encompass methods of measurement, such as horsepower (HP) and kilowatts (kW).
N/A | § 10.107 | Adds definition of Push-mode ITBs | To specify what is included in the configuration of this tug barge unit.
N/A | § 10.107 | Adds definition of Qualified Assessor | To clarify the qualifications for this type of evaluator.
N/A | § 10.107 | Adds the definition of Quality standard system (QSS) | To ensure conformity with STCW requirements for use of a QSS and provide clarification of what is intended by this term when used in this subchapter.
N/A | § 10.107 | Adds definition of Seagoing service | Clarify for the mariner what is included in this type of service, including Great Lakes and inland service.
|  |  | This is in response to public comments specifically requesting credit for all waters.
N/A | § 10.107 | Adds the definition of Seagoing vessel | To ensure the definition captures all vessels to which STCW Convention and Code apply.
|  |  | There is no commercial vessels restriction, as appears in the current 46 CFR 15.1101 definition, because that would have excluded vessels such as yachts and government-owned vessels, which are required to be operated by mariners holding an STCW endorsement.
N/A | § 10.107 | Adds definition of Lifeboatman-Limited | To provide for a new endorsement for persons serving in a position similar to Lifeboatman but on a vessel without a lifeboat.
N/A | § 10.107 | Adds the definition of Training program | To provide clarity regarding what is encompassed within training programs.
N/A | § 10.205(b)(i) | Adds grandfathering provision for existing STCW endorsements | Clarifies that this proposed rule does not require a mariner to meet newly proposed requirements in order to retain a credential already held.
|  |  | This will provide mariners with time to meet new requirements, while still being able to serve on those credentials already held.
N/A | § 10.205(i) | Adds provision regarding Document of Continuity | To explain the process of replacing a Document of Continuity with an MMC.
N/A | § 10.209 | Adds ceremonial license | Allows mariners to request a ceremonial license when renewing his or her credential.
N/A | § 10.405 | Adds requirements for qualification as a qualified assessor or designated examiner | To ensure that qualified individuals conduct evaluations of mariners in conformity with the STCW Convention. See Section A-I/6 of the STCW Code.
N/A | § 10.409 | Adds requirements for approval as a Coast Guard-accepted QSS organization | Requires organizations wishing to accept and monitor training to submit application for approval. Coast Guard-accepted QSS organizations will be audited once every five years.
|  |  | This is to ensure compliance with STCW and to provide oversight of these organizations.
N/A | § 10.411 | Adds simulator performance standards | To provide consistency with existing requirements and Section A-I/12 of the STCW Code.
N/A | § 10.412 | Adds distance and e-learning | Adds a provision that will allow mariners to complete certain approved training via distance or e-learning courses.
|  |  | This will allow more options for obtaining training.
§§ 11.201, 11.205 | § 11.201 | Re-organizes and consolidates all general requirements applicable to all domestic and STCW officer endorsements | Consolidates all endorsement requirements from the various sections (including §§ 11.201, 11.205) into a general section with sub-titles to allow for easy reference.
§ 11.202 | § 15.817 | Moves section for GMDSS competency Requires that all deck officers serving on vessels equipped with Global Maritime Distress and Safety System (GMDSS) provide an endorsement for GMDSS | This re-organizes the regulations to make them easier to access and follow.
§ 11.202 | § 15.816 | Moves section for ARPA competency Requires that all deck officers serving on vessels equipped with ARPA prove competency | This re-organizes the regulations to make them easier to access and follow.
§ 11.202, 11.205 | § 11.301 | Re-organizes and consolidates all requirements applicable to all STCW officer endorsements | Consolidates all endorsement requirements from various sections (including §§ 11.202 and 11.205) into a general section with sub-titles to allow for easy reference.
§ 11.202(c) | §§ 11.305 to 11.321 | Moves the requirement for automatic radar plotting aid (ARPA) from the general section | To place the requirement in the appropriate operational-level and management-level certificate.
§ 11.202(d) | §§ 11.305 to 11.321 | Moves the requirement for the training and assessment on Global Maritime Distress and Safety System (GMDSS) from the general section | Incorporates the GMDSS requirement with the requirement for the appropriate operational-level and management-level certificate to simplify and clarify the GMDSS requirement.
§ 11.202(e) | §§ 11.305 to 11.321 | Changes the name of Procedures for Bridge Team Work to Bridge Resource Management (BRM) | The BRM will be required for the operational level credential and leadership and managerial skills will be required for the management level credential.
|  |  | This will provide consistency with STCW.
§ 11.202(e) | §§ 11.305 to 11.321 | Moves the requirement for Bridge Resource Management | Moves the BRM requirement to the appropriate operational-level certificate in order to clarify and simplify the requirement.
§ 11.202(b) | § 11.301(b) | Moves requirements for Basic Safety Training (BST). | Adds requirements for BST, including the requirement to maintain the standard of competence every 5 years through a combination of drills and onboard training and experience with shore-side assessments.
|  |  | This will ensure mariners maintain knowledge of BST.
§ 11.202(f) | § 11.301(j) and (k) | Moves exemptions and relaxations for vessels that are not subject to further obligation | Moves exemption and relaxation requirements applicable to vessels that are exempt from the requirements or that are applicable because of their special operating condition as small vessels in domestic voyages.
|  |  | This was done to simplify the regulations by placing all STCW requirements in one subpart.
§ 11.205(c) | N/A | Letters of reference | Removes the requirement to submit letters of reference because of the depth of new background investigation procedures by both the Coast Guard and the Transportation Security Administration.
§ 11.205(d) | § 11.201(h) | Reduces firefighting training requirements for certain endorsements | Reduces the training from basic and advanced firefighting to basic firefighting training for vessels of less than 200 GRT in ocean services.
|  |  | This will reduce the burden on mariners serving on these vessels.
§ 11.205(d) | § 11.201(h) | Adds firefighting training requirements for certain endorsements | Mandates basic firefighting training for some endorsements on non-ocean services.
|  |  | This is to ensure that mariners with those endorsements have basic firefighting skills and to improve overall maritime safety.
§§ 11.211(a) and (b), 11.213 | § 10.232 | Creates new section for sea service | Inserts new section to discuss sea service issues applicable to all credentials, including foreign sea service, documentation to show proof of sea service, and sea service as a member of the armed forces.
|  |  | This is in response to public comments requesting further clarification on sea service requirements.
§ 11.211(d) | § 11.211(c) | Expands sea service credit on Articulated Tug Barges (ATBs) | The Coast Guard would allow the service on ATBs to qualify for unlimited tonnage officer endorsements.
|  |  | This will reduce the burden on the mariner seeking to qualify for these endorsements.
§ 11.301 | § 10.401 | Revises the applicability to include training programs | Clarifies that the STCW Convention covers all training used to pursue certification, whether or not it is part of an approved course or training program. See Regulation I/6 of the STCW Convention and Section A-I/6 of the STCW Code.
§ 11.302 | § 10.402 | Revises the credit that can be provided by course approval to allow for multiple purposes | Provides industry more flexibility to complete the requirements as current regulations are too confining.
§ 11.302 | § 10.402 | Revises the requirements for the request for course approval | Incorporates previously issued guidance documents.
|  |  | This is to assist industry in understanding otherwise vague requirements.
§ 11.302 | § 10.402 | Clarifies the circumstances that could lead to the suspension of course approval for a training course | Organizes the requirements for suspension of course approvals.
|  |  | This is being done in response to public comments regarding course approval suspensions.
§ 11.302 | § 10.402 | Revises the reasons for withdrawal of course approval | Clarifies reasons for withdrawal of course approval.
§ 11.303 | § 10.403 | Revises section to require that each student demonstrate practical skills appropriate for the course | Ensures that the training provided meets the requirements of the STCW Convention, i.e., not only ensuring applicant knowledge, understanding and proficiency (KUP), but also requiring a demonstration of skills. See STCW Regulation I/6 of the STCW Convention.
§ 11.303 | § 10.403 | Revises the records and reports required for each approved course | Provides the Coast Guard the ability to be consistent with obligations under the STCW Convention to validate the training received by merchant mariners. See Regulation I/8 of the STCW Convention.
§ 11.303 | § 10.403 | Adds QSS requirements for an approved course | Provides consistency with the obligation under the STCW Convention for approved training to be part of a QSS. See Regulation I/8 of the STCW Convention.
§ 11.304 | § 10.404 | Revises the requirement to substitute all sea service for successful completion of an approved training program | Provides service credit for training programs, because they regularly provide more extensive training situations and broader opportunities to demonstrate proficiency.
§ 11.305 | N/A | Removes specific requirements regarding radar-observer certificates and qualifying courses | Removes requirements now unnecessary due to other proposed changes throughout this subpart.
§ 11.309 | § 10.409 | Revises section to reduce redundant language from other sections of this subpart | Provides clarification with reference to § 10.402 for collecting the necessary information.
§ 11.309 | § 10.409 | Adds QSS requirements for accepted training | Provides consistency with the STCW Convention for approved training to be part of a QSS. See Regulation I/8 of the STCW Convention.
§ 11.401 | N/A | Removes the requirement for deck officers to obtain a qualification as able seaman | Provides consistency with the STCW Convention that does not require a qualification as able seaman for seagoing deck officers.
§ 11.402 | § 11.402 | Revises tonnage limitations for an unlimited officer endorsement by setting the minimum to 2,000 GRT | Establishes a revised minimum tonnage limitation. It was previously possible to obtain a limitation of less than 2,000 GRT.
|  |  | This requirement eases the burden on mariners seeking removal of tonnage limitations on their licenses.
§ 11.400 et seq. | § 11.400 et seq. | Links domestic to deck STCW endorsements | Provides better organization and clarification by linking the endorsements.
§ 11.463 | § 11.463(g) | Adds a restriction to a specific type of towing vessel and/or towing operation. Adds the requirement for towing vessel officers serving on seagoing vessels to comply with the STCW Convention | Adds provision for a towing vessel restriction such as harbor-assist or articulated tug barge (ATB) vessels that do not routinely perform all of the tasks in the TOAR.
|  |  | Clarifies the regulations and policy for officers on towing vessels.
§ 11.463 | § 11.463 | Grandfathering provision | Minimizes the burden on mariners by re-opening grandfathering provision for those who met training and service requirements prior to May 21, 2001.
§ 11.465 | § 11.465 | Adds a time limit for acceptance of TOARs | The TOAR must be completed within 5 years of application for license to be consistent with the continued proficiency requirements for the renewal of a towing endorsement.
§ 11.465 | § 11.465 | Endorsement for master of towing vessels (Harbor assist) | New requirements for endorsement applicable to master of towing vessel (limited) with service and TOAR.
|  |  | This endorsement was established in response to requests from industry and recommendations from the Towing Safety Advisory Committee.
§ 11.465 | § 11.465 | Endorsement for master of towing vessel (utility) | New requirements for endorsement including service and TOAR.
|  |  | This endorsement was established in response to requests from industry and recommendations from the Towing Safety Advisory Committee.
§ 11.466 | § 11.466 | Endorsement as apprentice mate (steersman) of towing vessels (utility) | New requirements for endorsement including service and examination. This endorsement was established in response to requests from industry and recommendations from the Towing Safety Advisory Committee.
§ 11.467 | § 11.467 | Adds the limitation to the endorsement as operator of uninspected passenger vessels to not more than 100 nautical miles offshore | Clarifies that this endorsement is limited to domestic near-coastal waters not more than 100 nautical miles offshore.
|  |  | This makes clear that this endorsement authorizes only domestic voyages.
§ 11.482 | § 11.482 | Limitations for assistance towing endorsements | Clarifies and simplifies the application of the assistance towing endorsement.
§ 11.493 | § 11.493 | Revises language for Master (OSV) | Eliminates unnecessary language and ensures consistency with STCW Convention and Code requirements.
§ 11.495 | § 11.495 | Revises language for Chief Mate (OSV) | Eliminates unnecessary language and ensures consistency with STCW Convention and Code requirements.
§ 11.500 et seq | § 11.500 et seq | Links domestic to engineer STCW endorsements | Simplifies the regulations by providing link to appropriate section to add engineer STCW endorsement to existing domestic endorsement.
§ 11.553 | § 11.553 | Revises language for Chief Engineer (OSV) | Eliminates unnecessary language and ensures consistency with STCW Convention and Code requirements.
§ 11.555 | § 11.555 | Revises language for Assistant Engineer (OSV) | Eliminates unnecessary language and ensures consistency with STCW Convention and Code requirements.
§ 11.901 | § 11.901 | Removes the list of endorsements requiring STCW endorsement | Amends section because the list of endorsements was redundant and unnecessary in this location.
§ 11.903 | § 11.903 | Revises the list of endorsements requiring examination | Removes the endorsements that do not require an examination, based on a change in policy and progression consistent with the STCW Convention, i.e., master and second mate.
§ 11.910 | § 11.910 | Revises table 11.910-1 | Clarifies and simplifies the regulations by reflecting the combined endorsements at the management and operational levels.
§ 11.910 | § 11.910 | Revises table 11.910-2 | To revise the table of subjects in order to reflect combined examinations at the operational and management levels and the STCW Convention.
§ 11.950 | § 11.950 | Revised table 11.950 by creating table for seagoing vessels and another for Great Lakes and inland waters | Clarifies and updates the table to reflect the combined endorsements at the management and operational levels and the STCW Convention.
§§ 11.1001 to 11.1005 | N/A | Delete requirements for roll-on/roll-off passenger ships | To reflect the 2010 STCW amendment changes to include requirements for passenger ships.
|  |  | This also simplifies the regulations by merging requirements from subparts J and K.
§ 11.1103 | § 10.107 | Definition for passenger ship | Transferred definition from § 11.1103 to § 10.107 for consistency purposes.
§ 11.1105 | § 11.1105 | Amend requirements for officers on passenger ships when in international voyages | Reflects the 2010 STCW amendment changes to include requirements for passenger ships. This also simplifies the regulations by merging requirements from subparts J and K.
N/A | § 11.301(a) | Standard of Competence | Adds alternative methods of demonstrating competence to provide mariners with multiple options, where allowed by the STCW Convention.
N/A | § 11.301(d) | Great Lakes and inland service | Grants day-for-day equivalency for Great Lakes service and two- for-one for inland service.
|  |  | This is in response to public comments requesting equivalency for Great Lakes service.
N/A | § 11.301(i) | Grandfathering provisions | These provisions will ease the transition for mariners with existing endorsements.
|  |  | Ensure consistency with the 2010 amendments to the STCW Convention and Code.
N/A | § 11.301(f) | Rating service for management-level endorsements | Service as rating not acceptable for management-level STCW endorsements.
|  |  | This ensures consistency with the STCW Convention.
N/A | § 11.301(d) | Service accrued on vessels with dual tonnages | Service will be credited using the international tonnage. This ensures consistency with the STCW Convention.
N/A | § 11.301(c) | Requirements for Advanced Firefighting | Adds requirements for Advanced Firefighting including the requirement to maintain the standard of competence every 5 years through a combination of drills and onboard training and experience with shore-side assessments.
|  |  | This ensures consistency with the STCW Convention.
N/A | § 11.303 | List of STCW deck officer endorsements | List of endorsements included in the applicable subsequent sections.
|  |  | This re-organizes the regulations to make them easier for the mariner to access.
N/A | § 11.323 | List of STCW engineer officer endorsements | List of endorsements included in the applicable subsequent sections.
|  |  | This re-organizes the regulations to make them easier for the mariner to access.
N/A | §§ 11.303 to 11.321; §§ 11.323 to 11.335 | Requirements for STCW deck and engineer officer endorsements | Includes the STCW Convention list of requirements in order to obtain the endorsement.
|  |  | This re-organizes the regulations to make them easier for the mariner to access.
N/A | §§ 11.305 to 11.321; §§ 11.325 to 11.335 | Sea service requirements for STCW deck and engineer officer endorsements | Includes STCW Convention language providing various alternatives for sea service. This re-organizes the regulations to make them easier for the mariner to access.
|  |  | This also provides for acceptance of various modes of sea service.
N/A | §§ 11.305 to 11.321; §§ 11.325 to 11.335 | Standard of competence from the STCW Code | Provides a specific requirement to meet the standard of competence from the appropriate tables in the STCW Code.
|  |  | This ensures consistency with the STCW Convention.
N/A | §§ 11.305 to 11.325; §§ 11.323 to 11.335 | Requirement for training | Includes STCW Convention mandatory training.
|  |  | This ensures consistency with the STCW Convention.
N/A | §§ 11.305 to 11.321; §§ 11.325 to 11.335 | Gap closing measures from the 2010 amendments | Includes training necessary to comply with the 2010 amendments. This ensures consistency with the STCW Convention.
N/A | §§ 11.305 to 11.321; §§ 11.325 to 11.335 | Exemptions from the standard of competence | Provides for exemptions from the tables of competence based on vessel type.
N/A | §§ 11.305 to 11.321; §§ 11.325 to 11.335 | Insert tables specifying entry paths from domestic endorsements to STCW endorsements | Describes various entry points to obtain an equivalent STCW endorsement. This provides a method of determining which STCW endorsements are attainable for each domestic endorsement.
N/A | § 11.335 | Adds a new section providing the requirements for STCW officer endorsement as electro-technical officer | This ensures consistency with the STCW Convention. See regulation III/6 of the STCW Convention and Section A-III/6 of the STCW Code.
N/A | § 11.335 | Equivalency accepted for personnel serving in a similar capacity | Allows for the issuance of the STCW officer endorsement as electro-technical officer to personnel with equivalent credentials and sea service.
|  |  | This makes it easier for an applicant to obtain this endorsement.
N/A | § 11.335 | Equivalency accepted for engineer officers | Allows for the issuance of the STCW officer endorsement as electro-technical officer to OICEW, second engineer officer and chief engineer officer.
|  |  | This makes it easier for an applicant to obtain this endorsement.
N/A | § 11.821 | High-speed craft | Establishes qualifications for operating high-speed craft.
|  |  | This ensures consistency with the STCW Convention.
N/A | Subpart J | New section on recognition of STCW officer endorsements issued by a foreign government | Establishes requirements for the recognition of STCW Certificates issued by foreign governments. Recognition is restricted to non-U.S. licensed officers and mariners with officer endorsements (except masters) found in § 15.720(b). Application for a recognition certificate via the employer.
|  |  | This ensures consistency with the STCW Convention.
§ 12.02-7 | § 15.401 | Moves this requirement to § 15.401 | Moves section to part 15 as it is a manning requirement.
|  |  | This re-organizes the regulations to make them easier to understand.
§ 12.02-17 | § 12.205(c) | Amends provisions for re-testing | Amends waiting period after third failed examination. Deletes maximum waiting period of 30 days after initial failure.
|  |  | This allows applicants to re-test earlier than the current time period.
§ 12.03 | Subpart D (§ 10.400 series) | Consolidates Coast Guard-accepted and approved training into one subpart | Reduces regulatory redundancy.
§ 12.05-1 | § 12.401 | Adds A/B seaman endorsements | Adds able seaman-fish, and able seaman-sail.
|  |  | This consolidates policy into the regulations.
§ 12.05-1(a) and (b) | § 15.401 | Moves this requirement to § 15.401 | Moves paragraphs to part 15 as it is a manning requirement.
|  |  | This re-organizes the regulations to make them easier to understand.
§ 12.05-3 | § 12.401 | Revises the general requirements to obtain an endorsement as able seaman (A/B) to include holding or qualified to hold an endorsement as lifeboatman | Clarifies the A/B requirement to allow being qualified for lifeboatman, and removes the requirement to pass the lifeboatman exam if the individual already holds the appropriate endorsement.
|  |  | This eases the burden on mariners seeking to obtain this endorsement.
§ 12.05-3(a)(2), 12.15-5, 12.25-20 | § 12.401 | Moves requirement to § 12.401 | Consolidates general requirements for certification.
|  |  | This re-organizes the regulations to make them easier for the mariner to access.
§ 12.05-3(b) | § 12.601(c) | Moves requirements for Basic Safety Training (BST) | Adds requirements for BST, including the requirement to maintain the standard of competence every 5 years through a combination of drills and onboard training and experience with shore-side assessments.
|  |  | This ensures consistency with the STCW Convention.
§ 12.05-3(c) | § 12.605 | Adds a new section to provide the requirements for ratings forming part of a navigational watch (RFPNW) | Provides requirements for RFPNW, required by the STCW Convention, in one location. This ensures consistency with the STCW Convention.
§ 12.05-7 | § 12.403 | Adds service and training requirements for new rating endorsements | Adds service and training requirements for able seaman-fish, and able seaman-sail.
|  |  | This consolidates policy into the regulations.
§ 12.05-9 | § 12.405 | Adds requirement in paragraphs (a) and (c) to show that the listed demonstrations have been performed in a Coast Guard-approved course | This consolidates existing policy into the regulations.
§ 12.10-1 | § 15.401 | Moves this requirement to § 15.401 | Moves section to part 15 as it is a manning requirement.
|  |  | This re-organizes the regulations to make them easier to understand.
§ 12.10-3 | § 12.609 | Moves requirements to qualify for an STCW endorsement RFPEW | Moves requirement to STCW section.
|  |  | This re-organizes the regulations to make them easier to understand.
§ 12.10-7 | § 15.404 | Moves this requirement to § 15.404 | Moves section to part 15 as it is a manning requirement.
|  |  | This re-organizes the regulations to make them easier to understand.
§ 12.10-9 | § 12.617 | Revises the requirements for certificates of proficiency in fast rescue boats, adding the specific areas of competence the STCW Convention requires | Provides additional information clarifying the STCW Convention requirements to obtain an endorsement for proficiency in fast rescue boats. This ensures consistency with the STCW Convention.
§ 12.13-3 | § 12.619 | Revises the requirements for certificates of proficiency for medical first-aid provider, adding the specific areas of competence the STCW Convention requires | Provides additional information clarifying the STCW Convention requirements to obtain an endorsement for medical first-aid provider. This ensures consistency with the STCW Convention.
§ 12.13-3 | § 12.619 | Revises this basis-of-documentary-evidence section to include those persons who have alternative qualifications | Adds the additional process to meet this requirement through the possession of a professional license or alternative professional qualification.
|  |  | This opens up additional options for mariners to utilize in obtaining this endorsement.
§ 12.13-3 | § 12.621 | Revises the requirements for certificates of proficiency for person-in-charge of medical care, adding the specific areas of competence the STCW Convention requires | Provides additional information clarifying the STCW Convention requirements to obtain an endorsement for person-in-charge of medical care. This ensures consistency with the STCW Convention.
§ 12.13-3 | § 12.621 | Revises this basis-of-documentary-evidence section to include those persons who have alternative qualifications | Adds the additional process to meet this requirement through the possession of a professional license or alternative professional qualification.
|  |  | This opens up additional options for mariners to utilize in obtaining this endorsement.
§ 12.15-1 | § 15.401 | Moves this requirement to § 15.401 | Moves section to part 15 as it is a manning requirement.
|  |  | This re-organizes the regulations to make them easier to understand.
§ 12.15-3(e) | § 12.501 | Revises the rating forming part of an engineering watch (RFPEW) requirement for Qualified Member of the Engineering Department (QMED) | Removes the specific requirement for the STCW endorsement as RFPEW associated with QMED and moves it to its own section. This re-organizes the regulations to make them easier to understand.
§ 12.15-3(e) | § 12.609 | Adds a new section to provide the requirements for RFPEW | Provides requirements for RFPEW, required by the STCW Convention, in one location.
|  |  | This re-organizes the regulations to make them easier to understand.
§ 12.15-7 | § 12.501 | Revises the requirement to provide a more general requirement that a QMED endorsement applicant must complete an appropriate training program | There is no need to provide specific information regarding the training programs and courses; this information is included in the course approval letters provided to each training provider.
|  |  | This makes the regulations easier to follow.
§ 12.15-9 | § 12.501 | Reduces the number of QMED ratings from 9 to 5 | Deletes deck engineer, combines refrigerating engineer with electrician, and combines pumpman and machinist.
|  |  | This simplifies the regulations by removing several endorsements that are no longer used and combines several others.
§ 12.15-11 | § 12.505 | QMED rating endorsement list | Revises the list of QMED rating endorsements. Deletes deck engineer, combines refrigerating engineer with electrician, and combines pumpman and machinist.
|  |  | This makes the regulations easier to follow.
§ 12.15-13 | N/A | Deletes deck engine mechanic rating as an MMC endorsement | Deletes this rating for new applicants; however, companies that wish to continue to employ mariners in this rating may do so.
|  |  | This simplifies the regulations by removing several endorsements that are rarely used and combines several others.
§ 12.15-15 | N/A | Deletes engineman rating as an MMC endorsement | Deletes this rating for new applicants; however, companies that wish to continue to employ mariners in this rating may do so.
|  |  | This simplifies the regulations by removing several endorsements that are rarely used and combines several others.
§ 12.25-1 | § 12.701 | Changes section title from “Credentials required” to “Credentials required for entry-level and miscellaneous ratings” | Revises for clarity.
§ 12.25-10 | § 12.703 | Moves general requirements | Consolidates general requirements for entry level ratings.
|  |  | This makes the regulations easier to follow.
§ 12.25-45 | § 15.818 | Moves section for GMDSS at-sea maintainer Requires that anyone serving as at-sea maintainers on vessels equipped with GMDSS must provide documentary evidence of competency | This re-organizes the regulations to make them easier to access and follow.
§ 12.25-45 | § 12.623 | Revises section to provide more specific information regarding the qualification requirements for an endorsement as GMDSS at-sea maintainer | Specifies the methods of qualification allowed to obtain the endorsement. This ensures consistency with the STCW Convention and makes the regulations easier to follow.
§ 12.30 | N/A | Deletes requirements for ro-ro passenger ships | Reflects the 2010 STCW amendment changes to include requirements for passenger ships, including ro-ro passenger ships.
§ 12.35 | § 12.905 | Amends requirements for ratings on passenger ships when in international voyages | Reflects the 2010 amendment changes to include requirements for passenger ships. Merges requirements from subparts 12.30 and 12.35.
|  |  | This ensures consistency with the STCW Convention.
N/A | § 12.201 | Adds section with general requirements for domestic and STCW rating endorsements | Consolidates all requirements applicable to all rating endorsements contained in this part. This makes the regulations easier to follow.
N/A | § 12.203 | Adds section with documentation of sea service for ratings | Provides information on where to find the requirements for documentation and proof of sea service for ratings.
|  |  | This makes the regulations easier to follow.
N/A | § 12.409 | Adds new section with requirements for lifeboatman-limited endorsement | This endorsement is for mariners who serve on vessels without installed lifeboats.
|  |  | Mariners serving on vessels without lifeboats could not qualify for the lifeboatman endorsement.
N/A | § 12.601 | Adds section with general requirements applicable to STCW rating endorsements | Consolidates all requirements applicable to STCW endorsements in this subpart. Establishes list of STCW rating endorsements.
|  |  | This makes the regulations easier to follow.
N/A | § 12.601 | Adds section with standard of Competence | Adds alternative methods of demonstrating competence. This provides mariners with multiple options, where allowed by the STCW Convention.
N/A | § 12.601 | Adds section with grandfathering provisions | Adds provisions for the implementation of the amendments to the requirements, including the 2010 amendments to the STCW Convention and Code. This eases the burden on mariners with existing endorsements.
N/A | §§ 12.603—12.609 | Insert tables specifying entry paths from domestic endorsements to STCW endorsements | Describes various entry points to obtain an equivalent STCW endorsement. This provides a method of determining which STCW endorsements are attainable for each domestic endorsement.
N/A | § 12.603 | Adds new section with requirements for STCW rating endorsement as able seafarer-deck | Includes the STCW Convention requirements in order to obtain the endorsement. This ensures consistency with the STCW Convention.
N/A | § 12.605 | Adds new section providing the requirements for RFPNW | Provides specific requirements for this STCW endorsement. This ensures consistency with the STCW Convention.
N/A | § 12.607 | Adds a new section with requirements for STCW endorsement as able seafarer-engine | Includes the STCW Convention requirements in order to obtain the endorsement. This ensures consistency with the STCW Convention.
N/A | § 12.609 | Adds new section providing the requirements for RFPEW | Provides specific requirements for this STCW endorsement. This ensures consistency with the STCW Convention.
N/A | § 12.611 | Adds a new section providing the requirements for STCW officer endorsement as electro-technical rating | Includes the STCW Convention requirements in order to obtain the endorsement. See regulation III/7 of the STCW Convention and Section A-III/7 of the STCW Code.
|  |  | This ensures consistency with the STCW Convention.
N/A | § 12.611 | Equivalent arrangements for personnel serving in a similar capacity | Allows for the issuance of the STCW endorsement as electro-technical rating to personnel with equivalent credentials and sea service.
|  |  | This provides applicants with multiple paths to obtain this endorsement.
N/A | § 12.613 | Adds new section with requirements for Proficiency in survival craft and rescue boats other than fast rescue boats (PSC) Adds requirements to maintain the standard of competence every 5 years through a combination of drills and onboard training and experience with shore-side assessments | This ensures consistency with the STCW Convention.
N/A | § 12.615 | Adds new section to provide a new endorsement for proficiency in survival craft and rescue boats other than lifeboats and fast rescue boats (PSC-limited) | Adds new section because there are individuals assigned to vessels without lifeboats who do not need to meet the full requirements for proficiency in survival craft and rescue boats other than fast rescue boats (PSC), but must still meet the proficiency in the survival craft installed on their vessels.
|  |  | This ensures consistency with the STCW Convention.
N/A | § 12.615 | Adds new section with requirements for Proficiency in survival craft and rescue boats other than lifeboats and fast rescue boats (PSC) Adds requirements to maintain the standard of competence every 5 years through a combination of drills and onboard training and experience with shore-side assessments | This ensures consistency with the STCW Convention.
N/A | § 12.617 | Adds new section with requirements for Proficiency in fast rescue boats Adds requirements to maintain the standard of competence every 5 years through a combination of drills and onboard training and experience with shore-side assessments | This ensures consistency with the STCW Convention.
N/A | § 12.625 | Adds new section with requirements to qualify for an STCW endorsement as vessel personnel with designated security duties | Adds requirement for certification of personnel with security duties (except VSOs) in accordance with the 2010 amendments. This ensures consistency with the STCW Convention.
N/A | § 12.627 | Adds new section with requirements to qualify for an STCW endorsement in security awareness | Adds requirement for all other personnel working onboard the vessels, in accordance with the 2010 amendments.
|  |  | This ensures consistency with the STCW Convention.
§ 13.120 | § 13.120 | Amends the requirements for transfers for the renewal of tankerman endorsements | Clarifies the types of transfers required according to the type of endorsement being renewed.
|  | Also adds requirements for STCW certification valid for tank vessels
§ 13.121 | § 13.121 | Includes tables of topics for each tanker course | Clarifies and updates list of subjects that the tanker courses must cover.
|  |  | This makes the regulations easier to follow.
§ 13.127 | § 13.127 | Service requirements for tankerman-engineer | Clarifies information that must be included in the service letter for tankerman-engineer.
|  |  | This makes the regulations easier to follow.
§ 13.201 | § 13.201 | Moves the cargo course and firefighting course requirements of this section to § 13.121 | Clarifies existing requirements. This makes the regulations easier to follow.
§ 13.301 | § 13.301 | Moves the cargo course and firefighting course requirements of this section to § 13.121 | Clarifies existing requirements. This makes the regulations easier to follow.
§ 13.307, § 13.309 | § 13.121 | Moves the firefighting and cargo course requirements of this section to § 13.121 | Provides firefighting and cargo training course subjects in the appropriate table. This makes the regulations easier to follow.
§ 13.401 | § 13.401 | Amends Tankerman-Assistant requirements | This ensures that an applicant has the necessary knowledge to obtain this endorsement.
|  | Adds an examination requirement for mariners who qualify for the endorsement on sea service alone
§ 13.407, § 13.409 | § 13.121 | Moves the firefighting and cargo course requirements of this section to § 13.121 | Provides firefighting and cargo training course subjects in the appropriate table. This makes the regulations easier to follow.
§ 13.501 | § 13.501 | Moves the cargo course and firefighting course requirements of this section to § 13.121 | Clarifies existing requirements. This makes the regulations easier to follow.
N/A | § 13.601 | Adds new section with alternative methods of demonstrating competence to provide mariners with multiple options, where allowed by the STCW Convention | This opens additional paths of demonstrating competence.
N/A | § 13.603 | Adds new section for STCW endorsement for advanced tankerman Adds new STCW endorsement for advanced oil and chemical tanker cargo operations, in accordance with the 2010 amendments. Includes grandfathering provisions | This ensures consistency with the STCW Convention. This also ases the transition for mariners with similar endorsement.
N/A | § 13.603 | Adds new section with requirements to qualify for an endorsement for advanced oil tanker cargo operations and basic chemical tanker cargo operations | Uses existing domestic endorsements as “Tankerman PIC” to qualify for STCW endorsements. This ensures consistency with the STCW Convention. This also eases the transition for mariners with similar endorsement.
N/A | § 13.605 | Adds new section with STCW endorsement for advanced liquefied gas tanker cargo operations Adds new STCW endorsement for advanced liquefied gas tanker cargo operations, in accordance with the 2010 amendments. Includes grandfathering provisions | This ensures consistency with the STCW Convention. This also eases the transition for mariners with similar endorsement.
N/A | § 13.605 | Adds new section with requirements to qualify for an endorsement for advanced liquefied gas tanker cargo operations | Uses existing domestic endorsements as “Tankerman PIC” to qualify for STCW endorsements. This ensures consistency with the STCW Convention.
|  |  | This also eases the transition for mariners with similar endorsement.
N/A | § 13.607 | Adds new section with STCW endorsement for basic oil and chemical tanker cargo operations Adds new STCW endorsement for basic oil and chemical tanker cargo operations, in accordance with the 2010 amendments. Includes grandfathering provisions | This ensures consistency with the STCW Convention. This also eases the transition for mariners with similar endorsement.
N/A | § 13.607 | Adds new section with requirements to qualify for an endorsement for basic oil tanker cargo operations and basic chemical tanker cargo operations | Uses existing domestic endorsements as “Tankerman-assistant” and “Tankerman-engineer” to qualify for STCW endorsements. This ensures consistency with the STCW Convention. This also eases the transition for mariners with similar endorsement.
N/A | § 13.609 | Adds new section for STCW endorsement for basic liquefied gas tanker cargo operations | This ensures consistency with the STCW Convention. This also eases the transition for mariners with similar endorsement.
|  | Adds new STCW endorsement for basic liquefied gas tanker cargo operations, in accordance with the 2010 amendments. | Includes grandfathering provisions
N/A | § 13.609 | Adds new section with requirements to qualify for and endorsement basic liquefied gas tanker cargo operations | Uses existing domestic endorsements as “Tankerman-assistant” and “Tankerman-engineer” to qualify for STCW endorsements. This ensures consistency with the STCW Convention. This also eases the transition for mariners with similar endorsement.
§ 14.309 | § 14.309 | Expands options for payment of wages upon discharge of a mariner | In order to reflect current practices for electronic fund transfer for payment of wages, the Coast Guard proposes to allow companies to provide, instead of payment, a statement of wages due and when wages will be deposited.
§ 15.103 | § 15.105 | Adds clarification that a safe manning certificate may be issued to uninspected vessels on an international voyage | Provides uninspected vessels on international voyages the necessary information they will need to provide Port State Control Officers in foreign ports.
|  |  | This ensures consistency with the STCW Convention.
§ 15.515 | § 15.515 | Clarifies the requirement regarding passenger vessels | Provides clarification to assist in understanding manning requirements because existing language is confusing.
§ 15.605 | § 15.605 | Adds the requirement that individuals serving on uninspected passenger vessels (UPVs) on international voyages must comply with the STCW Convention | UPVs operating on near-coastal domestic voyages are held to be substantially in compliance with the STCW Convention. However, the STCW Convention requires all individuals to be in compliance with the STCW Convention when on international voyages.
|  |  | This ensures consistency with the STCW Convention.
|  |  | This also makes it clear that operators on UPVs on international voyages must obtain the appropriate STCW endorsement.
§ 15.805 | § 15.805 | Provides for all UPVs on international voyages to be under the control of an individual holding a license or endorsement as master | Provides consistency with the STCW Convention, which requires that all vessels on an international voyage, including UPVs, must be operated by an individual who complies with the STCW Convention.
§ 15.845 | § 15.845 | Adds manning provision for new lifeboatman-limited rating | Provides an alternative for those vessels without lifeboats and sets the provisions to use the lifeboatman-limited endorsement instead of the lifeboatman endorsement.
§ 15.1101 | § 15.1101 | Moves definitions of this section to § 10.107, and this section now provides a list of vessels exempt from having to comply with the STCW Convention. Also provides for certificates for a single international voyage for persons serving on vessels exempted under this section | This makes the regulations easier to follow.
§ 15.1103 | § 15.1103 | Adds requirement for medical certificate as a condition of employment | All mariners must have a medical certificate. The 2010 amendments to the STCW Convention require a 2-year medical certificate for all seafarers holding STCW endorsements.
|  | In addition, provides an extension, not to exceed 90 days, if the certificate expires during a voyage | This ensures consistency with the STCW Convention.
§ 15.1111 | § 15.1111 | Revises hours of work and rest periods for mariners | The following changes are included as part of the 2010 amendments: 1) expanded the application for hours of rest periods for mariners; 2) amended the weekly rest hour requirements from 70 hours to 77 hours; 3) recording of hours of rest and 4) included flexibility from the rest hour requirements in exceptional circumstances.
|  |  | This ensures consistency with the STCW Convention.
§ 15.1111 | § 15.1111 | Adds requirements for persons to hold an STCW endorsement for personnel with security duties | This ensures consistency with the STCW Convention.
|  | Adds requirement for persons with security duties to hold an STCW endorsement for personnel with security duties. This requirement has already been implemented with regards to VSOs
§ 15.1111 | § 15.1111 | Adds requirements for persons to hold an STCW endorsement in security awareness | This ensures consistency with the STCW Convention.
|  | Adds requirement for all other personnel working on board the vessels to hold an STCW endorsement in security awareness, in accordance with the 2010 amendments
N/A | § 15.403 | Adds new section to establish when credentials for ratings are required | Requires mariners serving on vessels over 100 GRT to produce the appropriate credential for the position sought.
|  |  | This ensures consistency with the U.S. Code.
N/A | § 15.404 | Adds new section to provide the various endorsements required for service | Explains specific endorsements required and covered under these manning requirements. This makes the regulations easier to follow.

E. Part 12 Re-numbering

Part 12, Requirements for Rating Endorsements, was largely rewritten to incorporate the rating requirements of the STCW Convention. In addition, the numbering of part 12 was changed to reflect the numbering of the remainder of 46 CFR subchapter B.

Below is a quick-reference table showing the subparts and sections of the previous part 12 that were renumbered, revised, and inserted into the new part 12.

Old reference | NPRM reference | New reference
Subpart 12.01: | Subpart A: | Subpart A:
§ 12.01-1 | § 12.101 | § 12.101
§ 12.01-3 | § 12.103 | § 12.103
§ 12.01-9 | § 12.105 | § 12.105
Subpart 12.02: | Subpart B/Others: | Subpart B/Others:
§ 12.02-7 | § 15.403 | § 15.401
§ 12.02-11 | § 12.201 | § 12.201
§ 12.02-17 | § 12.203 | § 12.205(c)
Subpart 12.03: | Subpart C: | Subpart D:
§ 12.03-1 | § 10.300 series | § 10.400 series
Subpart 12.05: | Subpart D/Others: | Subpart D/F:
§ 12.05-1 | § 12.401 | § 12.401
§ 12.05-3 | § 12.412 | § 12.401
§ 12.05-3(c) | § 12.420 | § 12.605
§ 12.05-7 | § 12.414 | § 12.403
§ 12.05-7(a)(5) | § 12.420 | § 12.605
§ 12.05-9 | § 12.416 | § 12.405
§ 12.05-11 | § 12.418 | § 12.401
Subpart 12.10: | —Various—: | —Various—:
§ 12.10-1 | § 15.403 | § 15.401
§ 12.10-3 | § 12.610 | § 12.407
§ 12.10-5 | § 12.610 | § 12.407
§ 12.10-7 | § 12.414 | § 12.404
§ 12.10-9 | § 12.620 | § 12.617
Subpart 12.13: | Subpart F/Others: | Subpart F:
§ 12.13-1 | § 15.403 | § 12.619
§ 12.13-3 | § 12.640 | § 12.619
Subpart 12.15: | Subpart E/Others: | —Various—:
§ 12.15-1 | § 15.825 | § 15.401
§ 12.15-3 | § 12.510 | § 12.501
§ 12.15-3(c) | § 12.510 | § 12.609
§ 12.15-5 | § 12.512 | § 12.501
§ 12.15-7 | § 12.514 | § 12.503
§ 12.15-7(c) | § 12.530 | § 12.609
§ 12.15-9 | § 12.516 | § 12.505
§ 12.15-11 | § 12.518 | § 12.505
§ 12.15-13 | § 12.520 | N/A (rating removed)
§ 12.15-15 | § 12.522 | N/A (rating removed)
Subpart 12.25: | Subpart G/F: | —Various—:
§ 12.25-1 | § 12.702 | § 12.701
§ 12.25-10 | § 12.704 | § 12.703
§ 12.25-20 | § 12.706 | § 12.201
§ 12.25-25 | § 12.710 | § 12.705
§ 12.25-30 | § 12.720 | § 12.707
§ 12.25-35 | § 12.730 | § 12.709
§ 12.25-40 | § 12.740 | § 12.711
§ 12.25-45 | § 12.650 | § 12.623
Subpart 12.30: | Part 15-Subpt J: | N/A (combined with Subpart I):
§ 12.30-1 | § 15.1103 (d) | N/A
§ 12.30-5 | § 15.1103 (d) | N/A
Subpart 12-35: | Part 15-Subpt J: | Subpart I:
§ 12.35-1 | § 15.1103 (d) | § 12.905
§ 12.35-1 | § 15.1103 (d) | § 12.905
Subpart 12.40: | Subpart H: | Subpart H:
§ 12.40-1 | § 12.801 | § 12.801
§ 12.40-5 | § 12.803 | § 12.803
§ 12.40-7 | § 12.805 | § 12.805
§ 12.40-9 | § 12.807 | § 12.807
§ 12.40-11 | § 12.809 | § 12.809
§ 12.40-13 | § 12.811 | § 12.811
§ 12.40-15 | § 12.813 | § 12.813

VII. Discussion of Comments on the NPRM

The Coast Guard received more than 1,200 comments in response to the NPRM published on November 17, 2009. These comments consist of letters to the docket, remarks at the public meetings in Miami, New Orleans, Seattle, Washington, DC, and New York, and comments submitted by MERPAC. The following paragraphs contain an analysis of comments received and an explanation of any changes made in the rule as proposed.

Several comments noted grammatical and non-substantive errors in the NPRM. The Coast Guard has incorporated these comments, where appropriate, without further discussion.

Project Title

One commenter states that this rulemaking is incorrectly titled, introduced, and described. The commenter feels the title implies that the only changes are as a result of STCW and that there are many changes that seriously impact domestic vessels. The commenter says this project should be restricted to only STCW implementation or a correctly titled and described rulemaking should be republished.

The Coast Guard agrees that the title of this rulemaking project is no longer an accurate reflection of the changes being proposed, which include changes to domestic licensing. Accordingly, this SNPRM appropriately changes the title to include changes to domestic endorsements in addition to implementation of the 1995 STCW Amendments.

Applicability

Two commenters state that the STCW Convention requirements should be applied to mariners serving on all U.S. vessels on both inland and seagoing waters.

The Coast Guard disagrees. The STCW Convention applies to mariners serving on seagoing ships (except pleasure craft, fishing vessels, and ships entitled to sovereign immunity such as warships). Article II of the Convention defines a seagoing ship as a ship other than one that “navigates exclusively in inland waters or in waters within, or closely adjacent to, sheltered waters or areas where port regulations apply.” The provisions in this SNPRM which would implement amendments to the STCW Convention only apply to commercial vessels operating seaward of the boundary line, as specified in 46 CFR part 7. As stated in Article III of the STCW Convention, the Convention “shall apply to seafarers serving on board seagoing ships entitled to fly the flag of a Party * * *” ¹ Article II of the Convention defines “seagoing ship” as a ship other than those navigating exclusively in inland waters or waters within or adjacent to sheltered waters. The Coast Guard does not intend to apply strict international standards upon our domestic mariners in this regard. As such, the Coast Guard would apply the STCW provisions only to vessels operating beyond the boundary line.

¹ Article III lays out four exceptions to its application: “(a) warships, naval auxiliaries or other ships owned or operated by a State and engaged only on governmental non-commercial service * * *; (b) fishing vessels; (c) pleasure yachts not engaged in trade; or (d) wooden ships of primitive build.” International Convention on Standards of Training, Certification and Watchkeeping for Seafarers, 1978.

Two commenters note that the preamble to the NPRM states “* * *our entire scheme of licensing, testing, inspection and continued oversight for inland water and Great Lakes provides a level of safety equivalent to the STCW convention.” The commenter asks why this thinking should not extend to vessels that sail beyond the boundary or on short, international voyages and therefore why the Coast Guard does not make those vessels exempt from the STCW provisions.

STCW is not applicable to inland waters. The Coast Guard has chosen not to extend STCW requirements to inland waters but recognizes that as a signatory to the Convention, we must ensure our rules are consistent with the requirements for ships on seagoing voyages. In accordance with Article I of the STCW Convention and as signatory to the Convention, the United States is obliged to give the Convention full and complete effect to ensure that, from the point of view of safety of life and property at sea and the protection of the marine environment, seafarers onboard ships are qualified and fit for their duties. Therefore, the Coast Guard is not able to exempt seagoing ships on the grounds that they operate on short international voyages.

Delay Implementation and Extend Public Comment Period

Ninety-two commenters request that the Coast Guard delay implementation of the NPRM because of the significant impact of the regulatory content on merchant mariners. Many of those commenters also request that the Coast Guard withdraw the NPRM and combine its contents with proposed regulations forthcoming as a result of the International Maritime Organization (IMO) 2010 amendments to the STCW Convention and Code, which were completed in June 2010. Many of these commenters also requested that the Coast Guard extend the comment period beyond the 90 days given in the NPRM.

The Coast Guard agrees and has decided to publish this SNPRM, which describes proposed changes from the NPRM published on November 17, 2009, and includes the new proposed regulations, which address the IMO 2010 amendments to the STCW Convention and Code. To accommodate requests for an additional comment opportunity, the Coast Guard has issued this SNPRM with a 60-day comment period.

Definitions

Two commenters state that in proposed § 10.107, the definition of “Quality Standard System or QSS” provides no guidance as to what training institutions in the field will be required to do.

The QSS requirements are contained in § 10.410. The provisions include: (1) Documentation that includes a quality policy and objectives and a quality manual; (2) internal audits; and (3) an external audit to be conducted by the Coast Guard.

One commenter asks how the Coast Guard determines whether a vessel's operating schedule is “inappropriate” in determining the length of a day, as described in the definition for “day” provided in the proposed § 10.107.

The Coast Guard will review vessel manning requirements and applicable laws and regulations to determine if the vessel is authorized to operate under a two-watch system. The Coast Guard will also review vessel operation schedule to determine if a 12-hour day is practiced.

One commenter writes that the Coast Guard's definition of “coastwise voyage” is unclear. The commenter asks if a vessel with such an endorsement would be permitted to attend a stacked MODU, or a MODU that is moving between locations on the U.S. Outer Continental Shelf, which is not engaged in Oil and Gas activities and is not considered to be a “port or place in the United States” for the purposes of Customs laws.

Such a vessel would be considered to be on a coastwise voyage if the vessel, prior to attending the MODU, departed from, and returns to, a port in the United States or its possessions.

Twenty-one commenters remark that the definition of “chief mate” describes precisely the role and responsibility of a mate on a vessel that is permitted to work a two-watch system, yet the person serving in that position may not be required to hold an endorsement as chief mate. The commenters feel any requirement for service as chief mate will be impossible to meet on vessels that have no manning requirement for a chief mate. The commenters recommend that the phrase “and who holds a valid officer endorsement as chief mate” be deleted.

The Coast Guard agrees with the proposal and has made this revision. However, if a mariner, serving as a chief mate onboard a vessel that is not required to have a chief mate, wants sea service credit, he or she must provide proper documentation.

One commenter writes that the definition of “horsepower” should be clarified.

The Coast Guard agrees and has revised the definition to read: “Horsepower or HP means, for the purpose of this subchapter, the total maximum continuous shaft horsepower of all of the vessel's main propulsion machinery as determined by the manufacturer. This term is used when describing a vessel's propulsion power and also when placing limitations on an engineer officer license or endorsement. One horsepower equals 0.75 kW.”

Six commenters interpret the definition of “first assistant engineer” as requiring the second in charge of the engine department to hold a first assistant engineer endorsement, thereby creating a de-facto manning requirement that does not fit smaller vessels.

The Coast Guard agrees and has revised the definition to say: “First assistant engineer means the engineer officer next in rank to the chief engineer and upon whom the responsibility for the mechanical propulsion and the operation of maintenance of the mechanical and electrical installation of the vessel will fall in the event of the incapacity of the chief engineer.”

Three commenters state that the term “near-coastal” is defined as waters off the U.S. not more than 200 miles offshore, but the definition of “international voyage” includes the words, “territories of the U.S.” The commenters feel it would be useful to have a better description of what the waters of the U.S. are, and whether they include Puerto Rico, Guam, Saipan, and the U.S. Virgin Islands for the purposes of defining routes on a credential.

The Coast Guard recognizes that these two definitions, which were included in the NPRM, have caused confusion; therefore, we have decided to retain in the SNPRM only a definition for near coastal voyages. The definition has been clarified to preserve the intent of Regulation I/5 of the STCW Convention, which states that individual governments may establish their own near-coastal provisions. Near-coastal means ocean waters not more than 200 miles offshore from the U.S. and its territories.

Four commenters comment that the definition of “OICEW” includes DDE and defines it as “operational level,” but the wording of § 15.915(a)(2) gives the designated duty engineer (DDE) authority as chief on certain seagoing vessels. Moreover, the commenters remark that the definition of “DDE” says they may serve as the sole engineer, which implies authority as a chief engineer. The commenters assert that the definitions need to be revised to make them consistent with the other provisions of § 15.915. The commenters suggest that we provide a different endorsement wording for DDE credentials that carry chief engineer authority on seagoing vessels, such as “chief engineer on vessels of not more than 500 GRT.”

The Coast Guard concurs with the comments. The STCW officer endorsement provisions in this SNPRM take the commenters' views into consideration and clearly state for which STCW endorsements the DDE is eligible. It also notes that DDE endorsements will be limited to 500 GRT in addition to a particular horsepower limitation.

One commenter states that the definition of “second engineer officer” is an STCW term equivalent to the U.S. endorsement as first assistant and that the Coast Guard should make that clear.

This SNPRM contains definitions for both domestic first assistant engineer endorsement and the STCW second engineer officer endorsement. Although they both belong to different endorsement schemes, it can be readily seen that they are roughly equivalent in their respective systems.

Two commenters recommend amending the definition of “seagoing service” to be aligned with the intent of the STCW Convention and therefore less restrictive than current Coast Guard interpretation. Seagoing service can include all service aboard appropriate vessels, whether beyond the boundary line or not, particularly for those vessels that do not operate exclusively on inland waters or sheltered waters.

The Coast Guard agrees and has adopted the STCW definition of seagoing service.

One commenter says sea service should be defined in § 10.107 in such a way that BST renewals would not require 1 year of seagoing service during the last 5 years.

The Coast Guard disagrees. As mandated by the 2010 amendments to the STCW Convention and Code, the Coast Guard will not only require 1 year of seagoing service, but it will also require the applicant to provide evidence of meeting the standard of competence for those parts of BST that cannot be safely or reasonably completed onboard a vessel during the 12 months of seagoing service.

Four commenters state there is no sound reason to limit qualifying service for STCW endorsements to service exclusively gained beyond the boundary line or to limit qualifying service based upon geographic location.

The Coast Guard agrees, and the proposed definition for “seagoing service” in this SNPRM would accept service on the Great Lakes and inland waters.

One commenter suggests that we amend the definition of “designated duty engineer” (DDE) to recognize the typical manning of towing vessel engine rooms because a great majority of engine rooms on towing vessels are automated, but not to specific Coast Guard or ABS standards for “unattended engine” rooms. The commenter suggests that the Coast Guard either modify the definition of DDE to explicitly allow service on towing vessels or provide guidance on what constitutes a “periodically unattended engine room” that is specific to the operations and characteristics of towing vessels.

The definition of “DDE” would allow the engineer to sail on towing vessels under current regulations for uninspected vessels. The term “periodically unattended” is not meant to be an official term designating Coast Guard or American Bureau of Shipping (ABS) compliance, but a general expression of a machinery space where constant conventional watches are not stood.

Ten commenters disagree with the definition of “domestic voyage” and, when coupled with NVIC 7-00, believe it would exclude U.S. flag workboats from operating outside U.S. waters since most crewmember credentials are for near-coastal or near-coastal domestic voyages.

The definition provided in the NPRM for “domestic voyage” represents a universally accepted method of defining domestic voyages. Regulation I/3 of the STCW Convention provides that each Administration sets its own near coastal limits, and allows for the use of near-coastal endorsements in other Administrations' waters provided those Administrations determine that the near-coastal endorsements are equivalent to their own.

Eight commenters expressed belief that the definition of “international voyage,” when coupled with NVIC 7-00, would exclude workboats from operating outside U.S. waters since most workboat mariner credentials are for near-coastal or near-coastal, domestic routes.

The definition of “international voyage” has been removed. The near-coastal domestic restriction on credentials is intended for use in waters over which the United States has authority. While a near-coastal STCW endorsement does not preclude its use in another Administration's near-coastal waters, that endorsement is limited to the near-coastal waters as determined and accepted by the local administration.

One commenter says the Coast Guard needs to add a definition for “Great Lakes voyage,” and without this definition, this type of voyage may be considered an international voyage and could impose additional crew requirements when making stops in Canada.

The Coast Guard disagrees with the comment. It is unnecessary to define a Great Lakes voyage, as this is already a route established on credentials.

Two commenters suggest removing the definition of “competent person” from § 10.107 and place the term within the applicable sections in Part 13.

The Coast Guard agrees and has made this change.

One commenter states the definition of “tankship” is confusing and incomplete and recommends adding to the end of the proposed definition, “excluding an Offshore Supply Vessel as defined in 46 U.S.C. 2101.”

The Coast Guard disagrees. This is an existing definition. This definition only applies for the credentialing of seafarers and is not applicable to vessels.

Two commenters disagree with the inclusion of “those waters specified in 33 CFR 89.25” in the definition of “Western rivers.”

The Coast Guard has reformatted this definition to include a numbering system to the different sections of the Western rivers. The reference to 33 CFR 89.25, as well as the remainder of the definition remains unchanged from existing text.

One commenter asks the Coast Guard to include a definition for the term “barge.”

The Coast Guard agrees, and has included a definition in § 10.107.

One commenter asks that the definition of “disabled vessel” be modified to add the following: “[t]his includes, but is not limited to, a vessel that needs support or aid from another vessel (or vessels) to achieve completion of a maneuver or a portion of a transit safely, or when vessel safety is at risk such as mechanical difficulty, weather conditions, port/waterway congestion, or vessel maneuvering constraints.”

The Coast Guard agrees and has amended the definition of “disabled vessel” to include the commenter's suggestion.

One commenter asks that the definitions of “on location” and “underway” be revised to consider the advent of MODU's dynamic positioning capability. Specifically, they recommend the following definition for “on location”: “On location means that a mobile offshore drilling unit is bottom bearing, moored with anchors placed in the drilling configuration, or, when utilizing dynamic positioning, is maintaining station at the drilling location.” For “underway,” the commenter recommends the following: “Underway means that a vessel is not at anchor, made fast to the shore, or aground. When referring to a mobile offshore drilling unit (MODU), underway means that the MODU is not bottom bearing, moored with anchors placed in the drilling configuration, or in laid-up status. It includes those periods of time during which a MODU is deploying or recovering its mooring system or when it is utilizing its dynamic positioning system.”

The Coast Guard disagrees that we can or should change these definitions. The International Regulations for Prevention of Collisions at Sea (COLREGS) and the Inland Navigation Rules define “underway” as “not at anchor, or made fast to the shore, or aground.” The COLREGS are incorporated in Chapter 30 of Title 33 of the U.S. Code and implemented via 33 CFR part 81. The Inland Navigation Rules are incorporated in Chapter 34 of Title 33 of the U.S. Code and implemented via 33 CFR part 83. A vessel using dynamic positioning to drill or conduct production operations would be considered “underway” under those rules. Even if we could alter these definitions, doing so would be beyond the scope of this rulemaking project.

Two commenters assert that the definitions for “dual mode ITB,” “ITB,” and “push mode ITB” should reflect current industry practices and include reference to Articulated Tug Barge units (ATBs). The commenter recommends that sea time on ATBs be credited based upon the combined tonnage of the tug and barge unit when connected through articulated means.

The Coast Guard agrees in part and has added a definition for ATB: Articulated Tug Barge or ATB means any tug-barge combination which through the use of an articulated or “hinged” connection system between the tug and barge allows movement in one axis, or plane in the critical area of fore and aft pitch. Definitions for the other configurations remain unchanged from the NPRM. Furthermore the Coast Guard amended the service requirements to provide credit for service on ATBs.

Implementation of the Training Requirements and Grandfathering Provisions

Forty-four commenters express concern about the time it will take to implement the training requirements in the NPRM.

The Coast Guard recognizes the potential problems associated with the time it will take to implement the training requirements and has included a 5-year transitional period for the implementation of the requirements. This SNPRM provides transitional and grandfathering provisions consistent with the 2010 amendments to the STCW Convention. The 2010 amendments to STCW come into force on January 1, 2012. However, STCW Regulation I/15 on transitional provisions, allows requirements to come into effect over a 5-year period in order to avoid disruption to the maritime industry. STCW Regulation I/15 also provides that a Party may continue, until January 1, 2017, to issue certificates (in the U.S., this would be the MMC) in accordance with the credentialing rules it has in place before the 2010 amendments come into force (January 1, 2012) only with respect to seafarers who begin their sea service or their approved maritime training before July 1, 2013. Candidates who begin their sea service or their approved maritime training on or after July 1, 2013 will be subject to the full application of the revised STCW requirements. The Coast Guard has drafted this SNPRM to allow for this phase-in process. These provisions require any seafarer who holds an STCW endorsement prior to January 1, 2012, to provide evidence of meeting the appropriate standard of competence for the applicable STCW endorsement by January 1, 2017.

Domestic requirements provided in this proposed rule will be transitioned during a 5-year period (after the effective date of the final rule) to coincide with the renewal of existing domestic endorsements. Individuals seeking an original endorsement or raise of grade during this period, and who begin training or service before January 1, 2012, need only meet the requirements in place before that date. Those individuals who start training or service on or after January 1, 2012, must meet all provisions described in the final rule.

Separation of STCW and Domestic Endorsements

Thirty commenters express the feeling that, in order to remove confusion, the Coast Guard needs to separate the domestic standards from the STCW standards.

The Coast Guard agrees and, in this proposed rulemaking, has clearly separated the two schemes for the STCW and domestic endorsements. For STCW endorsements, this proposed rulemaking incorporates the sea service and training requirements from the STCW Convention and Code to ensure consistency and clarity. In addition, the Coast Guard has provided entry paths from each domestic endorsement to the equivalent STCW endorsement.

Methods for Demonstrating Competence

Sixty-four commenters object to the Coast Guard requiring formalized training as the sole method of proving competency in order to obtain an STCW endorsement.

The Coast Guard agrees. This SNPRM proposes to allow different methods for demonstrating competence as permitted by the STCW and appropriate to each individual competency. This will allow the preservation of a “hawsepipe” program, which allows the use of practical experience to demonstrate competence, and foster career paths that were not provided for in the previous NPRM.

One commenter notes many mariners may not obtain their seagoing experience in an organized progressive sequence, such as that provided by maritime academies. By not allowing sea time from prior service to be credited toward upgrades or endorsements, the Coast Guard prevents “hawsepipe” mariners from using their considerable and valuable experience to progress in their careers.

The Coast Guard recognizes the benefits of a “hawsepipe” process for the creation of licensed mariners. This SNPRM provides multiple methods of demonstrating competence, which should ensure the continued existence of this process.

Creditable Service on Great Lakes and Inland Waters

Ten commenters request that the Coast Guard grant day-for-day credit for applicants providing service on Great Lakes and inland waters. The commenters state that a large portion of the skills and assessments which STCW requires for its endorsements overlaps with the skills and techniques these officers are currently using as deck officers on the Great Lakes and inland waters.

The Coast Guard agrees and in this SNPRM proposes to grant sea service on other than ocean waters for STCW endorsements as follows: Those serving on Great Lakes waters will receive day-for-day credit; and those serving on inland waters will receive 1 day of ocean service credit for every 2 days of service for up to 50 percent of the total service. Given the wide variety of ship operations and career patterns in United States waters, and the movement of personnel from one segment of industry to another, we have found it appropriate to take into account the interchangeability or transferability of skills and experience when candidates apply for a credential. The service from experience obtained in the Great Lakes most closely resembles the knowledge and skill which are required for operating a seagoing ship. Service in inland waters does not always resemble operating a seagoing ship. However, the Coast Guard recognizes that many of the inland navigable waters are of such length and/or breadth that they have the characteristics of ocean or near coastal waters.

Creditable Service for Sailing School Vessels

Ten commenters recommend that the Coast Guard grant one and one-half days sea service credit for every day served on sailing school vessels. The commenter recommends recognizing the special operations of sailing school vessels in the practice and training of seamanship.

As part of an approved program, the Coast Guard may grant additional credit for service on vessels if that program is shown to exceed the experience normally received during the same number of days on a commercial vessel that is not part of a program and merits such credit. The Coast Guard will not grant this credit outside of an approved program.

Seagoing Service

One commenter writes that the endorsement for 200 GRT/500 GT near-coastal mate (for international voyages) will require 3 years of sea time for an original issue, which the commenter notes is three times longer than the current requirement. The commenter feels the Coast Guard needs to establish an appropriate level of training for small vessels that is appropriate for the duty on these vessels. The commenter suggests the current 1-year sea service requirement should be retained.

The Coast Guard agrees with the comment and has amended § 11.321. Seafarers holding a domestic endorsement as mate near coastal of less than 200 GRT/500 GT may qualify for an STCW endorsement as OICNW of less than 200 GRT/500 GT with 6 months of sea service under the authority of the domestic endorsement. This provision is consistent with Regulation II/3, paragraph 4 of the STCW Convention.

Three commenters note that proposed § 11.430(e) requires applicants for officer endorsements with a tonnage limit over 200 GRT/500 GT to have qualification as an able seaman. In light of the fact that many applicants will have qualifying service on vessels not required by law to carry able seamen, the commenters believe this provision serves as either a barrier to entry or an unnecessary step and recommend dropping it as a prerequisite.

The Coast Guard has removed the requirement to qualify as able seaman from the requirements to obtain this domestic endorsement.

One commenter opposes not allowing service as a rating to count toward a management-level certificate. The commenter feels this unfairly penalizes mariners who have had to sail as a rating rather than as an officer because of current economic conditions.

This SNPRM continues to accept service as a rating towards renewal of a management-level endorsement. However, it would not be appropriate to allow rating or unlicensed service to be creditable towards an upgrade to a management-level endorsement. The STCW requirements for management-level endorsements specify the minimum amount of service to be accrued while serving under the authority of an operational level credential. For example, to qualify for a master and chief mate on vessels of 3,000 GT or more (Regulation II/2), it requires that the candidate meets the OICNW requirements and have 12 months approved seagoing service in that capacity.

Tonnage Limitations and Qualifying Service

Eighty-three commenters suggest the Coast Guard lower the minimum vessel tonnage threshold for qualifying experience for STCW endorsements.

The Coast Guard is adopting the STCW language for seagoing service, which allows us to accept service appropriate to the credential sought, regardless of the tonnage. The domestic officer endorsement requirements will not be changed.

Twenty-two commenters suggest expanding the table of tonnage equivalents to assist in determining qualifying service. The commenters believe this will permit reasonable benefit for mariners serving aboard limited tonnage seagoing vessels who are seeking qualified seagoing service relevant to the issues of certification and qualification for STCW endorsements.

As mentioned above, the Coast Guard is adopting the STCW language for seagoing service, which allows us to accept service appropriate to the credential sought, regardless of the tonnage. In addition, the Coast Guard has removed the tonnage equivalency table because of its potential to generate confusion.

One commenter states that the proposed rulemaking would require changes to the United States Code (U.S.C.), particularly to 46 U.S.C. subtitle II, part J, chapter 143 on “Convention Measurement.” Chapter 143 implements the provisions of the International Convention on Tonnage Measurement of Ships.

The NPRM and the current SNPRM do not alter the underlying law affecting how tonnage is measured. The Coast Guard has also removed the tonnage equivalency table. It should be noted that the equivalent measurements are now being retained only for STCW endorsements at the 200 GRT/500 GT and 1,600 GRT/3,000 GT levels.

Two commenters raise concerns regarding placement of tonnage limitations on unlimited tonnage licenses when the applicants fail to provide the service required within the regulations.

The Coast Guard notes that this has existed for many years and that the NPRM did not propose to change this provision. Current regulations provide, and we will retain authority, for the Coast Guard to place limitations on domestic officer endorsements when an applicant does not present sufficient evidence of service on vessels over 1,600 GRT/3,000 GT.

Two commenters write that master or mate on vessels of less than 1,600 GRT/3,000 GT upon oceans appears to be the only lower-level option for an ocean-endorsed license for international voyages. The commenters think this severely discriminates against mariners and vessels of the smaller tonnages who wish to sail upon ocean routes to foreign destinations.

The Coast Guard agrees and will retain a credentialing regime that will provide for persons serving on vessels of smaller tonnage on ocean routes.

Military Sea Service

Three commenters remark that, while the military, especially the Navy, is a good source of experienced members with a good work ethic, individuals that cross over from the military should be deemed proficient with some form of testing to keep the standards of the U.S. merchant marine elevated.

The Coast Guard agrees and has added provisions for military members with qualifying sea service to obtain a domestic or STCW endorsement at either the operational or management level after satisfactory completion of the appropriate training and assessments, in accordance with the STCW Code. The provisions for “sea service as a member of the armed forces” were moved to proposed § 10.232.

One commenter asks if a military petty officer who qualified as engineering officer of the watch can qualify for an endorsement as QMED oiler and/or RFPEW. However, see our response above regarding new provisions for military members.

In evaluating a mariner's qualifications, we consider the unique qualifications of the applicant. As such, we are unable to provide a definitive response to this situation based on the information provided.

Foreign Sea Service

Four commenters request that the Coast Guard accept service on foreign flag vessels to establish recency for license or endorsement renewals.

The Coast Guard agrees and has added new § 10.232 to address this topic and to accept this type of sea service for original, renewals, and raise-in-grade of endorsements.

International Voyages

One commenter notes that the NPRM adds additional endorsements for officers on seagoing ships (Medical PIC/Medical first-aid provider). The commenter asks if these endorsements are required only when operating on international voyages or if it will include domestic and Great Lakes voyages if the vessel is considered a seagoing vessel by definition and allowed to proceed beyond the boundary line on its Certificate of Inspection.

The medical first-aid provider endorsement and person in charge of medical care endorsement are STCW endorsements available to both officer and ratings positions. Except as provided in the requirements for OICNW and OICEW, neither of these endorsements is mandatory unless the person has been designated by his or her employer to act in one of those capacities.

Domestic Near-Coastal Voyages

Three commenters state that NPRM § 11.401(a)(10) says that 200 GRT masters/mates on near-coastal routes must meet Regulation II/3 of the STCW Convention, but that the footnotes (as well as the first sentence) appear to exempt those vessels.

Proposed § 11.301(j) provides that masters, mates, or engineers endorsed for service on seagoing vessels of less than 200 GRT/500 GT (other than passenger vessels subject to subchapter H of this chapter) are entitled to hold an STCW endorsement corresponding to the service or other limitations of the license or officer endorsements on the MMC. These vessels are not subject to further obligation under the STCW because of their special operating conditions as small vessels engaged in domestic, near-coastal voyages.

Five commenters state that there are a number of exceptions and exemptions that have been issued by local Captains of the Port (COTP) for vessels on short international voyages, allowing voyages to Canadian, Bahamian, British Virgin, and Mexican waters, and assert that the Coast Guard should determine how these exemptions will be affected by these changes.

The Coast Guard recognizes the variances that were issued by the local COTPs to address individual operational needs. These variances have been incorporated into the regulations to the extent possible consistent with the STCW Convention. Therefore, exemptions issued by the OCMI/COTP will no longer be valid. In the future, any additional variances will need to be consistent with the regulations found in subchapter B of 46 CFR.

Four commenters recommend that proposed § 11.463(d) make clear that the authority to make a near-coastal international voyage be included in the endorsements in §§ 11.423 and 11.424, as well as by a 500 GRT master/mate credential issued based on service obtained prior to the effective date.

46 CFR 11.301(j) (of the SNPRM) allows for an STCW and officer endorsement as master or mate of self-propelled seagoing vessels of less than 200 GRT/500 GT limited to near-coastal waters, including masters and mates of towing vessels, to be valid for service on self-propelled, seagoing vessels engaged on international voyages, and on passenger vessels of 100 GRT/250 GT or more on domestic, near-coastal voyages.

One commenter states the small passenger vessel exemption in the existing text of § 15.105 should not change.

We have kept the exemption for small vessels and have retained the provisions restricting such exemptions to waters over which the U.S. has jurisdiction in 46 CFR 15.105. One commenter requests that the Coast Guard add the St. Lawrence Seaway and the St. Lawrence River to the list of waters exempted in § 11.202(d)(4).

These waters are not seaward of the boundary line. Therefore, STCW is not applicable to them and no exemption is needed.

One commenter states that limiting OUPVs to domestic voyages has a considerable impact with no return on the cost and that a near-coastal OUPV can travel 100 miles out to sea. The commenter notes that this distance is well into the Bahamian waters from the U.S. and that from the Virgin Islands, a mariner can easily reach a number of other countries.

The Coast Guard notes that the STCW Convention does not allow mariners with OUPV endorsements to serve on vessels on international voyages.

Deck Officer Endorsements

Seventy-three commenters disagree with the Coast Guard's stated intention to stop issuing original domestic endorsements for deck officers serving on vessels of not more than 500 GRT/1,200 GT. The commenters state that requiring applicants to comply with the requirements to obtain an endorsement for service on vessels of more than 1,600 GRT/3,000 GT was excessive for the smaller vessels.

The Coast Guard agrees and will continue to issue original endorsements for deck officers serving on vessels of not more than 500 GRT. However, mariners need to be aware that STCW requirements for all deck officers serving on vessels of 200 GRT/500 GT or more are the same; that is, there are no additional tonnage breakpoints. To address the breakpoint differences between the STCW endorsements and the domestic endorsements, the Coast Guard has included entry paths (both operational and management) for deck officers serving on vessels of not more than 500 GRT into the STCW endorsements for officers serving on vessels of 1,600 GRT/3000 GT.

Several of these commenters also express concern that the Coast Guard intends to do away with the endorsement for officers serving on vessels of not more than 200 GRT/500 GT.

The Coast Guard has not proposed the elimination of this endorsement, and it will be retained.

Seventeen commenters object to the proposed provisions of § 11.404, which would allow third mates with 36 months of service on self-propelled seagoing vessels to advance directly to master after completing the training, education, and assessment requirements.

This path was intended for progression under the STCW Convention; that is, when progressing from OICNW to master on seagoing ships. Since the Coast Guard's goal is to harmonize its requirements for mariners serving on seagoing ships with the STCW requirements and not impose stricter requirements on U.S. mariners, this proposed method of advancement will be retained in this SNPRM.

Five commenters note that the proposed § 11.407(a)(1) requires an applicant to hold an STCW endorsement as RFPNW as a component of the qualification standards for a deck officer endorsement. The commenters recommend deleting that provision as the qualification provisions for OICNW in STCW do not mention RFPNW.

The Coast Guard agrees and has removed the requirement that OICNW applicants must hold an endorsement as RFPNW. Mariners who hold an OICNW endorsement wishing to obtain the RFPNW endorsement will have to meet the requirements for RFPNW.

One commenter asks if there is an endorsement for OICNW for service on vessels of less than 200 GRT/500 GT engaged in ocean service.

All seagoing vessels operating beyond the boundary line are subject to the STCW Convention. Vessels of less than 200 GRT/500 GT are not subject to any further obligation under the STCW because of their special operating condition as small vessels engaged in domestic trade. Therefore, persons serving on seagoing vessels of less than 200 GRT/500 GT operating beyond the boundary line will be issued an STCW endorsement corresponding to the service and limitation of the domestic officer endorsement without any further obligation.

One commenter notes that proposed § 11.413 does not have a service requirement for chief mate of ocean and near coastal vessels of less than 1,600 GRT/3,000 GT, implying that a person could qualify for this endorsement by meeting the OICNW requirement and completing management-level training.

The Coast Guard has corrected this oversight by adding a requirement for 12 months of service as mate before advancing to chief mate.

Two commenters recommend removing certain training topics at the management level from the proposed § 11.413(b) list of training topics because the associated competencies were acquired by mariners at the operational level.

The Coast Guard recognizes that certain management competencies may have been acquired by the mariner at the operational level; therefore the Coast Guard is changing the approach to implementing the STCW competency requirements to ensure assessment of competence is in accordance with the level of proficiency required for each level. All the lists of training topics for all STCW requirements were removed from this SNPRM. Applicants for an STCW endorsement will be required to meet the standards of competence in the STCW Code for the appropriate endorsement. The Coast Guard will accept the various methods included in the STCW Convention for meeting the standards of competence, including training, on-the-job training, in-service experience, etc. All approved training courses and programs meeting the various standards of competence must include topics in accordance with the level of proficiency required for each level.

Two commenters state the requirement in proposed § 11.412 for service as chief mate to acquire a master 1,600 GRT/3,000 GT oceans/near-coastal license should be deleted because towing vessels and many small seagoing vessels do not have a position as chief mate.

The requirements in § 11.412 were removed from this SNPRM, since the Coast Guard revised the approach to implement the STCW Convention requirements by separating the domestic requirements from the STCW requirements. This revised approach provides entry paths from domestic endorsements to STCW endorsements in order to ensure career progression. For example, a mariner with a Master Towing vessel ocean or near coastal endorsement may qualify for an STCW endorsement as chief mate on vessels of 1,600 GRT/3,000 GT or more by completing 12 months of sea service; meeting the standard of competence in Section A-II/2; and completing training in search and rescue, ARPA (if required), GMDSS (if required), and management of medical care.

Eight commenters state that §§ 11.423 and 11.424 provide a way for an individual to receive an endorsement for international voyages on vessels under 200 GRT/500 GT, but the proposed process is so lengthy, difficult, and costly to qualify for these endorsements, the provision is of limited value.

The requirements in § 11.423 and 11.424 were removed from this SNPRM since the Coast Guard revised the approach to implement the STCW Convention requirements. The revised approach includes: (1) Accepting seagoing, Great Lakes and inland service to qualify for the endorsement; (2) accepting other methods, besides training, for meeting the standard of competence; and (3) requiring some training that is necessary for the credential.

One commenter remarks there should be an endorsement for OICNW on vessels of less than 1,600 GRT/3,000 GT.

The STCW Convention does not provide for an OICNW endorsement for service on vessels of 200 GRT/500 GT or more and less than 1,600 GRT/3,000 GT. The STCW OICNW endorsement is divided between vessels of less than 200 GRT/500 GT and those above. However, the Coast Guard is providing a path for the domestic endorsements as mate, ocean or near coastal, less than 1,600 GRT/3,000 GT and for mate, ocean or near coastal, not more than 500 GRT.

One commenter notes that § 11.414 appears to offer no provision for an ocean endorsement at the operational level for limited tonnage vessels of less than 200 GRT/500 GT.

Section 11.319 in this SNPRM proposes a provision for an endorsement at the operational level for mariners serving on seagoing vessels of less than 200 GRT/500 GT.

Three commenters write that any new credentialing structure must include oceans endorsements for officer endorsements of all tonnages.

The Coast Guard agrees with the comment. This proposed rulemaking has taken this into account and provides for the credentialing for vessels of all tonnages.

One commenter states that STCW regulations require a candidate for OICNW to obtain one year of approved seagoing service as part of an approved training program. Otherwise, mariners pursuing OICNW qualification are required to obtain three years of approved seagoing service in addition to numerous required training courses for certification. The commenter recommends that the Coast Guard re-balance these requirements for OICNW for limited-tonnages. The commenter also recommends that the Coast Guard permit OICNW certification for qualified mariners who obtain 2 years of approved seagoing service in concert with the completion of a combination of in-service training, practical assessment, and approved seagoing service. The commenters believe that this type of hybrid program could achieve the necessary standards of competency and provide the KUP for the OICNW qualification.

The Coast Guard disagrees. STCW allows for two methods of qualifying for OICNW, either completion of an approved program with one year of service, or three years outside of an approved program. A hybrid program as suggested is not authorized in the STCW in relation to approved seagoing service. However, the hybrid program may be used to meet the required standard of competency.

One commenter asks if those with operational deck officer endorsements wishing to renew will be required to take management-level courses.

No. The requirement to complete management-level courses is only applicable for original endorsements at the management-level.

One commenter suggests that mariners with a master 1,600 GRT/3,000 GT near-coastal or ocean endorsement have the opportunity to progress directly to the unlimited tonnage master endorsement after completion of courses, assessments, and testing with 3 years of service, with at least half of the time on vessels of 1,500 GRT or 2,500 GT ITC.

This rulemaking has provided a path from master limited to master unlimited through evidence of completing 6 months of sea service under the authority of the limited endorsement, and any assessments, training, and/or examinations not previously completed.

Engineering Officer Endorsements

Three commenters note that, in Table A-III, Sections 1-4 of the STCW Code, there is language allowing for near-coastal limitations, but not mandating it.

The formerly proposed 10,000 HP near-coastal domestic endorsement has been removed in this SNPRM, and the Coast Guard will retain the current system of domestic engineering endorsements. The Coast Guard has added the option of restrictions if an applicant is not able to complete performance measures for steam evaporators and auxiliary/waste heat boilers since an STCW party may vary the requirements for the near-coastal KUPs for all STCW engineering endorsements.

Five commenters recommend removing geographic limitations from engineering licenses. The commenters believe that §§ 11.510 through 11.514 impose near-coastal limitations on various engineering licenses at the 10,000 HP and 4,000 HP levels.

The Coast Guard is considering this and is seeking further public comment on this issue.

Three commenters point out that STCW language requires that a candidate for OICEW must obtain 30 months of training, which includes onboard training documented in an approved training record book, but perceives that proposed § 11.950(b) does not allow for this onboard training.

As a result of the 2010 amendments to the STCW, the 30-month requirement has been eliminated to bring the deck and engine requirements in line with each other. Program approval will be based on content and must include not less than 6 months approved seagoing service in the engine department as specified in Regulation III/1 of the STCW Convention.

Three commenters note that proposed § 11.501(j)(1) provides that holders of engineer (limited) and DDE endorsements can “continue to serve under the authority of those credentials until first renewal * * *.” The commenters recommend that, in order to ensure that future readers understand what authority is being continued, the Coast Guard change those words to read as follows: “Continue to serve on those credentials with the authority that was in force under the rules in effect prior to the effective date until the * * *. ”

The Coast Guard agrees, and has amended the text in §§ 11.301 and 11.323, accordingly, in this SNPRM.

One commenter states that the training requirements to obtain a motor engineer license/endorsement should include all equipment that may be found on a vessel.

The Coast Guard disagrees and believes that this would be unnecessary and excessively burdensome. In many cases, mariners sail only on vessels without steam evaporators or waste heat/auxiliary boilers and do not have the opportunity to access this equipment. In this case, a corresponding restriction will be placed on the mariner's credential. Should a mariner wish to remove the restriction(s), he or she would be required to perform the demonstration on a vessel that carries that equipment.

One commenter seeks clarification on the three DDE horsepower levels and the waters on which they authorize service.

DDEs limited to 1,000 HP and 4,000 HP may sail only on inland and near-coastal waters. STCW endorsements are needed at either horsepower level if the endorsement holder wishes to sail near-coastal. DDE unlimited horsepower endorsement holders may sail upon any waters and require STCW endorsements for near-coastal and ocean voyages.

Twelve commenters offer various opinions on the NPRM's proposed 10,000 HP domestic engineer officer endorsement, along with suggestions for revised training and areas of competency demonstration.

The NPRM's proposed provisions for 10,000 HP credentials have been removed from this SNPRM. The main propulsion power level is included in the unlimited horsepower category. Training and sea service requirements are, therefore, the same for the unlimited path, as well as for all five of the STCW engineer officer endorsements. This SNPRM splits the engineer requirements into the § 11.300 series for STCW endorsements and into the § 11.500 series for domestic endorsements.

One commenter states that engineers holding DDE or limited tonnage endorsements would be restricted to domestic voyages.

This SNPRM provides, in parts 11 and 12, information on entry points for domestic mariners to be eligible for an STCW endorsement. Additionally, this SNPRM incorporates the changes proposed in the comprehensive review of the STCW, adopting the 2010 amendments that make the requirements for engineering qualification similar to those for deck officers. This will result in a process which does not require the 30 months of training that had been proposed in the NPRM. As a result, this will impose less burden on these engineers.

One commenter points out that an engineer on a small passenger vessel will be the sole engineer crew member on the vessel and that requiring the mariner to first sail as an RFPEW is an unreasonable burden.

It is impractical to issue an officer endorsement for any HP or tonnage level without the candidate having had some sailing experience at a lesser, non-officer capacity. Unless the small passenger vessel fleet, and other one-engineer-per-boat fleets open entry-level positions to train their future engineer officers, the only source for these officers will be either the maritime academies or those transferring from other fleets.

Four commenters remark that proposed § 15.820 would create unnecessary manning requirements for a chief engineer where none exist today and suggest adding, at the end of paragraph (a), the words “on international voyages.”

The Coast Guard has decided to retain the existing text for § 15.820 with some additional non-substantative changes. The manning requirements remain unchanged.

Two commenters do not support the Coast Guard's proposal to stop issuing STCW endorsements for DDE.

The STCW defines DDE differently than in current regulations. In the U.S., DDE means an engineer on a vessel not more than 500 GRT and is issued in three propulsion power levels: 1,000, 4,000 and any horsepower. STCW defines DDE as the person designated to perform duties in a periodically unmanned engine room. The Coast Guard does not intend to remove the three current DDE endorsements from our domestic structure. However, if a mariner holding a domestic DDE wishes to be qualified to sail on a vessel of unlimited horsepower of not more than 1,600 GRT/3,000 GT, he or she must obtain endorsements as assistant engineer-limited and chief engineer-limited.

One commenter states that the proposed language found in §§ 15.820 and 15.825, establishing that only seagoing vessels more than 200 GRT/500 GT are required to carry licensed engineers, must be retained. The commenter believes that such a requirement should not be imposed upon seagoing towing vessels of less than 200 GRT/500 GT.

The Coast Guard agrees. The proposed §§ 15.820 and 15.825 are essentially unchanged. The manning requirements likewise remain unchanged.

One commenter writes if unlicensed personnel are voluntarily assigned to stand engine room watches on seagoing towing vessels operating beyond the boundary line, § 12.530 will require them to hold RFPEW. The commenter recommends that the same tonnage limit of 200 GRT/500 GT stated in proposed §§ 15.820 and 15.825 be included.

Proposed § 12.609 contains the requirements for the RFPEW endorsement. The manning requirement for which vessels must carry such a credentialed person are found in the current regulations at § 15.1103(c).

One commenter recommends that the Coast Guard consider the DDE endorsement as equivalent to the chief engineer endorsement on towing vessels of less than 200 GRT/500 GT engaged in international voyages.

DDEs are authorized to sail as chief engineers on international voyages, but only unlimited DDEs are authorized to sail as chief engineers on international voyages (other than near-coastal), provided they hold an STCW endorsement as chief engineer.

Two commenters recommend that the Coast Guard allow credit for QMED service toward a chief engineer officer endorsement. One commenter recommends that § 11.506 be revised to allow sea service time as a QMED to be credited toward an endorsement as chief engineer for seagoing service with an STCW endorsement as chief engineer officer.

The Coast Guard disagrees. Service using a rating endorsement will not be accepted to upgrade to an officer endorsement as chief engineer or second engineer officer.

One commenter recommends existing DDEs be allowed to advance to chief engineer with appropriate service.

As indicated in Figure 11.505, this SNPRM proposes to retain the current regulations with regard to advancement to Chief Engineer. The current path allows a progression with appropriate service and testing. The DDE can act as Chief Engineer within the limitations on the license/officer endorsement. However, the other `chief engineer' endorsements are for Limited, MODU or unlimited categories. The Coast Guard welcomes comments on this new proposal; please be specific as to where cross-over points should be and what length of service is being recommended.

Two commenters recommend revising crossover points to qualify for officer endorsements for different tonnages, horsepower, and/or propulsion modes. The commenter believes that in order to provide crossover points more appropriate to the level of training and expertise engineers possess and the scope of their work, several paths should include 10,000 HP.

The proposed 10,000 HP credentials have been removed. This SNPRM retains the current engineer officer endorsement structure, as illustrated in Figure 11.505.

One commenter asks how a mariner can get an assessment for maintaining a boiler watch without being employed on a steamship.

It is possible to demonstrate steam competencies as part of an approved course or on a simulator. Not all persons are required to hold steam endorsements because a mariner may sail in any capacity by being limited to motor or gas turbine vessels only.

One commenter remarks that certain existing ratings are able to upgrade with assessment and training, but that the NPRM does not elaborate on what that training and assessment includes.

Required training and assessments are specified for each STCW endorsement in part 11, subpart C and part 12, subpart F of this SNPRM. This SNPRM also includes tables that indicate which domestic endorsements are eligible for certain STCW endorsements.

Four commenters recommend the Coast Guard raise the propulsion power threshold for first assistant engineers without an STCW endorsement because § 11.521 provides that first assistant engineers without an STCW endorsement may serve on seagoing vessels of less than 1,000 HP. One commenter recommends the Coast Guard raise this limit to at least 4,000 HP.

Once a vessel passes the boundary line, STCW regulations apply. These regulations require engineers on vessels of 750 kW/1,000 HP or more to hold STCW endorsements. Therefore, the Coast Guard cannot unilaterally raise this limit to 3,000 kW/4,000 HP. Regulation III/3 does allow for reduced requirements for chief engineers and second engineer officers on ships powered by main propulsion machinery of between 750 kW/1,000 HP and 3,000 kW/4,000 HP.

One commenter points out that Figure 11.505(a) has multiple inconsistencies with the text describing the route and service from chief engineer limited oceans and near-coastal to chief engineer, chief engineer 10,000 HP, and first assistant engineer 10,000 HP.

In this SNPRM, the Coast Guard retains the current regulations for domestic officer endorsements and has revised the figure accordingly.

One commenter asks the Coast Guard to remove management skills from the list of training topics required at the management level in § 11.511.

The Coast Guard cannot. Although the list has been removed from this SNPRM, the Coast Guard has retained the requirement to comply with the STCW standards of competence and is also proposing to retain the domestic scheme. In addition, the 2010 amendments to the STCW Convention include a new competence for “leadership and managerial skills” in Section A-III/2 of the STCW Code.

Deck Rating Endorsements

Three commenters point out that § 12.420 requires an RFPNW applicant to show 6 months of service, which can be reduced if the person has completed an approved course. The commenters note that courses are difficult to find and expensive to attend.

The Coast Guard recognizes that courses for RFPNW are difficult to find and are also costly; therefore we have revised the approach to implement the STCW Convention requirements. In the case of an RFPNW, the new approach would allow two paths: (1) a candidate may obtain six months of service (seagoing, Great Lakes and/or inland service) and meet the standard of competence through other methods, besides training (including in-service experience documented by the completion of assessments); or (2) a candidate may complete approved training that includes not less than 2 months of approved service.

Three commenters assert the NPRM is requiring all vessels to carry able seamen in proposed § 15.403(c).

The Coast Guard disagrees. The STCW Convention requires that anyone who is part of a navigational watch must hold an RFPNW endorsement. Section 15.403(c) explains that if a mariner has duties that include standing a navigational watch on a seagoing vessel, he or she must hold the proper endorsement (RFPNW).

One commenter finds that § 15.840 appears to require able seaman ratings on vessels that have never had this requirement imposed before. The commenter feels this requirement conflicts with U.S. manning and licensing standards.

The Coast Guard is not changing manning requirements. Any vessel not required to have able seamen will not be required to have them under this proposal.

One commenter requests that the Coast Guard allow for one RFPNW position to be filled by a specially trained ordinary seaman (OS) restricted to lookout duties. This will allow the OS to acquire sea service toward an RFPNW endorsement. The commenter recommends an OS have a minimum of 180 days of service to become a lookout and minimum of 365 days to become an AB/RFPNW.

All members of the navigational watch (including Specially Trained Ordinary Seamen), must be qualified as RFPNW. In addition, when a vessel's manning document allows for a Specially Trained Ordinary Seamen, it is in lieu of and not in addition to the normal complement of Able Seamen.

The Coast Guard agrees with the commenter's proposal that the OS may qualify for an RFPNW with 180 days of service. This is consistent with the STCW Convention requirements, and an applicant may obtain an able seaman-special endorsement provided within this SNPRM. One commenter recommends that the Coast Guard retain the progression path from entry level to specially trained OS/RFPNW (lookout duties only) to AB/RFPNW without restriction.

This SNPRM includes training requirements for RFPNW and for able seafarer-deck consistent with the STCW Convention provision. Seafarers serving on board vessels that proceed beyond the boundary line that serve as lookouts are required to meet the certification requirements for RFPNW. This SNPRM does not limit the attainment of the endorsement as RFPNW with no restriction to able seafarer-deck, but rather allows any mariner who demonstrates proficiency to obtain that endorsement. Seafarers serving as an able seaman on board vessels that proceed beyond the boundary line are required to meet the certification requirements for able seafarer-deck. It is the Coast Guard's view that these requirements allow for the progression path from entry level to specially trained OS, and then to AB, provided the mariner meets the applicable requirements for the endorsement.

Eleven commenters note that, although able seaman-Sail is an existing rating, it is not mentioned in the CFR alongside other AB ratings, and they recommend that able seaman-sail be included in the regulations.

The Coast Guard agrees and has inserted able seaman-sail as well as able seaman-fishing industry in proposed § 12.401.

Engine Rating Endorsements

One commenter suggests that endorsements of GMDSS operator and Electronic Technician should be unlicensed endorsements.

The endorsement of GMDSS operator and GMDSS maintainer may be obtained by any officer or rating. The Electronic Technician endorsement proposed in the NPRM has been removed in favor of two new STCW endorsements: electro-technical officer and electro-technical rating.

One commenter points out that there is no mention of an “engineman” as a QMED endorsement.

This SNPRM proposes to eliminate “Engineman,” as a rating endorsement. The rating endorsement of “junior engineer” may be used to cover the qualifications if that position is continued on some vessels.

Ratings Forming Part of an Engineering Watch (RFPEW)

One commenter notes that many vessels less than 200 GRT/500 GT meet the requirements for the service and assessments for RFPEW, but lack a qualified assessor to sign off on the control sheets. The commenter suggests that a mariner who can meet the QMED Fireman/Oiler/Watertender (FOWT) sea service requirements should be deemed to have met the RFPEW requirements.

Sea service requirements for RFPEW (6 months) are the same for FOWT. The STCW requires an assessment of whether the mariner has achieved the specified standard of competence. If there is not a qualified engineer onboard, the only alternative is to attend training or go to another facility at which they can be assessed. The Coast Guard cannot mandate that a company put assessors on board a vessel.

One commenter states the requirement of a licensed engineer aboard vessels of 750 kW/1,000 HP propulsion power or more would put a burden on high performance small vessels. The commenter believes adding a third crew member or training the existing crew members would add an unnecessary burden.

This rulemaking does not change the manning requirements for this type of vessel. Unless an engineer is required by the manning certificate, there is no requirement for an individual holding an engineering endorsement.

Basic Safety Training (BST)

Two commenters want the Coast Guard to require that all engineers on inspected vessels on both domestic and international voyages receive basic safety training as well as adequate vocational training.

The BST requirements of the STCW Convention already apply to a portion of our domestic fleet by virtue that they trade in near-coastal voyages. Personnel working non-STCW vessels (including inland vessels) are required to be familiar with the vessel characteristics, including fire-fighting and lifesaving equipment as indicated in § 15.405. Officers and able seamen on inland vessels also must take firefighting and be qualified as lifeboatmen. We believe the existing requirements applicable to non-STCW vessels provide an equivalent level of safety to the requirements of the STCW Convention.

One commenter asks if crew members on all vessels, including uninspected passenger vessels, operating beyond the boundary line are required to complete BST training.

All applicants seeking an STCW officer endorsement must provide evidence, with their application, of meeting the standard of competence for basic safety training as described. However, operators of uninspected passenger vessels, as defined in 46 U.S.C. 2101(42)(B), are not subject to this requirement because of their special operating conditions as small vessels engaged in domestic, near-coastal voyages.

One commenter notes that small passenger vessels subject to Subchapter T or K of Title 46 of the CFR, vessels of less than 200 GRT/500 GT (other than passenger vessels subject to Subchapter H), and uninspected passenger vessels on domestic near-coastal voyages are exempt from the BST requirements in § 15.1101(a)(2). He also states that § 15.1105(c) requires all crewmembers on seagoing vessels to complete BST training. The commenter recommends that § 15.1105(c) be amended to exempt those vessels already exempted in § 15.1101(a)(2).

The Coast Guard agrees and has amended § 15.1105(c) by adding “except as noted in § 15.1101(a)(2) of this subpart,” after the word “vessel”.

Lifeboatman Requirements

One commenter writes that mariners would experience difficulty in complying with the requirement in proposed § 12.630(c)(2) to participate in 12 rescue boat, liferaft, or other drills involving lifesaving apparatus, 4 of which include a rescue boat being placed in the water.

The Coast Guard has deleted the requirement to participate in drills from the SNPRM. The lifeboatman requirements are contained in § 12.409 in this SNPRM.

Fifteen commenters object to the use of the term “survivalman” for those mariners serving on vessels without installed lifeboats.

The Coast Guard has withdrawn its proposed use of the term survivalman and substitutes in its place, lifeboatman-limited for the domestic endorsement. Regarding the STCW endorsement, the Coast Guard is proposing to use the term proficiency in survival craft and rescue boats other than lifeboats and fast rescue boats—limited (PSC—limited), to ensure consistency with the Convention.

Two commenters request that the Coast Guard lower the minimum threshold for qualifying tonnage for lifeboatman to 15 GRT.

The Coast Guard notes that there is presently no minimum qualifying tonnage for this endorsement.

One commenter says §§ 12.610 and 12.630 permit completion of an approved program instead of the drills, and that there are no approved programs for these ratings. The commenter recommends changing “program” to “course” in both instances and allowing completion of a course in proficiency in Survival Craft to also be accepted.

The Coast Guard agrees and has amended the text in § 12.407 to use the term “course” instead of “program”. One commenter says that the Coast Guard did not intend to make the survivalman requirement in § 15.404 apply to every person employed on a vessel and recommends that the Coast Guard remove the words “Every person employed” and add, in its place, the words “Every person assigned duties”.

The Coast Guard agrees and has amended the text in § 15.404.

Flashing Light

Twenty-two commenters state mariners should not be required to pass a flashing light examination required in proposed § 11.401(i), since that method of communication is not used anymore.

The Coast Guard notes that exhibiting flashing light competence is still required for STCW deck officer endorsements on vessels in ocean service of 200 GRT/500 GT or more. However, the Coast Guard proposes, in this SNPRM, to remove the flashing light examination requirement for all domestic licenses and for all raises in grade of unlimited tonnage licenses.

Seven commenters remark that the requirement in proposed § 11.401(i) that certain officers “must pass a practical signaling examination,” imposes a higher performance standard than required by the STCW Code, which says only that an officer must demonstrate competence by “assessment of evidence from practical instruction.” The commenters recommend that the evidence be in the form of questions on the navigation general module of the required examinations.

The Coast Guard disagrees with the proposed recommendation. The intent of the STCW Code is clear that candidates must demonstrate competency by practical instruction and/or simulation. In this SNPRM, we have changed the requirement to completion of an approved course. It should also be noted that the 2010 amendments to the STCW have lowered the required knowledge, understanding, and proficiency (KUP), and the Coast Guard will allow approved course offerers to modify their courses consistent with the amendments.

Radar Renewals

One commenter states that the requirement to take a radar observer recertification course every 5 years is no longer necessary for deck officers with recent shipboard experience on vessels over 1,600 GRT/3,000 GT as written in Table 11.480. If it is determined that the U.S. will continue to require a 5-year radar recertification, the commenter recommends that training include ARPA to be more in line with today's actual operating conditions.

The Coast Guard disagrees that recertification training for radar observer is no longer valid or necessary. The Coast Guard agrees with the suggestion that the training be revised to include collision avoidance functions but does not believe that it is appropriate to include this recommendation into regulation because not all vessels are equipped with ARPA. The suggestion will be considered when approving courses meeting the radar requirements.

Pilots

One commenter writes that pilot vessels, which sometimes operate beyond the boundary line in the pursuit of their vessel pilotage duties, should be exempted from the requirement in §§ 15.103(e) and 15.1101(a)(1) to carry the appropriate STCW endorsement.

These requests will be handled on a case-by-case basis by the Coast Guard, in accordance with 46 CFR 6.01.

Vessel Manning

One commenter says it is unreasonable to expect every crewmember to be familiar with all of the vessel familiarization items listed in § 15.405 and suggests adding language to clarify that every crewmember must become familiar with only the relevant characteristics of the vessel as they pertain to the crewmember's position.

The Coast Guard agrees and is proposing to retain the existing text that provides for the familiarization to be appropriate to the crewmember's position.

One commenter asks if the intention of § 15.404 is to increase manning requirements on the small passenger vessel industry.

The provisions in § 15.404 are not intended to increase manning, but to ensure personnel working on board vessels have the appropriate credential to work on board. Furthermore, they provide the relationship between domestic and STCW endorsements.

Two commenters state the proposed revision in § 15.515(b) could affect the number of crewmembers required to be carried aboard. The commenter believes that the Coast Guard needs to recognize that there are numerous reasons why a crew member may be off of the vessel when passengers are on board, and that the Coast Guard needs to clarify how the crew can complete their required tasks, as well as being able to step off the vessel for personal time without violating the COI.

The Coast Guard has amended § 15.515(b) to indicate that the master of the vessel may allow reduced crew for limited or special operating conditions, subject to the approval of the Officer in Charge, Marine Inspection in whose zone the vessel is operating or on the vessel's COI.

One commenter urges the Coast Guard to clarify that implementation of the STCW requirements is not meant to establish new manning requirements and to clarify that there is no requirement for vessels under 1,600 GRT/3,000 GT to carry a chief mate.

The Coast Guard agrees that implementation of the STCW requirements is not meant to establish new manning requirements. Therefore, we are maintaining the definition of “chief mate” as it appears in the existing regulations, rather than the definition proposed in the NPRM.

One commenter asserts that certain manning requirements in this revision will supersede the interpretation of NVIC 4-97, which states that foreign Port State Control officers may look for compliance with the STCW standards. The commenter notes that prior to this, it was left up to the Port State Control to enforce standards.

It is the United States' responsibility to ensure that its seafarers have met the international standards to which we are signatory. Whether a Port State Control officer checks a vessel for compliance is up to the individual Port State.

General Provisions

Three commenters ask the Coast Guard to retain the existing regulations in §§ 11.407 and 11.516 that specifically mention that graduation from a marine service academy, a maritime academy, or a 3-year apprentice training program be accepted as qualification for a domestic third mate or third assistant engineer endorsement.

The Coast Guard agrees. As this SNPRM separates the requirements for STCW and domestic officer endorsements, we have retained the current verbiage.

One commenter notes that in the event a mariner's TWIC becomes invalid, his or her credential also becomes invalid.

The Coast Guard disagrees. There are multiple reasons why a TWIC may become invalid and/or revoked, including but not limited to, illegal drug use, medical incapacitation, and felony convictions. A mariner's due process rights, however, preclude automatic invalidation of his or her MMC. By law, a formal hearing is required to proceed against a mariner's credential. In instances where the Coast Guard learns that a mariner's TWIC has been invalidated, proceedings will then commence against the mariner's MMC in due course. These proceedings will take place before an Administrative Law Judge pursuant to 33 CFR part 20. Because a valid TWIC is typically a condition of employment and must be produced to gain unescorted access to secure areas, invalidation of the TWIC will be enough to preclude a mariner from working onboard vessels. Appeals procedures can be found at 33 CFR 20.1001 through 20.1003 and 49 CFR part 825.

Applications

One commenter recommends that screening for disorders that are associated with excessive daytime sleepiness be included as a required element of the medical examination for mariners, similar to the medical examination of pilots.

The Coast Guard provides guidance for the completion of medical examinations for mariners, which includes medical conditions that may cause daytime sleepiness. Additionally, the new medical examination form (CG-719K) provides a place where the medical examiner may note such diagnosis.

One commenter notes that proposed § 10.217 makes it appear as though the Coast Guard intends for applicants to submit their application packages directly to the NMC without first submitting it to the RECs.

The proposed § 10.217, which allows applicants to submit a package to any REC or any other location designated by the Coast Guard, will remain unchanged. The Coast Guard will establish a policy offering guidance about alternative locations where an applicant can submit his or her application package. The current policy is to send all applications to an REC.

One commenter asks if an STCW endorsement goes into continuity when a mariner replaces his or her domestic endorsement with a Document of Continuity.

Domestic endorsements go into continuity, while STCW endorsements do not. However, by virtue of the STCW endorsement's relationship with the domestic endorsement, the STCW endorsement will be re-instated with the domestic endorsement upon application, subject to all other renewal requirements. The Coast Guard proposes to amend § 10.227(g) to specify that only domestic credentials will be issued for continuity.

One commenter asserts that the minimum age for issuing a rating or STCW endorsement should be 15.

The Coast Guard disagrees. The Department of Labor has determined that the maritime industry is especially hazardous and that individuals under the age of 16 should not be allowed to work in this environment. However, the Coast Guard may recognize training and experience prior to age 16 in certain situations and within approved programs.

Two commenters ask the Coast Guard to explain the provision in § 11.205(b)(2).

The provision in § 11.205(b)(2) was moved to § 10.232. In this provision, the Coast Guard is pointing out that it does not intend to impose greater requirements or restrictions on naturalized citizens than it does on U.S.-born citizens. This is existing text.

One commenter says that § 11.205(f)(2) advises applicants to take an examination as soon as possible, which seems to be unnecessary and may not be advisable. The commenter suggests that applicants should be reminded that applications are only good for a year.

This specific provision in § 11.205(f)(2) was moved to § 11.201(j)(2). The Coast Guard agrees with the comment and has amended the text to clarify that the validity of the application period is 1 year.

Three commenters remark that proposed § 11.205(e)(3) is unclear and seems to require applicants for 200-ton credentials and towing vessel mate/master to complete a higher level of medical training.

The provisions for CPR training in § 11.205(e) were transferred to § 11.201(i). The proposed text in § 11.205(e)(3) of the NPRM was deleted from this SNPRM. The proposed requirements in § 11.201(i) state that all applicants for an original officer endorsement must take at least first-aid and CPR courses, except those specifically exempted in §§ 11.429, 11.456, and 11.467, which include some masters of not more than 100 GRT and OUPVs. All applicants for officer endorsements above 100 GRT on oceans routes must comply with this provision.

Course Approvals

Thirteen commenters disagree with the proposed requirement for training institutions to offer approved training courses every 12 months or lose approval for that course.

The Coast Guard agrees and has removed the proposal in this SNPRM.

Six commenters disagree with the proposed requirement that company owners, as well as students, fill out and submit questionnaires upon employees' completion of approved training.

The Coast Guard agrees and has removed the proposal in this SNPRM.

Five commenters disagree with the proposed requirement that a course approval expires when there is a change in the “management” of the training provider.

The Coast Guard agrees and proposes to retain the current requirement that a course approval expires when there is an ownership change in the training institution.

Thirteen commenters object to the proposed requirement that each training institution submit an annual report for each course. The commenters feel this requirement should be limited to educational and/or training institutions with individually approved courses only, and not to educational and/or training institutions with approved programs containing multiple courses which are already subject to the U.S. Coast Guard's approval process, independent and internal audits under a QSS.

The Coast Guard agrees. This proposed requirement was not intended to apply to individual courses within approved training programs, which typically have several approved courses embedded in them. In this case, one annual report would cover all of the embedded courses within a training program.

One commenter disagrees with proposed § 10.302(b)(5)(i), which requires that instructors at training institutions have either recent experience or training in effective instructional techniques (within the past 5 years).

The Coast Guard disagrees. If an instructor does not teach within 5 years, he or she risks losing proficiency. As such, § 10.302(b)(5)(i) will remain unchanged.

Three commenters disagree with proposed § 10.303(a)(4), which states that schools must “require each student to successfully demonstrate practical skills appropriate to the course material and equal to the endorsement for which the course is required.” The commenters feel that this is the responsibility of the Coast Guard.

The Coast Guard disagrees. The course approval will determine and state the authority and scope of the requirements, which will become the responsibility of the training institution. Some courses are required to include practical demonstration of skills as part of the approval.

One commenter writes § 10.303(a)(7)(i) seems out of place. There is a need for clarification on this topic to make it both fair and workable.

The Coast Guard deleted the text for § 10.303(a)(7)(i) from this SNPRM.

One commenter asks what is meant by “Follow-up activities” as written in § 10.302(b)(7)(ii)(E).

The Coast Guard has amended the text to clarify the statement to indicate that the lesson plans should include homework, reading assignments, and any other activity to be performed after the lesson has been presented. This requirement is now found in § 10.402(b)(7)(ii)(E).

One commenter asks why visual aids must be “modern” as written in § 10.303.

The Coast Guard notes that this requirement currently exists. Nonetheless, in this SNPRM the Coast Guard proposes to omit the word “modern.”

Two commenters request clarification for the phrase “deviating from course-approved curricula” as written in § 10.302(g)(2)(ii).

The Coast Guard believes the proposed rule is sufficiently clear and does not need revision. When a training institution submits a course approval package, part of that package is a course curriculum, which explains how the course will be presented (instructors, printed material, use of simulators, examinations, etc.). Once the course has been approved by the Coast Guard, training institutions may not deviate from, or make any changes to, the curriculum without submitting a request for a change to the course approval.

One commenter recommends the Coast Guard amend the approved curriculum reporting requirement (in § 10.303 of the NPRM) that training institutions provide an annual report to the NMC to include a summary for each of the provider's approved courses as it may likely add hardship to small entity operations.

The Coast Guard agrees and has removed the requirement for training institutions to provide an annual report to the NMC to include a summary for each of the provider's approved courses. The general standards requirements for schools with approved courses and programs are now found in § 10.403 in this SNPRM.

One commenter asks the Coast Guard to consider computer-based distance learning training for theory portions of courses and for courses not requiring an instructor.

The Coast Guard agrees and has added a new § 10.412 regarding distance and e-learning.

Six commenters note that the proposed regulation in § 10.303(a)(5) would require each school with an approved course to maintain physical or electronic records for at least 5 years after the end of each student's enrollment. The commenters request that this provision be kept at the current 1-year requirement.

The Coast Guard disagrees. Since all parties to the STCW Convention may, at any time, request documentary proof of a mariner's qualifications and training, documentary evidence of such training and qualifications must be retained for the life of the mariner's credential (5 years). Therefore, the Coast Guard is retaining this proposed requirement.

One commenter says § 10.303(a)(5) needs to be clarified and asks what part of the student record that must actually be maintained.

The Coast Guard disagrees and the proposed regulations in 46 CFR 10.403(a)(6) clearly state what is required to be maintained in a student record.

One commenter is concerned that the wording of the proposed § 11.401(j) could impact a mariner with current credentials who has been teaching Coast Guard-approved courses at a training institution when seeking renewal or upgrade to that credential.

The Coast Guard partially agrees. The SNPRM includes an existing provision in § 10.232(e) that allows the Coast Guard to accept evidence of employment in a position closely related to the operation, construction, or repair of vessels (either deck or engineer, as appropriate) as meeting the sea service requirements for renewal under § 10.227(e)(1)(iv). This service may be creditable for service for raise of grade of an engineer or deck officer endorsement; however, it may not be used for obtaining an original STCW management-level endorsement.

One commenter suggests that in § 10.227, the phrase “position closely related to the operation * * *” is being inconsistently applied to applicants for renewal who are instructors, examiners, port engineers, and port captains.

The Coast Guard disagrees. We have a long history of accepting such closely related service and have made all efforts to do so in a consistent fashion. If the commenter has specific examples of inconsistency, he or she may send those examples to the Office of Vessel Activities (CG-543) and the Coast Guard will take appropriate action.

Five commenters remark there is a need for greater specificity on the qualification requirements for instructors in Coast Guard-approved courses.

The Coast Guard agrees that this information is beneficial, but also feels this detail is better provided by a Navigation and Vessel Inspection Circular (NVIC) or similar guidance document, which we plan on issuing after publication of a Final Rule.

One commenter states instructors with expired credentials or military personnel with the appropriate experience should be allowed to act as instructors of approved training courses or programs.

Acceptance of instructors is conducted on a case-by-case basis and considers the whole of the prospective instructor's experience. Lack of a current merchant mariner credential will not necessarily disqualify a candidate.

Two commenters note that proposed § 12.630(d) offers the alternative for an applicant to complete an approved training program. Because of differing interpretations of this phrase, the commenters believe it would be better to use the words “approved training” as in § 11.407(a)(2).

The Coast Guard disagrees. An “approved training program” is more comprehensive and includes sea service training and assessment, while “approved training” may only include a single course and/or assessment.

One commenter raises concerns with the use of the terms “Coast Guard accepted” and “Coast Guard approved” in regards to training and recommends removing all reference to “approved training.”

The Coast Guard is cognizant that the terms may cause confusion, but disagrees with eliminating “approved training.” In this SNPRM, we have clarified the definitions. In general, “Coast Guard approved” refers to training that is approved by the Coast Guard through the process outlined in regulation. “Coast Guard accepted” refers to training that is approved by and/or provided by other entities and do not go through the Coast Guard approval process. Currently, the only Coast Guard-accepted training is first aid, CPR, fishing vessel safety instructor, and VSO.

Examinations

Two commenters express concern over the Coast Guard substituting a Coast Guard-prepared examination for one used in an approved course, unless the course is approved to substitute for a Coast Guard examination for a merchant mariner credential.

The Coast Guard agrees. It was our intent to limit this provision to courses approved to substitute for a Coast Guard exam, and we have revised the wording of this requirement to make this more apparent.

Three commenters suggest that the standard for approval of a course to substitute for the Coast Guard-administered examination for an officer or rating endorsement be changed to require only that the course's exam be equivalent to that given by the Coast Guard.

The Coast Guard disagrees and does not propose to amend this requirement from its present form.

One commenter suggests removing the word “written” from § 10.303(a)(3). The commenter says some training institutions are providing online examinations, which are not written examinations and that there may be a situation where the evaluation is based on a simulator examination.

The Coast Guard agrees with the intent of the comment to provide flexibility for the various means for examination (written or electronic) and has amended the text to reflect this change. The requirement was moved to § 10.403(a)(4).

One commenter states § 11.430(d), which requires international rule outside the COLREGS line but within the boundary, will be an administrative nightmare and asks how the NMC reviewer would know if the international rules exam was taken by someone who took an inland/Great Lakes course.

The Coast Guard notes that this requirement has existed for many years and is found in the current § 11.430. If the course approval states that it covers Great Lakes and inland waters and that it includes both inland and international rules of the road examination questions, no COLREGS limitation is placed on the credential. If an applicant tests at an REC, the Coast Guard assigns the module that covers both inland and international waters. If the mariner states he or she wants only an inland rules examination, the Coast Guard gives the applicant an inland rules module, and a COLREGS limitation is placed on the MMC.

Quality Standard System (QSS)

Seven commenters express confusion and disagreement with their interpretation that the Coast Guard is removing itself as one of the QSS monitors for Coast Guard-approved courses and training programs. The commenters believe that this will require training institutions to spend large amounts of money for an independent organization to help them develop and monitor a QSS for their organizations.

It was not the intent of the Coast Guard to remove itself from the monitoring of courses. The Coast Guard has amended the text in 46 CFR part 10, subpart D by providing two options. The first option is a Coast Guard-approved course for which the Coast Guard also provides the QSS monitoring. The second option is using a Coast Guard-accepted QSS organization that approves and monitors a course. Under the second option, the Coast Guard monitors the Coast Guard-accepted QSS organization. The Coast Guard will continue to perform oversight of all approved courses and training programs.

Five commenters recommend that the proposed regulations in §§ 10.308 and 10.303 permit the maritime academies to demonstrate compliance with the QSS provisions in Regulation 1/8 of the STCW Convention and those items specifically listed in § 10.303(b)(1)(i)(x) through existing recognized academic accreditation, where accredited degree programs and license/STCW courses which make up an approved program are linked.

The Coast Guard partially agrees with the comment. The STCW Convention requires that the training is monitored by a QSS, however the Convention also allows for the acceptance of a QSS as part of an accreditation body provided it covers the Convention training requirements. The Coast Guard recognizes that academic accreditation bodies address some (not all) of the STCW Convention requirements and have amended the text to allow acceptance of the accreditation documentation for one or more of the QSS required items.

One commenter suggests that the federal and state maritime academies be subject to the same QSS requirements and instructor qualification standards as other schools offering Coast Guard-approved courses.

The Coast Guard agrees in part. The proposed QSS requirements will apply to all organizations with Coast Guard-approved courses or programs, including the maritime academies. However, the Coast Guard notes that specific application of these requirements will vary as the maritime academies are also regulated by the Maritime Administration in 46 CFR part 310.

One commenter requests that the Coast Guard remove the requirement in proposed § 10.303(a)(8) for an annual internal audit of each individual approved course as this requirement is overly burdensome. If this requirement cannot be removed, the commenter believes that training facilities that maintain full ISO 9001 certification by a USCG recognized QSS organization should be exempt from this requirement.

The Coast Guard partially agrees. Section 10.303(a)(8) of the NPRM proposed that a training institution conduct an internal audit midway through the term of the course's approval and submitted to the NMC. Course approvals are typically good for 5 years, so the midway point is at two-and-a-half years. The Coast Guard is using accepted quality practices that require companies to implement internal auditing functions.

If, as part of its ISO certification, a training institution is required to conduct an annual internal audit, that same documentation can be utilized for the required QSS audit. Also, the school is only required to conduct a single internal audit of the QSS regardless of how many individually approved courses the institution offers.

Seven commenters request that the Coast Guard delete the requirement in proposed § 10.303(a)(10) for a QSS.

A QSS is required by the STCW and will remain a requirement for training courses required to obtain an STCW endorsement. Schools that do not offer STCW courses will not be required to have a QSS.

One commenter notes that § 10.303(b)(1)(vii) states that the QSS must define the provider's responsibility for “enabling mariner completion of Coast Guard applications * * *.” The commenter further states that a school's primary purpose is to provide training, rather than to deal with application paperwork. Although training institutions may provide assistance with application preparation, that service is an ancillary feature and, as such, is not an appropriate component to be addressed by a rulemaking. The commenter recommends that this requirement be deleted from the proposed regulations.

The Coast Guard agrees and has deleted that language from § 10.403.

One commenter recommends that the Coast Guard delete § 10.303(b)(1)(vii), which requires that course providers assist students in the preparation of their Coast Guard MMC applications.

The Coast Guard agrees and has deleted that language from § 10.303(b).

Training Record Book (TRB)

Three commenters state the additional Training Record Book (TRB) entries proposed in § 10.304 exceed the current requirements given the one-time use of the TRB for original license application only. The commenters believe requiring dual signatures in the TRB does nothing to enhance safety and is an enormous documentation burden with no added value.

The Coast Guard partially agrees. We agree that the TRBs are made to be used for onboard training and assessment as part of a training program. Therefore, the requirements have been amended to reflect that. The Coast Guard disagrees that the signatures do not add any value. We believe that the signatures are necessary to establish when and to whom the prospective officer has demonstrated that he or she has achieved the standard of competence. This requirement is consistent with Section B-II/1, paragraph 9 of the STCW Convention.

Designated Examiner (DE)/Qualified Assessor (QA)

Six commenters disagree with the proposed definition of designated examiner. The commenters believe that the DE is not qualified to evaluate whether an applicant has achieved the level of competence required to hold an endorsement on an MMC.

The Coast Guard agrees and has revised its definition for designated examiner to make it specific to towing vessels and removed references for determining competence. We have further added a definition for qualified assessor for those individuals conducting STCW assessments and the assessor's skills and/or training would be focused on conducting assessments instead of training.

Three commenters express concern over the requirement that a designated examiner must have experience and/or training in assessment techniques and feel that this would impose an additional burden on mariners who conduct STCW assessments that will negatively impact mariners' willingness to serve assessors.

The commenters appear to have confused a qualified assessor, who witnesses a demonstration of skill for STCW purposes, with a designated examiner, who assesses the competence of candidates for towing vessel licenses and who is required to be approved by the Coast Guard. The requirement for experience and/or training in assessment techniques was not changed in the NPRM or this SNPRM. The proposed amendments to this definition were limited to the use of the term strictly with regard to the towing vessel TOAR.

One commenter notes a disparity between § 10.305(a)(3), which allows a DE to assess anyone seeking an endorsement lesser than or equal to the endorsement the DE possesses, and Policy Letter 14-02, which requires a RFPNW be assessed by an unlimited second mate or master. The commenter recommends that the standard stated in the NPRM be followed immediately, and into the future.

The Coast Guard disagrees. The provisions for DE training in § 10.305 were transferred to § 10.405. As previously noted, a “designated examiner” differs from a “qualified assessor,” and the proposed § 10.405(a)(3) describes the qualifications of a designated examiner, it does not specify what assessments they can conduct.

Four commenters express concern that the proposed rule would impose an additional burden on mariners who conduct STCW assessments that will negatively impact their willingness to serve as assessors.

A qualified assessor witnesses a demonstration of skill for STCW, while a designated examiner assesses the competence of candidates for towing vessel licenses that is required to be approved by the Coast Guard. Also, as used in the proposed rule at § 10.405(a), “must have * * *” refers to the requirements to qualify for Coast Guard approval as a designated examiner; it does not impose a burden for the designated examiner or qualified assessor to carry documentation of the experience.

Subjects for Deck and Engine Officer Endorsements

One commenter recommends that the format of proposed Table 11.901-2 (Deck), Tables 11.950-1 and 2 (Engineer) and Table 12.516(B) (Ratings) be harmonized and amended to more clearly identify the degree of expertise required at different levels.

The Coast Guard agrees and has harmonized the tables.

Towing

Two commenters question the training schedule to receive an STCW endorsement, saying it is overly burdensome to the marine assistance operators. The commenters suggest that if the industry cannot be exempt, a shortened program designed for their needs is necessary to alleviate this burden.

Assistance towing vessels operating within the jurisdictional waters of the United States will not be required to undergo additional training and assessment beyond what is already required for a domestic endorsement. Those vessels operating beyond the boundary line must meet the STCW requirements.

Three commenters point out that proposed § 10.304(f)(5) states that a TOAR must have a space for an instructor or officer to document that the applicant has received the training needed to perform the task or skills. The commenters believe the TOARs posted by the Coast Guard as part of NVIC 4-01 on towing endorsements do not have space for documenting this training, even though that requirement appears in the current rules. The commenters recommend that the requirement for documentation of training be dropped from this section.

The Coast Guard is taking necessary steps to revise the NVIC to include a space for the designated examiner's signature. However, the Coast Guard still believes there is value in documenting that an individual has determined that an applicant has achieved the level of proficiency required to hold a towing vessel endorsement.

Tankerman

One commenter remarks that the proposed requirement to not allow sea service granted for attendance at a Coast Guard-approved course to meet requirements for sea service recency for renewal of a tankerman endorsement conflicts with renewal requirements in § 13.120.

The Coast Guard disagrees. The regulations concerning renewal of a tankerman endorsement specifically allow completion of a Coast Guard-approved course as an alternative to recent sea service on tank vessels for renewal of a tankerman endorsement.

Three commenters ask that the proposed rule be revised to retain the ability for a mariner holding an endorsement as tankerman-PIC (barge) to qualify for an STCW endorsement.

The Coast Guard agrees and has revised the proposed rule to allow mariners who hold a tankerman-PIC (barge) endorsement to qualify for a corresponding STCW endorsement. The STCW endorsement will be restricted to “non-self propelled vessels.”

Offshore Supply Vessels (OSVs)

One commenter notes there needs to be a clearly defined pathway out of the OSV licensing structure to the non-trade restricted licenses.

The Coast Guard agrees and will issue guidance to describe the difference in required competence between OSV credentials and non-trade restricted credentials.

Six commenters note that the NPRM proposes that applicants for OSV officer endorsements on seagoing vessels must complete a Coast Guard approved program of training, assessment, and sea service that meets the requirements of the STCW regulations. The commenters recommend that the final OSV credential rules retain the more flexible language to insure the continuity of an alternate qualifying method for vessels of limited tonnage on domestic voyages.

The Coast Guard has revised the proposed requirements to allow for the use of the various methods for meeting the STCW standard of competence for both STCW and domestic endorsements.

One commenter states application of the STCW to mariners serving on vessels of less than 200 GRT/500 GT in the OSV industry should be held to the same standard as the deep sea industry.

The Coast Guard agrees, and these regulations ensure that mariners in all near-coastal and ocean industries, including the OSV industry, will comply with the STCW Convention.

MODUs

One commenter points out that the Bureau of Ocean Energy Management Regulation and Enforcement no longer approves courses, specifically the blowout prevention and well control training program, and recommends that the rulemaking be revised to reflect this change in the regulations.

The Coast Guard agrees and has made the change.

Two commenters feel that the Coast Guard is issuing credentials for mariners on MODUs, such as chief engineer MODU, assistant engineer MODU, and able-bodied seaman MODU, but that the Coast Guard fails to include them in the appropriate portions of the CFR, instead listing them in an obscure volume of the Marine Safety Manual, which is a guidance publication.

Some of the requirements for MODU endorsements are already contained in the regulations in the previous § 10.540 series for engineer officers and in the previous § 10.470 series for deck officers. They now appear in §§ 11.540-11.544 for engineer officers and in §§ 11.468-11.474 for deck officers. The Coast Guard has proposed in the regulations those endorsements which we have statutory authority to issue.

Small Passenger Vessels

One commenter asks the Coast Guard to exempt small passenger vessels subject to subchapter T or K of Title 46, CFR from having to comply with subpart J.

The Coast Guard partially agrees. The STCW Convention requires that small passenger vessels on seagoing voyages comply with the STCW Convention and Code. The Coast Guard maintains that individuals serving on such vessels on domestic voyages are in substantive compliance with STCW and will not have further obligations under this rule. However, those same individuals, when operating in the waters of another nation, must meet the STCW Convention requirements.

Economic Comments—Training Requirements

Nine commenters express concern about costs for STCW training requirements that are absorbed not by mariners, but their employers and state that companies will have a direct and significant impact from the proposed requirements because, to a large extent, companies pay for the training their employees will obtain under collective bargaining agreements where contributions are made to a pooled training fund.

The NPRM does not directly require companies or maritime employers to pay for the proposed training requirements for affected mariners. However, the Coast Guard acknowledges that some companies employing mariners might be indirectly impacted in the future. The Coast Guard understands there are companies that have made the business decision to help pay for mariner training. In recognition of this possibility, Coast Guard has modified the analysis of impacts on small entities in the Initial Regulatory Flexibility Analysis to include a sensitivity analysis showing the impact of additional training costs on small entities. In addition, under the SNPRM, the Coast Guard would accept various methods for demonstrating competence that would reduce the costs of training requirements proposed in the November 17, 2009 NPRM, a significant cost relief to companies or maritime employers. Please see the discussion under “Methods for demonstrating competence” for additional details.

Twelve commenters suggest that proposed training requirements may create or exacerbate shortages of qualified mariners due to excessively high personal and financial costs imposed on mariners, and present challenges to owners and operators in manning vessels due to higher compensation requirements for a shrinking pool of qualified mariners.

The Coast Guard is cognizant that additional training requirements can have an impact on the mariner pool available to man the vessels. The Coast Guard does not believe that the proposed training requirements in this SNPRM will create or exacerbate shortages of qualified mariners. In response to public comments received after the publication of the November 17, 2009 NPRM, the SNPRM would permit the Coast Guard to accept various methods for demonstrating competence, such as on the job training. These methods would significantly reduce the costs of training requirements proposed in the NPRM. Furthermore, the Coast Guard would allow for the preservation of the “hawsepipe” program and foster career paths that were not previously available. The Coast Guard would also grant sea service towards STCW endorsements and for domestic endorsements of unlimited tonnage when those mariners provide proof of service on the Great Lakes or inland waters. Finally, the Coast Guard proposes to remove the requirement proposed in the November 17, 2009 NPRM for an OICEW or DDE candidate to complete approved education and training of at least 30 months.

Economic Comments—QSS Requirements

Four commenters state that the NPRM requires training schools to use a non-governmental entity QSS organization or employ professional outside consultants. They add that the costs of using a third-party organization or consultants should be included in the regulatory analysis. Further, one commenter says that the magnitude of these costs may break the budgets of many mariners and their employers.

The Coast Guard included a range of costs to develop a QSS program for an entire organization (not for individual courses) of $4,320 to $12,240. This range is sufficiently broad to include the possibility that a training provider hires a professional outside consultant, uses a non-governmental entity QSS organization, or develops its own QSS using its internal human resources at lower costs.

Economic Comments—Small Entities

Six commenters express concern about the cost impact of proposed STCW training requirements on small entities that would not be able to pay for their mariners' training or compensate them with higher wages they may request after obtaining additional training.

The Coast Guard concurs that small entities may be impacted by the training requirements and has revised the Regulatory Flexibility Analysis to assess the impact of training costs on small entities. However, as mentioned in the previous responses, the alternative methods for demonstrating competence proposed by the Coast Guard in this SNPRM would significantly reduce the cost impact of the training requirements.

Response to Comments From MERPAC

Below, the Coast Guard responds to comments received from the MERPAC. Several of MERPAC's comments noted non-substantive, editorial errors in the NPRM. The Coast Guard has incorporated these comments where appropriate, without further discussion.

MERPAC recommends that this rulemaking be merged to include the results of the comprehensive review adopting the 2010 amendments to the STCW Convention and STCW Code, which was concluded by the International Maritime Organization (IMO) in June 2010.

The Coast Guard agrees and has decided to publish this SNPRM, which describes proposed changes from the NPRM published on November 17, 2009, and includes the new proposed regulations which address the IMO 2010 amendments to the STCW Convention and Code.

MERPAC believes sea service should be accepted based on the applicability to the credential being sought rather than for a geographical area. For example, service on a large vessel on the Great Lakes should be deemed equivalent to service on a large vessel on the open ocean.

The Coast Guard agrees and proposes to grant sea service for STCW endorsements as follows: Great Lakes: day-for-day; and inland waters: 2 days of inland service equals 1 day of ocean service. The reason for the difference in service credit is based on the fact that Great Lakes service most closely resembles the length, breadth, equipment, and operation of ocean service.

MERPAC recommends that the medical certificate described in the 2010 amendments should only apply to those required to hold an STCW endorsement, which are valid for 2 years.

The Coast Guard agrees and has included the medical certificate in § 10.301. It will be valid for a 2-year period for those mariners to which STCW applies and for a 5-year period for all other mariners. The sole exception to this is pilots, and their medical certificates will be valid for a 1-year period per the existing requirement. Mariners will need a valid medical certificate to apply for a credential.

MERPAC recommends that all methods for demonstrating competence listed in column three of the tables in Part A of the STCW Code should be accepted, not just training.

The Coast Guard agrees and proposes to amend the requirements in parts 11, 12, and 13 to accept different methods for demonstrating competence in accordance with the STCW competency tables, as appropriate for each competence. This will allow the preservation of the “hawsepipe” path and retain existing career paths.

MERPAC believes the Coast Guard needs to ensure that those implementing these regulations be involved in the process to make sure the new regulations can be implemented.

The Coast Guard agrees; representatives from the National Maritime Center and the Office of Vessel Activities, both of which will carry responsibility for implementing these proposed regulations, have been closely involved in the development of the implementation process for this rulemaking.

MERPAC recommends that the amended STCW Code be used as the base language for the new regulations and amended as needed to fit U.S. needs.

The Coast Guard partially agrees. The Coast Guard has used STCW language for STCW endorsement requirements but has retained the current language for domestic requirements.

MERPAC recommends that the following changes be made to the definitions section of this rulemaking:

In the definition of “assistance towing”, MERPAC feels the addition of “for hire” is not clarifying as intended and should be deleted.

The Coast Guard agrees, and the definition has been revised.

Regarding the definition of “chief mate”, MERPAC expresses concern regarding the two-watch system. MERPAC feels that the language is too specific to large vessels with multiple mates and that many smaller vessels do not actually carry a chief mate, which causes myriad of problems, including truncated career paths. MERPAC recommends removing the new language.

The Coast Guard agrees, and is retaining the existing definition.

MERPAC suggests that the Coast Guard add “competent” to the list of definitions.

The Coast Guard disagrees and believes that the definition of “competent” alone would be redundant, given that we define “competent person”.

Regarding the definition of “competent person”, MERPAC believes all definitions should be spelled out in the CFR part in which the term is used, not referenced to another section.

The Coast Guard agrees and has removed this definition and included the relevant information in part 13.

Regarding the definition of “day”, MERPAC suggests that the policy of issuing 1½-day credit for a 12-hour work day should be extended to all mariners.

The Coast Guard disagrees and sees no reason to revise the definition published in the NPRM, as it already allows for this credit, if appropriate.

MERPAC feels the definition of “designated examiner” should state “observed demonstration of proficiency and other assessments required for MMC's”, and that the Coast Guard should strike the words “training or” and retain the words “of assessment”.

The term “designated examiner” (DE) has been revised and now refers only to the person assessing proficiency aboard towing vessels in a TOAR. The Coast Guard has developed a new term and definition, “qualified assessor” (QA), for assessment of practical demonstration of proficiency on other vessels. The Coast Guard disagrees with the removal of the words “training or” because DEs and QAs often first act as teachers before acting as assessors of a candidate's practical demonstrations.

MERPAC feels that the definition of “domestic voyage” does not allow for voyages from one United States port to another that enter Canadian/Mexican waters. MERPAC believes Great Lakes voyages need to be included here as well.

The Coast Guard disagrees with the comment. The definition of “domestic voyage” is consistent with the application of the STCW near-coastal provisions, which requires that vessels operating in another country's waters meet the STCW requirements. Furthermore, the STCW Convention does not apply to vessels operating in the Great Lakes; therefore, mariners operating in these waters can use the U.S. domestic credential specifically created for this area. It is unnecessary to include Great Lakes voyages in the definition, as this is already a route established on credentials.

MERPAC believes the definitions of “dual mode/ATB” and “dual mode/ITB” do not add clarification about which type of vessel is intended, and suggests that the Coast Guard use industry verbiage.

The Coast Guard agrees, but did not revise the definitions. The Coast Guard is seeking comments on this issue, to include specific suggestions of the proper definitions to be included in the definition.

In the definition of “first assistant engineer”, MERPAC suggests deleting second engineer officer. MERPAC feels that the effort to harmonize domestic and international terminology and standards is only causing more confusion.

The Coast Guard agrees and has made only minor changes to the definition currently in the regulations. The proposed definition for “first assistant engineer” is as follows: “First assistant engineer” means the engineer officer next in rank to the chief engineer and upon whom the responsibility for the mechanical propulsion and the operation of maintenance of the mechanical and electrical installations of the vessel will fall in the event of the incapacity of the chief engineer.” This would change “next in seniority,” as used in the existing definition, to “next in rank.” It would also add responsibility for “the operation of maintenance of the mechanical and electrical installations of the vessel.”

MERPAC believes the definitions of “horsepower” and “propulsion power” should state that the manufacturer's rating of the engine refers to the continuous-rated output.

The Coast Guard agrees and has revised the definition.

MERPAC feels that the Coast Guard has not specified when a credential is “valid” or “invalid”.

The Coast Guard term “invalid credential” is clearly defined in existing text within § 10.107.

MERPAC believes that the term “lifeboatman” should be deleted and that the term “survival craft operator” would be more appropriate. MERPAC believes two levels of “survival craft operator” should be created for all survival craft or limited to those vessels without lifeboats.

The term lifeboatman must be retained because it is mandated in the law at 46 U.S.C. 7316. The Coast Guard is proposing the following domestic endorsements: Lifeboatman; and lifeboatman-limited. The Coast Guard is also proposing two STCW endorsements: Proficiency in survival craft and rescue boats other than fast rescue boats (PSC); and Proficiency in survival craft and rescue boats other than lifeboats and fast rescue boats—limited (PSC—limited).

MERPAC feels that since the term “lower level” is only used to assess fees, the Coast Guard should either delete this term or find a more appropriate, less demeaning term.

The terms “upper level” and “lower level” were used in § 10.219. The Coast Guard has replaced the term “upper level” with the term “unlimited” (which means credentials authorizing service on vessels of any gross tons/unlimited tonnage or unlimited propulsion power). The Coast Guard has also replaced the term “lower level” with the term “limited” (which means credentials authorizing service on vessels of less than 1,600 GRT/3,000 GT).

MERPAC believes the term “management level” means “a level of responsibility within STCW” and should state as much.

The Coast Guard agrees and has revised the definition consistent with this recommendation.

Regarding the term “near-coastal”, MERPAC suggests the Coast Guard add the words “and its possessions” after the words “waters off the United States.”

The Coast Guard agrees and has revised the definition.

MERPAC believes the definition of “operational level” should say “vessel” not “ship” to be inclusive of all vessels affected by STCW. MERPAC feels the Coast Guard should be consistent throughout the document, removing other references to “ship”.

The Coast Guard agrees and has removed references to the term “ship”.

Regarding the definition for “orally assisted examination”, MERPAC believes that only Coast Guard personnel at an REC, approved and trained to administer these tests, should provide an oral exam. MERPAC does not believe the language “by Coast Guard examiner” captures the intent and that it needs to assure that this cannot be interpreted to include “Coast Guard-approved examiner”.

The Coast Guard agrees that special training is needed to properly administer an oral examination, but does not think it necessary to make the suggested revision, as the phrase, “Coast Guard,” is not the same as saying “Coast Guard-approved”.

In the definition for “qualified rating”, MERPAC feels that “lifeboatman” should be noted as an endorsement and should be removed from the definition.

The Coast Guard agrees and has revised the definition.

MERPAC feels that the second sentence in the definition of “QSS” should be removed.

The Coast Guard modified the definition as follows: “QSS means a set of policies, procedures, processes and data required to establish and fulfill the organization's objectives.”

MERPAC suggests revising the definition of “rest” by removing the language regarding administrative tasks.

The Coast Guard disagrees. The language regarding administrative tasks clarifies the definition. This is an existing definition that was transferred from part 15.

MERPAC suggests harmonizing the definition of “seagoing service” with the definition in the STCW Convention.

The Coast Guard agrees and has adopted the STCW definition of seagoing service.

MERPAC believes the Coast Guard should add the words “on file at the Coast Guard” into the definition of “senior company official”.

The Coast Guard disagrees and has removed this language as signatures are no longer kept on file at the Coast Guard.

MERPAC suggests breaking the tables of exam topics into STCW versus applicable to all, or somehow designate with an asterisk to eliminate confusion. MERPAC also suggests that the Coast Guard review the contents for true harmonization with the STCW concepts of operational and management levels.

The Coast Guard agrees in part and has conducted a review of examination topics to ensure they are up to date and reflect both domestic and STCW requirements at both operational and management levels.

MERPAC recommends that the Coast Guard delete the word “ratings” in § 10.109(b) that are endorsements. For example, a lifeboatman is not a person and is not a rating; it is an endorsement applied to a credential held by a person.

The term “rating” in § 10.109 is used to identify a type of endorsement. Every position listed in § 10.109(b) can be independently held; therefore they are endorsements.

MERPAC recommends that the Coast Guard separate the domestic endorsements from the STCW endorsements.

The Coast Guard agrees and has clearly separated the two endorsement schemes to ease the reading of the requirements.

MERPAC recommends that the Coast Guard amend § 10.219(d)(3) to say that cash is no longer accepted, but checks, certified checks, and money orders are accepted.

The Coast Guard agrees that cash payments should not be accepted, but disagrees that checks, certified checks, and money orders should be acceptable methods of payment. Eliminating payment by those means reduces costs and administrative burden, including audit requirements and the necessity for specially trained personnel to handle these types of transactions. Additionally, movement to all-electronic records and payment systems is expected to produce significant efficiency improvements and cost reductions.

MERPAC recommends that in § 10.225(b)(2), the Coast Guard should delete the requirement that applicants provide proof that they have applied for a TWIC within the past 30 days. Proof of holding/applying for a TWIC should be sufficient. MERPAC believes it is not the mariner's fault if the TSA takes longer than 30 days to provide mariners with the document.

The Coast Guard disagrees. The language to hold a valid TWIC is necessary for mariners who may apply for a change in their existing credential. These mariners are already TWIC holders.

MERPAC recommends that, in § 10.225(b)(7), the Coast Guard retain the previous language of “Coast Guard-approved form” when an applicant submits an MMC application. MERPAC believes this will allow mariners to submit other forms as appropriate.

The Coast Guard disagrees, and believes that the specific Coast Guard form, which is the only form accepted by the Coast Guard, should be specified in lieu of the more general verbiage of the current regulation.

MERPAC recommends that, in § 10.227(e)(1)(iv), the Coast Guard add elaborating language to the phrase “position closely related to the operation * * *” for applicants to provide proof of meeting professional requirements for MMC renewals, as the current language is insufficient. MERPAC expresses concern that instructors/examiners as well as port captains/port engineers may not be approved as providing “closely related service”.

The Coast Guard disagrees and feels that the language is adequate as proposed. Individual circumstances will be evaluated on a case-by-case basis.

MERPAC recommends that the Coast Guard clarify § 10.227(g) with regard to Documents of Continuity. Specifically, MERPAC wants to know which document/endorsement goes into continuity. MERPAC believes that the license is in continuity but the STCW certificate/endorsement goes away completely and that domestic endorsements go into continuity, while STCW endorsements do not. However, MERPAC points out, by virtue of the STCW endorsement's relationship with the domestic endorsement, the STCW endorsement will be re-instituted with the domestic endorsement upon application, subject to all other renewal requirements.

The Coast Guard proposes to amend § 10.227(g) to specify that only domestic credentials will be issued for continuity. A new § 10.227(g)(3) will discuss STCW endorsements tied to domestic credentials, which go into continuity. Domestic endorsements go into continuity, while STCW endorsements do not. However, by virtue of the STCW endorsement's relationship with the domestic endorsement, the STCW endorsement will be re-instated with the domestic endorsement upon application, subject to all other renewal requirements.

MERPAC recommends that § 10.235(d) should read, in part, as follows: “* * * will be issued a replacement MMC reflecting the remaining endorsements”.

The Coast Guard disagrees. We have not proposed any changes to this paragraph from the existing text, and we believe that the current language is sufficiently clear.

MERPAC recommends that, in § 10.302(d)(2), the Coast Guard remove the requirement that a course must be offered every 12 months or its approval will expire.

The Coast Guard agrees and has removed this requirement in this SNPRM.

MERPAC believes that clarification is needed in § 10.302(d)(5) and that the Coast Guard should create a new section to address change in management and name change of school, notifying NMC of changes.

The Coast Guard agrees in part, and we propose in this SNPRM to retain the current regulation that a course approval expires when there is an ownership change in the training institution.

MERPAC recommends that, the Coast Guard delete the words “and employers” from the requirement in § 10.302(b)(7)(iii) to complete surveys after completion of approved courses.

The Coast Guard agrees and has removed the proposed requirement that mariners' employers be required to complete course evaluation surveys.

MERPAC recommends that the Coast Guard amend § 10.303(a)(3) to read as follows: “Give written examinations to each student appropriate for the course material and should be equivalent in scope and difficulty of an examination prepared by the Coast Guard based upon the knowledge requirements of the position or endorsement for which the student is being trained.”

The Coast Guard agrees in part and has amended the proposed requirement to clarify that the reference to an examination prepared by the Coast Guard is only for courses that are approved to substitute for a Coast Guard examination for an officer or rating endorsement.

MERPAC recommends that the Coast Guard delete the words “including the substitution of an applicable Coast Guard exam” from § 10.303(a)(9)(iv).

The Coast Guard agrees in part. It was our intent to limit this provision to courses approved to substitute for a Coast Guard exam, and we have revised the wording of this requirement to make this more apparent.

MERPAC recommends that the Coast Guard delete § 10.303(b)(1)(vii), which requires that course providers assist students in the preparation of their Coast Guard MMC applications.

The Coast Guard agrees and has deleted that language from § 10.303(b).

MERPAC recommends that the Coast Guard amend § 10.304(b) as it conflicts with current practice and needs to be corrected. MERPAC believes there are exceptions to the statement that recency requirements may not be achieved by service granted as a result of successful completion of approved training or by training on a simulator. For example, applicants for renewal of their tankerman-PIC endorsements can take a course in lieu of service to satisfy recency requirements.

The Coast Guard agrees that there are some exceptions to the requirement and has amended this section accordingly.

MERPAC recommends that the Coast Guard delete § 10.304(c) which states, “Unless otherwise allowed, training obtained before receiving an endorsement may not be used for subsequent raises of grade, increases in scope, or renewals.”

The Coast Guard disagrees and has retained the proposed language. There are some exceptions to the statement, including establishing continued professional competence by means of training.

MERPAC feels that the requirements put forth in § 10.304(d)(2) and (3) are redundant with the STCW Code and should be deleted. MERPAC believes the Coast Guard should insert language that says the training record book will cover the knowledge, training, and proficiency in accordance with Part A of the STCW Code.

The Coast Guard disagrees. The training record book should be used to document training and assessment which will be performed on board a vessel. It is expected that not all training and assessment will be conducted onboard, therefore there is a need to differentiate between what is conducted on board and what is conducted ashore.

MERPAC recommends that the Coast Guard revise § 10.304, and suggests an entire rewrite of the proposed section.

In this SNPRM, the Coast Guard has utilized some of MERPAC's recommendations in revising § 10.404 of the NPRM.

MERPAC feels that the language in § 11.213 is too restrictive and does not give credit that is needed to allow military officers to utilize quality training and sea service. MERPAC recommends that the Coast Guard develop an equivalency table for military personnel to demonstrate equivalent service. The table, MERPAC believes, will need to be sufficiently detailed to establish job tasks and actual underway time for application.

The Coast Guard agrees that the language in the NPRM is too restrictive and has retained the existing text. The provisions for “sea service as a member of the armed forces” were moved to proposed § 10.232. However, the Coast Guard disagrees that there is a need for a table showing equivalencies for military personnel because they are subject to the same STCW requirements set out in 46 CFR parts 11 and 12.

MERPAC recommends that the Coast Guard delete the term “practical” from § 11.401(i), which requires that, “An applicant for his or her first deck officer endorsement authorizing service on vessels of 200 GRT/500 GT or more on ocean or near-coastal waters must pass a practical signaling examination (flashing light).”

In this SNPRM, we are proposing that mariners demonstrate their competence in practical signaling by completing a Coast Guard approved course. This change is consistent with the STCW Code, which specifies practical instruction as the only acceptable method of demonstrating competence.

MERPAC recommends that in § 11.407(a)(1), “seagoing” vessels should be deleted, because the language in this provision does not meet the language of the STCW Code. MERPAC believes it also exceeds the requirement of the STCW Code that requires 6 months of bridge watchkeeping duties. MERPAC also recommends that the Coast Guard delete the requirement of 6 months of service while holding an A/B endorsement or hold the rating of RFPNW.

The Coast Guard agrees and has amended the text accordingly. The Coast Guard separated the domestic and STCW licensing schemes into separate requirements. The STCW requirements are in the § 11.300 series and the domestic officer endorsements are in the § 11.400 series.

MERPAC recommends that OUPV applicants serving in the near vicinity of Puerto Rico, as stated in § 11.467(g) should be required to know standard maritime phrases and communications in English.

The Coast Guard disagrees. OUPVs are not required to meet the requirements of STCW and would not be required to meet the IMO Standard Marine Communication Phrases, which is found in the requirements in the STCW Code and was adopted by the 22d IMO Assembly in November 2001.

MERPAC feels there is an error in Figure 11.505(a) and suggests the Coast Guard add a path from DDE and assistant engineer into ships of 3,000 kW/4,000 HP. MERPAC also suggests adding a path into ships of 7,500 kW/10,000 HP and to invoke Article IX of the STCW Convention to resolve career path problems.

The STCW endorsements have been separated from the domestic endorsements in this SNPRM, and a table of entry paths is provided for each of the five STCW engineering levels. The 7,500 kW/10,000 HP domestic endorsement has been removed. Figure 11.505(a) is revised to reflect these changes.

MERPAC feels § 11.507 is too detailed.

The Coast Guard has removed the subject list from § 11.507 and now references the appropriate section of the STCW Code.

MERPAC believes there should be consistency and a harmonization of standards between deck and engine requirements that does not currently exist.

The Coast Guard has separated STCW and domestic endorsements and has harmonized the language with the STCW Convention. Deck and engine endorsements, while not completely identical, have been harmonized as far as practicable to ensure consistency.

MERPAC feels that § 11.520 needs some reference to non-STCW endorsements.

The STCW endorsements have been separated from the domestic endorsements in this SNPRM.

MERPAC recommends that § 11.551 be clarified in the preamble on the intent of meeting the language of § 11.553(b).

The Coast Guard has revised the sections on OSV endorsements to allow for the use of the various methods for meeting the STCW standard of competence for both STCW and domestic endorsements.

MERPAC recommends that the Coast Guard delete the words, “through practical demonstration of professional skills” from § 11.901(c), which deals with subjects of examinations and practical demonstrations of competence.

The Coast Guard agrees and has made this revision.

MERPAC recommends that the Coast Guard add requirements for all classifications of A/B endorsements listed in the U.S. Code.

The Coast Guard agrees and this SNPRM proposes to amend Part 12 to include all A/B endorsements included in the U.S. Code.

MERPAC recommends that the Coast Guard delete the term “survivalman” from § 12.412(f), which discusses general requirements for able seaman endorsements.

The Coast Guard has withdrawn its proposed use of the term “survivalman” and substitutes, in its place, lifeboatman-limited for the domestic endorsement. Regarding the STCW endorsement, the Coast Guard is proposing to use the term proficiency in survival craft and rescue boats other than lifeboats and fast rescue boats—limited (PSC—limited), to ensure consistency with the Convention.

MERPAC feels that, in § 12.420, the Coast Guard is imposing difficulties on applicants by requiring service to be only on seagoing vessels.

The Coast Guard agrees and proposes to grant sea service on other than ocean waters for STCW endorsements as follows: Great Lakes: Day-for-Day; and inland waters: 2 days of inland service equals 1 day of ocean service. The reason for the difference in service credit is based on the fact that Great Lakes service most closely resembles the length, breadth, equipment, and operation of ocean service.

MERPAC suggests that, in § 12.420, the term “seagoing service” needs clarification. MERPAC recommends that it should be re-phrased to read “service onboard a ship relevant to the issue of a certificate or other qualification.”

The Coast Guard agrees and has revised the definition in § 10.107.

MERPAC recommends that § 12.420(c)(1)(ii) be deleted. MERPAC notes that this section requires at least one-half of the required experience (to obtain RFPNW certification) be obtained on vessels of at least 200 GRT/500 GT.

The Coast Guard has amended this section and is adopting the STCW language for seagoing service.

MERPAC recommends that the number of abandon ship drills required in § 12.610 be reduced, as 24 is excessive.

The Coast Guard agrees and has removed the requirement from this SNPRM because weekly abandon ship drills are built into the sea service requirements.

MERPAC recommends that the Coast Guard delete § 12.610(c)(2), which requires participation in abandon ship drills that must include the boat being placed in the water and being exercised in all means of propulsion.

The Coast Guard agrees and has removed this requirement from the SNPRM.

MERPAC recommends that the Coast Guard delete § 12.620(c), which requires participation in drills that must include a fast rescue boat being placed in the water and the applicant performing man-overboard recovery drills.

The Coast Guard agrees and has removed the requirement from the SNPRM.

MERPAC recommends that the Coast Guard delete § 12.630(c)(2), which requires participation in rescue boat, liferaft, or other drills involving lifesaving apparatus, and include a rescue boat being placed in the water and the mariner being exercised in rescue boat drills.

The Coast Guard agrees and has removed the requirement from the SNPRM because weekly abandon ship drills are built into the sea service requirements.

MERPAC believes that § 12.630(d) should read “course/program * * * that includes a prescribed period of sea service and BST”.

The Coast Guard is proposing to separate the domestic requirements for lifeboatman endorsements (found in §§ 12.407 and 12.409) from the STCW requirements for proficiency in survival craft endorsements (found in §§ 12.613 and 12.615). The Coast Guard partially agrees with the inclusion of the word “course” and has amended § 12.409 accordingly to replace the word “program” with “course”. The Coast Guard agrees with the inclusion of the BST element in the requirements for the STCW endorsement and has amended § 12.615 accordingly.

MERPAC recommends that steward department should be added as an additional rating in § 12.704.

The Coast Guard agrees and has amended § 12.704 accordingly.

MERPAC recommends that the text of §§ 15.1103(b), 15.403(c), and 15.404(a), read as follows: “All require a person serving as RFPNW to hold an STCW endorsement attesting to his or her qualifications to perform those functions. Those qualifications require 6 months of service, which can be reduced to a minimum of 60 days if the person has completed an approved course.”

The Coast Guard disagrees. Qualifications for RFPNW are found in § 12.605, and it is not appropriate to put them in part 15, which consists of manning requirements.

MERPAC notes that, adding to the barriers created by the STCW standards are interpretations imposed by the Coast Guard in Policy Letter 14-02 (which would be codified in proposed § 12.420) that require at least one-half the sea time to be on vessels of at least 200 GRT/500 GT. Beyond that, MERPAC believes the assessments for helm commands must now be performed on vessels of at least 100 GRT. These provisions mean that individuals who already have considerable experience on smaller vessels cannot use their service to qualify as RFPNW and apply for positions on larger vessels. Because qualifying service must be on seagoing vessels, mariners from the inland segment of the U.S. merchant marine are denied the opportunity to move offshore without having to go through the convoluted qualification process. STCW states in Chapter I under definitions that “Seagoing service means service on board a ship relevant to the issue of a certificate or other qualification”. Thus, according to MERPAC, it is clear that the Administration can decide what is or is not relevant. MERPAC says its members have seen too many careers thwarted or never started due to the interpretations and language used. Many other countries provide liberal interpretations and thus promote seagoing opportunities and careers. Recognizing the difficulties presented by these provisions and other aspects of the 1995 amendments, the Secretary of Transportation at the time of the implementation of the current regulations declared that the Coast Guard would utilize the flexibility afforded by the Convention to mitigate some of the adverse effects. To that end, the Coast Guard stated that tonnages in the Convention would be applied as gross register tonnage for vessels in U.S. domestic service. MERPAC notes that the “trigger tonnage” of 500 gross tonnage for applicability of Regulation II/4 was to be interpreted as 500 GRT, citing a 1999 letter from the Chief of Marine Personnel, which states:

* * * vessels of not more than 500 gross register tons on near coastal, domestic voyages will not be required to have seamen qualified as ratings forming part of a navigational watch because that STCW rating does not apply to vessels of less than 500 gross tons.

In view of the above, MERPAC recommends that the Coast Guard honor the agreement reached in 1999 and make the requirements for RFPNW applicable to vessels over 500 GRT/1,200 GT in domestic service. Vessels in international service will be bound by the STCW standard set at 200 GRT/500 GT.

The Coast Guard recognizes that the regulations and policies implementing the STCW requirements have been the subject of different interpretations, and is therefore issuing this SNPRM to ensure clarity of the regulations. This SNPRM proposes a new approach to implement the STCW Convention requirements. The SNPRM proposes to allow different methods for demonstrating competence as permitted by the STCW and appropriate to each individual competence.

Also, the Coast Guard proposes to grant sea service on other than ocean waters for STCW endorsements as follows: Those serving on Great Lakes waters will receive day-for-day credit. Those serving on inland waters will receive 1 day of ocean service credit for every 2 days of service.

Also, in order to align the regulations with the intent of the STCW Convention, we have adopted the STCW definition of “seagoing service.”

With regard to the recommendation that the Coast Guard make the requirements for RFPNW applicable to vessels over 200 GRT/500 GT in domestic service, the Convention is clear in its application as it is stated in Regulation II/4, paragraph 1—“Every rating forming part of a navigational watch on a seagoing ship of 500 gross tonnage or more* * *”. Therefore, the Coast Guard must apply the requirements for RFPNW endorsements to service on vessels of 200 GRT or more.

MERPAC recommends that § 12.420(c)(ii) be deleted, that the assessment of helm commands be permitted on any vessel of more than 50 GRT, and that service on inland waters be acceptable to qualify for an assessment.

The Coast Guard agrees and has amended the requirements accordingly for an applicant for an endorsement as RFPNW. The RFPNW requirements in this SNPRM are contained in § 12.605.

MERPAC recommends that, in § 15.405, the term “crewmember” be deleted and that the term “credentialed crewmember” be used in its place.

The Coast Guard is retaining the existing text with some minor amendments. The existing text uses the term “credentialed,” and it is being retained in this SNPRM.

MERPAC recommends that, in § 15.530(a), the Coast Guard add language to ensure that the citation stays current by amending the paragraph as follows: “ILO Convention or subsequent convention* * *” MERPAC believes there must be a means of referencing the latest amendments to the Coast Guard's version of such international conventions without going through a laborious rulemaking processes.

By regulation, an incorporation by reference cannot incorporate successors to it. 1 CFR 51.1, which regulates how references are incorporated into regulations, states that incorporations by reference are limited to the edition of a publication that is approved for incorporation. It explicitly states, “Future amendments or revisions of the publication are not included.”

MERPAC recommends that, in § 15.805(a)(5), the Coast Guard replace the phrase “under the command of” with the phrase “command as Master”.

The Coast Guard disagrees. Subparagraph (5) must be read in conjunction with paragraph (a), which states that a master with the appropriate endorsement must be in command.

MERPAC recommends that, in § 15.815, the Coast Guard clarify the term “valid” endorsement for radar. MERPAC also believes that a school should be able to send proof of course completion.

The Coast Guard is retaining the existing text and adding a new paragraph to clarify the term “readily available”. It is the responsibility of the mariner or his or her company to make the certificate of training available to the Coast Guard. The text does not prevent the mariner or company from obtaining the document from the school.

MERPAC recommends that the Coast Guard delete § 15.1101(c) that states that “A vessel with a valid Safety Management Certificate and a copy of a Document of Compliance issued for that vessel under 46 U.S.C. 3205 is presumed to comply with the STCW Convention.”

The Coast Guard agrees and proposes to remove this section.

MERPAC recommends that, in § 15.1111, the Coast Guard change the title to read “Rest Periods”, and that the Coast Guard should delete the words “Work hours” from the title as work hours are already addressed in § 15.701.

The Coast Guard disagrees, as this section addresses both work and rest periods.

MERPAC asks if, in § 15.1105, it is the master's obligation to check competency.

Section 15.1105 states that “no person may assign any person to perform shipboard duties* * * and no person may perform those duties, unless the person performing them has received training, sufficient familiarization, or instruction.” Ultimately, the master is the person responsible for ensuring that the person performing these duties has received the necessary training, sufficient familiarization, and instruction.

MERPAC recommends that, in § 15.1105(b)(2), the Coast Guard change the phrase “relevant to his or her routine or emergency duties or responsibilities” to “relevant to his or her routine and emergency duties or responsibilities.”

The Coast Guard agrees and has made this change.

MERPAC recommends that the Coast Guard amend the title of part 10, subpart C to “Approved courses and programs.”

The Coast Guard partially agrees and has amended the text to read “Training courses and programs.” It would be inappropriate to use “approved” in the title since the Subpart also includes requirements for “Coast Guard-accepted courses.”

MERPAC recommends certain topics for the operational level in the 7,500 kW/10,000 HP category be added.

The 7,500 kW/10,000 HP domestic endorsement has been removed in this SNPRM.

MERPAC recommends that certain changes to the topic list be made for the engineering management level in § 11.511.

The specific list for these endorsements has been removed and now references the appropriate section in the STCW Code.

MERPAC recommends specific qualification standards for the various levels of domestic engineering endorsements of 7,500 kW/10,000 HP.

The 7,500 kW/10,000 HP domestic endorsement has been removed in this SNPRM.

MERPAC recommends three conversion provisions for persons holding chief engineer-limited oceans, chief engineer-limited near-coastal, and DDE unlimited horsepower to the proposed 7,500 kW/10,000 HP endorsements.

The 7,500 kW/10,000 HP domestic endorsement has been removed in this SNPRM.

The Coast Guard received comments in the following areas that address subjects beyond the scope of the revisions proposed in the NPRM. The Coast Guard does not discuss these comments in detail: Increasing user fees for oral examinations; Definition of “invalid credential;” Medical NVIC; Medical examination forms/requirements; Developing minimum standards for qualification; requirements for approved instructors; VSO course requirements; Adding tonnage to endorsements; language on COIs, Safety Management Certificates and SOLAS Passenger Safety Certificates; MMC issues (consolidating the MMC); Marine Safety Manual issues; TWIC issues; specific course content; and manning requirements.

VIII. Incorporation by Reference

Material proposed for incorporation by reference appears in §§ 10.103, 11.102, 12.103, 13.103, and 15.103. You may inspect this material at U.S. Coast Guard Headquarters where indicated under ADDRESSES. Copies of the material are available from the sources listed in §§ 10.103, 11.102, 12.103, 13.103, and 15.103.

Before publishing a binding rule, we will submit this material to the Director of the Federal Register for approval of the incorporation by reference.

IX. Regulatory Analyses

We developed this proposed rule after considering numerous statutes and executive orders related to rulemaking. Below we summarize our analyses based on 13 of these statutes or executive orders.

A. Regulatory Planning and Review

This proposed rule is a “significant regulatory action” under section 3(f) of Executive Order 12866, Regulatory Planning and Review, and requires an assessment of potential costs and benefits under section 6(a)(3) of that Order. The Office of Management and Budget has reviewed it under that Order.

A combined “Preliminary Regulatory Analysis and Initial Regulatory Flexibility Analysis” report is available in the docket as indicated under the ADDRESSES section of this preamble. A summary of the report follows:

This proposed rule would ensure that U.S. mariners comply with the standards set forth in the STCW Convention and Code. This proposed rule would implement all amendments under the Convention, including the 2010 amendments previously discussed. In addition, the Coast Guard is issuing the SNPRM to respond to the comments, feedback, and concerns received from the public as a result of the NPRM. In order to address those comments and concerns, the SNPRM would simplify domestic licensing requirements and separate them from STCW requirements; provide alternative means for demonstrating competence; clarify oversight requirements for approved courses; amend lifeboatmen requirements; and allow for acceptance of sea service on vessels serving the Great Lakes and inland waters to meet STCW requirements (see “Discussion of Proposed Rule” for additional details).

The changes in this SNPRM that result in additional impacts involve the following categories of provisions:

(1) Medical Examinations and Endorsements—The medical certificate would be reduced from a maximum period of validity of 5 years to 2 years for mariners serving on board STCW vessels in accordance with the 2010 amendments to the STCW Convention.

(2) Leadership and Managerial Skills—The proposed rule would require leadership and managerial skills for the management-level credential in accordance with the 2010 amendments to the STCW Convention.

(3) Engine Room Resource Management (ERM)—The proposed rule would require ERM training for engineers seeking operational-level credential, and leadership and managerial skills for the management-level credential in accordance with the 2010 amendments to the STCW Convention.

(4) Tankerman Endorsements—The proposed rule would add new STCW endorsements for basic and advanced oil and chemical tanker cargo operations, and for basic and advanced liquefied gas tanker cargo operations, in accordance with the STCW 2010 amendments.

(5) Safety Refresher Training Requirements—The proposed rule would require safety refresher training for all STCW-endorsed mariners holding a credential in Basic Safety Training (BST), Advanced Firefighting, Proficiency in Survival Craft and Rescue Boats Other than Fast Rescue Boats (PSC), or Proficiency in Fast Rescue Boats every 5 years, in accordance with the 2010 amendments to the STCW Convention and Code.

(6) Able Seafarer deck and engine—The proposed rule would require that personnel serving on STCW vessels as able seafarer meet the requirements for certification in order to comply with the STCW 2010 amendments.

Costs

We estimate that this proposed rule would affect approximately 60,000 affected mariners and 316 owners and operators of 1,044 vessels with additional costs. Each of the proposed requirements would affect a different subset of these mariner and owner/operator populations. We used Coast Guard's data on mariners, publicly available information on training costs and mariner wages, and other available industry information to develop the estimates of potential costs to affected mariners and to the owners and operators employing affected mariners for each proposed requirement.

This proposed rule would also affect approximately 141 STCW training providers by requiring them to implement a quality standards system (QSS) and write and maintain a QSS manual; be subject to internal and external audit requirements of each Coast Guard-approved course, and extend the time period for which they must keep a paper or electronic record on each student completing a course.

The costs of the SNPRM are presented in Table 1. We estimate the total present value cost over the 10-year period of analysis to be $230.7 million at a 7 percent discount rate ($274.3 million at a 3 percent discount rate). Over the same 10-year period of analysis, we estimate the annualized costs to be about $32.8 million at a 7 percent discount rate ($32.2 million at a 3 percent discount rate).

Table 1—Summary of Present Value Costs of Proposed Rule
[$Millions]
Year | Discount rate: 7% | Discount rate: 3%
1 | $18.8 | $19.5
2 | 39.0 | 42.1
3 | 36.4 | 40.8
4 | 34.0 | 39.7
5 | 31.8 | 38.5
6 | 29.8 | 37.4
7 | 11.3 | 14.7
8 | 10.6 | 14.3
9 | 9.9 | 13.8
10 | 9.2 | 13.4
Total* | 230.7 | 274.3
Annualized | 32.8 | 32.2
* Totals may not sum due to rounding.

We estimate the mariner training requirements are the primary cost driver throughout the 10-year period of analysis. See Table 2 for a summary of annualized costs by requirement category.

Table 2—Summary of the Annualized Costs of the Proposed Rule
[$Millions]
Category | Annualized*: 7% | Annualized*: 3%
Mariner Training** | $27.06 | $26.40
2-Year Medical Examination | 3.99 | 3.99
Sea Service | 1.04 | 1.04
Training Providers | 0.74 | 0.72
Total | 32.83 | 32.15
** Includes changes for officer, engineer and rating endorsements.

The proposed changes to mariner training make up about 82% of the costs throughout the 10-year period of analysis. Table 3 below presents a summary of the costs by requirement as a percentage of the total annualized costs of the proposed rule.

Table 3—Summary of Costs by Requirement of the Proposed Rule
[As a percentage of annualized cost]
Requirements | Annualized cost %
Mariner Training | 82
2-Year Medical Examination | 13
Sea Service | 3
Training Providers | 2
Total | 100

We believe that the training costs discussed above would likely be high estimates as the SNPRM provides flexibility in choosing alternative methods if these are more cost effective to the mariners, owners and operators (see the “Economic comments—training requirements” section for more detail).

In the absence of additional information, such as the choice of alternative methods by company size and time differences to complete one alternative compared to another, we estimate potential regulatory compliance costs by assuming that mariners and their employers would fulfill these requirements through classroom training. This results in upper-bound monetized costs for these training provisions.

Benefits

This SNPRM would implement all amendments to the STCW and ensure that the U.S. is meeting its obligations under the STCW Convention. The STCW Convention sets the standards of competence for mariners internationally, bringing U.S. mariners in line with training, certification and medical standards developed by the International Maritime Organization (IMO). In addition to the primary benefit of improving marine safety and a decrease in the risk of shipping accidents, additional benefits of this SNPRM are expected to accrue to the U.S. economy in the form of: (1) Preventing and mitigating accidents on STCW Convention-compliant foreign vessels in U.S. waters; (2) Maintaining U.S. status on the “White List” and avoiding the detention of U.S. vessels in foreign ports due to non-compliance with the STCW Convention; (3) Ensuring U.S. mariners can compete in the global workforce market; and (4) Providing consistent international performance standards based on international consensus and IMO convention, which minimizes variation in standards of training and watchkeeping.

One benefit of the proposed rule is an increase in vessel safety and a resulting decrease in the risk of shipping casualties. According to one study on the Review and Analysis of Accident Databases by the American Bureau of Shipping (ABS), the human element is involved in 80 percent of shipping casualties, with 45 percent of the casualties primarily due to human error, and another 35 percent in which humans failed to adequately respond.²

² Clifford C. Baker and Denise B. McCafferty. 2004. ABS Review and Analysis of Accident Databases. American Bureau of Shipping. Accessed at http://www.slc.ca.gov/Division_Pages/MFD/Prevention_First/Documents/2004/Human%20and%20Organizational%20Factors/McCafferty%20paper.pdf.

The proposed rule seeks to decrease human error and improve responsiveness through a three pronged approach—increased training and service requirements, consistency of training, and enhanced medical evaluation and reporting.

Lack of mariner competence in situational awareness and assessment are primary causes of human error. The enhanced competency and service requirements of the STCW Convention are expected to increase mariners' situational awareness and situational assessment. Mariners are also expected to be able to better respond to potential hazards.

The requirements for training providers to develop and follow a quality standard system help to ensure that the STCW training given to mariners is of consistent quality. Unidentified medical conditions can also impair a mariner's ability to perform tasks and respond, thus contributing to the human element of casualties. The proposed rule would require more frequent medical exams for STCW mariners, thus reducing the potential impacts of medical conditions on human error. In combination, the provisions of the proposed rule are expected to reduce potential for vessels accidents, both those with small and large consequences.

Based on data and information from the Coast Guard's Marine Information for Safety and Law Enforcement (MISLE) database system, between 2002 and 2009, there were an average of 11 fatalities and 126 injuries (ranging in severity) per year on U.S. flag SOLAS vessels that are the baseline damages that could be prevented or mitigated by this rulemaking. Likewise, pollution from incidents involving U.S. flag SOLAS vessels resulted in an annual average of 285,152 gallons of oil spilled per year that are the baseline damages that could be prevented or otherwise mitigated by this rulemaking. Table 4 summarizes the annual damages associated with fatalities, injuries, and oil spills for U.S. flag SOLAS vessels.

These estimates do not include quantified measures of secondary impacts that result from vessel accidents.

Table 4—Annual Baseline of Fatalities, Industries, Oil Spills, and Property Damage
[2002-2009]
Impact | SOLAS
Fatalities | 11.
Injuries | 126.
Oil Spills | 169.
Amount of Oil Spilled | 285,152 gallons.
Property Damage | $25.7 million.
Congestion and Delays | Not quantified.

The training, sea service and QSS provisions of the proposed rule would most likely reduce the risk of accident-related consequences such as fatalities, injuries, and pollution. Estimating the precise reduction in risk from improved training and sea service requirements is difficult given existing information. We found limited information on how STCW, or other competency-based marine transportation training, quantitatively increases marine safety by reducing the risk of accidents.

We did find research conducted for other industries on the impact of training programs on outcomes and behaviors. This research found a wide range of potential reductions in risk: from a low of no impact to a high of approximately 87 percent. See the “Regulatory Analysis and Initial Regulatory Flexibility Analysis” report available on the docket for more information.

If the annual costs of $28.1 million we estimate for the cost of training and sea service requirements (exclusive of the QSS training provider requirements) are compared against the accident-related baseline damages for SOLAS vessels including fatalities, injuries, property damage and oil spilled, the proposed rule would have to reduce damages by 23.5 percent to reach break even. If fatalities only are included, the proposed rule would need to prevent approximately 4.6 fatalities per year to break even, out of about 11 total fatalities per year on SOLAS vessels. Accident-related fatalities represent approximately 20 percent of the total baseline damages.

The annualized cost of the training and sea service requirements (exclusive of the QSS training provider requirements) is approximately $28.1 million per year at a 7 percent discount rate (See Table 2 for a summary of annualized costs by requirement category). Based on the distribution of potential risk reduction derived from the studies described above applied to the baseline consequences of accident-related damages for U.S.-flagged, SOLAS vessels, we estimate the discounted, annualized benefits of the proposed rule could be about $24.3 million, with a range of $23.7 million to $29.4 million.

The medical examination requirements will also reduce risk— both for fatalities due to medical conditions and for the accident-related fatalities and oil spills. The incapacitation of mariners on vessels due to some medical and/or physical conditions causes public safety risks.

Data from the trucking industry indicates that certain medical conditions can increase the risk of accidents. For example, truck drivers with diabetes have a 19 percent higher risk of causing an accident. Similarly, drivers with cardio-vascular disease have a 43 percent greater risk of causing an accident.³

³ Source: Final Rule Regulatory Evaluation, “Medical Certification Requirements as Part of the Commercial Driver's License”, Final Rule, Federal Motor Carrier Safety Administration, July 2008 (FMCSA-1997-2210-0211.1).

The more frequent medical exams can help ensure that medical conditions that could impair performance and increase the risk of an incident are identified and treated earlier, thus reducing the symptoms and side-effects that could cause decreased performance and increased risk of accidents.

The annual costs of the medical-related requirements are approximately $3.99 million at a 7 percent discount rate. If we compare this cost with the value of the 5 fatalities related to medical conditions, the proposed rule would need to result in a 12.7 percent reduction in risk to break even.

To summarize, we estimate the monetized annualized costs of the proposed rule to be about $32.8 million (at a 7 percent discount rate). However, we believe that this may likely be a high cost estimate as the SNPRM provides flexibility in choosing alternative methods of demonstrating competency if these are more cost effective to the mariners, owners and operators.

We considered four alternatives to this proposed rule:

• Alternative 1: Maintain the current STCW Convention interim rule

• Alternative 2: Implement the NPRM Proposed Requirements

• Alternative 3: Implement the SNPRM STCW-Related Proposed Requirements Only

• Alternative 4: Implement NPRM with Separate Rulemaking for 2010 STCW Amendments

The first alternative is not feasible as it would not meet all U.S. responsibilities as a party to the Convention. The second alternative would partially meet U.S. responsibility, but would not implement the 2010 STCW amendments. The third alternative would meet the U.S. responsibilities under the STCW Convention, but would not provide clarifications and modification to domestic endorsements. The fourth alternative might not meet U.S. STCW responsibilities if the time and resources of a separate rulemaking extend beyond the deadline. Furthermore, Alternative 4 may not be efficient, as it would require multiple rulemaking efforts that amend the same requirements.

The “Preliminary Regulatory Analysis and Initial Regulatory Flexibility Analysis” report available on the docket provides additional detail on the alternatives, costs, and benefits of this rulemaking.

At this time, based on available information, we expect that this rulemaking would not be economically significant under Executive Order 12866 (e.g., have an annual effect on the economy of $100 million or more). The Coast Guard urges interested parties to submit comments that specifically address the economic impacts of this rulemaking. Comments can be made as indicated in the ADDRESSES section.

B. Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

An initial regulatory flexibility analysis (IRFA) discussing the impact of this proposed rule on small entities is included within the preliminary Regulatory Analysis document and is available in the docket where indicated under the ADDRESSES section of this preamble. A summary of the analysis follows:

The proposed rule would directly regulate mariners and training providers. Individuals, such as the mariners regulated by this rule are not small entities under the definition of a small entity in the Regulatory Flexibility Act (RFA).

The proposed rule includes audit and quality system requirements for training providers. Based on the Coast Guard data, approximately 84 percent of the STCW training providers that are affected by this proposed rule are small by the (SBA) size standards.

While we do not expect training providers to offer new training programs unless it is beneficial to their business model, we have estimated the impact of the proposed rule to training providers as if they would not pass any of their costs to mariners. Therefore, the revenue impacts to the small training providers discussed below may be overestimates.

We found that this proposed rule would have a significant economic impact (more than 1 percent impact on revenue) on 67 percent of small training providers in the first year. After the first year, we found that the proposed rule would have a significant economic impact on 40 percent of small training providers.

As previously discussed in the “Economic comments—training requirements” section, we received comments about costs for STCW training requirements that are absorbed not by mariners, but their employers. The proposed rule does not directly require companies or maritime employers to pay for the proposed training requirements for affected mariners. However, we acknowledge that some marine employers fund training and might be indirectly impacted. In recognition of this possibility, we have modified the analysis of impacts on small entities in the Initial Regulatory Flexibility Analysis to include a sensitivity analysis showing the impact of additional training costs on employers of mariners.

Based on this sensitivity analysis, we found that about 80 percent of the vessel owners and operators affected by this rule would be small entities under the Regulatory Flexibility Act and the Small Business Administration (SBA) size standards. We estimate that the proposed rule would have a more than 1 percent cost impact on annual revenue for 69 to 83 percent of the small vessel owners and operators affected by this rulemaking, depending on the year.

However, under the SNPRM, the Coast Guard would accept various, flexible methods for demonstrating competence that would reduce the costs of training requirements proposed in the November 17, 2009 NPRM, a potential cost relief to maritime employers that fund training.

We are interested in the potential impacts from this proposed rule on small businesses and we request public comment on these potential impacts. If you think that your business, organization, or governmental jurisdiction qualifies as a small entity and that this rulemaking would have a significant economic impact on it, please submit a comment to the Docket Management Facility at the address under ADDRESSES. In your comment, explain why you think it qualifies and how and to what degree this rule would economically affect it.

C. Assistance for Small Entities

Under section 213(a) of the Small Business Regulatory Enforcement Fairness Act of 1996 (Pub. L. 104-121), we want to assist small entities in understanding this proposed rule so that they can better evaluate its effects on them and participate in the rulemaking. If the proposed rule would affect your small business, organization, or governmental jurisdiction and you have questions concerning its provisions or options for compliance, please consult Ms. Zoe Goss, Maritime Personnel Qualifications Division, Coast Guard; telephone 202-372-1425. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This proposed rule would call for modifications to collections of information under the Paperwork Reduction Act of 1995 (44 U.S.C. 3501-3520). It would modify two existing Office of Management and Budget (OMB) Collection of Information: OMB Control Number 1625-0028, “Course Approvals for Merchant Marine Training Schools”; and, OMB Control Number 1625-0079, “Standards of Training, Certification and Watchkeeping for Seafarers (STCW), 1995 and 1997 Amendments to the International Convention”.

As defined in 5 CFR 1320.3(c), “collection of information” comprises reporting, recordkeeping, monitoring, posting, labeling, and other, similar actions. The title and description of the information collections, a description of those who must collect the information, and an estimate of the total annual burden follow. The estimate covers the time for reviewing instructions, searching existing sources of data, gathering and maintaining the data needed, and completing and reviewing the collection.

This proposed rule would add to recordkeeping requirements of training providers and credentialed merchant mariners.

Title: Course Approval and Records for Merchant Mariner Training Schools.

OMB Control Number: 1625-0028

Title 46 United States Code (U.S.C.) 7315 authorizes a license or document applicant to substitute the completion of an approved course for a portion of the required sea service. Title 46 Code of Federal Regulations (CFR) 10.402 specifies the information that must be submitted for the Coast Guard to evaluate and approve each course. Title 46 Code of Federal Regulations (CFR) 10.403 specifies recordkeeping requirements that a school teaching approved courses must meet for each student taking each course.

Under the proposed rule, training providers that teach STCW Convention courses would: (1) Develop and maintain a QSS, including writing and maintaining a QSS manual; (2) Undergo an internal audit and undergo an external audit every 5 years and keep the audit records for Coast Guard inspection as needed; and (3) Store student course records for an additional 4 years.

Since training providers are currently required to store student records for 1 year and many of them store records for several years more, the burden of the new requirement that would extend recordkeeping from 1 year to 5 years is small.

Summary of the Collection of Information: A licensed mariner is authorized to substitute the completion of an approved course for a portion of the required sea service. Training providers must submit specific information to the Coast Guard to evaluate and approve each course.

The proposed rule would require training providers to write and maintain a QSS manual and arrange two internal audits of STCW Convention courses within 5 years.

Need for Information: The information is necessary to show evidence that training providers meet the quality, minimum standard and recordkeeping requirements of each STCW Convention course as established by the International Maritime Organization (IMO).

Proposed Use of Information: The Coast Guard would use this information to document that the training level of mariners meets international requirements.

Description of the Respondents: The respondents are the mariner training schools that would be required to complete form CG-719B.

Number of Respondents: According to the US Coast Guard national Maritime Center (NMC), there are approximately 285 training schools. However, only 141 training providers teach STCW courses. The number of respondents is 141 STCW training providers in the first year and recurring annually.

Frequency of Response: Respondents are required to write a QSS manual in the first year and modify it as needed. They would also arrange internal audits on their STCW courses every two and a half years.

Burden of Response: Writing a QSS manual would take a training provider approximately 206 hours in the first year (205 hours for reporting and 1 hour for recordkeeping), and modifying it would take 9 hours every year (8 hours for reporting and 1 hour recordkeeping). We estimate that it would take 10 hours for each respondent to complete an internal audit twice every 5 years (9 hours for reporting and 1 hour for recordkeeping.

Estimate of Total Annual Burden: The existing OMB-approved total annual burden, as adjusted in January 2009, is 97,260 hours. This rule would increase the burden for 141 training providers by approximately 225 hours each. The total additional hours requested for this rulemaking is 31,725 [141 × (206 + 9 +10)]. The new annual burden for the first year is 29,046 hours and about 1,833 hours each year after the first year.

Title: Standards of Training, Certification and Watchkeeping for Seafarers (STCW), 1995 and 1997 Amendments to the International Convention.

OMB Control Number: 1625-0079

The International Convention for Standards of Training, Certification and Watchkeeping for Seafarers (STCW) sets qualifications for masters, officers and watchkeeping personnel on seagoing merchant ships. The United States is a signatory to these conventions, which define standards of competence necessary to protect safety of life at sea and the marine environment and address the responsibilities of all State-Parties to ensure seafarers meet defined standards of competence and quality. The information collection requirements are necessary to implement the amendments to this important international convention.

This proposed regulation is making three changes which impact this collection. This proposed regulation would: (1) Change the medical exam requirements for STCW credentialed mariner from once every five years to once every two years; (2) Require documented evidence of security training or awareness for 2 groups of mariners—personnel with security duties (except Vessel Security Officers, VSO) and all other mariners working aboard a vessel; and, (3) Recognize STCW endorsements issued by foreign governments.

For changes in medical examination requirements, mariners would be required to submit to NMC form CG-719K as filled out by a physician. For documented evidence of security training or awareness for personnel, vessel owners/operators would need to provide documentary evidence that personnel with security duties other than VSOs meet requirements set forth in 33 CFR 104.220, provide documentary evidence of meeting the requirements of 33 CFR 104.225 for all other personnel working on a vessel. Additionally the proposed rule allows for the recognition of STCW endorsements issued by foreign governments given proper documentation is submitted by a vessel owner/operator.

Summary of the Collection of Information: The STCW Convention sets qualifications for mariners on seagoing merchant ships. As a signatory party, information must be collected to provide documentary evidence that demonstrates requirements described in this important international treaty are being met.

This proposed regulation, which adopts 2010 amendments to the STCW convention, requires STCW mariners to provide documentation of a medical exam occurring once every two years; establishes the need for documentary evidence certifying security training or awareness for personnel; and, provides the means to recognize STCW endorsements issued by foreign governments.

Need for Information: The collection of information is needed to ensure that mariners have completed training and medical assessment necessary to receive STCW certification or endorsement. Collection of information is also needed to demonstrate to the International Maritime Organization that the United States has in place certain specific regulations that implement the international requirements and related amendments to the STCW convention.

Proposed Use of Information: The information collected will help to ensure compliance with international requirements and to maintain acceptable quality in activities associated with training and assessment of merchant mariners.

Description of the Respondents: The respondents would be merchant mariners holding STCW endorsements who need to update their medical records with NMC and the vessel owner/operators employing STCW endorsed mariners.

Number of Respondents: According to Coast Guard NMC data, an estimated 60,000 merchant mariners hold STCW endorsements. Of those mariners, approximately 12,000 submit medical examination forms each year. Since the proposed regulation requires medical exams every two years, the number of additional mariners needing to respond each year would be 18,000.

This proposed rule would also require employers of STCW endorsed mariners to submit documentary evidence of security training or awareness. Approximately 316 employers would need to submit this one-time requirement for 23,413 mariners—12,020 mariners who fall under 33 CFR 104.220 and for 11,393 mariners who fall under 33 CFR 104.225.

Additionally, approximately 105 owner/operators and approximately 1,800 mariners holding STCW endorsements issued by foreign governments would need to respond.

Frequency of Response: For medical examination requirements, mariners are required to respond every two years. We would assume half of the mariner population to respond annually. Mariners would need to make a one-time response that includes the proof of meeting the security training or knowledge requirement. Credentials for mariners holding foreign-issue STCW endorsements are valid for 5 years and response would be once every 5 years.

Burden of Response: For medical examinations, filling out form CG-719K takes approximately 20 minutes to complete and submitting that form by the mariner would take approximately 5 minutes. Total response burden would be approximately 25 minutes.

For personnel with security training, we estimate it would take employers 15 minutes per mariner to provide documentary evidence of security training or awareness.

For mariners with STCW endorsements issued by foreign governments, filling out form CG-719B takes approximately 15 minutes to complete.

Estimate of Total Annual Burden: For medical examinations, existing OMB-approved total annual burden, as adjusted in July 2009, is 22,440 hours. This rule would increase the annual burden by 7,950 hours (7,500 hrs. for medical exams + 450 hrs. for foreign-issued STCW endorsements). Additionally, this proposed rule would impose a one-time burden of 5,853 hours on owner/operators to provide documentary evidence of training.

This proposed rule would increase the annual burden on 18,000 respondents submitting medical examination forms by approximately 25 minutes each. The total additional hours requested for this rulemaking is 7,500 [18,000 × (25/60)]. For the approximately 1,800 mariners holding STCW endorsements issued by foreign governments, this proposed rule would increase the annual burden by 105 respondents by approximately 15 minutes each. The total additional hours requested for this rulemaking is 450 [1,800 × (15/60)]. For other personnel with security training or awareness, this one-time requirement would impose a burden on 316 respondents by 15 minutes each, or approximately 5,853 hours [23,413 mariners × (15/60)].

As required by the Paperwork Reduction Act of 1995 (44 U.S.C. 3507(d)), we will submit a copy of this proposed rule to the Office of Management and Budget (OMB) for its review of the collection of information.

We ask for public comment on the proposed collections of information to help us determine how useful the information is; whether it can help us perform our functions better; whether it is readily available elsewhere; how accurate our estimate of the burden of each collection is; how valid our methods for determining burden are; how we can improve the quality, usefulness, and clarity of the information; and how we can minimize the burden of collection.

If you submit comments on the collection of information, submit them to both OMB and to the Docket Management Facility where indicated under ADDRESSES, by the date under DATES.

You need not respond to a collection of information unless it displays a currently valid control number from OMB. Before the Coast Guard could enforce the collection of information requirements in this proposed rule, OMB would need to approve the Coast Guard's request to collect this information.

E. Federalism

A rule has implications for federalism under Executive Order 13132, Federalism, if it has a substantial direct effect on State or local governments and would either preempt State law or impose a substantial direct cost of compliance on them.

It is well settled that States may not regulate in categories reserved for regulation by the Coast Guard. It is also well settled that all of the categories covered in 46 U.S.C. 3306, 3703, 7101, and 8101 (design, construction, alteration, repair, maintenance, operation, equipping, personnel qualification, and manning of vessels), as well as the reporting of casualties and any other category in which Congress intended the Coast Guard to be the sole source of a vessel's obligations, are within the field foreclosed from regulation by the States. (See the decision of the Supreme Court in the consolidated cases of United States v. Locke and Intertanko v. Locke, 529 U.S. 89, 120 S.Ct. 1135 (March 6, 2000).)

This proposed rule would not extend Federal jurisdiction into those areas of pilotage that are reserved to the States in 46 U.S.C. 8501. Section 8501 provides for State regulation of pilots in the bays, rivers, harbors, and ports of the U.S. unless the law specifies otherwise. This proposed rule would change the requirements for the credentialing of mariners and would impact manning. In United States v. Locke, the Supreme Court references the STCW Convention as evidence that such areas are exclusively Federal, stating: “That training is a field reserved to the Federal Government is further confirmed by the circumstance that the STCW Convention addresses crew `training' and `qualification' requirements, and that the United States has enacted crew training regulations.” United States v. Locke and Intertanko v. Locke, 529 U.S. 89, 120 S.Ct. 1135 (March 6, 2000). Because the States may not regulate within these categories, preemption under Executive Order 13132 is not an issue.

F. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the effects of this rule elsewhere in this preamble.

G. Taking of Private Property

This proposed rule would not cause a taking of private property or otherwise have taking implications under Executive Order 12630, Governmental Actions and Interference with Constitutionally Protected Property Rights.

H. Civil Justice Reform

This proposed rule meets applicable standards in sections 3(a) and 3(b)(2) of Executive Order 12988, Civil Justice Reform, to minimize litigation, eliminate ambiguity, and reduce burden.

I. Protection of Children

We have analyzed this proposed rule under Executive Order 13045, Protection of Children from Environmental Health Risks and Safety Risks. This rule is not an economically significant rule and would not create an environmental risk to health or risk to safety that might disproportionately affect children.

J. Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

K. Energy Effects

We have analyzed this proposed rule under Executive Order 13211, Actions Concerning Regulations That Significantly Affect Energy Supply, Distribution, or Use. We have determined that it is not a “significant energy action” under that order. Though it is a “significant regulatory action” under Executive Order 12866, it is not likely to have a significant adverse effect on the supply, distribution, or use of energy. The Administrator of the Office of Information and Regulatory Affairs has not designated it as a significant energy action. Therefore, it does not require a Statement of Energy Effects under Executive Order 13211.

L. Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

M. Environment

We have analyzed this proposed rule under Department of Homeland Security Management Directive 023-01 and Commandant Instruction M16475.lD, which guide the Coast Guard in complying with the National Environmental Policy Act of 1969 (NEPA) (42 U.S.C. 4321-4370f), and have made a preliminary determination that this action is one of a category of actions that do not individually or cumulatively have a significant effect on the human environment. A preliminary environmental analysis checklist supporting this determination is available in the docket where indicated under the “Public Participation and Request for Comments” section of this preamble. This rule involves regulations that are procedural and the training of maritime personnel. We seek any comments or information that may lead to the discovery of a significant environmental impact from this proposed rule.

List of Subjects

46 CFR Part 1

Administrative practice and procedure, Organization and functions (Government agencies), Reporting and recordkeeping requirements.

46 CFR Part 10

Incorporation by reference, Penalties, Reporting and recordkeeping requirements, Schools, Seamen.

46 CFR Part 11

Incorporation by reference, Penalties, Reporting and recordkeeping requirements, Schools, Seamen, Transportation Worker Identification Card.

46 CFR Part 12

Incorporation by reference, Penalties, Reporting and recordkeeping requirements, Seamen.

46 CFR Part 13

Cargo vessels, Incorporation by reference, Reporting and recordkeeping requirements, Seamen.

46 CFR Part 14

Oceanographic research vessels, Reporting and recordkeeping requirements, Seamen.

46 CFR Part 15

Incorporation by reference, Reporting and recordkeeping requirements, Seamen, Vessels.

For the reasons discussed in the preamble, the Coast Guard proposes to amend 46 CFR parts 1, 10, 11, 12, 13, 14, and 15 as follows:

TITLE 46 CFR—SHIPPING

PART 1—ORGANIZATION, GENERAL COURSE AND METHODS GOVERNING MARINE SAFETY FUNCTIONS

1. The authority citation for part 1 continues to read as follows:

Authority: 5 U.S.C. 552; 14 U.S.C. 633; 46 U.S.C. 7701; 46 U.S.C. Chapter 93; Pub. L. 107-296, 116 Stat. 2135; Department of Homeland Security Delegation No. 0170.1; § 1.01-35 also issued under the authority of 44 U.S.C. 3507.

§ 1.03-40 [Amended]

2. In § 1.03-40, after the words “make a formal appeal of that decision or action”, remove the text “, via the NMC,”.

PART 10—MERCHANT MARINER CREDENTIAL

3. Revise the authority citation for part 10 to read as follows:

Authority: 14 U.S.C. 633; 31 U.S.C. 9701; 46 U.S.C. 2101, 2103, 2110; 46 U.S.C. chapter 71; 46 U.S.C. chapter 73; 46 U.S.C. chapter 75; 46 U.S.C. 2104; 46 U.S.C. 7701, 8903, 8904, and 70105; Executive Order 10173; Department of Homeland Security Delegation No. 0170.1.

4. Amend § 10.101 as follows:

a. Revise the heading to read as set down below;

b. In paragraph (b), remove the word “their” and add, in its place, the words “his or her”; and

c. In paragraph (d), remove the words “holder of” and add, in their place, the words “applicant for”.

§ 10.101 Purpose.

* * * * *

§ 10.103 [Amended]

5. Amend § 10.103 as follows:

a. In paragraph (b)(1), after the words “incorporation by reference approved for” remove the section numbers “§§ 10.107, 10.109, and 10.231” and add, in their place, the section numbers “§§ 10.107, 10.109, 10.201, and 10.410”; and

b. In paragraph (b)(2), after the words “incorporation by reference approved for” remove the section numbers “§§ 10.107, 10.109, 10.227, and 10.231” and add, in their place, the section numbers “§§ 10.107, 10.109, 10.201, 10.404, 10.411, and 10.412”.

6. Revise § 10.107 to read as follows:

§ 10.107 Definitions in subchapter B.

(a) With respect to part 16 of this subchapter only, if the definitions in paragraph (b) of this section differ from those set forth in § 16.105, the definition set forth in § 16.105 applies.

(b) As used in this subchapter, the following terms apply only to merchant marine personnel credentialing and the manning of vessels subject to the manning provisions in the navigation and shipping laws of the United States:

Apprentice mate (steersman) of towing vessels means a mariner qualified to perform watchkeeping on the bridge, while in training onboard a towing vessel under the direct supervision and in the continuous presence of a master or mate (pilot) of towing vessels.

Apprentice mate (steersman) of towing vessels (utility) means a mariner qualified to perform watchkeeping on the bridge, while in training onboard a towing vessel under the direct supervision and in the continuous presence of a master or mate (pilot) of towing vessels or a master of towing vessels (utility).

Approved means approved by the Coast Guard.

Approved training means training that is approved by the Coast Guard or meets the requirements of § 10.408 of this part.

Articulated tug barge or ATB means any tug-barge combination which through the use of an articulated or “hinged” connection system between the tug and barge allows movement in one axis, or plane in the critical area of fore and aft pitch.

Assistance towing means towing a disabled vessel for consideration.

Assistant engineer, for domestic endorsements, means a qualified officer in the engine department other than the chief engineer.

Authorized official includes, but is not limited to, a Federal, State, or local law enforcement officer.

Ballast control operator or BCO means an officer restricted to service on mobile offshore drilling units (MODUs) whose duties involve the operation of the complex ballast system found on many MODUs. When assigned to a MODU, a ballast control operator is equivalent to a mate on a conventional vessel.

Barge means a non-self-propelled vessel as defined in 46 U.S.C. 102.

Barge supervisor or BS means an officer restricted to service on MODUs whose duties involve support to the offshore installation manager (OIM) in marine-related matters including, but not limited to, maintaining watertight integrity, inspecting and maintaining mooring and towing components, and maintaining emergency and other marine-related equipment. A barge supervisor, when assigned to a MODU, is equivalent to a mate on a conventional vessel.

Boatswain means the leading seaman and immediate supervisor of deck crew who supervises the maintenance of deck gear.

Boundary lines are specified in 46 CFR part 7.

Cargo engineer means a person holding an officer endorsement on a dangerous-liquid tankship or a liquefied-gas tankship whose primary responsibility is maintaining the cargo system and cargo-handling equipment.

Ceremonial license means a document that reflects a mariner's existing domestic officer endorsement and is suitable for framing, but is not valid for use as a Merchant Mariner Credential (MMC).

Chief engineer means the senior engineer responsible for the mechanical propulsion and the operation and maintenance of the mechanical and electrical installations of the vessel.

Chief mate means the deck officer next in rank to the master and upon whom the command of the vessel will fall in the event of incapacity of the master.

Coast Guard-accepted means:

(1) That the Coast Guard has officially acknowledged in writing that the material or process at issue meets the applicable requirements;

(2) That the Coast Guard has issued an official policy statement listing or describing the material or process as meeting the applicable requirements; or

(3) That an entity acting on behalf of the Coast Guard under a Memorandum of Agreement has determined that the material or process meets the applicable requirements.

Coast Guard-accepted QSS organization means an entity that has been approved by the Coast Guard to accept and monitor training on behalf of the Coast Guard.

Coastwise seagoing vessel means a vessel that is authorized by its Certificate of Inspection to proceed beyond the Boundary Line established in part 7 of this chapter.

Coastwise voyage is a domestic voyage and means a voyage in which a vessel proceeds:

(1) From one port or place in the United States to another port or place in the United States;

(2) From a port or place in a United States possession to another port or place in the same possession, and passes outside the line dividing inland waters from the high seas; or

(3) From a port or place in the United States or its possessions and passes outside the line dividing inland waters from the high seas and navigates on the high seas, and then returns to the same port or place.

Conviction means that the applicant for a merchant mariner credential has been found guilty, by judgment or plea by a court of record of the United States, the District of Columbia, any State, territory, or possession of the United States, a foreign country, or any military court, of a criminal felony or misdemeanor or of an offense described in section 205 of the National Driver Register Act of 1982, as amended (49 U.S.C. 30304). If an applicant pleads guilty or no contest, is granted deferred adjudication, or is required by the court to attend classes, make contributions of time or money, receive treatment, submit to any manner of probation or supervision, or forgo appeal of a trial court's conviction, then the Coast Guard will consider the applicant to have received a conviction. A later expungement of the conviction will not negate a conviction unless the Coast Guard is satisfied that the expungement is based upon a showing that the court's earlier conviction was in error.

Credential means any or all of the following:

(1) Merchant mariner's document.

(2) License.

(3) STCW endorsement.

(4) Certificate of registry.

(5) Merchant Mariner Credential.

Criminal record review means the process or action taken by the Coast Guard to determine whether an applicant for, or holder of, a credential is a safe and suitable person to be issued such a credential or to be employed on a vessel under the authority of such a credential.

Dangerous drug means a narcotic drug, a controlled substance, or a controlled-substance analogue (as defined in section 102 of the Comprehensive Drug Abuse and Control Act of 1970 (21 U.S.C. 802)).

Dangerous liquid or DL means a liquid listed in 46 CFR 153.40 of this chapter that is not a liquefied gas as defined in this part. Liquid cargoes in bulk listed in 46 CFR part 153, Table 2, of this chapter are not dangerous-liquid cargoes when carried by non-oceangoing barges.

Day means, for the purpose of complying with the service requirements of this subchapter, 8 hours of watchstanding or day-working not to include overtime. On vessels authorized by 46 U.S.C. 8104 and 46 CFR 15.705, to operate a two-watch system, a 12-hour working day may be creditable as 1 ½ days of service. On vessels of less than 100 GRT, a day is considered as 8 hours unless the Coast Guard determines that the vessel's operating schedule makes this criteria inappropriate; in no case will this period be less than 4 hours. When computing service on MODUs for any endorsement, a day of MODU service must be a minimum of 4 hours, and no additional credit is received for periods served over 8 hours.

Deck crew (excluding individuals serving under their officer endorsement) means, as used in 46 U.S.C. 8702, only the following members of the deck department: able seamen, boatswains, and ordinary seamen.

Deck department means the department aboard a ship responsible for navigation, cargo, command, and control functions.

Designated areas means those areas within pilotage waters for which first-class pilot's endorsements are issued under part 11, subpart G, of this chapter, by the Officer in Charge, Marine Inspection (OCMI). The areas for which first-class pilot's endorsements are issued within a particular Marine Inspection Zone and the specific requirements to obtain them may be obtained from the OCMI concerned.

Designated duty engineer or DDE means a qualified engineer, who may be the sole engineer on vessels with a periodically unmanned engine room.

Designated examiner or DE means a person who has been trained or instructed in techniques of training or assessment on towing vessels and is otherwise qualified to evaluate whether an applicant has achieved the level of proficiency required to hold a towing vessel endorsement on a merchant mariner credential (MMC). This person may be approved by the Coast Guard or by a Coast Guard-approved or -accepted program of training.

Designated medical examiner means a licensed physician, licensed physician's assistant, or licensed nurse practitioner who has been trained and approved to conduct medical and physical examinations of merchant mariners on behalf of the U.S. Coast Guard and may be delegated limited authority to grant waivers and approve physical/medical suitability for service.

Directly supervised (only when referring to issues related to tankermen) means being in the direct line of sight of the person-in-charge or maintaining direct, two-way communications by a convenient, reliable means, such as a predetermined working frequency over a handheld radio.

Disabled vessel means a vessel that needs assistance, whether docked, moored, anchored, aground, adrift, or underway, but does not mean a barge or any other vessel not regularly operated under its own power. This includes, but is not limited to, a vessel that needs support or aid from another vessel (or vessels) to achieve completion of a maneuver or a portion of a transit safely, or when vessel safety is at risk such as mechanical difficulty, weather conditions, port/waterway congestion, or vessel maneuvering constraints.

Document of Continuity means a document issued by the Coast Guard to seafarers who are unwilling or otherwise unable to meet the requirements of § 10.227 for the sole purpose of maintaining an individual's eligibility for renewal of an endorsement.

Domestic officer endorsement means an annotation on a merchant mariner credential that allows a mariner to serve in the capacities listed in § 10.109(a) of this part. The officer endorsement serves as the license and/or certificate of registry pursuant to 46 U.S.C. subtitle II part E.

Domestic rating endorsement means an annotation on a merchant mariner credential that allows a mariner to serve in those capacities set out in § 10.109(b) and (c) of this part. The rating endorsement serves as the merchant mariner's document pursuant to 46 U.S.C. subtitle II part E.

Domestic voyage means a voyage from one United States port to another United States port, without entering waters under the jurisdiction of another country. This includes a voyage to nowhere that returns to the originating port.

Drug test means a chemical test of an individual's urine for evidence of dangerous drug use.

Dual-mode integrated tug barge means an Integrated Tug Barge (ITB) involving an articulated (flexible) coupling system where the towing unit rolls and heaves (articulates) about a horizontal pivot point. Dual mode units resemble a conventional tug and are capable of towing in other configurations (astern or alongside).

Employment assigned to means the total period of time a person is assigned to work on MODUs, including time spent ashore as part of normal crew rotation.

Endorsement is a statement of a mariner's qualifications, which may include the categories of officer, staff officer, ratings, and/or STCW appearing on a merchant mariner credential.

Engine department means the department aboard a ship responsible for the main propulsion and auxiliary systems, and other mechanical, electrical, hydraulic, and refrigeration systems, including deck machinery and cargo-handling equipment.

Entry-level mariner means a mariner holding no rating other than ordinary seaman, wiper, steward's department, or steward's department food handler (F.H.).

Evaluation means processing an application, from the point of receipt to approval or denial of the application, including review of all documents and records submitted with an application as well as those obtained from public records and databases.

Fails a chemical test for dangerous drugs means that the result of a chemical test conducted under 49 CFR part 40 was reported as “positive” by a Medical Review Officer because the chemical test indicated the presence of a dangerous drug at a level equal to or exceeding the levels established in 49 CFR part 40.

First assistant engineer means the engineer officer next in rank to the chief engineer and upon whom the responsibility for the mechanical propulsion and the operation of maintenance of the mechanical and electrical installations of the vessel will fall in the event of the incapacity of the chief engineer.

Great Lakes for the purpose of calculating service requirements for an endorsement, means the Great Lakes and their connecting and tributary waters, including the Calumet River as far as the Thomas J. O'Brien Lock and Controlling Works (between miles 326 and 327), the Chicago River as far as the east side of the Ashland Avenue Bridge (between miles 321 and 322), and the Saint Lawrence River as far east as the lower exit of Saint Lambert Lock. For purposes of requiring merchant mariner credentials with rating endorsements, the connecting and tributary waters are not part of the Great Lakes.

Gross register tons or GRT means the gross ton measurement of the vessel under 46 U.S.C. chapter 145, Regulatory Measurement.

Gross tonnage or GT means the gross tonnage measurement of the vessel under 46 U.S.C. chapter 143, Convention Measurement.

Harbor assist means the use of a towing vessel during maneuvers to dock, undock, moor, or unmoor a vessel, or to escort a vessel with limited maneuverability. This term refers to towing vessels assisting ships rather than to assistance towing vessels assisting yachts and recreational boats.

Horsepower or HP means, for the purpose of this subchapter, the total maximum continuous shaft horsepower of the entire vessel's main propulsion machinery as determined by the manufacturer. This term is used when describing a vessel's propulsion power and also when placing limitations on an engineer officer license or endorsement. One horsepower equals 0.75 kW.

IMO means the International Maritime Organization.

Increase in scope means additional authority added to an existing credential.

Inland waters means the navigable waters of the United States shoreward of the Boundary Lines as described in part 7 of this chapter, excluding the Great Lakes, and, for towing vessels, excluding the Western Rivers. For establishing credit for sea service, the waters of the Inside Passage between Puget Sound and Cape Spencer, Alaska, are inland waters.

Integrated Tug Barge or ITB means any tug-barge combination which, through the use of special design features or a specially designed connection system, has increased seakeeping capabilities relative to a tug and barge in the conventional pushing mode. An ITB can be divided into either a dual-mode ITB or a push-mode ITB. The definitions for those categories can be found elsewhere in this section.

Invalid credential means a Merchant Mariner Credential, merchant mariner's document, merchant mariner's license, STCW endorsement, or Certificate of Registry that has been suspended or revoked, or has expired.

Kilowatt or kW means 1⅓ horsepower. This term is used when describing a vessel's propulsion power and also when placing limitations on an engineer officer license or endorsement.

Large passenger vessel, for the purposes of subpart H of part 12, means a vessel of more than 70,000 gross tons, as measured under 46 U.S.C. 14302 and documented under the laws of the United States, with capacity for at least 2,000 passengers and a coastwise endorsement under 46 U.S.C. chapter 121.

Lifeboatman means a mariner who is qualified to take charge of, lower, and operate survival craft and related survival equipment on a vessel.

Lifeboatman-Limited means a mariner who is qualified to take charge of, lower, and operate liferafts, rescue boats, and other survival equipment on vessels where lifeboats are not installed.

Limited means an annotation on a merchant mariner credential which limits the operational authority of a particular endorsement to a limited tonnage, portions of a route, means of propulsion, or equipment (such as liferafts).

Liquefied gas or LG means a cargo that has a vapor pressure of 172 kPa (25 psia) or more at 37.8°C (100°F).

Liquid cargo in bulk means a liquid or liquefied gas listed in § 153.40 of this chapter and carried as a liquid cargo or liquid-cargo residue in integral, fixed, or portable tanks, except a liquid cargo carried in a portable tank actually loaded and discharged from a vessel with the contents intact.

Management level means the level of responsibility associated with serving as master, chief mate, chief engineer officer or second engineer officer onboard vessels to which STCW applies.

Marine chemist means a person certificated by the National Fire Protection Association.

Master means the officer having command of a vessel.

Mate means a qualified officer in the deck department other than the master.

Merchant Mariner Credential or MMC means a credential issued by the Coast Guard under 46 CFR part 10. It combines the individual merchant mariner's document, license, and certificate of registry enumerated in 46 U.S.C. subtitle II part E as well as the STCW endorsement into a single credential that serves as the mariner's qualification document, certificate of identification, and certificate of service.

MMC application means the application for the MMC, as well as the application for any endorsement on an MMC.

Mobile offshore drilling unit or MODU means a vessel capable of engaging in drilling operations for the exploration for or exploitation of subsea resources. MODU designs include the following:

(1) Bottom bearing units, which include:

(i) Self-elevating (or jack-up) units with moveable, bottom bearing legs capable of raising the hull above the surface of the sea; and

(ii) Submersible units of ship-shape, barge-type, or novel hull design, other than a self-elevating unit, intended for operating while bottom bearing.

(2) Surface units with a ship-shape or barge-type displacement hull of single or multiple hull construction intended for operating in a floating condition, including semi-submersibles and drill ships.

Month means 30 days, for the purpose of complying with the service requirements of this subchapter.

National Driver Register or NDR means the nationwide repository of information on drivers maintained by the National Highway Traffic Safety Administration under 49 U.S.C. chapter 303.

NDR-listed convictions means a conviction of any of the following motor vehicle-related offenses or comparable offenses:

(1) Operating a motor vehicle while under the influence of, or impaired by, alcohol or a controlled substance; or

(2) A traffic violation arising in connection with a fatal traffic accident, reckless driving, or racing on the highways.

Near-coastal means ocean waters not more than 200 miles offshore from the U.S. and its possessions, except for MMCs endorsed as Operator of Uninspected Passenger Vessel for which near-coastal is limited to waters not more than 100 miles offshore from the U.S. and its possessions.

Non-resident alien, for the purposes of subchapter H of part 12, means an individual who is not a citizen or alien lawfully admitted to the United States for permanent residence, but who is employable in the United States under the Immigration and Nationality Act (8 U.S.C. 1101 et seq.), including an alien crewman described in section 101(a)(15)(D)(i) of that Act who meets the requirements of 46 U.S.C. 8103(k)(3)(A).

Oceans means the waters seaward of the Boundary Lines as described in 46 CFR part 7. For the purposes of establishing sea service credit, the waters of the Inside Passage between Puget Sound and Cape Spencer, Alaska, and the inland waters of another country are not considered oceans.

Officer endorsement means an annotation on a merchant mariner credential that allows a mariner to serve in the capacities listed in § 10.109 of this part.

Officer in Charge, Marine Inspection or OCMI means, for the purposes of this subchapter, the commanding officer of the National Maritime Center, or any person designated as such by the Commandant, in accordance with 46 CFR 1.01-15(b).

Officer in charge of an engineering watch in a manned engine room or designated duty engineer in a periodically unmanned engine room or OICEW means an engineering officer qualified at the operational level.

Officer in charge of a navigational watch or OICNW means a deck officer qualified at the operational level.

Offshore installation manager or OIM means an officer restricted to service on MODUs. An assigned offshore installation manager is equivalent to a master on a conventional vessel and is the person designated by the owner or operator to be in complete and ultimate command of the unit.

On location means that a mobile offshore drilling unit is bottom bearing or moored with anchors placed in the drilling configuration.

Operate, operating, or operation (as applied to the manning requirements of vessels carrying passengers) refers to a vessel any time passengers are embarked whether the vessel is underway, at anchor, made fast to shore, or aground.

Operational level means the level of responsibility associated with serving as officer in charge of a navigational or engineering watch or as designated duty engineer for periodically unmanned machinery spaces or as Global Maritime Distress and Safety System radio operator onboard ships to which STCW applies.

Operator means an individual qualified to operate certain uninspected vessels.

Orally assisted examination means an examination as described in 46 CFR, part 11, subpart I of this subchapter administered verbally and documented by a Coast Guard examiner.

Overriding operational condition means circumstances in which essential shipboard work cannot be delayed due to safety or environmental reasons, or could not have reasonably been anticipated at the commencement of the voyage.

Participation, when used with regard to the service on transfers required for tankerman by §§ 13.120, 13.203, or 13.303 of this subchapter, means either actual participation in the transfers or close observation of how the transfers are conducted and supervised.

Passes a chemical test for dangerous drugs means that the result of a chemical test conducted according to 49 CFR part 40 is reported as “negative” by a Medical Review Officer according to that part.

Periodically unattended engine room means a space containing main propulsion and associated machinery and all sources of main electrical supply which is not at all times manned under all operating conditions, including maneuvering.

PIC means a person in charge.

Pilot of towing vessels means a qualified officer of a towing vessel operated only on inland routes.

Pilotage waters means the navigable waters of the United States, including all inland waters and offshore waters to a distance of 3 nautical miles from the baseline from which the Territorial Sea is measured.

Practical demonstration means the performance of an activity under the direct observation of a designated examiner or qualified assessor for the purpose of establishing that the performer is sufficiently proficient in a practical skill to meet a specified standard of competence or other objective criterion.

Propulsion power means the total maximum continuous-rated output power of the main propulsion machinery of a vessel determined by the manufacturer, in either kilowatts or horsepower, which appears on the ship's Certificate of Registry or other official document and excludes thrusters and other auxiliary machinery.

Public vessel means a vessel that:

(1) Is owned, or demise chartered, and operated by the United States Government or a government of a foreign country; and

(2) Is not engaged in commercial service.

Push-mode ITBs means those ITBs that involve a rigid coupling system and, when not coupled to the barge, are incapable of conducting towing in any other configuration (such as astern or alongside) because, by themselves, they have very limited seakeeping capability. The propelling unit moves as one with the barge unit.

Qualified Assessor or QA means a person who is qualified to evaluate whether an applicant has demonstrated the level of proficiency required to hold a required endorsement on an MMC. This person may be approved by the Coast Guard or by a Coast Guard-approved or -accepted program of training.

Qualified instructor means a person who has been trained or instructed in instructional techniques and is otherwise qualified to provide required training to candidates for an MMC endorsement. A faculty member employed at a State maritime academy or the U.S. Merchant Marine Academy operated under 46 CFR part 310 and instructing in a navigation or engineering course is qualified to serve as a qualified instructor in his or her area of specialization without individual evaluation by the Coast Guard.

Qualified rating means various categories of able seaman, qualified member of the engine department, or tankerman endorsements issued on merchant mariner credentials.

Quality Standard System or QSS means a set of policies, procedures, processes, and data required to establish and fulfill the organization's objectives.

Raise of grade means an increase in the level of authority and responsibility associated with an officer or rating endorsement.

Rating endorsement is an annotation on a merchant mariner credential that allows a mariner to serve in those capacities set out in § 10.109 of this part.

Regional examination center or REC means a field office of the National Maritime Center that receives and screens credential applications, conducts approved course oversight, and administers Coast Guard examinations as required by this subchapter.

Rest means a period of time during which the person concerned is off duty, is not performing work (which includes administrative tasks such as chart correction or preparation of port-entry documents), and is allowed to sleep without interruption.

Restricted means when a restriction is placed on an MMC, which restricts the authority of an endorsement to specific cargoes, equipment, vessel or vessels, employers, activities, particular geographic or local areas, formal camps, yacht clubs, educational institutions, or marinas.

Restricted tankerman endorsement means a valid tankerman endorsement on an MMC restricting its holder as the Coast Guard deems appropriate. For instance, the endorsement may restrict the holder to one or a combination of the following: a specific cargo or cargoes; a specific vessel or vessels; a specific facility or facilities; a specific employer or employers; a specific activity or activities (such as loading or unloading in a cargo transfer); or a particular area of water.

Rivers means a river, canal, or other similar body of water designated as such by the Coast Guard.

Safe and suitable person means a person whose prior record, including but not limited to criminal record and/or NDR record, provides no information indicating that his or her character and habits of life would support the belief that permitting such a person to serve under the MMC and/or endorsement sought would clearly be a threat to the safety of life or property detrimental to good discipline, or adverse to the interests of the United States. See 46 CFR 10.211 and 10.213 for the regulations associated with this definition.

Seagoing service means service onboard a ship/vessel relevant to the issue of a credential or other qualification.

Seagoing vessel means a self-propelled vessel that operates beyond the boundary line specified in 46 CFR part 7.

Second engineer officer means an engineer officer next in rank to the chief engineer officer and upon whom the responsibility for the mechanical propulsion and the operation and maintenance of the mechanical and electrical installations of the ship will fall in the event of the incapacity of the chief engineer officer.

Self-propelled has the same meaning as the terms “propelled by machinery” and “mechanically propelled.” This term includes vessels fitted with sails or mechanical propulsion.

Self-propelled tank vessel means a tank vessel propelled by machinery other than a tankship.

Senior company official means the president, vice president, vice president for personnel, personnel director, or similarly titled or responsible individual, or a lower-level employee designated in writing by one of these individuals for the purpose of certifying employment.

Service (as used when computing the required service for endorsements) means the time period, in days, a person is assigned to work. On MODUs, this excludes time spent ashore as part of crew rotation.

Ship means a self-propelled vessel using any mode of propulsion, including sail and auxiliary sail.

Simulated transfer means a transfer practiced in a course meeting the requirements of § 13.121 of this subchapter that uses simulation supplying part of the service on transfers required for tankerman by §§ 13.203 or 13.303 of this subchapter.

Staff officer means a person who holds an MMC with an officer endorsement listed in § 10.109(a)(40) through (a)(47) of this part.

Standard of competence means the level of proficiency to be achieved for the proper performance of duties onboard vessels according to national and international criteria.

Steward's department means the department that includes entertainment personnel and all service personnel, including wait staff, housekeeping staff, and galley workers, as defined in the vessel security plan approved by the Secretary under 46 U.S.C. 70103(c). These personnel may also be referred to as members of the hotel department on a large passenger vessel.

STCW means the International Convention on Standards of Training, Certification and Watchkeeping for Seafarers, 1978, as amended (incorporated by reference, see § 10.103 of this subpart).

STCW Code means the Seafarer's Training, Certification and Watchkeeping Code (incorporated by reference, see § 10.103 of this subpart).

STCW endorsement means an annotation on an MMC that allows a mariner to serve in those capacities under § 10.109(d) of this subpart. The STCW endorsement serves as evidence that a mariner has met the requirements of the STCW Convention.

Support level means the level of responsibility associated with serving as able seafarer deck or engine, rating forming part of the navigational or engineering watch or as electro-technical rating.

Tank barge means a non-self-propelled tank vessel.

Tank vessel means a vessel that is constructed or adapted to carry, or that carries, oil or hazardous material in bulk as cargo or cargo residue, and that:

(1) Is a vessel of the United States;

(2) Operates on the navigable waters of the United States; or

(3) Transfers oil or hazardous material in a port or place subject to the jurisdiction of the United States.

Tankerman assistant means a person holding a valid “Tankerman-Assistant” endorsement on his or her MMC.

Tankerman engineer means a person holding a valid “Tankerman-Engineer” endorsement on his or her MMC.

Tankerman PIC means a person holding a valid “Tankerman-PIC” endorsement on his or her MMC.

Tankerman PIC (Barge) means a person holding a valid “Tankerman-PIC (Barge)” endorsement on his or her MMC.

Tankship means any self-propelled tank vessel constructed or adapted primarily to carry oil or hazardous material in bulk as cargo or as cargo residue.

Training program means a combination of training, practical assessment, and service which provides an individual with all or part of the necessary knowledge, understanding, and proficiency required for a specific qualification.

Transfer means any movement of fuel, dangerous liquid, or liquefied gas as cargo in bulk or as cargo residue to or from a vessel by means of pumping, gravitation, or displacement.

Transportation Worker Identification Credential or TWIC means an identification credential issued by the Transportation Security Administration under 49 CFR part 1572.

Underway means that a vessel is not at anchor, made fast to the shore, or aground. When referring to a mobile offshore drilling unit (MODU), underway means that the MODU is not in an on-location or laid-up status and includes that period of time when the MODU is deploying or recovering its mooring system.

Undocumented vessel means a vessel not required to have a certificate of documentation issued under the laws of the United States.

Utility towing means:

(1) Towing a barge with equipment performing marine construction, repair, and other types of marine utility services; or

(2) Assisting yachts and recreational boats with limited maneuverability to dock, undock, moor, or unmoor.

Vessel personnel with security duties means a person, excluding the designated security officer (e.g., Company Security Officer (CSO) and Vessel Security Officer (VSO)), holding a license or MMC officer endorsement, and/or an STCW endorsement; and persons in charge for the loading and unloading of cargo, passengers, and vessel stores.

Vessel Security Officer or VSO means a person onboard the vessel accountable to the Master, designated by the Company as responsible for security of the vessel, including implementation and maintenance of the Vessel's Security Plan, and for liaison with the Facility Security Officer and the vessel's Company Security Officer.

Western rivers means:

(1) The Mississippi River;

(2) The Mississippi River's tributaries, South Pass, and Southwest Pass, to the navigational demarcation lines dividing the high seas from harbors, rivers, and other inland waters of the United States;

(3) The Port Allen-Morgan City Alternate Route;

(4) That part of the Atchafalaya River above its junction with the Port Allen-Morgan City Alternate Route, including the Old River and the Red River; and

(5) Those waters specified in 33 CFR 89.25.

Year means 360 days for the purpose of complying with the service requirements of this subchapter.

7. Revise § 10.109 to read as follows:

§ 10.109 Classification of endorsements.

(a) Domestic officer endorsements. The following domestic officer endorsements are established in part 11 of this subchapter. The endorsements indicate that an individual holding a valid MMC with this endorsement is qualified to serve in that capacity and the endorsement has been issued under the requirements contained in part 11 of this subchapter:

(1) Master;

(2) Chief mate;

(3) Second mate;

(4) Third mate;

(5) Mate;

(6) Master of towing vessels;

(7) Master of towing vessels, limited;

(8) Master of towing vessels, utility;

(9) Mate (pilot) of towing vessels;

(10) Apprentice mate (Steersman);

(11) Apprentice mate (Steersman), limited;

(12) Apprentice mate (Steersman), utility;

(13) Master of towing vessels (Harbor Assist);

(14) Assistance towing;

(15) Offshore installation manager (OIM);

(16) Barge supervisor (BS);

(17) Ballast control operator (BCO);

(18) Operator of uninspected passenger vessels (OUPV);

(19) Master of uninspected fishing industry vessels;

(20) Mate of uninspected fishing industry vessels;

(21) Master of offshore supply vessels;

(22) Chief mate of offshore supply vessels;

(23) Mate of offshore supply vessels;

(24) Chief engineer;

(25) Chief engineer (limited-ocean);

(26) Chief engineer (limited-near-coastal);

(27) First assistant engineer;

(28) Second assistant engineer;

(29) Third assistant engineer;

(30) Assistant engineer (limited);

(31) Designated duty engineer (DDE);

(32) Chief engineer offshore supply vessel;

(33) Engineer offshore supply vessels;

(34) Chief engineer MODU;

(35) Assistant engineer MODU;

(36) Chief engineer uninspected fishing industry vessels;

(37) Assistant engineer uninspected fishing industry vessels;

(38) Radio officer;

(39) First-class pilot;

(40) Chief purser;

(41) Purser;

(42) Senior assistant purser;

(43) Junior assistant purser;

(44) Medical doctor;

(45) Professional nurse;

(46) Marine physician assistant;

(47) Hospital corpsman; and

(48) Radar observer.

(b) Domestic rating endorsements. The following domestic rating endorsements are established in part 12 of this subchapter. The endorsements indicate that an individual holding a valid MMC with this endorsement is qualified to serve in that capacity and the endorsement has been issued under the requirements contained in part 12 of this subchapter:

(1) Able seaman:

(i) Any waters, unlimited;

(ii) Limited;

(iii) Special;

(iv) Special (OSV);

(v) Sail; and

(vi) Fishing industry.

(2) Ordinary seaman;

(3) Qualified member of the engine department (QMED), including the following specialty endorsements:

(i) Oiler;

(ii) Watertender/Fireman;

(iii) Junior engineer;

(iv) Pumpman/Machinist; and

(v) Electrician/Refrigerating engineer.

(4) Lifeboatman;

(5) Lifeboatman-Limited;

(6) Wiper;

(7) Steward's department;

(8) Steward's department (F.H.);

(9) Cadet (deck or engineer);

(10) Student observer;

(11) Apprentice engineer; and

(12) Apprentice mate.

(c) The following ratings are established in part 13 of this subchapter. The endorsements indicate that an individual holding a valid MMC with this endorsement is qualified to serve in that capacity and the endorsement has been issued under the requirements contained in part 13 of this subchapter:

(1) Tankerman-PIC;

(2) Tankerman-PIC (Barge);

(3) Tankerman-PIC restricted;

(4) Tankerman-PIC (Barge) restricted;

(5) Tankerman assistant; and

(6) Tankerman engineer.

(d) STCW endorsements. The following STCW endorsements are issued according to the STCW Convention, the STCW Code, and parts 11, 12, and 13 of this subchapter. The endorsements indicate that an individual holding a valid MMC with this endorsement is qualified to serve in that capacity and the endorsement has been issued under the requirements contained in parts 11, 12, or 13 of this subchapter as well as the STCW Convention and STCW Code (incorporated by reference, see § 10.103 of this subpart):

(1) Master;

(2) Chief mate;

(3) Officer in charge of a navigational watch (OICNW);

(4) Chief engineer officer;

(5) Second engineer officer;

(6) Officer in charge of an engineering watch in a manned engineroom or designated duty engineer in a periodically unmanned engineroom (OICEW);

(7) Electro-technical officer (ETO);

(8) Rating forming part of a navigational watch (RFPNW);

(9) Able seafarer-deck;

(10) Rating forming part of a watch in a manned engineroom or designated to perform duties in a periodically unmanned engineroom (RFPEW);

(11) Able seafarer-engine;

(12) Electro-technical rating;

(13) Basic safety training (BST);

(14) Proficiency in survival craft and rescue boats other than fast rescue boats (PSC);

(15) Proficiency in survival craft and rescue boats other than fast rescue boats—limited (PSC—limited);

(16) Proficiency in fast rescue boats;

(17) Person in charge of medical care;

(18) Medical first-aid provider;

(19) GMDSS at-sea maintainer;

(20) GMDSS operator;

(21) Advanced oil tanker cargo operation;

(22) Advanced chemical tanker cargo operation;

(23) Advanced liquefied gas tanker cargo operation;

(24) Basic oil and chemical tanker cargo operation;

(25) Basic liquefied gas tanker cargo operation;

(26) Vessel Security Officer;

(27) Vessel personnel with designated security duties; and

(28) Security awareness.

§ 10.201 [Amended]

8. Amend § 10.201 as follows:

a. In paragraph (a), remove the words “incorporated by reference in § 10.103” and add, in their place, the words “(incorporated by reference, see § 10.103 of this part)”; and

b. In paragraph (c), remove the words “National Maritime Center or at any Regional Examination Center during usual business hours, or through the mail” and add, in their place, the words “Coast Guard”.

§ 10.203 [Amended]

9. In § 10.203(c) and (d), after the words “when requested by an authorized official”, remove the words “as identified in 33 CFR 101.515(d)”.

10. Amend § 10.205 as follows:

a. Revise paragraph (a) to read as set down below;

b. In paragraph (b), after the words “All endorsements”, add the words “, unless otherwise noted,”;

c. In paragraph (c), remove the word “one” and add, in its place, the number “1” and remove the text “§ 10.227(f) and add, in its place, the text “§ 10.227(h)”;

d. In paragraph (d), after the words “in accordance with § 10.227”, add the words “of this part”;

e. Remove paragraph (f), and redesignate paragraphs (g) and (h) as paragraphs (f) and (g), respectively; and

f. Add new paragraph (h) to read as follows:

§ 10.205 Validity of a merchant mariner credential.

(a) An MMC is valid for a term of 5 years from the date of issuance. Upon the written request of the applicant, the Coast Guard may post-date the issuance of an MMC up to 12 months from the date that the Coast Guard accepts a complete application as defined in this part.

* * * * *

(h) When a Document of Continuity is replaced with an MMC re-issued in accordance with § 10.227 of this part, the Document of Continuity that has been replaced becomes invalid. In the event that not all endorsements on a Document of Continuity are activated, a new Document of Continuity will be issued for the remaining endorsements.

§ 10.207 [Amended]

11. In § 10.207, after the words “a unique serial number”, add the words “, called the mariner reference number,”.

12. Revise § 10.209 to read as follows:

§ 10.209 General application procedures.

(a) The applicant for an MMC, whether for an original, renewal, duplicate, raise of grade, or a new endorsement on a previously issued MMC, must establish that he or she satisfies all the requirements for the MMC and endorsements sought before the Coast Guard will issue the MMC. This section contains the general requirements for all applicants. Additional requirements for duplicates, renewals, new endorsements, and raises of grade appear later in this part.

(b) The Coast Guard may refuse to process an incomplete MMC application. The requirements for a complete application for an original MMC are contained in § 10.225 of this part, the requirements for a renewal MMC application are contained in § 10.227 of this part, the requirements for a duplicate MMC application are contained in § 10.229 of this part, and the requirements for an application for a new endorsement or raise of grade are contained in § 10.231 of this part.

(c) Applications are valid for 12 months from the date that the Coast Guard approves the application.

(d) The portions of the application that may be submitted in person, by mail, fax, or other electronic means may include:

(1) The application, consent for National Driver Register (NDR) check, and notarized oath on Coast Guard-furnished forms, and the evaluation fee required by § 10.219 of this part;

(2) The applicant's continuous discharge book, certificate of identification, MMD, MMC, license, STCW endorsement, Certificate of Registry (COR), or, if it has not expired, a photocopy of the credential, including the back and all attachments;

(3) Proof, documented on CG-719K or CG-719K/E, as appropriate, provided by the Coast Guard, that the applicant passed the applicable vision, hearing, medical or physical exam as required by subpart C of this part, or an unexpired medical certificate/endorsement issued by the Coast Guard;

(4) If the applicant desires a credential with a radar-observer endorsement in accordance with § 11.480 of this subchapter, either the radar-observer certificate or a certified copy;

(5) Evidence of, or acceptable substitute for, sea service, if required;

(6) For an endorsement as a medical doctor or professional nurse as required in § 11.807 of this subchapter, evidence that the applicant holds a currently valid, appropriate license as physician, surgeon, or registered nurse, issued under the authority of a state or territory of the United States, the Commonwealth of Puerto Rico, or the District of Columbia. Any MMC issued will retain any limitation associated with the medical license;

(7) Any certificates or other supplementary materials required to show that the mariner meets the mandatory requirements for the specific endorsement sought, as established in parts 11, 12, or 13 of this subchapter; and

(8) An open-book exercise, in accordance with § 10.227(e)(1) of this part.

(e) The following requirements must be satisfied before an original or renewal MMC, or new endorsement or a raise of grade added to a previously issued MMC, will be issued. These materials will be added to the individual's record by the Coast Guard:

(1) Determination of safety and suitability. No MMC will be issued as an original or reissued with a new expiration date, and no new officer endorsement will be issued if the applicant fails the criminal record review as set forth in § 10.211 of this part;

(2) NDR review. No MMC will be issued as an original or reissued with a new expiration date, and no new officer endorsement will be issued if the applicant fails the NDR review as set forth in § 10.213 of this part; and

(3) Information supplied by the Transportation Security Administration (TSA). No MMC or endorsement will be issued until the Coast Guard receives the following information from the applicant's TWIC application: the applicant's fingerprints, FBI number and criminal record (if applicable), photograph, proof of citizenship, or Nationality with proof of legal resident status (if applicable). If the information is not available from TSA, the mariner may be required to visit a Regional Exam Center to provide this information.

(f) Upon determining that the applicant satisfactorily meets all requirements for an MMC or an endorsement thereon, the Coast Guard will issue the properly endorsed MMC to the applicant. The Coast Guard will not issue an MMC until it has received proof that the mariner holds a valid TWIC.

(g) When a new MMC is issued, the mariner must return the previously issued MMC, license, MMD, COR, or STCW endorsement to the Coast Guard, unless the new MMC is being issued to replace a lost or stolen credential.

(h) No MMC will be issued if the applicant fails a chemical test for dangerous drugs as required in §§ 10.225(b)(5), 10.227(d)(5), and 10.231(c)(6).

(i) Ceremonial licenses. A mariner may obtain a ceremonial license when applying for his or her credential or Document of Continuity.

13. Amend § 10.211 as follows:

a. In paragraph (a), after the words “written disclosure of all”, add the word “prior”;

b. In paragraph (b), after the words “a duplicate MMC under § 10.229”, add the words “of this part”;

c. In paragraph (c), remove the words “Beginning April 15, 2009, the” and add, in their place, the word “The”; and after the words “This information”, remove the words “, or the fingerprints taken by the Coast Guard at an REC,”;

d. In paragraph (d), remove the word “disapproved” and add, in its place, the word “denied”;

e. In paragraph (e), remove the word “disapproved” and add, in its place, the word “denied”; and remove the word “disapproval” and add, in its place, the word “denial”;

f. In paragraph (g), after the words “The Coast Guard will use table 10.211(g)”, add the words “of this section”;

g. Revise table 10.211(g) to read as set down below;

h. In paragraphs (h) and (i), after the words “table 10.211(g)” wherever they appear, add the words “of this section”;

i. In paragraph (j), after the words “If a person with a criminal conviction submits”, remove the word “their” and add, in its place, the words “his or her”; and remove the word “disapprove” in the last sentence, and add, in its place, the word “deny”; and

j. In paragraph (k), after the words “If a person with a criminal conviction submits”, remove the word “their” and add, in its place, the words “his or her”, and after the words “in table 10.211(g)” wherever they appear, add the words “of this section”.

§ 10.211 Criminal Record Review.

* * * * *

Table 10.211(g)—Guidelines for Evaluating Applicants for MMCs Who Have Criminal Convictions
Crime ¹ | Assessment periods: Minimum | Assessment periods: Maximum
Assessment Periods for Officer and Rating Endorsement
Crimes Against Persons: |  |
Homicide (intentional) | 7 years | 20 years.
Homicide (unintentional) | 5 years | 10 years.
Assault (aggravated) | 5 years | 10 years.
Assault (simple) | 1 year | 5 years.
Sexual Assault (rape, child molestation) | 5 years | 10 years.
Robbery | 5 years | 10 years.
Other crimes against persons.²
Vehicular Crimes:
Conviction involving fatality | 1 year | 5 years.
Reckless Driving | 1 year | 2 years.
Racing on the Highways | 1 year | 2 years.
Other vehicular crimes ²
Crimes Against Public Safety:
Destruction of Property | 5 years | 10 years.
Other crimes against public safety ²
Dangerous Drug Offenses: 3 4 5
Trafficking (sale, distribution, transfer) | 5 years | 10 years.
Dangerous drugs (Use or possession) | 1 year | 10 years.
Other dangerous drug convictions.⁶
Criminal Violations of Environmental Laws:
Criminal violations of environmental laws involving improper handling of pollutants or hazardous materials | 1 year | 10 years.
Assessment Periods for Officer Endorsements Only
Crimes Against Property:
Burglary | 3 years | 10 years.
Larceny (embezzlement) | 3 years | 5 years.
Other crimes against property.²
¹ Conviction of attempts, solicitations, aiding and abetting, accessory after the fact, and conspiracies to commit the criminal conduct listed in this table carry the same minimum and maximum assessment periods provided in the table.
² Other crimes will be reviewed by the Coast Guard to determine the minimum and maximum assessment periods depending on the nature of the crime.
³ Applicable to original applications only. Any applicant who has ever been the user of, or addicted to the use of, a dangerous drug must meet the requirements of paragraph (f) of this section. Note: Applicants for reissue of an MMC with a new expiration date including a renewal or additional endorsement(s), who have been convicted of a dangerous drug offense while holding a license, MMC, MMD, STCW endorsement or COR, may have their application withheld until appropriate action has been completed by the Coast Guard under the regulations which appear in 46 CFR part 5 governing the administrative actions against merchant mariner credentials.
⁴ The Coast Guard may consider dangerous drug convictions more than 10 years old only if there has been another dangerous drug conviction within the past 10 years.
⁵ Applicants must demonstrate rehabilitation under paragraph (l) of this section, including applicants with dangerous drug use convictions more than 10 years old.
⁶ Other dangerous drug convictions will be reviewed by the Coast Guard on a case by case basis to determine the appropriate assessment period depending on the nature of the offense.

* * * * *

14. Revise § 10.213 to read as follows:

§ 10.213 National Driver Register.

(a) No MMC will be issued as an original or reissued with a new expiration date, and no new officer endorsement will be issued, unless the applicant consents to a check of the NDR for offenses described in section 205(a)(3)(A) or (B) of the NDR Act (i.e., operation of a motor vehicle while under the influence of, or impaired by, alcohol or a controlled substance; and any traffic violations arising in connection with a fatal traffic accident, reckless driving, or racing on the highways).

(b) The Coast Guard will not consider NDR-listed civil convictions that are more than 3 years old from the date of request unless that information relates to a current suspension or revocation of the applicant's license to operate a motor vehicle. The Coast Guard may determine minimum and maximum assessment periods for NDR-listed criminal convictions using table 10.213(c) of this section. An applicant conducting simultaneous MMC transactions is subject to only one NDR check.

(c) The guidelines in table 10.213(c) will be used by the Coast Guard in evaluating applicants who have drug or alcohol related NDR-listed convictions. Non-drug or alcohol related NDR-listed convictions will be evaluated by the Coast Guard under table 10.211(g) of § 10.211 of this part as applicable. The Coast Guard may consider non-drug or alcohol related NDR-listed convictions that are more than 3 years old from the date of the request when the information relates to a current suspension or revocation of the applicant's license to operate a motor vehicle.

Table 10.213(c)—Guidelines for Evaluating Applicants for MMCs Who Have NDR Motor Vehicle Convictions Involving Dangerous Drugs or Alcohol ¹
Number of convictions | Date of conviction | Assessment period
1 | Less than 1 year | 1 year from date of conviction.
1 | More than 1, less than 3 years | Application will be processed, unless suspension, or revocation ² is still in effect. Applicant will be advised that additional conviction(s) may jeopardize merchant mariner credentials.
1 | More than 3 years old | Application will be processed.
2 or more | Any less than 3 years old | 1 year since last conviction and at least 3 years from 2nd most recent conviction, unless suspension or revocation is still in effect.
2 or more | All more than 3 years old | Application will be processed unless suspension or revocation is still in effect.
¹ Any applicant who has ever been the user of, or addicted to the use of, a dangerous drug must meet the requirements of paragraph (f) of this section.
² Suspension or revocation, when referred to in table 10.213, means a State suspension or revocation of a motor vehicle operator's license.

(d) Any application may be denied if information from the NDR check leads the Coast Guard to determine that the applicant cannot be entrusted with the duties and responsibilities of the endorsement for which the application is made. If an application is denied, the Coast Guard will notify the applicant in writing of the reason(s) for denial and advise the applicant that the appeal procedures in subpart 1.03 of part 1 of this chapter apply. No examination will be given pending decision on appeal.

(e) Before denying an application because of information received from the NDR, the Coast Guard will make the information available to the applicant for review and written comment. The applicant may submit records from the applicable State concerning driving record and convictions to the Coast Guard Regional Examination Center (REC) processing the application. The REC will hold an application with NDR-listed convictions pending the completion of the evaluation and delivery by the individual of the underlying State records.

(f) If an applicant has one or more alcohol or dangerous drug-related criminal or NDR-listed convictions, if the applicant has ever been the user of, or addicted to the use of, a dangerous drug, or if the applicant applies before the minimum assessment period for his or her conviction has elapsed, the Coast Guard may consider the following factors, as applicable, in assessing the applicant's suitability to hold an MMC. This list is intended as a guide for the Coast Guard. The Coast Guard may consider other factors which it judges appropriate to a particular applicant, such as:

(1) Proof of completion of an accredited alcohol or drug abuse rehabilitation program;

(2) Active membership in a rehabilitation or counseling group, such as Alcoholics Anonymous or Narcotics Anonymous;

(3) Character references from persons who can attest to the applicant's sobriety, reliability, and suitability for employment in the merchant marine, including parole or probation officers;

(4) Steady employment; and

(5) Successful completion of all conditions of parole or probation.

§ 10.214 [Amended]

15. In § 10.214, remove the words “Until April 15, 2009, the” and add, in their place, the word “The”.

§ 10.215 [Removed]

16. Remove § 10.215

17. Revise § 10.217 to read as follows:

§ 10.217 Merchant mariner credential application and examination locations.

(a) Applicants for an MMC may apply to any of the Regional Examination Centers (RECs) or any other location designated by the Coast Guard. Applicants may contact the National Maritime Center at 100 Forbes Drive, Martinsburg, WV 25404, by telephone 1-888-427-5662 or 304-433-3400, or by e-mail at IASKNMC@uscg.mil. A list of locations approved for application submittal is available through the Coast Guard Web site at http://www.uscg.mil/nmc.

(b) Exam Locations. (1) Coast Guard units abroad may conduct exams for ratings at locations other than the RECs, but are not prepared to conduct practical examinations.

(2) The Coast Guard may designate additional exam facilities/locations to provide services to applicants for MMCs.

18. Revise § 10.219 to read as follows:

§ 10.219 Fees.

(a) Use table 10.219(a) of this section to calculate the mandatory fees for MMCs and associated endorsements.

Table 10.219(a)—Fees
If you apply for | And you need: Evaluation then the fee is . . . | And you need: Examination then the fee is . . . | And you need: Issuance then the fee is . . .
MMC with officer endorsement:
Original: |  |  |
Unlimited ¹ | $100 | $110 | $45
Limited ² | $100 | $95 | $45
Renewal | $50 | $45 | $45
Raise of grade | $100 | $45 | $45
Modification or removal of limitation or scope | $50 | $45 | $45
Radio officer endorsement: |  |  |
Original | $50 | $45 | $45
Renewal | $50 | n/a | $45
Staff officer endorsements: |  |  |
Original | $90 | n/a | $45
Renewal | $50 | n/a | $45
MMC with rating endorsement: |  |  |
Original endorsement for ratings other than qualified ratings | $95 | n/a | $45
Original endorsement for qualified rating | $95 | $140 | $45
Upgrade or raise of Grade | $95 | $140 | $45
Renewal endorsement for ratings other than qualified ratings | $50 | n/a | $45
Renewal endorsement for qualified rating | $50 | $45 | $45
Modification or removal of limitation or scope | $50 | $45 | $45
STCW endorsement: |  |  |
Original | No fee | No fee | No fee
Renewal | No fee | No fee | No fee
Reissue, replacement, and duplicate | n/a | n/a | $45 ³
¹ Unlimited means credentials authorizing service on vessels of any gross tons/unlimited tonnage or unlimited propulsion power.
² Limited means credentials authorizing service on vessels of less than 1,600 GRT/3,000 GT.
³ Duplicate for MMC lost as result of marine casualty—No Fee.

(b) Fee payment procedures. Applicants may pay:

(1) All fees required by this section at the time the application is submitted; or

(2) A fee for each phase at the following times:

(i) An evaluation fee when the application is submitted.

(ii) An examination fee before the first examination section is taken.

(iii) An issuance fee before receipt of the MMC.

(c) If the examination is administered at a place other than a Regional Examination Center (REC), the examination fee must be paid to the REC at least one week before the scheduled examination date.

(d) Fee payments must be for the exact amount and made by credit card or by electronic payment in a manner specified by the Coast Guard. For information regarding current forms of electronic payment, go to http://www.uscg.mil/stcw/ldcr-userfees.htm.

(e) Unless otherwise specified in this part, when two or more endorsements are processed on the same application, the fees will be as follows:

(1) Evaluation fees. If an applicant simultaneously applies for a rating endorsement and a deck or engineer officer's endorsement, only the evaluation fee for the officer's endorsement will be charged. If an applicant simultaneously applies for a staff officer or radio officer endorsement along with the deck or engineer officer endorsement, only the evaluation fee for the deck or engineer officer's endorsement will be charged. No evaluation fee is charged for an STCW endorsement.

(2) Examination fees. One examination fee will be charged for each exam or series of exams for an original, raise of grade, or renewal of an endorsement on an MMC taken within 1 year from the date of the application approval. An examination fee will also be charged to process an open-book exercise used to renew an MMC. If an officer endorsement examination under part 11 of this chapter also fulfills the examination requirements in part 12 of this chapter for rating endorsements, only the fee for the officer endorsement examination is charged.

(3) Issuance fees. Only one issuance fee will be charged for each MMC issued, regardless of the number of endorsements placed on the credential. There is no fee for a Document of Continuity.

(f) The Coast Guard may assess additional charges to anyone to recover collection and enforcement costs associated with delinquent payments or failure to pay a fee. The Coast Guard will not provide credentialing services to a mariner who owes money for credentialing services previously provided.

(g) Anyone who fails to pay a fee or charge established under this section is liable to the United States Government for a civil penalty of not more than $6,500 for each violation.

(h) No-fee MMC for certain applicants. For the purpose of this section, a no-fee MMC applicant is a person who is a volunteer, or a part-time or full-time employee of an organization that is:

(1) Charitable in nature;

(2) Not for profit; and

(3) Youth-oriented.

(i) Determination of eligibility. (1) An organization may submit a written request to U.S. Coast Guard National Maritime Center, 100 Forbes Drive, Martinsburg, WV 25404, in order to be considered an eligible organization under the criteria set forth in paragraph (h)(1) of this section. With the written request, the organization must provide evidence of its status as a youth-oriented, not-for-profit, charitable organization.

(2) The following organizations are accepted by the Coast Guard as meeting the requirements of paragraph (h)(1) of this section and need not submit evidence of their status: Boy Scouts of America, Sea Explorer Association, Girl Scouts of the United States of America, and Young Men's Christian Association of the United States of America.

(j) A letter from an organization determined eligible under paragraph (h)(2) of this section must also accompany the person's MMC application to the Coast Guard. The letter must state that the purpose of the person's application is solely to further the conduct of the organization's maritime activities. The applicant will then be eligible under this section to obtain a no-fee MMC if other requirements for the MMC are met.

(k) An MMC issued to a person under this section will be endorsed restricting its use to vessels owned or operated by the sponsoring organization.

(l) The holder of a no-fee MMC issued under this section may have the restriction removed by paying the appropriate evaluation, examination, and issuance fees that would have otherwise applied.

19. Amend § 10.221 as follows:

a. In paragraph (a)(1), remove the word “part” and add, in its place, the word “subchapter”;

b. In paragraph (a)(2), remove the section number “§ 12.40-11” and add, in its place, the section number “§ 12.809”; and

c. Revise paragraph (b) to read as follows:

§ 10.221 Citizenship.

* * * * *

(b) Proof of citizenship or alien status must be submitted to the Transportation Security Administration (TSA) with the applicant's TWIC application in accordance with 49 CFR 1572.17(a)(11). If appropriate proof of citizenship or alien status is not submitted to TSA when applying for a TWIC, applicants may be required to appear at an REC to provide proof of citizenship.

* * * * *

20. Amend § 10.223 as follows:

a. In paragraph (c)(2), remove the words “Beginning April 15, 2009, proof” and add, in their place, the word “Proof”;

b. In paragraphs (c)(3)(i), (c)(3)(ii), and (c)(3)(iii), remove the word “chapter” and add, in its place, the word “subchapter”; and

c. Revise paragraph (c)(3)(iv) to read as set down below.

§ 10.223 Modification or removal of limitations or scope.

* * * * *

(c) * * *

(3) * * *

(iv) The mandatory requirements for STCW endorsements are contained in parts 11, 12, and 13 of this subchapter.

* * * * *

21. Revise § 10.225 to read as follows:

§ 10.225 Requirements for original merchant mariner credentials.

(a) An applicant must apply as an original if the MMC sought is:

(1) The first credential issued to the applicant;

(2) The first credential issued to applicants after their previous credential has expired and they do not hold a Document of Continuity under § 10.227(g) of this part or an equivalent unexpired continuity endorsement on their license or MMD; or

(3) The first credential issued to applicants after their previous credential was revoked pursuant to § 10.235 of this part.

(b) A complete application for an original MMC must contain the following:

(1) A completed, signed application;

(2) Proof that the mariner either holds a valid TWIC or has applied for a TWIC;

(3) All supplementary materials required to show that the mariner meets the mandatory requirements for all endorsements sought as follows:

(i) The mandatory requirements for officer endorsements are contained in part 11 of this subchapter;

(ii) The mandatory requirements for rating endorsements are contained in part 12 of this subchapter;

(iii) The mandatory requirements for tanker rating endorsements are contained in part 13 of this subchapter; and/or

(iv) The mandatory requirements for STCW endorsements are contained in parts 11, 12, and 13 of this subchapter.

(4) The appropriate fee as set forth in § 10.219 of this part;

(5) Evidence of having passed a chemical test for dangerous drugs or of qualifying for an exemption from testing in § 16.220 of this subchapter;

(6) Where sea service is required, documentary evidence in accordance with § 10.232 of this part;

(7) Proof, documented on CG-719-K or CG-719-K/E, as appropriate, that the applicant passed all applicable vision, hearing, medical, and/or physical exams as required by subpart C of this part or a valid medical certificate/endorsement issued by the Coast Guard;

(8) Consent to a Coast Guard check of the NDR for offenses described in section 205(a)(3)(A) or (B) of the National Driver Register Act of 1982, as amended; and

(9) The oath as required in paragraph (c) of this section.

(c) Oath. Every person who receives an original MMC must first take an oath, before an official authorized to give such an oath, that he or she will faithfully and honestly, according to his or her best skill and judgment, without concealment or reservation, perform all the duties required by law and obey all lawful orders of superior officers. An oath may be administered by any Coast Guard-designated individual or any person legally permitted to administer oaths in the jurisdiction where the person taking the oath resides. An oath administered at a location other than the Coast Guard must be verified in writing by the administering official and submitted to the same Regional Examination Center (REC) where the applicant applied for his or her MMC. This oath remains binding for any subsequently issued MMC and endorsements added to the MMC, unless specifically renounced in writing.

22. Revise § 10.227 to read as follows:

§ 10.227 Requirements for renewal.

(a) Except as provided in paragraph (g) of this section, an applicant for renewal of a credential must establish possession of all of the necessary qualifications before the MMC will be renewed.

(b) A credential may be renewed at any time during its validity and for 1 year after expiration.

(c) No credential will be renewed if it has been suspended without probation or revoked as a result of action under part 5 of this chapter or if facts that would render a renewal improper have come to the attention of the Coast Guard.

(d) Except as provided in paragraph (g) of this section, a complete application for renewal must contain the following:

(1) A completed, signed application;

(2) Proof that the mariner holds a valid TWIC;

(3) The appropriate fee as set forth in § 10.219 of this part;

(4) Any uncanceled MMD, MMC, license, STCW endorsement, Certificate of Registry (COR), or Document of Continuity held by the applicant. If one or more of these credentials are still valid at the time of application, a photocopy—front, back, and all attachments—will satisfy this requirement;

(5) Evidence of having passed a chemical test for dangerous drugs or of qualifying for an exemption from testing in § 16.220 of this subchapter;

(6) Proof, documented on CG-719K or CG-719K/E, as appropriate, that the applicant passed all applicable vision, hearing, medical, and/or physical exams as required by subpart C of this part or a valid medical certificate/endorsement issued by the Coast Guard; and

(7) Consent to a Coast Guard check of the NDR for offenses described in section 205(a)(3)(A) or (B) of the National Driver Register Act of 1982, as amended.

(e) Except as provided in paragraph (e)(8) of this section and 46 CFR 13.120, the applicant must meet the following professional requirements for renewal:

(1) The applicant must either—

(i) Present evidence of at least 1 year of sea service during the past 5 years;

(ii) Pass a comprehensive, open-book exercise covering the general subject matter contained in appropriate sections of subpart I of this part;

(iii) Complete an approved refresher training course; or

(iv) Present evidence of employment in a position closely related to the operation, construction, or repair of vessels (either deck or engineer as appropriate) for at least 3 years during the past 5 years. An applicant for a deck license or officer endorsement with this type of employment must also demonstrate knowledge on an applicable Rules of the Road open-book exercise.

(2) The qualification requirements for renewal of radar observer endorsement are in § 11.480 of this subchapter.

(3) Additional qualification requirements for renewal of an officer endorsement as first-class pilot are contained in § 11.713 of this subchapter.

(4) An applicant for renewal of a radio officer's endorsement must, in addition to meeting the requirements of this section, present a copy of a currently valid license as first- or second-class radiotelegraph operator issued by the Federal Communications Commission.

(5) An applicant for renewal of an endorsement as medical doctor or professional nurse must, in addition to meeting the requirements of this section, present evidence that he or she holds a currently valid, appropriate license as physician, surgeon, or registered nurse issued under the authority of a State or territory of the United States, the Commonwealth of Puerto Rico, or the District of Columbia. Any such renewal will retain the limitations placed upon the medical license by the issuing body. There are no professional requirements for renewal of an endorsement as marine physician assistant or hospital corpsman.

(6) An applicant for renewal of an endorsement as master or mate (pilot) of towing vessels, in addition to the other requirements in this paragraph, must also submit satisfactory evidence of:

(i) Having completed a practical demonstration of maneuvering and handling a towing vessel to the satisfaction of a designated examiner; or

(ii) Ongoing participation in training and drills during the validity of the license or MMC being renewed.

(7) An applicant seeking to renew a tankerman endorsement must meet the additional requirements listed in § 13.120 of this subchapter.

(8) There are no professional requirements for renewal for the following endorsements:

(i) Staff officers (all types);

(ii) Ordinary seaman;

(iii) Wiper;

(iv) Steward's department;

(v) Steward's department (F.H.);

(vi) Cadet;

(vii) Student observer;

(viii) Apprentice engineer;

(ix) Apprentice mate (issued under part 12 of this subchapter);

(x) Person in charge of medical care;

(xi) Medical first-aid provider;

(xii) GMDSS at-sea maintainer; and

(xiii) GMDSS operator.

(f) Except as otherwise provided, each candidate for a renewal of an STCW endorsement must meet the applicable requirements of part 11, subpart C, and/or part 12, subpart F.

(g) Document of Continuity. (1) Applicants for renewal of domestic endorsements, who are unwilling or otherwise unable to meet the requirements of paragraph (d) of this section, including but not limited to the medical and physical standards of subpart C of this part, suitability standards of § 10.211 of this part, drug tests, professional requirements, and TWIC, may apply for a Document of Continuity issued by the Coast Guard. Documents of Continuity do not expire and are issued solely to maintain an individual's eligibility for renewal. A Document of Continuity does not entitle an individual to serve as a merchant mariner. A holder of a Document of Continuity may obtain a properly endorsed, valid MMC at any time by satisfying the requirements for renewal as provided in paragraph (d) of this section. When a valid MMC is issued to replace a previously held Document of Continuity, the previously issued Document of Continuity becomes void.

(2) Applications for a Document of Continuity must include:

(i) The endorsements to be placed into continuity; and

(ii) An application, including a signed statement from the applicant, attesting to an awareness of the limited purpose of the Document of Continuity, his or her inability to serve, and the requirements to obtain an MMC.

(3) If not all MMC endorsements are to be converted into a Document of Continuity, a new MMC will be issued with the active endorsements. Once the new MMC and/or Document of Continuity is issued the previous MMC is no longer valid and must be returned to the Coast Guard.

(4) STCW endorsements may not be placed in continuity. If an individual continues to maintain a valid MMC while placing specific domestic endorsements into continuity, those STCW endorsements associated with the domestic endorsements that were placed in continuity are no longer valid. A holder of a Document of Continuity may obtain a properly endorsed, valid MMC, including STCW endorsements, at any time by satisfying the requirements for renewal as provided in paragraph (d) of this section.

(5) No credential expired beyond the 12-month administrative grace period in paragraph (h) of this section can be converted into a Document of Continuity.

(h) Administrative grace period. Except as provided herein, a credential may not be renewed more than 12 months after it has expired. For a credential to be re-issued by the Coast Guard more than 12 months after its expiration, an applicant must comply with the requirements of paragraph (i) of this section. When an applicant's credential expires during a time of service with the Armed Forces and there is no reasonable opportunity for renewal, including by mail, this period may be extended. The period of military service following the date of expiration which precluded renewal may be added to the 12-month grace period. The 12-month grace period and any extensions do not affect the expiration date of the credential. A license, MMD, COR, STCW endorsement, MMC, and any endorsements thereon, are not valid for use after the expiration date.

(i) Re-issuance of expired credentials. (1) If an applicant applies for re-issuance of an endorsement as deck officer, engineer officer, or qualified rating more than 12 months after its expiration, instead of the requirements of paragraph (e) of this section, the applicant must demonstrate continued professional knowledge by completing a course approved for this purpose, or by passing the complete examination for original issue of the endorsement. The examination may be oral-assisted if the expired credential was awarded based on the results of an oral exam. The fees set forth in § 10.219 of this part apply to these examinations. In the case of an expired radio officer's endorsement, the endorsement may be issued upon presentation of a valid first- or second-class radiotelegraph operator license issued by the Federal Communications Commission.

(2) An endorsement for chief purser, purser, senior assistant purser, junior assistant purser, hospital corpsman, marine physician assistant, medical doctor, or professional nurse that has been expired for more than 12 months must be renewed in the same way as a current endorsement of that type. There are no additional requirements for re-issuing endorsements for chief purser, purser, senior assistant purser, junior assistant purser, hospital corpsman, marine physician assistant, medical doctor, or professional nurse that have been expired for more than 12 months.

(3) Applicants applying for re-issuance of an endorsement as master or mate (pilot) of towing vessels more than 12 months after expiration of the previous endorsement must complete the practical demonstration of maneuvering and handling a towing vessel required under (e)(6)(i) of this section.

(4) Applicants applying for re-issuance of an endorsement as any tankerman rating more than 12 months after expiration of the previous endorsement must meet the requirements in § 13.117 of this subchapter.

23. Amend § 10.229 as follows:

a. Revise the section heading to read as set down below;

b. Revise paragraph (a) to read as set down below;

c. In paragraph (b), in the first sentence, after the words “The duplicate”, add the word “credential” and remove the second sentence;

d. In paragraph (c), after the words “a duplicate”, add the word “credential”; and

e. In paragraph (d), after the words “the appropriate fees set out in § 10.219”, add the words “of this part”.

§ 10.229 Replacement of lost merchant mariner credentials.

(a) A mariner may be issued a duplicate credential upon request, and without examination, after submitting an application with an affidavit describing the circumstances of the loss. The Coast Guard will only issue the duplicate credential, MMC and/or medical certificate/endorsement, after confirming the validity of the mariner's credential and the validity of the mariner's TWIC.

* * * * *

24. Revise § 10.231 to read as follows:

§ 10.231 Requirements for raises of grade or new endorsements.

(a) This section applies to applicants who already hold a valid credential and want to make the following transactions:

(1) Add a new endorsement; or

(2) Raise of grade of an existing endorsement.

(b) New endorsements or raises of grade of existing endorsements on an MMC under this section will not change the expiration date of the MMC unless the applicant renews all endorsements that appear on the MMC under § 10.227 of this part.

(c) A complete application for a new endorsement or raise of grade must contain the following:

(1) A completed, signed application;

(2) Proof that the mariner holds or has applied for a valid TWIC;

(3) All supplementary materials required to show that the mariner meets the mandatory requirements for the new endorsements sought as follows:

(i) The mandatory requirements for officer endorsements are contained in part 11 of this subchapter and paragraph (d) of this section;

(ii) The mandatory requirements for rating endorsements are contained in part 12 of this subchapter;

(iii) The mandatory requirements for tankerman rating endorsements are contained in part 13 of this subchapter; and/or

(iv) The mandatory requirements for STCW endorsements are contained in parts 11, 12, and 13 of this subchapter.

(4) The appropriate fee as set forth in § 10.219 of this part;

(5) Any uncanceled MMD, MMC, license, STCW endorsement, or COR held by the applicant. If one or more of these credentials are still valid at the time of application, a photocopy—front, back, and all attachments—will satisfy this requirement;

(6) Applicants for the following endorsements must produce evidence of having passed a chemical test for dangerous drugs or of qualifying for an exemption from testing in § 16.220 of this subchapter:

(i) Any officer endorsement; and

(ii) The first endorsement as able seaman, lifeboatman, lifeboatman-limited, qualified member of the engine department, or tankerman.

(7) Where sea service is required, documentary evidence in accordance with § 10.232 of this part;

(8) Proof, documented on CG-719-K or CG-719-K/E, as appropriate, that the applicant passed all applicable vision, hearing, medical, and/or physical exams as required by subpart C of this part or a valid medical certificate/endorsement issued by the Coast Guard; and

(9) Consent to a Coast Guard check for offenses described in section 205(a)(3)(A) or (B) of the National Driver Register Act of 1982, as amended.

(d) Additional requirements for an applicant seeking a raise of grade of an officer endorsement:

(1) Sea service acquired before the issuance of an officer endorsement is generally not accepted as any part of the service required for a raise of grade of that endorsement. However, service acquired before issuance of an officer endorsement will be accepted for certain crossovers, endorsements, or increases in scope of an MMC, as appropriate. In the limited tonnage categories for deck officers, total accumulated service is a necessary criterion for most raises of grade; therefore service acquired before the issuance of such officer endorsements will be accepted.

(2) An applicant remains eligible for a raise of grade while on probation as a result of action under part 5 of this chapter. A raise of grade issued to a person on probation will be subject to the same probationary conditions imposed against his or her other credentials. The offense for which he or she was placed on probation will be considered on the merits of the case in determining fitness to hold the endorsement applied for. No applicant will be examined for a raise of grade during any period when a suspension without probation or a revocation imposed under part 5 of this chapter is effective against his or her credential or while an appeal from these actions is pending.

(3) Professional examination. (i) When the Coast Guard finds an applicant's experience and training for raise of grade is satisfactory, and the applicant is eligible in all other respects, the Coast Guard will authorize a professional examination.

(ii) Oral-assisted examinations may be administered in accordance with § 11.201(j) of this subchapter.

(iii) The general instructions for administration of examinations and the lists of subjects for all endorsements are found in part 11, subpart I; part 12, subpart E; and part 13, subpart A of this subchapter.

25. Add § 10.232 to read as follows:

§ 10.232 Sea service.

(a) Documenting sea service. (1) Sea service may be documented in various forms such as certificates of discharge, pilotage service and billing forms, and service letters or other official documents from marine companies signed by the owner, operator, master, or chief engineer of the vessel. The Coast Guard must be satisfied as to the authenticity and acceptability of all evidence of experience or training presented.

(2) The documentary evidence produced by the applicant must contain the following information:

(i) Vessel name(s) and official numbers listed on the registration, certificate, or document issued;

(ii) Gross tonnage of the vessel;

(iii) Propulsion power and mode of propulsion of the vessel;

(iv) The amount and nature (e.g., chief mate, assistant engineer, etc.) of the applicant's experience;

(v) Applicable dates of service for each vessel, and the ports or terminals, if applicable; and

(vi) The routes upon which the experience was acquired.

(3) An MMC endorsement, in certain cases, may be considered as satisfactory evidence of any qualifying experience for obtaining other endorsements.

(4) For service on vessels of less than 200 GRT/500 GT, owners of vessels may attest to their own service and provide proof of ownership. Those who do not own a vessel must obtain letters or other evidence from licensed personnel or the owners of the vessels listed.

(5) If the required sea service is associated with watchkeeping functions and the performance of duties, as required in §§ 11.323, 11.328, 11.333, and 11.470, 11.474, and 11.482 of this subchapter, the service must be documented as having been carried out under the direct supervision of the appropriate person.

(b) Service toward an oceans, near-coastal, or STCW endorsement will be credited as follows:

(1) Service on the Great Lakes will be credited on a day-for-day basis.

(2) Service on inland waters, other than Great Lakes, that are navigable waters of the United States, may be substituted for up to 50 percent of the total required service.

(c) Sea service as a member of the Armed Forces of the United States and civilian service on vessels owned by the United States as required experience. (1) Sea service as a member of the Armed Forces of the United States will be accepted as required experience for an original, raise of grade, renewal, or increase in scope of all endorsements. In most cases, military sea service will have been performed upon ocean waters; however, inland service, as may be the case on smaller vessels, will be credited in the same manner as conventional evaluations. The applicant must submit an official transcript of sea service or history of assignments as verification of the service claimed when the application is submitted. A DD-214 is not acceptable evidence of sea service. The applicant must also provide the Coast Guard with other necessary information as to tonnage, routes, propulsion power, percentage of time underway, and assigned duties upon the vessels which he or she served. Such service will be evaluated by the Coast Guard for a determination of its equivalence to sea service acquired on merchant vessels and the appropriate grade, class, and limit of endorsement for which the applicant is eligible. Normally, 60 percent of the total time onboard is considered equivalent underway service; however, the periods of operation of each vessel may be evaluated separately. In order to be eligible for a master's or chief engineer's unlimited endorsement, the applicant must have acquired military service in the capacity of commanding officer or engineer officer, respectively.

(2) Applicants for management-level, operational-level, or support-level STCW endorsements must demonstrate competence in accordance with part 11, subpart C; part 12, subpart F; and part 13, subpart F of this subchapter.

(3) Service in deck ratings on military vessels such as seaman apprentice, seaman, boatswain's mate, quartermaster, or Radarman/Operations Specialist are considered deck service for the purposes of this part. Service in other ratings may be considered if the applicant establishes that his or her duties required a watchstanding presence on or about the bridge of a vessel. Service in engineer ratings on military vessels such as fireman apprentice, fireman, engineman, machinists, mate, machinery technician, or boiler tender are considered engineer service for the purposes of this part. There are also other ratings such as electrician, hull technician, or damage controlman, which may be credited when the applicant establishes that his or her duties required watchstanding duties in an operating engine room.

(4) In addition to service on vessels that get underway regularly, members of the Armed Forces may obtain creditable service for assignment to vessels that get underway infrequently, such as tenders and repair vessels. Normally, a 25-percent factor is applied to these time periods. This experience can be equated with general shipboard familiarity, training, ship's business, and other related duties.

(5) Sea service obtained on submarines is creditable, as if it were surface vessel service, for deck and engineer officer and qualified ratings endorsements under the provision of paragraph (a) of this section. For application for deck officer and qualified ratings endorsements, submarine service may be creditable if at least 25 percent of all service submitted for the endorsement was obtained on surface vessels (e.g., if 4 years' total service were submitted for an original officer endorsement, at least 1 year must have been obtained on surface craft in order for the submarine service to be eligible for evaluation).

(6) Service gained in a civilian capacity as commanding officer, master, mate, engineer, or pilot, etc., of any vessel owned and operated by the United States, in any service in which a license or officer endorsement as master, mate, engineer, or pilot was not required at the time of such service, will be evaluated by the Coast Guard for a determination of equivalence.

(d) Sea service on vessels that do not get underway. This requirement applies to service obtained on vessels mandated by the Certificate of Inspection (COI) which are in operation but do not get underway or occasionally get underway for short voyages. Service while the vessel is not underway must be credited as follows:

(1) Engineering department. Service may be credited day-for-day for up to 50 percent of the service credit for renewal, raise in grade, and original issue for each day the engineering plant is operational.

(2) Deck department. Service may be credited as follows:

(i) Original issue and raise in grade. Service is creditable on a 3-for-1 basis (12 months of experience equals 4 months of creditable service) for up to 6 months of service credit.

(ii) Renewal. Service in any capacity in the deck department is creditable as closely related service under § 10.227(e)(1)(iv). When submitted in combination with underway service, service is creditable on a 3-for-1 basis (12 months of experience equals 4 months of creditable service) for up to 6 months of service credit.

(e) Foreign sea service. (1) Experience and service acquired on foreign vessels is creditable for establishing eligibility for an original or renewal of an officer, rating, or STCW endorsement, subject to evaluation by the Coast Guard to determine that it is a fair and reasonable equivalent to service acquired on merchant vessels of the United States with respect to grade, tonnage, horsepower, waters, and operating conditions. This experience and service is also creditable to meet recency requirements.

(2) Experience and service acquired on foreign vessels while holding a valid U.S. endorsement is creditable for establishing eligibility for a raise of grade of an officer, rating, or STCW endorsement, subject to evaluation as specified in paragraph (d)(1) of this section. This experience and service is also creditable to meet recency requirements.

(3) An applicant who has obtained qualifying experience on foreign vessels must submit satisfactory documentary evidence of such service (including any necessary official translation to the English language) in accordance with paragraph (a)(1) and (a)(2) of this section.

(f) Closely related service. The Coast Guard may accept evidence of employment in a position closely related to the operation, construction, or repair of vessels (either deck or engineer as appropriate) as meeting the sea service requirements for renewal under § 10.227(e)(1)(iv). Service as port engineer, port captain, shipyard superintendent experience, instructor service, or similar related service may be creditable for service for raise of grade of an engineer or deck officer endorsement; however, it may not be used for obtaining an original management-level endorsement. The service is creditable as follows:

(1) Port engineer, port captain or shipyard superintendent experience is creditable on a 3-for-1 basis for a raise of grade. (12 months of experience equals 4 months of creditable service.)

(2) Service as a bona fide instructor in Coast Guard-approved courses or a training program is creditable on a 2-for-1 basis for a raise of grade. (12 months of experience equals 6 months of creditable service.)

(g) Day. (1) Except as noted otherwise, for the purpose of calculating service in this subchapter, a day is equal to 8 hours of watchstanding or day-working not to include overtime.

(2) On vessels authorized by 46 U.S.C. 8104 and 46 CFR 15.705, to operate a two-watch system, a 12-hour working day may be creditable as 1½ days of service.

(3) On vessels of less than 100 GRT, a day is considered as 8 hours unless the Coast Guard determines that the vessel's operating schedule makes this criterion inappropriate; in no case will this period be less than 4 hours.

(4) When computing service on MODUs for any endorsement, a day of MODU service must be a minimum of 4 hours, and no additional credit is received for periods served over 8 hours.

26. Amend § 10.235 as follows:

a. In paragraph (d), after the words “of those endorsements are suspended or revoked,”, remove the words “the mariner” and add, in their place, the words “he or she”, and after the words “will be issued”, add the words “, without payment of a fee,”;

b. In paragraph (e), after the words “has been suspended”, add the words “without probation”;

c. Redesignate paragraphs (f) through (h) as paragraphs (g) through (i);

d. Add new paragraph (f) to read as set down below;

e. In new paragraph (g), remove the text “§ 10.227(d)(8)(vi)(A)” and add, in its place, the words “§ 10.227(e)(6)(i) of this subpart”;

f. In new paragraph (h), remove the words “Beginning April 15, 2009, if” and add, in their place, the word “If”; and

g. In new paragraph (i), remove the words “Beginning April 15, 2009, a” and add, in their place, the letter “A”.

§ 10.235 Suspension or revocation of merchant mariner credentials.

* * * * *

(f) When applying for an original endorsement on an MMC, pursuant to paragraph (d) of this section, an individual's existing service and training may be considered by the Coast Guard when determining the grade of the endorsement to be issued.

* * * * *

27. Revise § 10.239 to read as follows:

§ 10.239 Quick reference table for MMC requirements.

Table 10.239 of this section provides a guide to the requirements for officer endorsements. Provisions in the reference section are controlling.

Table 10.239—Quick Reference Table for MMC Requirements
[For tankerman endorsements, see table 13.129]
Endorsement category | Minimum age | Citizenship | Medical and physical exam | Experience | Recommendations and character check | Firefighting | Professional exam | Demonstration of professional ability | Recency of service | First aid and CPR
Master, mates | § 11.201(e) Note: exceptions | U.S., § 10.221(a)(1)§ 11.201(d) | § 10.302(a) | 46 CFR Part 11—Subpart D | N/A.: Note exceptions in § 11.201(g) for original domestic or STCW endorsements | § 11.201(h) | § 11.201(j); § 11.903; § 11.910 Note: § 11.903(b) | N/A | original § 11.201(c)(2) renewal § 10.227(e) | §§ 11.201(i) Note: exceptions
OUPV | § 11.201(e) Note: exceptions here and in § 11.201(l) | § 10.221(a)(1) § 11.201(d) | § 10.302(a) | § 11.467(c); (d); (e); (f); (g) | N/A.: Note exceptions in § 11.201(g) for original domestic or STCW endorsements | N/A | § 11.201(j); § 11.903; § 11.910 | N/A | original § 11.201(c)(2) renewal § 10.227(e) | §§ 11.201(i): Note exceptions
STCW Deck Officer endorsements | § 11.201(e) Note: exceptions | U.S., § 10.221(a)(1) § 11.201(d) | § 10.302(a) | 46 CFR Part 11—Subpart C | N/A.: Note exceptions in § 11.201(g) for original domestic or STCW endorsements | § 11.301(c) Renewal: § 11.301(c)(2); (3) | N/A | Master § 11.305; .311; .315; .317 Chief Mate § 11.307; .313; OICNW § 11.309; .319; .321 | original § 11.201(c)(2) renewal § 10.227(e) | § 11.201(i)
Officer on a passenger ship when on an international voyage | N/A | N/A | N/A | N/A | N/A | N/A | N/A | § 11.1105(a)(1); (2) | § 11.1105(c) | N/A
Engineers (original) | § 11.201(e) Note: exceptions | U.S., § 10.221(a)(1) § 11.201(d) | § 10.302(a) | 46 CFR Part 11—Subpart E | N/A.: Note exceptions in § 11.201(g) for original domestic or STCW endorsements | § 11.201(h) | § 11.201(j); § 11.903; § 11.950 Note: § 11.903(b) | N/A | original § 11.201(c)(2) renewal § 10.227(e) | § 11.201(i)
STCW Engineering Officer endorsements | § 11.201(e) Note: exceptions | U.S., § 10.221(a)(1) § 11.201(d) | § 10.302(a) | 46 CFR Part 11—Subpart C | N/A.: Note exceptions in § 11.201(g) for original domestic or STCW endorsements | § 11.301(c) Renewal: § 11.301(c)(2); (3) | N/A | Chief § 11.325; § 11.331; 2nd engineer officer; § 11.327; § 11.333 OICEW/DDE § 11.329 | original § 11.201(c)(2) renewal § 10.227(e) | § 11.201(i)
Domestic Designated Duty Engineer (DDE) | § 11.201(e) Note: exceptions | U.S., § 10.221(a)(1) § 11.201(d) | § 10.302(a) | § 11.524(b) | N/A.: Note exceptions in § 11.201(g) for original domestic or STCW endorsements | § 11.201(h)(1)(iv) | § 11.903 | N/A | original § 11.201(c)(2) renewal § 10.227(e) | § 11.201(i)
Electro-technical officer | § 11.201(e) Note: exceptions | U.S., § 10.221(a)(1) § 11.201(d) | § 10.302(a) | § 11.335(a)(1) note exception in § 11.335(b) & § 11.335(c) | N/A.: Note exceptions in § 11.201(g) for original domestic or STCW endorsements | § 11.335(a)(3)(ii) | N/A | § 11.335(a)(2), (3) note exception § in 11.335(b) & (c) |  | § 11.335(a)(3)(i)
Pilot | § 11.201(e) Note: exceptions | U.S., § 10.221(a)(1) § 11.201(d) | § 10.302(a); § 11.709 | § 11.703; § 11.705 | N/A.: Note exceptions in § 11.201(g) for original domestic or STCW endorsements | N/A | § 11.707; § 11.903; § 11.910 | § 11.705 | § 11.705(e), § 11.713 | § 11.201(i)
Towing vessels | § 11.201(e) Note: exceptions | U.S., § 10.221(a)(1) § 11.201(d) | § 10.302(a) | 46 CFR Part 11—Subpart D | N/A.: Note exceptions in § 11.201(g) for original domestic or STCW endorsements | § 11.201(h)(1)(ii) § 11.201(h)(2)(ii) Note: exceptions | § 11.201(j); § 11.903; § 11.910 | § 11.464; § 11.465 | original § 11.201(c)(2) renewal § 10.227(e) | § 11.201(i)
Offshore Supply Vessels | § 11.201(e) Note: exceptions | U.S., § 10.221(a)(1) § 11.201(d) | § 10.302(a) | Master § 11.493 Chief Mate § 11.495 Mate § 11.497 C/E § 11.553 Asst Engineer § 11.555 | N/A.: Note exceptions in § 11.201(g) for original domestic or STCW endorsements | § 11.201(h) | § 11.201(j); Master § 11.493 Chief Mate § 11.495 Mate § 11.497 C/E § 11.553; § 11.903 Asst. Eng § 11.555; § 11.903 | Master § 11.493 Chief Mate § 11.495 Mate § 11.497 C/E § 11.553 Asst Engineer § 11.555 | original § 11.201(c)(2) renewal § 10.227(e) | § 11.201(i)
MODU licenses | § 11.201(e) Note: exceptions | U.S., § 10.221(a)(1) § 11.201(d) | § 10.302(a) | OIM: § 11.470 B.S.: § 11.472 BCO: § 11.474 ChEng: § 11.542 Asst. Eng: § 11.544 | N/A.: Note exceptions in § 11.201(g) for original domestic or STCW endorsements | § 11.201(h): note exceptions | § 11.201(j); § 11.903; § 11.920 | N/A | original § 11.201 (c)(2) renewal § 10.227(e) | § 11.201(i)
Uninspected fishing industry vessels | § 11.201(e) Note: exceptions | U.S., § 10.221(a)(1) § 11.201(d) | § 10.302(a) | Deck: § 11.462(c); (d); Engine: § 11.530(c); (d); (e) | N/A.: Note exceptions in § 11.201(g) for original domestic or STCW endorsements | § 11.201(h) Note: exceptions | § 11.201(j); § 11.903; § 11.910 | N/A | original § 11.201(c)(2) renewal § 10.227(e) | § 11.201(i)
Radio officer | § 11.201(e) Note: exceptions | U.S., § 10.221(a)(1) § 11.201(d) | § 10.302(a) | N/A | N/A.: Note exceptions in § 11.201(g) for original domestic or STCW endorsements | N/A | N/A | § 11.603 | N/A | § 11.201(i)
GMDSS Operator | N/A | N/A | N/A | N/A | N/A | N/A | N/A | § 11.604 | N/A | N/A
Officer raises of grade | § 11.201(e) Note: exceptions | U.S., § 10.221(a)(1) § 11.201(d) | § 10.302(a) | § 10.231(c); Part 11, subparts D and E | N/A | N/A | § 10.231(d); § 11.903; § 11.910; § 11.920; § 11.950 | Part 11, subparts D and E | 3 months in past 3 years, § 11.201(c)(2) | N/A
Officer renewals | § 11.201(e) Note: exceptions | U.S., § 10.221(a)(1) § 11.201(d) | § 10.302(a) | § 10.227(d) and (e) Note: exceptions | N/A | N/A | N/A | Towing officers, § 10.227(d) and (e) | 1 year in past 5, § 10.227(e) and (f) Note: alternative | N/A
Staff officer | § 11.201(e) Note: exceptions | U.S., § 10.221(a)(1) § 11.201(d) | § 10.302(a) | § 11.807 | N/A.: Note exceptions in § 11.201(g) for original domestic or STCW endorsements | N/A | N/A | § 11.807 | N/A | § 11.201(i)
Staff officer renewals | § 11.201(e) Note: exceptions | U.S., § 10.221(a)(1) § 11.201(d) | § 10.302(a) | N/A | N/A. | N/A | N/A | N/A | N/A | N/A
Able seaman | § 12.401(c)(1) | U.S. or alien admitted for permanent residence, § 10.221(a)(2) | § 10.302(a), § 12.401(c)(2) | § 12.403 | N/A. | N/A | § 12.401(c)(5) | § 12.401(c)(6) § 12.405 | Renewal only, 1 year in past 5, § 10.227(e) and (f) Note: alternative | N/A
Able-seafarer deck | § 12.603(a)(1) | U.S. or alien admitted for permanent residence, § 10.221(a)(2) | § 10.302(a) | § 12.603(a)(3) | N/A | N/A | N/A | § 12.603(a)(2) § 12.603(a)(4) § 12.603(a)(5) | Renewal only, 1 year in past 5, § 10.227(e) and (f) Note: alternative | § 12.601(c)
Ratings for forming a navigational watch | § 12.605(a)(1) | U.S. or alien admitted for permanent residence, § 10.221(a)(2) | § 10.302(a) | § 12.605(a)(2) | N/A. | N/A | N/A | § 12.605(a)(3) | Renewal only, 1 year in past 5, § 10.227(e) and (f) Note: alternative | § 12.601(c)
Qualified members of engine department | § 12.501(c)(1) | U.S. or alien admitted for permanent residence, § 10.221(a)(2) | § 10.302(a) | § 12.503 | N/A. | N/A | § 12.505 | N/A | Renewal only, 1 year in past 5, § 10.227(e) and (f) Note: alternative | N/A
Able-seafarer engine | § 12.607(a)(1) | U.S. or alien admitted for permanent residence, § 10.221(a)(2) | § 10.302(a) | § 12.607(a)(3) | N/A. | N/A | N/A | § 12.607(a)(2); (4) § 12.607(b); (c) | Renewal only, 1 year in past 5, § 10.227(e) and (f) Note: alternative | § 12.601(c)
Ratings for forming an engineering watch | § 12.609(a)(1) | U.S. or alien admitted for permanent residence, § 10.221(a)(2) | § 10.302(a) | § 12.609(a)(2) | N/A. | N/A | N/A | § 12.609(a)(3) | Renewal only, 1 year in past 5, § 10.227(e) and (f) Note: alternative | § 12.601(c)
Electro-technical rating | § 12.611(a)(1) | U.S. or alien admitted for permanent residence, § 10.221(a)(2) | § 10.302(a) | § 12.611(a)(2) | N/A | N/A | N/A | § 12.611(a)(3); § 12.611(b); (c) | Renewal only, 1 year in past 5, § 10.227(e) and (f) Note: alternative | § 12.601(c)
Entry level ratings | N/A | U.S. or alien admitted for permanent residence, § 10.221(a)(2) § 12.803; § 12.809 | N/A; note exception in § 12.811(a)(2) Note: Food Handler (F.H.) requirements in Table § 10.302(a)(xiii) § 10.302(a) (xiv) | N/A | N/A | N/A | N/A | N/A | N/A | N/A
Lifeboatman | N/A | U.S. or alien admitted for permanent residence, § 10.221(a)(2) | § 10.302(a) | § 12.407(b)(1) | N/A | N/A | § 12.407(b)(2); (4) | § 12.407(b)(2); (3) | Renewal only, 1 year in past 5, § 10.227(e) and (f) Note: alternative | N/A
Lifeboat- man— Limited | N/A | U.S. or alien admitted for permanent residence, § 10.221(a)(2) | § 10.302(a) | § 12.409(b)(1) | N/A. | N/A | § 12.409(b)(2); (4) | § 12.409(b)(2); (3) | Renewal only, 1 year in past 5, § 10.227(e) and (f) Note: alternative | N/A
Proficiency in fast rescue boats | § 12.617(a)(1) | U.S. or alien admitted for permanent residence, § 10.221(a)(2) | N/A | N/A | N/A | N/A | N/A | § 12.617(a)(2); (3); (4) | Renewal only, 1 year in past 5, § 10.227(e) and (f) Note: alternative Renewal § 12.617(b)(2) | § 12.601(c)
Proficiency in survival craft and rescue boats other than fast rescue boats | § 12.613(a)(1) | U.S. or alien admitted for permanent residence, § 10.221(a)(2) | N/A | § 12.613(a)(2) | N/A | N/A | N/A | § 12.613(a)(3) | Renewal only, 1 year in past 5, § 10.227(e) and (f) Note: alternative Renewal: § 12.613(b)(2) | § 12.601(c)
Proficiency in survival craft and rescue boats other than lifeboats and fast rescue boats-limited | § 12.615(a)(1) | U.S. or alien admitted for permanent residence, § 10.221(a)(2) | N/A | § 12.615(a)(2) | N/A | N/A | N/A | § 12.615(a)(3) | Renewal only, 1 year in past 5, § 10.227(e) and (e) Note: alternative Renewal: § 12.615(b)(2) | § 12.601(c)
Assistance Towing endorsement | N/A | N/A | N/A | § 11.482 | N/A | N/A | § 11.482 | § 11.482 | original § 11.201(c)(2) | N/A
Radar Observer endorsement | N/A | N/A | N/A | N/A | N/A | N/A | N/A | § 11.480(d); (h) | N/A | N/A
Vessel Security Officer | § 11.811(a) | U.S. or alien admitted for permanent residence, § 10.221(a)(1) § 10.221(a)(2) | §§ 10.302(a) | § 11.811(a) | N/A.: Note exceptions in § 11.201(g) for original domestic or STCW endorsements | N/A | N/A | § 11.811(a) | original § 11.201(c)(2) renewal § 10.227(e) | § 11.201(i)
High Speed Craft | N/A | U.S. § 10.221(a)(1) | N/A | § 11.821(a)(1) § 11.821(b) | N/A.: Note exceptions in § 11.201(g) for original domestic or STCW endorsements | N/A | N/A | § 11.821(a)(2) | Renewal: § 11.821(d) | N/A
GMDSS at sea maintainer | § 12.623(a) | N/A | N/A | N/A | N/A | N/A | N/A | § 12.623(b) | N/A | N/A
Medical first-aid provider | N/A | N/A | N/A | § 12.619(b) | N/A | N/A | N/A | § 12.619(a)(1); (2) | N/A | § 12.619(a)(1)
Person in charge of medical care | N/A | N/A | N/A | § 12.621(b) | N/A | N/A | N/A | § 12.621(a)(1); (2) | N/A | § 12.621(a)(1)
Vessel personnel with designated security duties | § 12.625(a)(1) | U.S. or alien admitted for permanent residence, § 10.221(a)(2) § 12.803 | § 12.625(a)(2) | § 12.625(a)(1) | N/A | N/A | N/A | § 12.625(a)(1) | Renewal only, 1 year in past 5, § 10.227(e) and (f) Note: alternative | N/A
Security awareness | § 12.627(a)(1) | U.S. or alien admitted for permanent residence, § 10.221(a)(2) § 12.803 | § 12.627(a)(2) | § 12.627(a)(1) | N/A | N/A | N/A | § 12.627(a)(1) | Renewal only, 1 year in past 5, § 10.227(e) and (f) Note: alternative | N/A
Ratings serving on passenger ships on international voyages | N/A | N/A | N/A | N/A | N/A | N/A | N/A | § 12.905(a); (b) | Renewal § 12.905(d) | N/A

28. Add subpart C, consisting of §§ 10.301 through 10.306, to read as follows:

Subpart C—Medical Certification

Sec.
10.301 General requirements.
10.302 Medical and physical requirements.
10.303 Medical waivers.
10.304 General medical exam.
10.305 Vision requirements.
10.306 Hearing requirements.

§ 10.301 General requirements.

(a) The Coast Guard will issue a medical certificate/endorsement to a mariner meeting the medical and physical standards for merchant mariners. The medical certificate/endorsement will be issued for various periods of time based upon the endorsements the mariner holds. If the Coast Guard, after reviewing all relevant supporting medical documents and consultation with an examining medical professional as provided in § 10.302(b), determines that an applicant's condition may directly impact safety, and therefore does not meet the required medical and/or physical standard, the Coast Guard may place an operational limitation on the medical certificate/endorsement, issue a medical waiver, or deny a medical certificate.

(b) Except as otherwise noted, medical certificates/endorsements will be issued for the following periods of time:

(1) Medical certificates/endorsements issued to a mariner serving under the authority of an STCW endorsement will be issued for a maximum period of 2 years unless the mariner is under the age of 18, in which case the maximum period of validity will be 1 year.

(2) Medical certificates/endorsements issued to a mariner who is serving as a first-class pilot, or acting as a pilot under § 15.812 of this subchapter, will be issued for a maximum period of 1 year.

(3) Medical certificates/endorsements issued to all other mariners will be issued for a maximum period of 5 years.

(4) Applicants seeking additional MMC endorsements holding a current medical endorsement/certificate do not need to submit a new medical physical exam if their existing medical endorsement/certification meets all of the requirements of this section for the endorsement sought.

(c) Individuals holding no endorsement other than a staff officer endorsement need not meet the medical and physical requirements of this section.

§ 10.302 Medical and physical requirements.

(a) To qualify for an MMC, a mariner must provide evidence of meeting the medical and physical standards in this section on a CG-719-K or CG-719-K/E, as appropriate. The Coast Guard retains final authority for determining whether a mariner is medically and physically qualified. Columns 2 through 5 of Table 10.302(a) of this section provide the specific exam, test, or demonstrations required to obtain the corresponding credential listed in column 1. Further clarifications of the requirements contained in the table are found throughout this subpart.

Table 10.302(a)—Medical and Physical Requirements for Mariner Endorsements
Credential | Vision test | Hearing test | General medical exam | Demonstration of physical ability
1 | 2 | 3 | 4 | 5
(i) Deck officer, including pilot | § 10.305(a) | § 10.306 | § 10.304(a) | § 10.304(d)
(ii) Engineering officer | § 10.305(b) | § 10.306 | § 10.304(a) | § 10.304(d)
(iii) Radio officer | § 10.305(b) | § 10.306 | § 10.304(a) | § 10.304(d)
(iv) Offshore installation manager, barge supervisor, or ballast control operator | § 10.305(b) | § 10.306 | § 10.304(a) | § 10.304(d)
(v) Able seaman | § 10.305(a) | § 10.306 | § 10.304(a) | § 10.304(d)
(vi) QMED | § 10.305(b) | § 10.306 | § 10.304(a) | § 10.304(d)
(vii) Able seafarer deck | § 10.305(a) | § 10.306 | § 10.304(a) | § 10.304(d)
(viii) RFPNW | § 10.305(a) | § 10.306 | § 10.304(a) | § 10.304(d)
(ix) Able seafarer engine | § 10.305(a) | § 10.306 | § 10.304(a) | § 10.304(d)
(x) RFPEW | § 10.305(b) | § 10.306 | § 10.304(a) | § 10.304(d)
(xi) Electro-technical rating | § 10.305(b) | § 10.306 | § 10.304(a) | § 10.304(d)
(xii) Tankerman | § 10.305(b) | § 10.306 | § 10.304(a) | § 10.304(d)
(xiii) Lifeboatman and Proficiency in survival craft and rescue boats other than fast rescue boats (PSC) | § 10.305(b) | § 10.306 | § 10.304(a) | § 10.304(d)
(xiv) Lifeboatman-Limited and Proficiency in survival craft and rescue boats other than fast rescue boats-limited (PSC-limited) | § 10.305(b) | § 10.306 | § 10.304(a) | § 10.304(d)
(xv) Fast Rescue Boat | § 10.305(b) | § 10.306 | § 10.304(a) | § 10.304(d)
(xvi)Food handler serving on vessels to which STCW does not apply |  |  | § 10.304(b) |
(xvii) Food handler serving on vessels to which STCW applies |  |  | § 10.304(b) | § 10.304(d)
(xviii) Ratings, including entry level, serving on vessels to which STCW applies, other than those listed above |  |  |  | § 10.304(d)
(xix) Ratings, including entry level, serving on vessels to which STCW does not apply, other than those listed above |  |  |  |
(xx) Vessel security officer | § 10.305(a) | § 10.306 | § 10.304(a) | § 10.304(d)

(b) Any required test, exam, or demonstration must have been performed, witnessed, or reviewed by a licensed medical doctor, licensed physician assistant, licensed nurse practitioner, or a designated medical examiner. Medical examinations for Great Lakes Pilots must be conducted by a licensed medical doctor in accordance with the physical exam requirements in 46 CFR 402.210.

§ 10.303 Medical waivers.

(a) The Coast Guard may grant a waiver if, after review of all relevant supporting medical documents and consultation with the examining physician, as needed, an applicant does not possess the vision, hearing, or general physical condition necessary; and extenuating circumstances warrant special consideration. An applicant may submit to the Coast Guard additional correspondence, records, and reports in support of a waiver. In this regard, recommendations from agencies of the Federal Government operating government vessels, as well as owners and operators of private vessels, made on behalf of their employees, will be given full consideration.

(b) In general, medical waivers are approved for medical conditions and medications when objective medical evidence indicates that the condition is sufficiently controlled and the effects of medication pose no significant risk to maritime and public safety. The Coast Guard retains final authority for the issuance of medical waivers.

(c) Medical waivers may be granted for specific conditions to which the applicant must adhere, such as more frequent medical monitoring of the medical conditions, submission of medical exams and/or tests at varying intervals to track the ongoing status of the medical condition, or operational limitations in the manner the applicant may serve under the MMC. Medical waivers will not be reflected in the medical certificate/endorsement. The waiver information will be issued separately and must be readily available upon request.

(d) The Coast Guard may place an operational limitation based on medical and physical conditions. Any operational limitations will be reflected in the medical certificate/endorsement.

§ 10.304 General medical exam.

(a) The general medical exam must be documented and of such scope to ensure that there are no conditions that pose significant risk of sudden incapacitation or debilitating complication. This exam must also document any condition requiring medication that impairs cognitive ability, judgment, or reaction time. Examples of physical impairment or medical conditions that could lead to disqualification include, but are not limited to, poorly controlled diabetes, symptomatic coronary artery disease, placement of cardiac defibrillators, symptomatic psychiatric disorders, and convulsive disorders.

(b) Food handlers are not required to submit to a general medical exam, but must obtain a statement from a licensed physician, physician assistant, or nurse practitioner attesting that they are free of communicable diseases.

(c) The Coast Guard will provide guidance on the conduct of general medical exams. Examiners should be familiar with the content and recommended medical evaluation data compiled in the medical guidelines.

(d) Demonstration of physical ability. (1) A demonstration of physical ability is required only if the medical practitioner conducting the general medical exam is concerned that:

(i) The medical practitioner conducting the general medical exam is concerned that an applicant's physical ability may impact maritime safety; or

(ii) Table 10.302(a) of § 10.302 of this subpart shows that the mariner must pass a demonstration of physical ability. Guidance on demonstration of physical ability is contained in the relevant Coast Guard guidance for the conduct of general medical exams.

(2) For an applicant to satisfactorily pass a demonstration of physical ability, the examiner must be satisfied that the applicant:

(i) Has no disturbance in the sense of balance;

(ii) Is able, without assistance, to climb up and down vertical ladders and inclined stairs;

(iii) Would be able, without assistance, to step over a door sill or coaming;

(iv) Is able to move through a restricted opening of 24-by-24 inches (61-by-61 centimeters);

(v) Would be able to grasp, lift, and manipulate various common shipboard tools; move hands and arms to open and close valve wheels in vertical and horizontal directions; and rotate wrists to turn handles;

(vi) Does not have any impairment or disease that could prevent normal movement and physical activities;

(vii) Is able to stand and walk for extended periods of time;

(viii) Does not have any impairment or disease that could prevent response to a visual or audible alarm; and

(ix) Is capable of normal conversation.

(e) Reports of medical and physical exams, demonstrations, and tests. These reports must be submitted within 12 months from the date signed by the licensed medical professional. When submitted with a complete application package, these reports remain valid for 12 months from the date the Coast Guard accepts a complete application.

§ 10.305 Vision requirements.

(a) Deck standard. (1) A mariner must have correctable vision to at least 20/40 in one eye and uncorrected vision of at least 20/200 in the same eye. The color sense must be determined to be satisfactory when tested by any of the following methods or an alternative test acceptable to the Coast Guard, without the use of color-sensing lenses:

(i) Pseudoisochromatic Plates (Dvorine, 2nd Edition; AOC; revised edition or AOC-HRR; Ishihara 14-, 24-, or 38-plate editions).

(ii) Farnsworth Lantern.

(iii) Titmus Vision Tester/OPTEC 2000.

(iv) Optec 900.

(v) Richmond Test, 2nd and 4th edition.

(2) After January 1, 2017, applicants for an STCW endorsement must have correctable vision to at least 20/40 in both eyes and uncorrected vision of at least 20/200 in both eyes. A mariner who meets these requirements and who suffers loss of vision in one eye after being issued an MMC is subject to the requirements of paragraphs (c), (d), and (e) of this section, as applicable. A mariner holding an MMC prior to January 1, 2017, must continue to meet the requirements of paragraph (a) (1) of this section.

(b) Engineering, radio officer, tankerman, and MODU standard. A mariner must have correctable vision to at least 20/50 in one eye and uncorrected vision of at least 20/200 in the same eye and need only the ability to distinguish the colors red, green, blue, and yellow. The color sense must be determined to be satisfactory when tested by any color-vision test listed in paragraph (a) of this section, with the exception of the Farnsworth Lantern, or an alternative test acceptable to the Coast Guard, without the use of color-sensing lenses.

(c) Vision waiver. Any applicant whose uncorrected vision does not meet the 20/200 standard and is correctable to listed standards above may be granted a medical waiver in accordance with § 10.303 of this subpart. If a vision waiver is granted, a limitation will be placed on his or her MMC indicating the mariner may not serve under the authority of the endorsement unless corrective lenses are worn and spare lenses are carried onboard a vessel. Waivers are not normally granted to an applicant whose corrected vision in the better eye is not at least 20/40 for deck officers or 20/50 for engineer officers.

(d) Vision operational limitation. If corrective lenses are required in order to meet the vision standards above, a mariner may not serve under the authority of the endorsement unless corrective lenses are worn and spare lenses are carried onboard a vessel. This operational limitation will be placed on his or her MMC.

(e) Loss of vision. A mariner having lost vision in one eye must wait 6 months from the date of the vision loss before submitting any application, and must provide a statement of demonstrated ability on his or her medical examination.

§ 10.306 Hearing requirements.

(a) If the medical practitioner conducting the general medical exam has concerns that an applicant's ability to hear may impact maritime safety, the examining medical practitioner must refer the applicant to an audiologist or other hearing specialist to conduct an audiometer test and a speech discrimination test, as appropriate.

(b) The audiometer test must include testing at the following thresholds: 500 Hz; 1,000 Hz; 2,000 Hz; and 3,000 Hz. The frequency responses for each ear must be averaged to determine the measure of an applicant's hearing ability. Applicants must demonstrate an unaided threshold of 30 decibels or less in at least one ear.

(c) The functional speech discrimination test must be carried out at a level of 55 decibels. For issuance of an original MMC or endorsement the applicant must demonstrate functional speech discrimination of at least 90 percent. For renewal or raise of grade, the applicant must demonstrate functional speech discrimination of at least 80 percent.

(d) Hearing waivers. An applicant who is unable to meet the hearing standards of the audiometer test, but who can pass the functional speech discrimination test or who requires hearing aids to meet the hearing standards, may be eligible for a medical waiver in accordance with § 10.303 of this part.

(e) Hearing operational limitation. If hearing aids are required in order to meet the hearing standards above, a mariner may not serve under the authority of the endorsement unless hearing aids are worn in the operational mode, and spare batteries are carried onboard a vessel. This operational limitation will be placed on his or her MMC.

29. Add subpart D, consisting of §§ 10.401 through 10.412, to read as follows:

Subpart D—Training Courses and Programs

Sec.
10.401 Applicability.
10.402 Course approval.
10.403 General standards.
10.404 Substitution of training for required service, use of training-record books (TRBs), and use of towing officer assessment records (TOARs).
10.405 Qualification as qualified assessor (QA) and designated examiner (DE) for towing officer assessment records (TOARs).
10.406 Approved courses.
10.407 Coast Guard-approved training program requirements for STCW endorsements.
10.408 Coast Guard-accepted training other than approved courses and programs.
10.409 Coast Guard-accepted Quality Standard System (QSS) organizations.
10.410 Quality Standard System (QSS) requirements.
10.411 Simulator performance standards.
10.412 Distance and e-learning.

§ 10.401 Applicability.

This subpart prescribes the general requirements applicable to offerors of all approved courses and training programs which may be accepted instead of service experience or examination required by the Coast Guard, or which satisfy course completion requirements.

§ 10.402 Course approval.

(a) Categories. Courses may be approved to fulfill the following requirements:

(1) Instead of service experience;

(2) Instead of examinations required by the Coast Guard;

(3) Professional competency requirements; and

(4) Regulatory requirements.

(b) Request for approval. Organizations desiring course approval by the Coast Guard must submit a written request and a complete curriculum package to the National Maritime Center, either by mail or electronically. The curriculum package must include:

(1) A cover letter. The cover letter must contain:

(i) The name of the course;

(ii) The locations where it will be held;

(iii) A general description and overview of the course;

(iv) The category of acceptance being sought as listed in paragraph (a) of this section; and

(v) Individual major components of the course.

(2) A goal statement(s). The goal statement should describe:

(i) The specific performance behaviors to be measured;

(ii) The conditions under which the performance behaviors will be exhibited; and

(iii) The level of performance behaviors that is to be achieved.

(3) Performance objectives. Performance objectives are statements which identify the specific knowledge, skill, or ability the student should gain and display as a result of the training or instructional activity. A performance objective is made up of three elements: expected student performance, condition, and criterion.

(4) Assessment instruments. Assessment instruments are any tools used to determine whether the student has achieved the desired level of knowledge, understanding, or proficiency.

(5) Instructor information. Each instructor must:

(i) Have either experience, training, or evidence of instruction in effective instructional techniques within the past 5 years;

(ii) Be qualified in the task for which the training is being conducted and have relevant experience; and

(iii) Hold a license, endorsement, or other professional credential that provides proof of having attained a level of qualification equal or superior to the relevant level of knowledge, skills, and abilities described in the performance objective. A Document of Continuity may be used to meet this requirement.

(6) Site information. Site information must include a description of the facility or facilities at which the training will be held. Authority to teach at an alternative site requires approval by the National Maritime Center.

(7) A teaching syllabus. A detailed teaching syllabus providing the following information:

(i) Instructional strategy. Aspects of instructional strategies should include:

(A) The order of presentation;

(B) The level of interaction, including the student-to-teacher ratio;

(C) Feedback;

(D) Remediation;

(E) Testing strategies; and

(F) Media used to present information.

(ii) Instructional materials, including lesson plans containing:

(A) Pre-instructional activities;

(B) Content presentation;

(C) Student participation;

(D) Assessment processes; and

(E) Other instructional activities, such as homework and reading assignments.

(iii) Course surveys on the relevance and effectiveness of the training completed by students.

(iv) Course schedule, including the duration and order of lessons, and an indication as to whether each lesson is:

(A) A classroom lecture;

(B) A practical demonstration;

(C) A simulator exercise;

(D) An examination; or

(E) Another method of instructional reinforcement.

(8) Course completion certificate. A sample course completion certificate.

(c) Approval notification. The Coast Guard will notify each applicant for course approval when an approval is granted or denied. If the Coast Guard denies a request for approval, the Coast Guard will inform the applicant of the reasons for the denial and describe the corrections required for granting an approval.

(d) Validity of course approval. Unless surrendered, suspended, or withdrawn, an approval for a course is valid for up to a maximum of 5 years after issuance, unless:

(1) The school ceases operation;

(2) The school gives notice that it will no longer offer the course;

(3) The owner or operator fails to submit any required report; or

(4) Any change occurs in the ownership of the school to which the approval was issued.

(e) Changes to the course approval. (1) Any changes to the course approval or the content of the course will be handled as a request for renewal of an approval (as specified in paragraph (f) of this section), or as a request for an original approval (as specified in paragraph (b) of this section), depending on the nature and scope of the change.

(2) The Coast Guard may not accept course completion certificates if the course does not follow the conditions of the course approval.

(f) Renewal of course approval. If the owner or operator of a training school desires to have a course's approval renewed, the owner or operator must submit a request to the NMC accompanied by the information from paragraphs (b)(1), (b)(5), (b)(6), and (b)(7) of this section. If satisfied that the content and quality of instruction remain satisfactory, the Coast Guard will approve the request. The renewed approval is valid as detailed in paragraph (d) of this section.

(g) Suspension of approval. (1) The Coast Guard may suspend the approval, require the holder to surrender the certificate of approval, and may direct the holder to cease claiming the course is Coast Guard-approved, if it determines that a specific course does not comply with the:

(i) Applicable provisions of 46 CFR parts 11, 12, or 13;

(ii) Requirements specified in the course's approval; or

(iii) Course's curriculum package as submitted for approval.

(2) The Coast Guard will notify the approval holder in writing of the intent to suspend course approval and the reasons for suspension. If the approval holder fails to correct the conditions leading to suspension, the course will be suspended. The Coast Guard will notify the approval holder that the specific course fails to meet applicable requirements and explain how the deficiencies can be corrected;

(3) The Coast Guard may grant the approval holder up to 90 days to correct the deficiencies; and

(4) Course completion certificates will not be accepted if dated during a period of suspension or expiration.

(h) Withdrawal of approval. The Coast Guard may withdraw approval for any course:

(1) When the approval holder fails to correct the deficiencies of a suspended course within 90 days; or

(2) Upon determining that the approval holder has demonstrated a pattern or history of:

(i) Failing to comply with the applicable regulations or the course approval requirements;

(ii) Deviating from approved course curricula;

(iii) Presenting courses in a manner that does not achieve the learning objectives; or

(iv) Falsifying any document required and integral to the conduct of the course, including, but not limited to, attendance records, written test grades, course completion grades, or assessment of practical demonstrations.

(i) Appeals of suspension or withdrawal of approval. Anyone directly affected by a decision to suspend or withdraw an approval may appeal the decision to the Commandant as provided in § 1.03-40 of this chapter.

§ 10.403 General standards.

(a) Each school with an approved course must:

(1) Have a well-maintained facility that accommodates the students in a safe and comfortable environment conducive to learning;

(2) Have visual aids for realism, including simulators where appropriate, sufficient for the number of students to be accommodated, and support the objectives of the course;

(3) Administer training entirely in the English language unless specifically approved to be presented in another language;

(4) Administer written examinations to each student appropriate for the course material and the knowledge requirements of the position or endorsement for which the student is being trained. For a course approved to substitute for a Coast Guard-administered examination, the courses must be of such a degree of difficulty that a student who successfully completes them would most likely pass, on the first attempt, an examination prepared by the Coast Guard;

(5) Require each student to successfully demonstrate practical skills appropriate for the course material and equal to the level of endorsement for which the course is approved;

(6) Effective July 1, 2013, keep physical or electronic copies of the following records for at least 5 years after the end of each student's completion or disenrollment from a course or program:

(i) A copy of each student's examination answers;

(ii) A copy of each examination or, in the case of a practical test, a report of such test;

(iii) A record of each student's classroom attendance;

(iv) A copy of each student's course completion certificate or program completion certificate, as appropriate;

(v) A summary of changes or modification to the last course submittal;

(vi) A list of all locations at which the training course was presented and the number of times it was presented at each location;

(vii) The name(s) of the instructor(s) who taught the course;

(viii) The number of students who began the training;

(ix) The number of students who successfully completed the training;

(x) The number of students who were required to retest;

(xi) The number of students who were required to retake the entire course; and

(xii) The number of students who were required to retake a portion of the course.

(7) Not change its approved curriculum without approval from the NMC as specified in § 10.402(e) of this subpart;

(8) Conduct an internal audit midway through the term of the course's approval and maintain the results of the audit for a period of not less than 5 years. The audit will evaluate whether:

(i) Records are being maintained according to these regulations;

(ii) The course is being presented in accordance with the approval letter; and

(iii) Surveys from students indicate that the course is meeting their needs; and

(9) At any time, allow the Coast Guard to:

(i) Inspect its facilities, equipment, and records, including scholastic records;

(ii) Conduct interviews and surveys of students to aid in course evaluation and improvement;

(iii) Assign personnel to observe or participate in the course of instruction; and

(iv) Supervise or administer the required examinations or practical demonstrations, including the substitution of an applicable Coast Guard examination in a course approved to substitute for a Coast Guard-administered examination.

§ 10.404 Substitution of training for required service, use of training-record books (TRBs), and use of towing officer assessment records (TOARs).

(a) Substitution of training for required service. (1) Satisfactory completion of an approved training course may be substituted for a portion of the required service on deck or in the engine department for deck or engineer endorsements. Satisfactory completion of an approved training program which includes sea service may be substituted for a portion of or all of the required service on deck or in the engine department, except as limited by law for ratings. The list of all currently approved courses and programs, including the equivalent service and applicable endorsements, is maintained by the NMC.

(2) Unless otherwise allowed, recency requirements may not be achieved by service granted as a result of successful completion of approved training or by training on a simulator; however, underway service obtained as a portion of an approved course or program may be used for this purpose.

(3) Unless otherwise allowed, training obtained before receiving an endorsement may not be used for subsequent raises of grade, increases in scope, or renewals.

(b) Use of training-record books (TRBs). (1) Approved training programs for STCW endorsements for OICNW and OICEW must maintain a TRB for each student where training and/or assessments of competence are conducted onboard the ship. The TRB must contain at least the following information:

(i) The name of the applicant;

(ii) The tasks to be performed or the skills to be demonstrated, with reference to the standards of competence set forth in the tables of the appropriate sections in part A of the STCW Code (incorporated by reference, see § 10.103 of this part);

(iii) The method for demonstrating competence to be used in determining that the tasks or skills have been performed properly, with reference to the standards of competence set forth in the tables of competence in the appropriate sections in part A of the STCW Code;

(iv) A place for a qualified instructor to indicate by his or her initials that the applicant has received training in the proper performance of the task or skill;

(v) A place for a qualified assessor (QA) to indicate by his or her initials that the applicant has successfully completed a practical demonstration and has proved competent in the task or skill under the criteria, when assessment of competence is to be documented in the record books;

(vi) The printed name of each qualified instructor, including any MMC endorsements held, and the instructor's signature; and

(vii) The printed name of each qualified assessor, when any assessment of competence is recorded, including any MMC endorsement, license, or document held by the assessor, and the assessor's signature confirming that his or her initials certify that he or she has witnessed the practical demonstration of a particular task or skill by the applicant.

(2) The TRB referred to in paragraph (b) of this section may be maintained electronically, provided the electronic record meets Coast Guard-accepted standards for accuracy, integrity, and availability.

(3) The Coast Guard may accept other forms of documentation as meeting the requirements to maintain the training-record book.

(c) Use of towing officer assessment records (TOARs). (1) Each applicant for an endorsement as master or mate (pilot) of towing vessels, and each master or mate of self-propelled vessels of 200 GRT/500 GT or more, seeking an endorsement for towing vessels, must complete a TOAR approved by the Coast Guard that contains at least the following:

(i) Identification of the applicant, including his or her full name, and reference number;

(ii) Objectives of the training and assessment;

(iii) Tasks to perform or skills to demonstrate;

(iv) Criteria to use in determining that the tasks or skills have been performed properly;

(v) A means for a designated examiner (DE) to attest that the applicant has successfully completed a practical demonstration and has proved proficient in the task or skill under the criteria; and

(vi) Identification of each DE by his or her full name and reference number, job title, ship name and official number, and serial number of the MMC, license, or document held, and printed name and signature confirming that his or her initials certify that he or she has witnessed the practical demonstration of a particular task or skill by the applicant.

§ 10.405 Qualification as qualified assessor (QA) and designated examiner (DE).

(a) To become a QA, an applicant must have documentary evidence to establish:

(1) Experience, training, or instruction in assessment techniques;

(2) Qualifications in the task for which the assessment is being conducted; and

(3) Possession of the level of endorsement, or other professional credential, which provides proof that he or she has attained a level of qualification equal or superior to the relevant level of knowledge, skills, and abilities described in the training objectives.

(b) To become a DE for towing officer assessment records (TOARs), an applicant must have documentary evidence to establish:

(1) Experience, training, or instruction in assessment techniques on towing vessels;

(2) Qualifications on towing vessels in the task for which the assessment is being conducted; and

(3) Possession of the level of endorsement on towing vessels, or other professional credential, which provides proof that he or she has attained a level of qualification equal or superior to the relevant level of knowledge, skills, and abilities described in the training objectives.

(c) Documentary evidence may be in the form of performance evaluations, which include an evaluation of effectiveness in on-the-job organization and delivery of training, and/or a certificate of successful completion from a “train-the-trainer” course. A “train-the-trainer” course must be based on the International Maritime Organization's (IMO) model course 6.09 (Training Course for Instructors), or on another Coast Guard-accepted syllabus.

§ 10.406 Approved courses.

The NMC maintains the list of training organizations and the approvals given to the training they offer. This information is available online at www.uscg.mil/nmc.

§ 10.407 Coast Guard-approved training program requirements for STCW endorsements.

Training programs approved to qualify a mariner to hold an STCW endorsement must meet the same standards as those found in §§ 10.402 and 10.403 of this subpart.

§ 10.408 Coast Guard-accepted training other than approved courses and programs.

(a) When the training and assessment of competence required by this part are not subject to Coast Guard approval under §§ 10.402 and 10.407 of this subpart, but are used to qualify a mariner to hold an endorsement, the offeror of the course or program must ensure that such training and assessment meets the same standards as those found in §§ 10.402 and 10.403 of this subpart.

(b) The Coast Guard will accept courses approved and monitored by a Coast Guard-accepted Quality Standard System (QSS) organization. The Coast Guard maintains a list of training organizations conducting accepted training and that are independently monitored by a Coast Guard-accepted QSS organization. The Coast Guard-accepted QSS organization must comply with the following requirements:

(1) Submit a certificate of acceptance of training to the Coast Guard;

(2) Submit an updated certificate of acceptance to the Coast Guard if the terms of acceptance have been changed; and

(3) Sign each certificate to the training organization owner or operator, or its authorized representative(s), stating that the training fully complies with the requirements of this section, and identifying the Coast Guard-accepted QSS organization being used for independent monitoring.

(c) The training must be audited periodically in accordance with the requirements of § 10.409(e)(7) of this subpart. If the Coast Guard determines, on the basis of observations or conclusions either of its own or by the Coast Guard-accepted QSS organization, that the particular training does not satisfy one or more of the conditions described in paragraph (a) of this section:

(1) The Coast Guard or Coast Guard-accepted QSS organization will so notify the offeror of the training by letter, enclosing a report of the observations and conclusions;

(2) The offeror may, within a period of time specified in the notice, either appeal the observations or conclusions to the Commandant (CG-543) or bring the training into compliance; and

(3) If the appeal is denied—or if the deficiency is not corrected in the allotted time, or within any additional time period judged by the Coast Guard to be appropriate, considering progress toward compliance—the Coast Guard will remove the training from the list maintained under paragraph (b) of this section until it can verify full compliance. The Coast Guard may deny applications for endorsements based, in whole or in part, on training not on the list, until additional training or assessment is documented.

§ 10.409 Coast Guard-accepted Quality Standard System (QSS) organizations.

(a) Organizations wishing to serve as a Coast Guard-accepted QSS organization, to accept and monitor training on behalf of the Coast Guard, should apply to the National Maritime Center. An organization submitting an application may not act as a Coast Guard-accepted QSS organization until it has received its letter of acceptance.

(b) Validity of acceptance. Organizations meeting the requirements in paragraph (e) of this section will be issued a letter of acceptance valid for a maximum period of 5 years from the date of issuance.

(c) An organization wishing to become a Coast Guard-accepted QSS organization must have processes for reviewing, accepting, and monitoring training that are equal to the Coast Guard's course approval and oversight processes in §§ 10.402 through 10.410 of this subpart.

(d) Each person conducting evaluation and monitoring of the training must be knowledgeable about the subjects being evaluated or monitored and about the national and international requirements that apply to the training, and must not be involved in the training and assessment of students.

(e) The documentation submitted to the Coast Guard must contain the information listed below. An organization approved as a recognized classification society in accordance with 46 CFR part 8, subpart B, need not present evidence of compliance with paragraphs (e)(1) and (e)(8) of this section.

(1) Identification of the organization: Name of the organization, address, contact information, and organizational structure (including the QSS department).

(2) Scope of approval: Training and assessment the organization wishes to accept and monitor.

(3) Background of the organization: Historical information outlining the organization's experience reviewing and accepting training and/or assessment activities.

(4) Staffing and support infrastructure, including:

(i) Names and qualifications of the individuals who will be involved in the review, acceptance, and monitoring of training and assessment;

(ii) Description of the training given to individuals who will be conducting review, acceptance, and monitoring activities; and

(iii) Technical and support resources within the organization that support the review, acceptance, and monitoring activities.

(5) Submission guidelines: Information for client organizations to submit courses for review and acceptance, including criteria for course design, instructor/assessor qualifications, syllabi, equipment, and facilities.

(6) Review and acceptance procedures. (i) Descriptions of the methods of evaluation of the physical, administrative, and infrastructure support aspects of client organizations;

(ii) Descriptions of the methods of evaluation of the instructors, designated examiners of a client organization and the maintenance of their records;

(iii) Descriptions of format for accepting training material;

(iv) Descriptions of the methods by which the course acceptance process responds to the client organization modifications to the training curriculum, changes to instructors or examiners, changes to the infrastructure support; and

(v) Descriptions of the renewal procedures.

(7) Audit procedures: Description of the methods for auditing accepted courses. Client organizations must be audited once in a 5-year period.

(8) Quality commitment: Provide evidence of having a quality management system that includes the following elements:

(i) A documented statement of a quality policy and quality objectives;

(ii) A quality manual;

(iii) Documented procedures and records; and

(iv) Documents, including records, determined by the organization to be necessary to ensure the effective planning, operation, and control of its processes.

(f) Coast Guard-accepted QSS organizations must notify the NMC of the training they have accepted within 14 days of the acceptance date. The notification must include the name and address of the institution, the course title and the requirement the course meets, and a one-paragraph description of the course's content.

(g) Audits. (1) A Coast Guard-accepted QSS organization must conduct internal audits at least once in 5 years with a minimum of 2 years between reviews. Results of the internal audits must be available upon request to the Coast Guard within 60 days of completion.

(2) Each Coast Guard-accepted QSS organization may be audited by the Coast Guard at least once every 5 years. The results of the audit will be available to the Coast Guard-accepted QSS organization within 60 days of completion of the audit.

(3) Results of Coast Guard-accepted QSS organizations' audits to client organizations must be available upon request to the Coast Guard within 60 days of completion.

(h) Disenrollment. (1) A Coast Guard-accepted QSS organization must give each client organization it serves a 180-day notice of its intention to cease to function as a Coast Guard-accepted QSS organization.

(2) If the Coast Guard determines that a Coast Guard-accepted QSS organization is not meeting its obligations to review, accept, and monitor training and assessment, the NMC will notify the organization in writing and will enclose information about the events that led to this determination. The organization will then have a specified period of time to correct the deficiencies or appeal the conclusions to the Commandant (CG-54). If the organization appeals, and the appeal is denied, or the deficiencies are not corrected within the allotted time, the NMC will withdraw the acceptance of the Coast Guard-accepted QSS organization. The NMC will notify all client organizations affected by this decision so that they may make arrangements to transfer to another Coast Guard-accepted QSS organization or seek NMC approval for their training.

(i) A Coast Guard-accepted QSS organization may not approve courses provided by client organizations.

§ 10.410 Quality Standard System (QSS) requirements.

(a) Providers of Coast Guard-approved courses, programs, training, and Coast Guard-accepted training creditable towards an STCW endorsement must establish and maintain a Quality Standard System (QSS), in accordance with Regulation I/8 of the STCW Convention (incorporated by reference, see § 10.103 of this part).

(b) The QSS must be monitored by the Coast Guard or monitored through a third party that is designated as a Coast Guard-accepted QSS organization.

(c) The Coast Guard-monitored QSS must:

(1) Have a documented quality policy and quality objectives that align with the commitment by the training institution to achieve its missions and goals;

(2) Maintain a manual that documents the objectives, authorities, and responsibilities that are essential controls for the implementation of the QSS, including:

(i) The core procedures required to meet the missions and goals of the institution;

(ii) The documents necessary for effective design, planning, operation, and control for the delivery of courses meeting the regulatory requirements;

(iii) The filing and archiving of records so they are retrievable and legible;

(iv) Action taken to stop recurrence of system, process, and product nonconformity; and

(v) Auditing, reviewing, and improving the performance of the training management system; and

(3) Arrange for a Coast Guard audit to be conducted twice in a 5-year period.

(d) Documentation from a National Academic Accreditation body may be accepted by the Coast Guard as meeting one or more of the requirements listed in paragraph (c) of this section. The documentation must be readily available for inspection upon request.

(e) The Coast Guard will accept documentation from a training institution certified under a national or international Quality Management System Standard as meeting one or more of the requirements listed in paragraph (c) of this section. The documentation must be readily available for inspection upon request.

(f) Coast Guard-approved courses, programs, and training creditable towards an STCW endorsement approved prior to July 1, 2013 must meet the requirements of this section at the next renewal.

§ 10.411 Simulator performance standards.

Simulators used in assessment of competence must meet the appropriate performance standards set out in Section A-I/12 of the STCW Code (incorporated by reference, see § 10.103 of this part). However, a simulator installed or brought into use before February 1, 2002, need not meet those standards if it fulfills the objectives of the assessment of competence or demonstration of proficiency.

§ 10.412 Distance and e-learning.

The Coast Guard may allow the training of mariners by means of methods of distance learning and e-learning in accordance with the standards of training and assessment set forth in section A-I/6 (Training and assessment) of the STCW Code (incorporated by reference, see § 10.103 of this part).

30. Revise part 11 to read as follows:

PART 11—REQUIREMENTS FOR OFFICER ENDORSEMENTS

Subpart A—General
Sec.
11.101 Purpose of regulations.
11.102 Incorporation by reference.
11.107 Paperwork approval.
Subpart B—General Requirements for Officer Endorsements
11.201 General requirements for domestic and STCW officer endorsements.
11.211 Creditable service and equivalents for domestic and STCW officer endorsements.
11.217 Examination procedures and denial of officer endorsements.
Subpart C—STCW Officer Endorsements
11.301 Requirements for STCW officer endorsements.
11.303 STCW deck officer endorsements.
11.305 Requirements to qualify for an STCW endorsement as master on vessels of 1,600 GRT/3,000 GT or more (management level).
11.307 Requirements to qualify for an STCW endorsement as chief mate on vessels of 1,600 GRT/3,000 GT or more (management level).
11.309 Requirements to qualify for an STCW endorsement as Officer in Charge of a Navigational Watch (OICNW) of vessels of 200 GRT/500 GT or more (operational level).
11.311 Requirements to qualify for an STCW endorsement as master of vessels of 200 GRT/500 GT or more and less than 1,600 GRT/3,000 GT (management level).
11.313 Requirements to qualify for an STCW endorsement as chief mate of vessels of 200 GRT/500 GT or more and less than 1,600 GRT/3,000 GT (management level).
11.315 Requirements to qualify for an STCW endorsement as master of vessels of less than 200 GRT/500 GT (management level).
11.317 Requirements to qualify for an STCW endorsement as master of vessels of less than 200 GRT/500 GT limited to near-coastal waters (management level).
11.319 Requirements to qualify for an STCW endorsement as Officer in Charge of a Navigational Watch (OICNW) of vessels of less than 200 GRT/500 GT (operational level).
11.321 Requirements to qualify for an STCW endorsement as Officer in Charge of a Navigational Watch (OICNW) of vessels of less than 200 GRT/500 GT limited to near-coastal waters (operational level).
11.323 STCW engineer officer endorsements.
11.325 Requirements to qualify for an STCW endorsement as chief engineer officer on vessels powered by main propulsion machinery of 3,000 kW/4,000 HP propulsion power or more (management level).
11.327 Requirements to qualify for an STCW endorsement as second engineer officer on vessels powered by main propulsion machinery of 3,000kW/4,000HP propulsion power or more (management level).
11.329 Requirements to qualify for an STCW endorsement as Officer in Charge of an Engineering Watch (OICEW) in a manned engineroom or designated duty engineer in a periodically unmanned engineroom on vessels powered by main propulsion machinery of 750 kW/1,000 HP propulsion power or more (operational level).
11.331 Requirements to qualify for an STCW endorsement as chief engineer officer on vessels powered by main propulsion machinery of between 750 kW/1,000 HP and 3,000 kW/4,000 HP propulsion power (management level).
11.333 Requirements to qualify for an STCW endorsement as second engineer officer on vessels powered by main propulsion machinery of between 750kW/1,000HP and 3,000 kW/4,000 HP propulsion power (management level).
11.335 Requirements to qualify for an STCW endorsement as an electro-technical officer on vessels powered by main propulsion machinery of 750 kW/1,000 HP or more (operational level).
Subpart D—Professional Requirements for Domestic Deck Officer Endorsements
11.401 Ocean and near-coastal domestic officer endorsements.
11.402 Tonnage requirements for domestic ocean or near-coastal endorsements for vessels of 1,600 GRT/3,000 GT or more.
11.403 Structure of domestic deck officer endorsements.
11.404 Service requirements for domestic master of ocean or near-coastal self-propelled vessels of unlimited tonnage.
11.405 Service requirements for domestic chief mate of ocean or near-coastal self-propelled vessels of unlimited tonnage.
11.406 Service requirements for domestic second mate of ocean or near-coastal self-propelled vessels of unlimited tonnage.
11.407 Service requirements for domestic third mate of ocean or near-coastal self-propelled vessels of unlimited tonnage.
11.410 Requirements for domestic deck officer endorsements for vessels of less than 1,600 GRT/3,000 GT.
11.412 Service requirements for domestic master of ocean or near-coastal self-propelled vessels of less than 1,600 GRT/3,000 GT.
11.414 Service requirements for domestic mate of ocean self-propelled vessels of less than 1,600 GRT/3,000 GT.
11.416 Service requirements for domestic mate of near-coastal self-propelled vessels of less than 1,600 GRT/3,000 GT.
11.418 Service requirements for domestic master of ocean or near-coastal self-propelled vessels of less than 500 GRT.
11.420 Service requirements for domestic mate of ocean self-propelled vessels of less than 500 GRT.
11.421 Service requirements for domestic mate of near-coastal self-propelled vessels of less than 500 GRT.
11.422 Tonnage limitations and qualifying requirements for domestic endorsements as master or mate of vessels of less than 200 GRT.
11.424 Requirements for domestic master of ocean self-propelled vessels of less than 200 GRT.
11.426 Requirements for domestic master of self-propelled seagoing vessels of less than 200 GRT limited to domestic voyages upon near-coastal waters.
11.427 Requirements for domestic mate of self-propelled seagoing vessels of less than 200 GRT limited to domestic voyages upon near-coastal waters.
11.428 Requirements for domestic master of self-propelled, seagoing vessels of less than 100 GRT limited to domestic voyages upon near-coastal waters.
11.429 Requirements for a domestic limited master of self-propelled, seagoing vessels of less than 100 GRT limited to domestic voyages upon near-coastal waters.
11.430 Endorsements for the Great Lakes and inland waters.
11.431 Tonnage requirements for Great Lakes and inland domestic endorsements for vessels of 1,600 GRT/3,000 GT or more.
11.433 Requirements for domestic master of Great Lakes and inland self-propelled vessels of unlimited tonnage.
11.435 Requirements for domestic master of inland self-propelled vessels of unlimited tonnage.
11.437 Requirements for domestic mate of Great Lakes and inland self-propelled vessels of unlimited tonnage.
11.442 Requirements for domestic master of Great Lakes and inland self-propelled vessels of less than 1,600 GRT/3,000 GT.
11.444 Requirements for domestic mate of Great lakes and inland self-propelled vessels of less than 1,600 GRT/3,000 GT.
11.446 Requirements for domestic master of Great Lakes and inland self-propelled vessels of less than 500 GRT.
11.448 Requirements for domestic mate of Great Lakes and inland self-propelled vessels of less than 500 GRT.
11.450 Tonnage limitations and qualifying requirements for domestic endorsements as master or mate of Great Lakes and inland vessels of less than 200 GRT.
11.452 Requirements for domestic master of Great Lakes and inland self-propelled vessels of less than 200 GRT/500 GT.
11.454 Requirements for domestic mate of Great Lakes and inland self-propelled vessels of less than 200 GRT/500 GT.
11.455 Requirements for domestic master of Great Lakes and inland self-propelled vessels of less than 100 GRT.
11.456 Requirements for domestic limited master of Great Lakes and inland self-propelled vessels of less than 100 GRT.
11.457 Requirements for domestic master of inland self-propelled vessels of less than 100 GRT.
11.459 Requirements for domestic master or mate of rivers.
11.462 Endorsements for domestic master or mate of uninspected fishing industry vessels.
11.463 General requirements for domestic endorsements as master, mate (pilot), and apprentice mate (steersman) of towing vessels.
11.464 Requirements for domestic endorsements as master of towing vessels.
11.465 Requirements for domestic endorsements as mate (pilot) of towing vessels.
11.466 Requirements for domestic endorsements as apprentice mate (steersman) of towing vessels.
11.467 Requirements for a domestic endorsement as operator of uninspected passenger vessels of less than 100 GRT.
11.468 Domestic officer endorsements for mobile offshore drilling units (MODUs).
11.470 Domestic officer endorsements as offshore installation manager.
11.472 Domestic officer endorsements as barge supervisor.
11.474 Domestic officer endorsements as ballast control operator.
11.480 Radar observer.
11.482 Assistance towing.
11.491 Domestic officer endorsements for service on offshore supply vessels.
11.493 Master (OSV).
11.495 Chief Mate (OSV).
11.497 Mate (OSV).
Subpart E—Professional Requirements for Domestic Engineer Officer Endorsements
11.501 Grades and types of domestic engineer endorsements issued.
11.502 General requirements for domestic engineer endorsements.
11.503 Propulsion power limitations for domestic endorsements.
11.504 Application of deck service for domestic limited engineer endorsements.
11.505 Domestic engineer officer endorsements.
11.510 Service requirements for domestic endorsement as chief engineer of steam, motor, and/or gas turbine-propelled vessels.
11.512 Service requirements for domestic endorsement as first assistant engineer of steam, motor, and/or gas turbine-propelled vessels.
11.514 Service requirements for domestic endorsement as second assistant engineer of steam, motor, and/or gas turbine-propelled vessels.
11.516 Service requirements for domestic endorsement as third assistant engineer of steam, motor, and/or gas turbine-propelled vessels.
11.518 Service requirements for domestic endorsement as chief engineer (limited oceans) of steam, motor, and/or gas turbine-propelled vessels.
11.520 Service requirements for domestic endorsement as chief engineer (limited near-coastal) of steam, motor, and/or gas turbine-propelled vessels.
11.522 Service requirements for domestic endorsement as assistant engineer (limited oceans) of steam, motor, and/or gas turbine-propelled vessels.
11.524 Service requirements for domestic endorsement as designated duty engineer of steam, motor, and/or gas turbine-propelled vessels.
11.530 Endorsements for domestic engineers of uninspected fishing industry vessels.
11.540 Endorsements for domestic engineers of mobile offshore drilling units (MODU).
11.542 Endorsement as domestic chief engineer (MODU).
11.544 Endorsement as domestic assistant engineer (MODU).
11.551 Endorsements for service on offshore supply vessels.
11.553 Chief engineer (OSV).
11.555 Assistant engineer (OSV).
Subpart F—Credentialing of Radio Officers
11.601 Applicability.
11.603 Requirements for radio officers' endorsements.
11.604 Requirements for an STCW endorsement for Global Maritime Distress and Safety System (GMDSS) radio operators.
Subpart G—Professional Requirements for Pilots
11.701 Scope of pilot endorsements.
11.703 Service requirements.
11.705 Route familiarization requirements.
11.707 Examination requirements.
11.709 Annual physical examination requirements.
11.711 Tonnage requirements.
11.713 Requirements for maintaining current knowledge of waters to be navigated.
Subpart H—Registration of Staff Officers and Miscellaneous Endorsements
11.801 Applicability.
11.805 General requirements.
11.807 Experience requirements for registry.
11.811 Requirements to qualify for an STCW endorsement as vessel security officer.
11.821 High-speed craft type rating.
Subpart I—Subjects of Examinations
11.901 General provisions.
11.903 Officer endorsements requiring examinations.
11.910 Subjects for deck officer endorsements.
11.920 Subjects for MODU endorsements.
11.950 Examination subjects for engineer officer endorsements.
Subpart J—Recognition of Other Parties' STCW certificates
11.1001 Purpose of rules.
11.1003 General requirements.
11.1005 Employer application requirements.
11.1007 Basis for denial.
11.1009 Restrictions.
Subpart K—Officers on a Passenger Ship When on an International Voyage
11.1101 Purpose of rules.
11.1103 Definitions.
11.1105 General requirements for officer endorsements.

Authority: 14 U.S.C. 633; 31 U.S.C. 9701; 46 U.S.C. 2101, 2103, and 2110; 46 U.S.C. chapter 71; 46 U.S.C. 7502, 7505, 7701, 8906, and 70105; Executive Order 10173; Department of Homeland Security Delegation No. 0170.1. Section 11.107 is also issued under the authority of 44 U.S.C. 3507.

Subpart A—General

§ 11.101 Purpose of regulations.

(a) The purpose of this part is to provide:

(1) A means of determining the qualifications an applicant must possess to be eligible for an officer endorsement as a staff officer, deck officer, engineer officer, pilot, or radio officer on merchant vessels, or for an endorsement to operate uninspected passenger vessels; and

(2) A means of determining that an applicant is competent to serve as a master, chief mate, officer in charge of a navigational watch, chief engineer officer, second engineer officer (first assistant engineer), officer in charge of an engineering watch, designated duty engineer, or Global Maritime Distress and Safety System (GMDSS) radio operator, in accordance with the provisions of the International Convention on Standards of Training, Certification and Watchkeeping for Seafarers, 1978, as amended (the STCW Convention or STCW), and other laws, and to receive the appropriate endorsement as required by STCW.

(b) With few exceptions, these regulations do not specify or restrict officer endorsements to particular types of service such as tankships, freight vessels, or passenger vessels. However, each officer credentialed under this part must become familiar with the relevant characteristics of a vessel prior to assuming their duties as required in the provisions of § 15.405 of this subchapter.

(c) The regulations in subpart C of this part that prescribed the requirements applicable to approved training courses, training for a particular officer endorsement, and training and assessment associated with meeting the standards of competence established by the STCW Convention have been moved to 46 CFR, part 10, subpart C.

§ 11.102 Incorporation by reference.

(a) Certain material is incorporated by reference into this part with the approval of the Director of the Federal Register under 5 U.S.C. 552(a) and 1 CFR part 51. To enforce any edition other than that specified in this section, the Coast Guard must publish a notice of change in the Federal Register and the material must be available to the public. All approved material is available for inspection at the National Archives and Records Administration (NARA). For information on the availability of this material at NARA, call 202-741-6030 or go to http://www.archives.gov/federal_register/code_of_federal_regulations/ibr_locations.html. Also, it is available for inspection at the Coast Guard, Office of Operating and Environmental Standards (CG-5221), 2100 2nd St., SW., Stop 7126, Washington, DC 20593-7126, 202-372-1405 and is available from the sources indicated in this section.

(b) International Maritime Organization (IMO), 4 Albert Embankment, London SE1 7SR, England.

(1) The International Convention on Standards of Training, Certification and Watchkeeping for Seafarers, 1978, as amended (the STCW Convention or the STCW), incorporation by reference approved for §§ 11.201, 11.426, 11.427, 11.428, 11.429, 11.1101, 11.1105, and 11.1117.

(2) The Seafarers' Training, Certification and Watchkeeping Code, as amended (the STCW Code), incorporation by reference approved for §§ 11.201, 11.301, 11.305, 11.309, 11.311, 11.313, 11.315, 11.317, 11.319, 11.321, 11.325, 11.327, 11.329, 11.333, 11.335, 11.901, and 11.1105.

(3) The International Convention for the Safety of Life at Sea, 1974 (SOLAS), incorporation by reference approved for § 11.601.

§ 11.107 Paperwork approval.

(a) This section lists the control numbers assigned by the Office of Management and Budget (OMB) under the Paperwork Reduction Act of 1980 (Pub. L. 96-511) for the reporting and recordkeeping requirements in this part.

(b) The following control numbers have been assigned to the sections indicated:

(1) OMB 1625-0040-46 CFR 11.201, 11.202, 11.205, 11.470, 11.472, 11.474, 11.542, and 11.544.

(2) OMB 1625-028-46 CFR 11.480.

Subpart B—General Requirements for Officer Endorsements

§ 11.201 General requirements for domestic and STCW officer endorsements.

(a) General. In addition to the requirements of part 10 of this subchapter, the applicant for an officer endorsement, whether original, renewal, duplicate, or raise of grade, must establish to the satisfaction of the Coast Guard that he or she possesses all the qualifications necessary (including but not limited to age, experience, character, physical health, citizenship, approved training, passage of a professional examination, a test for dangerous drugs), before the Coast Guard will issue him or her a merchant mariner credential (MMC).

(b) English language requirements. Except as provided in § 11.467(h) of this part, an applicant for an officer endorsement must demonstrate an ability to speak and understand English as found in the navigation rules, aids to navigation publications, emergency equipment instructions, machinery instructions, and radiotelephone communications instructions.

(c) Experience and Service. (1) Applicants for officer endorsements should refer to § 10.232 of this subchapter for information regarding requirements for documentation and proof of sea service.

(2) An applicant for an officer endorsement must have at least 3 months of required service on vessels of appropriate tonnage or horsepower within the 3 years immediately preceding the date of application.

(3) No original officer or STCW endorsement may be issued to any naturalized citizen based on less experience in any grade or capacity than would have been required of a citizen of the United States by birth.

(4) Experience and service acquired on foreign vessels is creditable for establishing eligibility for an officer or STCW endorsement, subject to evaluation by the Coast Guard to determine that it is a fair and reasonable equivalent to service acquired on merchant vessels of the United States, with respect to grade, tonnage, horsepower, waters, and operating conditions. An applicant who has obtained qualifying experience on foreign vessels must submit satisfactory documentary evidence of such service (including any necessary translation into English) in accordance with § 10.232 of this subchapter.

(5) No applicant for an original officer endorsement who is a naturalized citizen and who has obtained experience on foreign vessels will be given an original officer endorsement in a grade higher than that upon which he or she has actually served while acting under the authority of a foreign credential.

(6) Experience acquired while the applicant was less than 16 years of age is generally not creditable. Compelling circumstances and unique experiences acquired before the applicant reaches 16 years of age will be evaluated on a case-by-case basis.

(d) Citizenship. No officer endorsement may be issued to any person who is not a citizen of the United States with the exception of operators of uninspected passenger vessels that are not documented under the laws of the United States.

(e) Age. Except as specified in this paragraph, no officer endorsement may be issued to a person who has not attained the age of 21 years. The required evidence of age may be established using any of the items submitted to establish citizenship set out in 49 CFR 1572.17:

(1) An endorsement may be granted to an applicant who has reached the age of 19 years as:

(i) Master of near-coastal, Great Lakes and inland, or river vessels of 25-200 GRT/500 GT;

(ii) Third mate;

(iii) Third assistant engineer;

(iv) Mate of vessels of between 200 GRT/500 GT and 1,600 GRT/3,000 GT;

(v) Ballast control operator (BCO);

(vi) Assistant engineer (MODU);

(vii) Assistant engineer of fishing industry vessels;

(viii) Mate (pilot) of towing vessels;

(ix) Radio officer;

(x) Assistant engineer (limited); or

(xi) Designated duty engineer of vessels of less than 4,000 HP/3,000 kW.

(2) An endorsement may be granted to an applicant who has reached the age of 18 years as:

(i) Limited master of near-coastal vessels of less than 100 GRT;

(ii) Limited master of Great Lakes and inland vessels of less than 100 GRT;

(iii) Mate of Great Lakes and inland vessels of 25-200 GRT/500 GT;

(iv) Mate of near-coastal vessels of 25-200 GRT/500 GT;

(v) Operator of uninspected passenger vessels (OUPV);

(vi) Designated duty engineer of vessels of less than 1,000 HP/750 kW; or

(vii) Apprentice mate (steersman) of towing vessels.

(f) Physical examination. (1) Persons serving or intending to serve in the merchant marine service are encouraged to take the earliest opportunity to ascertain, through examination, whether their visual acuity, color vision, hearing, and general physical condition, are such as to qualify them for service in that profession. Any physical impairment or medical condition that would render an applicant incompetent to perform the ordinary duties required of an officer is cause for denial of an officer endorsement.

(2) Applications for an original officer endorsement, raises of grade, and extensions of route, must be current and up to date with respect to service and the physical examination, as appropriate. Physical examinations and applications are valid for 12 months from the date the application is approved.

(g) Character check. (1) An individual may apply for an original officer endorsement, or officer or STCW endorsement of a different type, while on probation as a result of administrative action under part 5 of this chapter. The offense for which the applicant was placed on probation will be considered in determining his or her fitness to hold the endorsement applied for. An officer or STCW endorsement issued to an applicant on probation will be subject to the same probationary conditions as were imposed against the applicant's other credential. An applicant may not take an examination for an officer or STCW endorsement during any period of time when a suspension without probation or a revocation is effective against the applicant's currently held license, MMD, or MMC, or while an appeal from these actions is pending.

(2) If an original license, certificate of registry, or officer endorsement has been issued, when information about the applicant's habits of life and character is brought to the attention of the Coast Guard, if such information warrants the belief that the applicant cannot be entrusted with the duties and responsibilities of the license, certificate of registry, or officer endorsement issued, or if such information indicates that the application for the license, certificate of registry, or officer endorsement was false or incomplete, the Coast Guard may notify the holder in writing that the license, certificate of registry, or officer endorsement is considered null and void, direct the holder to return the credential to the Coast Guard, and advise the holder that, upon return of the credential, the appeal procedures of § 10.237 of this subchapter apply.

(h) Firefighting certificate. Applicants for an original officer endorsement in the following categories must present a certificate of completion from a firefighting course of instruction that has been approved by the Coast Guard. The course must have been completed within 5 years before the date of application for the officer endorsement requested.

(1) Mariners who completed a firefighting course within the previous 5 years must provide evidence of maintaining the standard of competence in accordance with the firefighting requirements for the credential sought.

(2) The following categories must meet the requirements for basic and advanced firefighting in Regulations VI/1 and VI/3 of the STCW Convention and Tables A-VI/1-2 and A-VI/3 of the STCW Code (both incorporated by reference, see § 11.102 of this part):

(i) Domestic officer endorsements as master or mate on seagoing vessels of 200 GRT/500 GT or more;

(ii) All domestic officer endorsements for master or mate (pilot) of towing vessels, except apprentice mate (steersman) of the vessels, on oceans;

(iii) All domestic officer endorsements for MODUs;

(iv) All domestic officer endorsements for engineers;

(v) All domestic officer endorsements for OSVs; and

(vi) All STCW officer endorsements.

(3) The following categories must meet the requirements for basic firefighting in Regulation VI/1 of the STCW Convention and Table A-VI/1-2 of the STCW Code (both incorporated by reference, see § 11.102 of this part):

(i) Officer endorsement as master on vessels of less than 200 GRT/500 GT in ocean service; and

(ii) All officer endorsements for master or mate (pilot) of towing vessels, except utility towing and apprentice mate (steersman) of towing vessels, in all services except oceans.

(i) First aid and cardiopulmonary resuscitation (CPR) course certificates. All applicants for an original officer endorsement, except as provided in §§ 11.429, 11.456, and 11.467 of this part, must present to the Coast Guard:

(1) Evidence of continued competency in STCW basic safety training or a certificate indicating completion of a first-aid course not more than 1 year from the date of application from:

(i) The American National Red Cross Standard First Aid course or American National Red Cross Community First Aid & Safety course; or

(ii) A Coast Guard-approved first-aid course; and

(2) A currently valid certificate of completion of a CPR course from either:

(i) The American National Red Cross;

(ii) The American Heart Association; or

(iii) A Coast Guard-approved CPR course.

(j) Professional Examination. (1) When the Coast Guard finds the applicant's experience and training to be satisfactory, and the applicant is eligible in all other respects, the Coast Guard will authorize examination in accordance with the following requirements:

(i) Except for an endorsement required by the STCW Convention, any applicant for a deck or engineer officer endorsement limited to vessels less than 200 GRT/500 GT, or an officer endorsement limited to uninspected fishing industry vessels, may request an orally assisted examination instead of any written or other textual examination. If there are textual questions that the applicant has difficulty reading and understanding, the Coast Guard will offer the orally assisted examination. Each officer endorsement based on an orally assisted examination is limited to the specific route and type of vessel upon which the applicant obtained the majority of service.

(ii) The general instructions for administration of examinations and the lists of subjects for all officer endorsements appear in subpart I of this part. The Coast Guard will place in the applicant's file a record indicating the subjects covered.

(iii) An applicant enrolled in a comprehensively approved program of training, service, and assessment may be authorized for an examination not more than 3 months prior to completion of the program provided that all applicable sea service requirements are completed prior to the examination.

(iv) The examination, whether administered orally or by other means, must be conducted only in the English language.

(2) When the application has been approved for examination, the applicant should take the required examination as soon as practicable; however, approved examinations are valid for 1 year.

(3) An examination is not required for a staff officer or radio officer endorsement.

(k) Radar observer. Applicants for an endorsement as radar observer must present a certificate of completion from a radar observer course as required by § 11.480 of this part.

(l) Restrictions. The Coast Guard may modify the service and examination requirements in this part to satisfy the unique qualification requirements of an applicant or distinct group of mariners. The Coast Guard may also lower the age requirement for OUPV applicants. The authority granted by an officer endorsement will be restricted to reflect any modifications made under the authority of this paragraph. These restrictions may not be removed without the approval of the Coast Guard.

§ 11.211 Creditable service and equivalents for domestic and STCW officer endorsements.

(a) Applicants for officer endorsements should refer to § 10.232 of this subchapter for information regarding requirements for documentation and proof of sea service.

(b) Service toward an oceans, near-coastal, or STCW endorsement will be credited as follows:

(1) Service on the Great Lakes will be credited on a day-for-day basis.

(2) Service on inland waters, other than Great Lakes, that are navigable waters of the United States, may be substituted for up to 50 percent of the total required service.

(c) Service on mobile offshore drilling units. (1) MODU service is creditable for raise of grade of officer endorsement. Evidence of 1 year of service on MODUs as mate or equivalent while holding an officer endorsement or license as third mate, or as engineering officer of the watch or equivalent while holding an officer endorsement or license as third assistant engineer, is acceptable for a raise of grade to second mate or second assistant engineer, respectively. However, any subsequent raises of grade of unlimited, non-restricted officer licenses or endorsements must include a minimum of 6 months of service on conventional vessels.

(2) Service on dynamically positioned MODUs, maintaining station by means of dynamic positioning, may be credited as service on conventional vessels for any raise in grade; however, time more than 8 hours each day will not be credited.

(3) A day of MODU service must be a minimum of 4 hours, and no additional credit will be granted for service periods of more than 8 hours.

(4) Creditable MODU service excludes time spent ashore due to crew rotation.

(d) Service on ATBs and ITBs. Service on Articulated Tug Barge (ATB) or Dual Mode Integrated Tug Barge (ITB) units is creditable for an original deck officer endorsement or raise of grade of any deck officer endorsement. Service on an ATB or Dual Mode ITB with an aggregate tonnage of 1,600 GRT/3,000 GT or more is creditable on a two-for-one basis (2 days experience equals 1 day of creditable service) for up to 50 percent of the total service on vessels of 1,600 GRT/3,000 GT or more required for an unlimited officer endorsement. The remaining required service on vessels of more than 1,600 GRT/3,000 GT must be obtained on conventional vessels or Push Mode ITBs.

(e) Individuals obtaining sea service as part of an approved training curriculum pursuant to either § 11.407(a)(2) or § 11.516(a)(3) must do so in the capacity of cadet (deck) or cadet (engine), as appropriate, notwithstanding any other rating endorsements the individual may hold or any other capacity in which the individual may have served.

(f) Other experience. Other experience in a marine-related area, other than at sea, or sea service performed on unique vessels, will be evaluated by the Coast Guard for a determination of equivalence to traditional service.

§ 11.217 Examination procedures and denial of officer endorsements.

(a) The examination fee set out in Table 10.219(a) in § 10.219 of this subchapter must be paid before the applicant may take the first examination section. If an applicant fails three or more sections of the examination, a complete re-examination must be taken. On the subsequent exam, if the applicant again fails three or more sections, at least 3 months must lapse before another complete examination is attempted, and a new examination fee is required. If an applicant fails one or two sections of an examination, the applicant may be retested twice on these sections during the next 3 months. If the applicant does not successfully complete these sections within the 3-month period, a complete re-examination must be taken after a lapse of at least 3 months from the date of the last retest, and a new examination fee is required. The 3-month retest period may be extended by the Coast Guard if the applicant presents evidence documenting sea time that prevented the taking of a retest during the 3-month period. The retest period may not be extended beyond 7 months from the initial examination. All examinations and retests must be completed within 1 year of approval for examination.

(b) If the Coast Guard refuses to grant an applicant the endorsement applied for due to the applicant's failure to pass a required examination, the Coast Guard will provide the applicant with a written statement setting forth the portions of the examination that must be retaken and the date by which the examination must be completed.

Subpart C—STCW Officer Endorsements

§ 11.301 Requirements for STCW officer endorsements.

(a) Standard of competence. (1) The Coast Guard will accept one or more methods to demonstrate meeting the standard of competence in this subpart. The Coast Guard will accept the following as evidence for each one of the methods required in Column 3—Methods for demonstrating competence—of the Tables of Competence in the STCW Code (incorporated by reference, see § 11.102 of this part):

(i) In-service experience: documentation of successful completion of assessments, approved or accepted by the Coast Guard, and signed by a designated examiner (DE) or seafarer with a higher credential—deck or engineering—as appropriate, than the assessment related to the credential sought by the applicant.

(ii) Training ship experience: documentation of successful completion of an approved training program involving formal training and assessment onboard a training ship.

(iii) Simulator training: documentation of successful completion of training and assessment from a Coast Guard-approved course involving maritime simulation.

(iv) Laboratory equipment training: documentation of successful completion of training and assessments from an approved training course or facility.

(v) Practical training or instruction:

(A) Documentation of successful completion of assessment as part of a structured/formal training or instruction provided by an organization or company as part of an accepted safety or quality management system; or

(B) Documentation of successful completion of an approved training course from a school or facility.

(vi) Specialist training: documentation of successful completion of assessment as part of a company training or specialized training provided by a maritime or equipment specialist.

(vii) Workshop skills training: documentation of successful completion of assessments or completion certificate from an approved training program, school or facility.

(viii) Training program: documentation of successful completion of an approved training program.

(ix) Training on a manned scale ship model: documentation of successful completion of assessment as part of a structured/formal training or instruction provided by an approved training school or facility.

(x) Practical demonstration and practical demonstration of competence: documentation of successful completion of assessments approved or accepted by the Coast Guard.

(xi) Practical test and practical experience: documentation of successful completion of assessments approved or accepted by the Coast Guard.

(xii) Examination: successful completion of a Coast Guard examination.

(xiii) Instruction or course: documentation of successful completion of a course of instruction offered by an approved training school or facility.

(2) Knowledge components may be documented by:

(i) Successful completion of the Coast Guard examination for the associated officer endorsement;

(ii) Successful completion of an approved course; or

(iii) Successful completion of an approved program.

(3) The Coast Guard will publish assessment guidelines that should be used to document assessments that demonstrate meeting the standard of competence, as required by paragraph (a)(1) of this section. Organizations may develop alternative assessment documentation for demonstrations of competence; however, it must be approved by the Coast Guard prior to its use and submittal with an application.

(b) Basic Safety Training. (1) Applicants seeking an STCW officer endorsement must provide evidence, with their application, of meeting the standard of competence for basic safety training as described below:

(i) Personal survival techniques as set out in Table A-VI/1-1 of the STCW Code.

(ii) Fire prevention and firefighting as set out in Table A-VI/1-2 of the STCW Code.

(iii) Elementary first aid as set out in Table A-VI/1-3 of the STCW Code.

(iv) Personal safety and social responsibilities as set out in Table A-VI/1-4 of the STCW Code.

(2) Every 5 years seafarers qualified in accordance with paragraph (e) of this section must provide evidence of maintaining the standard of competence for Basic Safety Training.

(3) The Coast Guard will accept onboard training and experience, through evidence of 1 year of sea service within the last 5 years, as meeting the requirements for Basic Safety Training of paragraph (e)(2) of this section for the following areas:

(i) Personal survival techniques as set out in Table A-VI/1-1 of the STCW Code:

(A) Don a lifejacket;

(B) Board a survival craft from the ship, while wearing a lifejacket;

(C) Take initial actions on boarding a lifeboat to enhance chance of survival;

(D) Stream a lifeboat drogue or sea-anchor;

(E) Operate survival craft equipment; and

(F) Operate location devices, including radio equipment.

(ii) Fire prevention and firefighting as set out in Table A-VI/1-2 of the STCW Code:

(A) Use self-contained breathing apparatus; and

(B) Effect a rescue in a smoke-filled space, using an approved smoke-generating device aboard, while wearing a breathing apparatus.

(iii) Elementary first aid as set out in Table A-VI/1-3 of the STCW Code.

(iv) Personal safety and social responsibilities as set out in Table A-VI/1-4 of the STCW Code.

(4) The Coast Guard will only accept evidence of approved assessments conducted ashore as meeting the requirements for Basic Safety Training of paragraph (e)(2) of this section for the following areas:

(i) Personal survival techniques as set out in Table A-VI/1-1 of the STCW Code:

(A) Don and use an immersion suit;

(B) Safely jump from a height into the water;

(C) Right an inverted liferaft while wearing a lifejacket;

(D) Swim while wearing a lifejacket; and

(E) Keep afloat without a lifejacket.

(ii) Fire prevention and firefighting as set out in Table A-VI/1-2 of the STCW Code:

(A) Use various types of portable fire extinguishers;

(B) Extinguish smaller fires, e.g., electrical fires, oil fires, and propane fires;

(C) Extinguish extensive fires with water, using jet and spray nozzles;

(D) Extinguish fires with foam, powder, or any other suitable chemical agent;

(E) Fight fire in smoke-filled enclosed spaces wearing self-contained breathing apparatus;

(F) Extinguish fire with water fog or any other suitable firefighting agent in an accommodation room or simulated engineroom with fire and heavy smoke; and

(G) Extinguish oil fire with fog applicator and spray nozzles, dry chemical powder, or foam applicators.

(5) Applicants who cannot meet the requirement for 1 year of sea service within the last 5 years, as described in paragraph (b)(3) of this section, will be required to meet the requirements of paragraph (b)(1) of this section.

(c) Advanced Firefighting. (1) Applicants seeking an STCW officer endorsement must provide evidence, with their application, of meeting the standard of competence as set out in Table A-VI/3 of the STCW Code. Applicants for an original STCW officer endorsement, who met the requirements of § 11.201(h)(1) of this subpart will be deemed to have met the requirement of this paragraph.

(2) Every 5 years seafarers qualified in accordance with paragraph (1) of this section must provide evidence of maintaining the standard of competence as set out in Table A-VI/3 of the STCW Code.

(3) The Coast Guard will accept onboard training and experience, through evidence of 1 year of sea service within the last 5 years, as meeting the requirements of paragraph (c)(2) of this section for the following areas as set out in Table A-VI/3 of the STCW Code:

(i) Control firefighting operations aboard ships;

(A) Firefighting procedures at sea and in port, with particular emphasis on organization, tactics and command;

(B) Communication and coordination during firefighting operations;

(C) Ventilation control, including smoke extraction;

(D) Control of fuel and electrical systems;

(E) Fire-fighting process hazards (dry distillation, chemical reactions, boiler uptake);

(F) Fire precautions and hazards associated with the storage and handling of materials;

(G) Management and control of injured persons; and

(H) Procedures for coordination with shore-based fire fighters; and

(ii) Inspect and service fire-detection and extinguishing systems and equipment;

(A) Requirements for statutory and classification.

(4) The Coast Guard will only accept evidence of assessments conducted ashore as meeting the requirements of paragraph (c)(2) of this section for the following areas as set out in Table A-VI/3 of the STCW Code.

(i) Control fire-fighting operations aboard ships:

(A) Use of water for fire-extinguishing, the effect on ship stability, precautions, and corrective procedures; and

(B) Firefighting involving dangerous goods;

(ii) Organize and train fire parties;

(iii) Inspect and service fire-detection and extinguishing systems and equipment;

(A) Fire-detection. Fire-detection systems; fixed fire-extinguishing systems; portable and mobile fire-extinguishing equipment, including appliances, pumps and rescue; salvage; life-support; personal protective and communication equipment; and

(iv) Investigate and compile reports on incidents involving fire.

(d) Service. (1) Service as a rating will not be accepted to upgrade from the operational-level to management-level STCW endorsements.

(2) Service on the Great Lakes will be credited on a day-for-day basis.

(3) Service on inland waters other than Great Lakes, which are navigable waters of the United States, will be credited 1 day of ocean service for every 2 days of inland service for up to 50 percent of the total required service.

(4) Service accrued onboard vessels with dual tonnages (both domestic and international) will be credited using the international tonnage for the credential sought.

(5) Applicants who cannot meet the requirement for 1 year of sea service within the last 5 years as described in paragraph (c)(3) of this section, will be required to meet the requirements of paragraph (c)(1) of this section.

(e) Operational-level endorsement. Applicants holding domestic officer endorsements, who seek to add an STCW endorsement at the operational level, must provide evidence of meeting the STCW requirements found in this subpart, including:

(1) Meeting the service requirements for the operational-level STCW endorsement;

(2) Satisfactory completion of the STCW operational-level standards of competence; and

(3) Satisfactory completion of the STCW operational-level training as required in this part.

(f) Management-level endorsement. Applicants holding domestic officer endorsements as master, chief mate, chief engineer, or first assistant engineer, who seek to add an STCW endorsement at the management level, must provide evidence of meeting the STCW requirements found in this subpart, including:

(1) Meeting the service requirements for the management-level STCW endorsement;

(2) Satisfactory completion of the STCW operational- and management-level standards of competence; and

(3) Satisfactory completion of the STCW operational- and management-level training as required in this part.

(g) Training and assessment for Automatic Radar Plotting Aids (ARPA), Electronic Chart Display and Information System (ECDIS), or Global Maritime Distress and Safety System (GMDSS). Training and assessment in the use of ARPA, ECDIS, or GMDSS is not required for those who serve exclusively on ships not fitted with ARPA, ECDIS, or GMDSS. For ARPA and ECDIS, this limitation must be reflected in the endorsement issued to the seafarer concerned. The GMDSS endorsement will only be added if the applicant qualifies for it.

(h) Exemptions and Limitations. (1) The Coast Guard may exempt an applicant from meeting any individual knowledge, understanding, and proficiency required in the appropriate table of competence in the STCW Code. These exemptions must be approved by the Coast Guard based upon vessel type. Under these circumstances, the certificate may include a corresponding limitation.

(2) A seafarer may have a limitation removed by providing the Coast Guard with evidence of having completed the individual knowledge, understanding, and proficiency required.

(i) Grandfathering. (1) Except as noted otherwise, each candidate who applies for a credential based on approved or accepted training or approved seagoing service that was started on or after July 1, 2013, or who applies for the MMC endorsement on or after January 1, 2017, must meet the requirements of these regulations.

(2) Except as noted by this subpart, seafarers holding an STCW endorsement prior to July 1, 2013, will not be required to complete any additional training required under this part to retain the STCW endorsements.

(3) Except as noted otherwise, candidates who apply for a credential based on approved or accepted training or approved seagoing service that was obtained before July 1, 2013 will be required to comply with the requirements of this part existing before the publication of these regulations on [EFFECTIVE DATE OF THIS RULE]. This includes the assessments published prior to the date of publication of these regulations on [EFFECTIVE DATE OF THIS RULE], as well as the additional requirements for the STCW endorsement section.

(4) Except as noted by this subpart, the Coast Guard will continue to issue STCW endorsements to candidates meeting the requirements of this part existing before the publication of these regulations on [EFFECTIVE DATE OF THIS RULE], for seafarers identified in paragraph (i)(3) of this section, until January 1, 2017.

(j) Notwithstanding § 11.901 of this part, each mariner found qualified to hold any of the following domestic officer endorsements will also be entitled to hold an STCW endorsement corresponding to the service or other limitations of the license or officer endorsements on the MMC. The vessels concerned are not subject to further obligation under STCW because of their special operating conditions as small vessels engaged in domestic, near-coastal voyages:

(1) Masters, mates, or engineers endorsed for service on small passenger vessels that are subject to subchapter T or K of this chapter and that operate beyond the boundary line; and

(2) Masters, mates, or engineers endorsed for service on seagoing vessels of less than 200 GRT/500 GT, other than passenger vessels subject to subchapter H of this chapter.

(k) No mariner serving on, and no owner or operator of any of the following vessels, need hold an STCW endorsement, because they are exempt from application of STCW:

(1) Fishing vessels as defined in 46 U.S.C. 2101(11)(a);

(2) Fishing vessels used as fish-tender vessels as defined in 46 U.S.C. 2101(11)(c);

(3) Barges as defined in 46 U.S.C. 102, including non-self-propelled mobile offshore drilling units; and

(4) Vessels operating exclusively on the Great Lakes or on the inland waters of the U.S. in the Straits of Juan de Fuca or on the Inside Passage between Puget Sound and Cape Spencer.

(l) No mariner serving on, and no owner or operators of uninspected passenger vessels as defined in 46 U.S.C. 2101(42)(B), need to hold an STCW endorsement. The vessels concerned are not subject to further obligation under STCW because of their special operating conditions as small vessels engaged in domestic, near-coastal voyages.

§ 11.303 STCW deck officer endorsements.

(a) Specific requirements for all STCW deck officer endorsements are detailed in the applicable sections in this part.

(1) Master on vessels of 1,600 GRT/3,000 GT or more (management level).

(2) Chief mate on vessels of 1,600 GRT/3,000 GT or more (management level).

(3) Officer in Charge of a Navigational Watch (OICNW) of vessels of 200 GRT/500 GT or more (operational level).

(4) Master of vessels of 200 GRT/500 GT or more and less than 1,600 GRT/3,000 GT (management level).

(5) Chief mate of vessels of 200 GRT/500 GT or more and less than 1,600 GRT/3,000 GT (management level).

(6) Master of vessels of less than 200 GRT/500 GT (management level).

(7) Master of vessels of less than 200 GRT/500 GT limited to near-coastal waters (management level).

(8) OICNW of vessels of less than 200 GRT/500 GT (operational level).

(9) OICNW of vessels of less than 200 GRT/500 GT limited to near-coastal waters (operational level).

§ 11.305 Requirements to qualify for an STCW endorsement as master on vessels of 1,600 GRT/3,000 GT or more (management level).

(a) To qualify for an STCW endorsement as master, an applicant must—

(1) Provide evidence of 36 months of service as OICNW on vessels of 200 GRT/500 GT or more operating in oceans, near-coastal and/or Great Lakes. However, this period may be reduced to not less than 24 months if the applicant served as chief mate for not less than 12 months. Service on inland, waters that are navigable waters of the United States may be substituted for up to 50 percent of the total required service. Experience gained in the engine department on vessels may be creditable for up to 3 months of the service requirements;

(2) Provide evidence of meeting the standard of competence specified in Section A-II/2 of the STCW Code (incorporated by reference, see § 11.102 of this part); and

(3) Provide evidence of having satisfactorily completed approved training in the following subject areas:

(i) Search and rescue;

(ii) ARPA, if required;

(iii) GMDSS, if required; and

(iv) Management of medical care.

(b) Each candidate for a renewal of an STCW endorsement as master of vessels of 1,600 GRT/3,000 GT or more, to be valid on or after January 1, 2017, must provide evidence of meeting the standard of competence in the following:

(1) Leadership and managerial skills; and

(2) ECDIS, if serving on a vessel with this equipment.

(c) The Coast Guard may exempt an applicant from meeting any individual knowledge, understanding, and proficiency required in Section A-II/2 of the STCW Code. These exemptions must be approved by the Coast Guard based upon vessel type. Under these circumstances, the certificate may include a corresponding limitation.

(d) Seafarers holding an STCW endorsement as masters of vessels of 200 GRT/500 GT or more and less than 1,600 GRT/3,000 GT, in accordance with § 11.311 of this subpart, are eligible to apply for the endorsement as master on vessels of 1,600 GRT/3,000 GT or more upon completion of 6 months of sea service, under the authority of the endorsement; and complete any items in paragraphs (a)(2) and (a)(3) of this section not previously satisfied.

(e) Seafarers with one of the following domestic officer endorsements are eligible to apply for this endorsement upon completion of the requirements in the table below:

Table 11.305(e)—STCW Endorsement as Master on Vessels of 1,600 GRT/3,000 GT or more
Entry path from domestic endorsements | Sea service under authority of the endorsement * | Competence—STCW table A-II/2 ** | Training required by this section ***
Master ocean or near-coastal, unlimited tonnage |  | Yes | Yes.
Master OSV |  | Yes | Yes.
* This column provides the minimum additional service required of the seafarer in order to meet the requirements of this section.
** Complete any items in paragraph (a)(2) of this section not previously satisfied.
*** Complete any items in paragraph (a)(3) of this section not previously satisfied.

§ 11.307 Requirements to qualify for an STCW endorsement as chief mate on vessels of 1,600 GRT/3,000 GT or more (management level).

(a) To qualify for an STCW endorsement as chief mate, an applicant must:

(1) Provide evidence of 12 months of service as OICNW on vessels of 200 GRT/500 GT or more operating in oceans, near-coastal and/or Great Lakes. Service on inland waters, bays, or sounds that are navigable waters of the United States may be substituted for up to 50 percent of the total required service. Experience gained in the engine department on vessels may be creditable for up to 1 month of the service requirements;

(2) Meet the standard of competence specified in Section A-II/2 of the STCW Code (incorporated by reference, see § 11.102 of this part); and

(3) Provide evidence of having satisfactorily completed approved training in the following subject areas:

(i) Search and rescue;

(ii) ARPA, if required;

(iii) GMDSS, if required; and

(iv) Management of medical care.

(b) Each candidate for a renewal of an STCW endorsement as chief mate of vessels of 1,600 GRT/3,000 GT or more, to be valid on or after January 1, 2017, must provide evidence of meeting the standard of competence in the following:

(1) Leadership and managerial skills; and

(2) ECDIS, if serving on a vessel with this equipment.

(c) The Coast Guard may exempt an applicant from meeting any individual knowledge, understanding, and proficiency required in Section A-II/2 of the STCW Code. These exemptions must be approved by the Coast Guard based upon vessel type. Under these circumstances, the certificate may include a corresponding limitation.

(d) Seafarers holding an STCW endorsement as chief mate of vessels of 200 GRT/500 GT or more and less than 1,600 GRT/3,000 GT, in accordance with § 11.313 of this subpart, are eligible to apply for the endorsement as chief mate on vessels of 1,600 GRT/3,000 GT or more upon completion of 6 months of sea service, under the authority of the endorsement; and complete any items in paragraphs (a)(2) and (a)(3) of this section not previously satisfied.

(e) Seafarers with one of the following domestic officer endorsements are eligible to apply for this endorsement upon completion of the requirements in the table below:

Table 11.307(e)—STCW Endorsement as Chief Mate on Vessels of 1,600 GRT/3,000 GT or More
Entry path from domestic endorsements | Sea service under authority of the endorsement * | Competence—STCW table A-II/2 ** | Training required by this section ***
Chief Mate ocean or near-coastal, unlimited tonnage |  | Yes | Yes.
Master ocean or near-coastal, less than 500 GRT | 12 months | Yes | Yes.
Chief mate OSV |  | Yes | Yes.
Master Towing Vessel ocean or near-coastal | 12 months | Yes | Yes.
* This column provides the minimum additional service required of the seafarer in order to meet the requirements of this section.
** Complete any items in paragraph (a)(2) of this section not previously satisfied.
*** Complete any items in paragraph (a)(3) of this section not previously satisfied.

§ 11.309 Requirements to qualify for an STCW endorsement as Officer in Charge of a Navigational Watch (OICNW) of vessels of 200 GRT/500 GT or more (operational level).

(a) To qualify for an STCW endorsement as OICNW, an applicant must:

(1) Provide evidence of seagoing service as follows:

(i) Thirty-six months of seagoing service in the deck department on vessels operating in oceans, near-coastal and/or Great Lakes. Service on inland waters, bays, or sounds that are navigable waters of the United States may be substituted for up to 50 percent of the total required service; or

(ii) Twelve months of seagoing service as part of an approved training program, which includes onboard training that meets the requirements of Section A-II/1 of the STCW Code (incorporated by reference, see § 11.102 of this part); and

(2) Provide evidence of having performed, during the required seagoing service, bridge watchkeeping duties, under the supervision of an officer holding the STCW endorsement as master, chief mate, second mate, or OICNW, for a period of not less than 6 months;

(3) Provide evidence of meeting the standard of competence specified in Section A-II/1 of the STCW Code; and

(4) Provide evidence of having satisfactorily completed approved training in the following subject areas:

(i) Medical first-aid provider;

(ii) Radar observer;

(iii) IMO Standard Marine Communication Phrases (SMCP);

(iv) Search and rescue;

(v) Basic and advanced firefighting;

(vi) Proficiency in survival craft and rescue boats other than fast rescue boats;

(vii) Visual Signaling;

(viii) Bridge Resource Management (BRM);

(ix) ARPA, if serving on a vessel with this equipment;

(xi) GMDSS, if serving on a vessel with this equipment; and

(xii) ECDIS, if serving on a vessel with this equipment.

(b) Experience gained in the engine department on vessels may be creditable for up to 3 months of the service requirements in paragraph (a)(1)(i) of this section.

(c) Each candidate for a renewal of an STCW endorsement as OICNW of vessels of 200 GRT/500 GT or more, to be valid on or after January 1, 2017, must provide evidence of meeting the standard of competence in the following:

(1) Leadership and teamworking skills; and

(2) ECDIS, if serving on a vessel with this equipment.

(d) The Coast Guard may exempt an applicant from meeting any individual knowledge, understanding, and proficiency required in Section A-II/1 of the STCW Code. These exemptions must be approved by the Coast Guard based upon vessel type. Under these circumstances, the certificate may include a corresponding limitation.

(e) Seafarers with one of the following domestic officer endorsements are eligible to apply for this endorsement upon completion of the requirements in the table below:

Table 11.309(e)—STCW Endorsement as OICNW on Vessels of 200 GRT/500 GT or More
Entry path from domestic endorsements | Sea service under authority of the endorsement * | Competence—STCW table A-II/1 ** | Training required by this section ***
Mate ocean or near-coastal, unlimited tonnage |  | Yes | Yes.
Mate ocean or near-coastal, less than 1,600 GRT/3,000 GT |  | Yes | Yes.
Mate ocean or near-coastal, NMT 500 GRT | 12 months | Yes | Yes.
Mate OSV | 12 months | Yes | Yes.
Mate Towing Vessel ocean or near-coastal | 6 months | Yes | Yes.
* This column provides the minimum additional service required of the seafarer in order to meet the requirements of this section.
** Complete any items in paragraph (a)(3) of this section not previously satisfied.
*** Complete any items in paragraph (a)(4) of this section not previously satisfied.

§ 11.311 Requirements to qualify for an STCW endorsement as master of vessels of 200 GRT/500 GT or more and less than 1,600 GRT/3,000 GT (management level).

(a) To qualify for an STCW endorsement as master, an applicant must:

(1) Provide evidence of 36 months of service as OICNW on vessels of 200 GRT/500 GT or more, operating in oceans, near-coastal waters and/or Great Lakes. However, this period may be reduced to not less than 24 months if the applicant served as chief mate for not less than 12 months. Service on inland waters, bays, or sounds that are navigable waters of the United States may be substituted for up to 50 percent of the total required service. Experience gained in the engine department on vessels may be creditable for up to 3 months of the service requirements;

(2) Provide evidence of meeting the standard of competence specified in Section A-II/2 of the STCW Code (incorporated by reference, see § 11.102 of this part); and

(3) Provide evidence of having satisfactorily completed approved training in the following subject areas:

(i) Search and rescue;

(ii) Management of medical care;

(iii) ARPA, if serving on a vessel with this equipment; and

(iv) GMDSS, if serving on a vessel with this equipment.

(b) Each candidate for a renewal of an STCW endorsement as master of vessels of 200 GRT/500 GT or more and less than 1,600 GRT/3,000 GT, to be valid on or after January 1, 2017, must provide evidence of meeting the standard of competence in the following:

(1) Leadership and managerial skills; and

(2) ECDIS, if serving on a vessel with this equipment.

(c) The Coast Guard may exempt an applicant from meeting any individual knowledge, understanding, and proficiency required in Section A-II/2 of the STCW Code. These exemptions must be approved by the Coast Guard based upon vessel type. Under these circumstances, the certificate may include a corresponding limitation.

(d) Seafarers with one of the following domestic officer endorsements are eligible to apply for this endorsement upon completion of the requirements in the table below:

Table 11.311(d)—STCW Endorsement as Master on Vessels of 200 GRT/500 GT or More and Less Than 1,600 GRT/3,000 GT
Entry path from domestic endorsements | Sea service under authority of the endorsement * | Competence—STCW table A-II/3 ** | Training required by this section ***
Master oceans or near-coastal, less than 1,600 GRT/3,000 GT |  | Yes | Yes.
Master OSV |  | Yes | Yes.
Master oceans or near-coastal, less than 500 GRT | 12 months | Yes | Yes.
Master Towing Vessel oceans or near-coastal | 12 months | Yes | Yes.
* This column provides the minimum additional service required of the seafarer in order to meet the requirements of this section.
** Complete any items in paragraph (a)(2) of this section not previously satisfied.
*** Complete any items in paragraph (a)(3) of this section not previously satisfied.

§ 11.313 Requirements to qualify for an STCW endorsement as chief mate of vessels of 200 GRT/500 GT or more and less than 1,600 GRT/3,000 GT (management level).

(a) To qualify for an STCW endorsement as chief mate, an applicant must:

(1) Provide evidence of 12 months of service as OICNW on vessels of 200 GRT/500 GT or more, operating in oceans, near-coastal waters and/or Great Lakes. Service on inland waters, bays, or sounds that are navigable waters of the United States may be substituted for up to 50 percent of the total required service. Experience gained in the engine department on vessels may be creditable for up to 1 month of the service requirements;

(2) Provide evidence of meeting the standard of competence specified in Section A-II/2 of the STCW Code (incorporated by reference, see § 11.102 of this part); and

(3) Provide evidence of having satisfactorily completed approved training in the following subject areas:

(i) Search and rescue;

(ii) Management of medical care;

(iii) ARPA, if serving on a vessel with this equipment; and

(iv) GMDSS, if serving on a vessel with this equipment.

(b) Each candidate for a renewal of an STCW endorsement as chief mate of vessels of 200 GRT/500 GT or more and less than 1,600 GRT/3,000 GT, to be valid on or after January 1, 2017, must provide evidence of meeting the standard of competence in the following:

(1) Leadership and managerial skills; and

(2) ECDIS, if serving on a vessel with this equipment.

(c) The Coast Guard may exempt an applicant from meeting any individual knowledge, understanding, and proficiency required in Section A-II/2 of the STCW Code. These exemptions must be approved by the Coast Guard based upon vessel type. Under these circumstances, the certificate may include a corresponding limitation.

(d) Seafarers with one of the following domestic officer endorsements are eligible to apply for this endorsement upon completion of the requirements in the table below:

Table 11.313(d)—STCW Endorsement as Chief Mate on Vessels of 200 GRT/500 GT or More and Less Than 1,600 GRT/3,000 GT
Entry path from domestic endorsements | Sea service under authority of the endorsement * | Competence—STCW table A-II/2 ** | Training required by this section ***
Chief mate OSV |  | Yes | Yes.
Master oceans or near-coastal, less than 500 GRT | 6 months | Yes | Yes.
Master Towing Vessel oceans or near-coastal | 6 months | Yes | Yes.
* This column provides the minimum additional service required of the seafarer in order to meet the requirements of this section.
** Complete any items in paragraph (a)(2) of this section not previously satisfied.
*** Complete any items in paragraph (a)(3) of this section not previously satisfied.

§ 11.315 Requirements to qualify for an STCW endorsement as master of vessels of less than 200 GRT/500 GT (management level).

(a) To qualify for an STCW endorsement as master, an applicant must:

(1) Provide evidence of 36 months of seagoing service as OICNW on vessels operating in oceans, near-coastal waters and/or Great Lakes; however, this period may be reduced to not less than 24 months if not less than 12 months of such seagoing service has been served as OICNW. Service on inland waters, bays, or sounds that are navigable waters of the United States may be substituted for up to 50 percent of the total required service. Experience gained in the engine department may be creditable for up to 3 months of the service requirements;

(2) Provide evidence of meeting the standard of competence specified in Section A-II/2 of the STCW Code (incorporated by reference, see § 11.102 of this part); and

(3) Provide evidence of having satisfactorily completed approved training in the following subject areas:

(i) Search and rescue;

(ii) Management of medical care;

(iii) ARPA, if serving on a vessel with this equipment; and

(iv) GMDSS, if serving on a vessel with this equipment.

(b) Each candidate for a renewal of an STCW endorsement as master of vessels of less than 200 GRT/500 GT, to be valid on or after January 1, 2017, must provide evidence of meeting the standard of competence in the following:

(1) Leadership and managerial skills; and

(2) ECDIS, if serving on a vessel with this equipment.

(c) The Coast Guard may exempt an applicant from meeting any individual knowledge, understanding, and proficiency required in Section A-II/2 of the STCW Code. These exemptions must be approved by the Coast Guard based upon vessel type. Under these circumstances, the certificate may include a corresponding limitation.

(d) Seafarers with one of the following domestic officer endorsements are eligible to apply for this endorsement upon completion of the requirements in the table below:

Table 11.315(d)—STCW Endorsement as Master of Vessels of Less Than 200 GRT/500 GT
Entry path from domestic endorsements | Sea service under authority of the endorsement* | Competence—STCW table A-II/3 ** | Training required by this section***
Master oceans or near-coastal, less than 500 GRT |  | Yes | Yes.
Master Towing Vessel oceans or near-coastal |  | Yes | Yes.
Master oceans or near-coastal, less than 200 GRT | 12 months | Yes | Yes.
* This column provides the minimum additional service required of the seafarer in order to meet the requirements of this section.
** Complete any items in paragraph (a)(2) of this section not previously satisfied.
*** Complete any items in paragraph (a)(3) of this section not previously satisfied.

§ 11.317 Requirements to qualify for an STCW endorsement as master of vessels of less than 200 GRT/500 GT limited to near-costal waters (management level).

(a) To qualify for an STCW endorsement as chief mate, an applicant must:

(1) Provide evidence of 12 months of service as OICNW on vessels of 200 GRT/500 GT or more, operating in oceans, near-coastal waters and/or Great Lakes. Service on inland waters, bays, or sounds that are navigable waters of the United States may be substituted for up to 50 percent of the total required service. Experience gained in the engine department on vessels may be creditable for up to 1 month of the service requirements;

(2) Provide evidence of meeting the standard of competence specified in Section A-II/2 of the STCW Code (incorporated by reference, see § 11.102 of this part); and

(3) Provide evidence of having satisfactorily completed approved training in the following subject areas:

(i) Medical first-aid provider;

(ii) Basic and advanced firefighting;

(iii) Proficiency in survival craft and rescue boats other than fast rescue boats;

(iv) Radar observer, if required; and

(v) ARPA, if serving on a vessel with this equipment.

(b) Each candidate for a renewal of an STCW endorsement as master of vessels of less than 200 GRT/500 GT limited to near-coastal waters, to be valid on or after January 1, 2017, must provide evidence of meeting the standard of competence in the following:

(1) Leadership and managerial skills; and

(2) ECDIS, if serving on a vessel with this equipment.

(c) The Coast Guard may exempt an applicant from meeting any individual knowledge, understanding, and proficiency required in Section A-II/3 of the STCW Code. These exemptions must be approved by the Coast Guard based upon vessel type. Under these circumstances, the certificate may include a corresponding limitation.

(d) Seafarers with one of the following domestic officer endorsements are eligible to apply for this endorsement upon completion of the requirements in the table below:

Table 11.317(d)—STCW Endorsement as Master of Vessels of Less Than 200 GRT/500 GT Limited to Near-Coastal Waters
Entry path from domestic endorsements | Sea service under authority of the endorsement* | Competence—STCW table A-II/3 ** | Training required by this section***
Mate oceans or near-coastal, less than 500 GRT |  | Yes | Yes.
Mate towing vessel oceans or near-coastal |  | Yes | Yes.
Master oceans or near-coastal, less than 200 GRT/500 GT | 6 months | Yes | Yes.
Mate oceans or near-coastal, less than 200 GRT/500 GT | 12 months | Yes | Yes.
* This column provides the minimum additional service required of the seafarer in order to meet the requirements of this section.
** Complete any items in paragraph (a)(2) of this section not previously satisfied.
*** Complete any items in paragraph (a)(3) of this section not previously satisfied.

§ 11.319 Requirements to qualify for an STCW endorsement as Officer in Charge of a Navigational Watch (OICNW) of vessels of less than 200 GRT/500 GT (operational level).

(a) To qualify for an STCW endorsement as OICNW, an applicant must:

(1) Provide evidence of 36 months of service in the deck department on vessels operating in oceans, near-coastal waters, and/or Great Lakes. Service on inland waters, bays, or sounds that are navigable waters of the United States may be substituted for up to 50 percent of the required service. Experience gained in the engine department may be creditable for up to 3 months of the service requirements; or

(2) Provide evidence of not less than 12 months of seagoing service as part of an approved training program that includes onboard training that meets the requirements of Section A-II/1 of the STCW Code (incorporated by reference, see § 11.102 of this part); and

(3) Provide evidence of having performed during the required seagoing service, bridge watchkeeping duties, under the supervision of an officer holding the STCW endorsement as master, chief mate, or OICNW, for a period of not less than 6 months. The Coast Guard will accept service on vessels as boatswain, able seaman, or quartermaster while holding the appropriate deck watchkeeping rating endorsement, which may be accepted on a two-for-one basis to a maximum allowable substitution of 3 months (6 months of experience equals 3 months of creditable service);

(4) Provide evidence of meeting the standard of competence specified in Section A-II/3 of the STCW Code; and

(5) Provide evidence of having satisfactorily completed approved training in the following subject areas:

(i) Medical first-aid provider;

(ii) Radar observer;

(iii) IMO SMCP;

(iv) Basic and advanced firefighting;

(v) Proficiency in survival craft and rescue boats other than fast rescue boats;

(vi) Visual signaling;

(vii) Bridge Resource Management (BRM);

(viii) ARPA, if serving on a vessel with this equipment;

(ix) GMDSS, if serving on a vessel with this equipment; and

(x) ECDIS, if serving on a vessel with this equipment.

(b) Each candidate for a renewal of an STCW endorsement as OICNW of vessels of less than 200 GRT/500 GT, to be valid on or after January 1, 2017, must provide evidence of meeting the standard of competence in the following:

(1) Leadership and teamworking skills; and

(2) ECDIS, if serving on a vessel with this equipment.

(c) The Coast Guard may exempt an applicant from meeting any individual knowledge, understanding, and proficiency required in Section A-II/3 of the STCW Code. These exemptions must be approved by the Coast Guard based upon vessel type. Under these circumstances, the certificate may include a corresponding limitation.

(d) Seafarers with one of the following domestic officer endorsements are eligible to apply for this endorsement upon completion of the requirements in the table below:

Table 11.319(d)—STCW Endorsement as Officer in Charge of a Navigational Watch (OICNW) of Vessels of Less Than 200 GRT/500 GT
Entry path from domestic endorsements | Sea service under authority of the endorsement * | Competence—STCW table A-II/3 ** | Training required by this section ***
Mate oceans or near-coastal, less than 500 GRT O/NC |  | Yes | Yes.
Mate towing vessel oceans or near-coastal |  | Yes | Yes.
Master oceans or near-coastal, less than 200 GRT/500 GT | 6 months | Yes | Yes.
Mate oceans or near-coastal, less than 200 GRT/500 GT | 12 months | Yes | Yes.
* This column provides the minimum additional service required of the seafarer in order to meet the requirements of this section.
** Complete any items in paragraph (a)(2) of this section not previously satisfied.
*** Complete any items in paragraph (a)(3) of this section not previously satisfied.

§ 11.321 Requirements to qualify for an STCW endorsement as Officer in Charge of a Navigational Watch (OICNW) of vessels of less than 200 GRT/500 GT limited to near-coastal waters (operational level).

(a) To qualify for an STCW endorsement as OICNW, an applicant must:

(1) Provide evidence of seagoing service as follows:

(i) Twenty four months of seagoing service in the deck department on vessels operating in oceans, near-coastal, and/or Great Lakes. Service on inland waters, bays, or sounds that are navigable waters of the United States may be substituted for up to 50 percent of the total required service. Experience gained in the engine department may be creditable for up to 3 months of the service requirements; or

(ii) Successful completion of an approved training program that includes seagoing service as required by the Coast Guard; or

(iii) Successful completion of approved training for this section and obtain 12 months of seagoing service;

(2) Provide evidence of meeting the standard of competence specified in Section A-II/3 of the STCW Code (incorporated by reference, see § 11.102 of this part); and

(3) Provide evidence of having satisfactorily completed approved training in the following subject areas:

(i) Medical first-aid provider;

(ii) Basic and advanced firefighting;

(iii) Proficiency in survival craft and rescue boats other than fast rescue boats;

(iv) Bridge Resource Management (BRM);

(v) Radar observer, if required; and

(vi) ARPA, if serving on a vessel with this equipment.

(b) Each candidate for a renewal of an STCW endorsement as OICNW of vessels of less than 200 GRT/500 GT limited to near-coastal waters, to be valid on or after January 1, 2017, must provide evidence of meeting the standard of competence in the following:

(1) Leadership and teamworking skills; and

(2) ECDIS, if serving on a vessel with this equipment.

(c) The Coast Guard may exempt an applicant from meeting any individual knowledge, understanding, and proficiency required in Section A-II/3 of the STCW Code. These exemptions must be approved by the Coast Guard based upon vessel type. Under these circumstances, the certificate may include a corresponding limitation.

(d) Seafarers with one of the following domestic officer endorsements are eligible to apply for this endorsement upon completion of the requirements in the table below:

Table 11.321(d)—STCW Endorsement as OICNW of Vessels of Less Than 200 GRT/500 GT Limited to Near-Coastal Waters
Entry path from domestic endorsements | Sea service under authority of the endorsement * | Competence—STCW table A-II/3 ** | Training required by this section ***
Mate oceans or near-coastal less than 500 GRT |  | Yes | Yes.
Mate Towing Vessel oceans or near-coastal |  | Yes | Yes.
Master oceans or near-coastal, less than 200 GRT |  | Yes | Yes.
Mate oceans or near-coastal, less than 200 GRT | 6 months | Yes | Yes.
* This column provides the minimum additional service required of the seafarer in order to meet the requirements of this section.
** Complete any items in paragraph (a)(2) of this section not previously satisfied.
*** Complete any items in paragraph (a)(3) of this section not previously satisfied.

§ 11.323 STCW engineer officer endorsements.

(a) Specific requirements for all STCW engineer officer endorsements are detailed in the applicable sections in this part.

(1) Chief engineer officer on vessels powered by main propulsion machinery of 3,000 kW/4,000 HP propulsion power or more (management level).

(2) Second engineer officer on vessels powered by main propulsion machinery of 3,000 kW/4,000 HP propulsion power or more (management level).

(3) Officer in Charge of an Engineering Watch (OICEW) in a manned engineroom or designated duty engineer in a periodically unmanned engineroom on vessels powered by main propulsion machinery of 750 kW/1,000 HP propulsion power or more (operational level).

(4) Chief engineer officer on vessels powered by main propulsion machinery of between 750 kW/1,000 HP and 3,000 kW/4,000 HP propulsion power (management level).

(5) Second engineer officer on vessels powered by main propulsion machinery of 750 kW/1,000 HP to 3,000 kW/4,000 HP propulsion power (management level).

(6) Electro-technical officer on vessels powered by main propulsion machinery of 750 kW/1,000 HP or more (operational level).

(b) Limitations. (1) STCW engineer officer endorsements issued in accordance with §§ 11.325, 11.327, 11.329, 11.331, 11.333, and 11.335 of this subpart will be restricted to specific propulsion modes for steam, motor, or gas turbine-propelled as appropriate.

(2) STCW engineer officer endorsements issued in accordance with §§ 11.325, 11.327, 11.329, 11.331, 11.333, and 11.335 of this subpart for motor or gas turbine-propelled propulsion modes may be endorsed as limited to serve on vessels without auxiliary boilers, waste-heat boilers, or distilling plants. An applicant may qualify for removal of any of these limitations by completing Coast Guard-approved or -accepted training.

(c) An engineer officer who does not hold an STCW endorsement may serve on seagoing vessels propelled by machinery of less than 1,000 HP/750 kW, the vessels specified in § 15.103(f) and (g) of this subchapter, and vessels operating on the Great Lakes or inland waters of the United States.

(d) An officer endorsement issued in the grade of chief engineer (limited) or assistant engineer (limited) allows the holder to serve within any propulsion power limitations on vessels of unlimited tonnage on inland waters, on vessels of less than 1,600 GRT/3,000 GT in Great Lakes service, and on the vessels specified in § 15.103(f) and (g) of this subchapter.

(e) An officer endorsement issued after [EFFECTIVE DATE OF THIS RULE] in any grade of a designated duty engineer (DDE) authorizes the holder to serve within stated propulsion power limitations on vessels of less than 500 GRT on the Great Lakes or inland waters, and on vessels of less than 500 GRT as specified in § 15.103(f) and (g) of this subchapter.

§ 11.325 Requirements to qualify for an STCW endorsement as chief engineer officer on vessels powered by main propulsion machinery of 3,000 kW/4,000 HP propulsion power or more (management level).

(a) To qualify for an STCW endorsement as chief engineer officer, an applicant must:

(1) Provide evidence of not less than 36 months of service as OICEW on ships powered by main propulsion machinery of 750 kW/1,000 HP propulsion power or more; however, this period may be reduced to not less than 24 months if the applicant has served for not less than 12 months as second engineer officer on ships powered by propulsion machinery of 3,000 kW/4,000 HP or more;

(2) Provide evidence of meeting the standard of competence specified in Section A-III/2 of the STCW Code (incorporated by reference, see § 11.102 of this part); and

(3) Provide evidence of having satisfactorily completed approved training in maintaining the safety and security of the vessel, crew, and passengers.

(b) Each candidate for a renewal of an STCW endorsement as chief engineer officer on vessels powered by main propulsion machinery of 3,000 kW/4,000 HP propulsion power or more, to be valid on or after January 1, 2017, must provide evidence of meeting the standard of competence in the following:

(1) Leadership and managerial skills; and

(2) Management of electrical and electronic control equipment.

(c) The Coast Guard may exempt an applicant from meeting any individual knowledge, understanding, and proficiency required in Section A-III/2 of the STCW Code. These exemptions must be approved by the Coast Guard based upon vessel type. Under these circumstances, the certificate may include a corresponding limitation.

(d) Seafarers with one of the following domestic officer endorsements are eligible to apply for this endorsement upon completion of the requirements in the table below:

Table 11.325(d)—STCW Endorsement as Chief Engineer Officer on Vessels Powered by Main Propulsion Machinery of 3,000kW/4,000HP Propulsion Power or More
Entry path from domestic endorsements | Sea service * | Competence—STCW table A-III/2 ** | Training required by this section ***
Chief engineer |  | Yes | Yes.
Chief engineer (limited—near-coastal) | 12 months | Yes | Yes.
Chief engineer (limited—oceans) | 12 months | Yes | Yes.
Chief engineer (MODU) | 12 months/24 months ¹ | Yes | Yes.
Chief engineer (OSV) |  | Yes | Yes.
Designated Duty Engineer, any horsepower ² | 24 months as DDE | Yes | Yes.
* This column provides the minimum additional service required of the seafarer in order to meet the requirements of this section.
** Complete any items in paragraph (a)(2) of this section not previously satisfied.
*** Complete any items in paragraph (a)(3) of this section not previously satisfied.
¹ Depending on the type of sea service used to obtain chief engineer (MODU) (refer to § 11.542 of this part).
² STCW certificate should be limited to vessels less than 500 GRT.

§ 11.327 Requirements to qualify for an STCW endorsement as second engineer officer on vessels powered by main propulsion machinery of 3,000kW/4,000 HP propulsion power or more (management level).

(a) To qualify for an STCW endorsement as second engineer officer, an applicant must:

(1) Provide evidence of not less than 12 months of service as OICEW on vessels powered by main propulsion machinery of 750kW or more; or 12 months of sea service as a chief engineer on vessels powered by propulsion machinery of vessels between 750k W/1,000 HP and 3,000 kW/4,000 HP;

(2) Provide evidence of meeting the standard of competence specified in Section A-III/2 of the STCW Code (incorporated by reference, see § 11.102 of this part); and

(3) Provide evidence of having satisfactorily completed approved training in maintaining the safety and security of the vessel, crew, and passengers.

(b) Each candidate for a renewal of an STCW endorsement as second engineer officer on vessels powered by main propulsion machinery of 3,000 kW/4,000 HP propulsion power or more, to be valid on or after January 1, 2017, must provide evidence of meeting the standard of competence in the following:

(1) Leadership and managerial skills; and

(2) Management of electrical and electronic control equipment.

(c) The Coast Guard may exempt an applicant from meeting any individual knowledge, understanding, and proficiency required in Section A-III/2 of the STCW Code. These exemptions must be approved by the Coast Guard based upon vessel type. Under these circumstances, the certificate may include a corresponding limitation.

(d) Seafarers with one of the following domestic officer endorsements are eligible to apply for this endorsement upon completion of the requirements in the table below:

Table 11.327(d)—STCW Endorsement as Second Engineer Officer on Vessels Powered by Main Propulsion Machinery of 3,000 kW/4,000 HP Propulsion Power or More
Entry path from domestic endorsements | Sea service * | Competence—STCW table A-III/2 ** | Training required by this section ***
First assistant engineer |  | Yes | Yes.
Second assistant engineer |  | Yes | Yes.
Third assistant engineer | 12 months | Yes | Yes.
Assistant engineer (limited-oceans) | 12 months | Yes | Yes.
Chief engineer MODU | 12 months | Yes | Yes.
Chief engineer OSV |  | Yes | Yes.
Designated Duty Engineer, unlimited ¹ | 12 months as DDE | Yes | Yes.
* This column provides the minimum additional service required of the seafarer in order to meet the requirements of this section.
** Complete any items in paragraph (a)(2) of this section not previously satisfied.
*** Complete any items in paragraph (a)(3) of this section not previously satisfied.
¹ STCW certificate should be limited to vessels less than 500 GRT.

§ 11.329 Requirements to qualify for an STCW endorsement as Officer in Charge of an Engineering Watch (OICEW) in a manned engineroom or designated duty engineer in a periodically unmanned engineroom on vessels powered by main propulsion machinery of 750 kW/1,000 HP propulsion power or more (operational level).

(a) To qualify for an STCW endorsement as OICEW, an applicant must:

(1) Provide evidence of seagoing service as follows:

(i) Thirty-six months of seagoing service in the engine department; or

(ii) Successful completion of an approved training program, which includes a combination of workshop skill training and seagoing service of not less than 12 months, and that meets the requirements of Section A-III/1 of the STCW Code (incorporated by reference, see § 11.102 of this part);

(2) Provide evidence of having performed during the required seagoing service, engine room watchkeeping duties, under the supervision of an officer holding the STCW endorsement as chief engineer officer or as a qualified engineer officer, for a period of not less than 6 months;

(3) Provide evidence of meeting the standard of competence specified in Section A-III/1 of the STCW Code; and

(4) Provide evidence of having satisfactorily completed approved training in the following subject areas:

(i) Medical first-aid provider;

(ii) Basic and advanced firefighting; and

(iii) Proficiency in survival craft and rescue boats other than fast rescue boats.

(b) Experience gained in the deck department may be creditable for up to 3 months of the service requirements in paragraph (a)(1)(i) of this section.

(c) Each candidate for a renewal of an STCW endorsement as OICEW, to be valid on or after January 1, 2017, must provide evidence of meeting the standard of competence in leadership and teamworking skills at the operational level.

(d) The Coast Guard may exempt an applicant from meeting any individual knowledge, understanding, and proficiency required in Section A-III/1 of the STCW Code. These exemptions must be approved by the Coast Guard based upon vessel type. Under these circumstances, the certificate may include a corresponding limitation.

(e) Seafarers with one of the following domestic officer endorsements are eligible to apply for this endorsement upon completion of the requirements in the table below:

Table 11.329(e)—STCW Endorsement as OICEW in a Manned Engineroom or Designated Duty Engineer in a Periodically Unmanned Engineroom on Vessels Powered by Main Propulsion Machinery of 750 kW/1,000 HP Propulsion Power or More (Operational Level)
Entry path from domestic endorsements | Sea service * | Competence—STCW table A-III/1 ** | Training required by this section ***
Third assistant engineer any horsepower |  | Yes | Yes.
Second assistant engineer any horsepower |  | Yes | Yes.
Assistant engineer (limited) |  | Yes | Yes.
Designated duty engineer, unlimited) (less than 500 GRT) |  | Yes | Yes.
Assistant engineer (MODU) |  | Yes | Yes.
Engineer (OSV) |  | Yes | Yes.
Designated Duty Engineer, 1,000 kW/4,000 HP ¹ | 12 months | Yes | Yes.
Designated Duty Engineer, 750 kW/1,000 HP ¹ | 24 months | Yes | Yes.
* This column provides the minimum additional service required of the seafarer in order to meet the requirements of this section.
** Complete any items in paragraph (a)(3) of this section not previously satisfied.
*** Complete any items in paragraph (a)(4) of this section not previously satisfied.
¹ STCW certificate should be limited to vessels less than 500 GRT.

§ 11.331 Requirements to qualify for an STCW endorsement as chief engineer officer on vessels powered by main propulsion machinery of between 750 kW/1,000 HP and 3,000 kW/4,000 HP propulsion power (management level).

(a) To qualify for an STCW endorsement as chief engineer officer, an applicant must:

(1) Provide evidence of meeting the requirements for certification as OICEW, and have not less than 24 months of service on seagoing vessels powered by main propulsion machinery of not less than 750 kW/1,000 HP, of which not less than 12 months must be served while qualified to serve as second engineer officer. Experience gained in the deck department may be creditable for up to 2 months of the total service requirements;

(2) Provide evidence of meeting the standard of competence specified in Section A-III/3 of the STCW Code (incorporated by reference, see § 11.102 of this part); and

(3) Provide evidence of having satisfactorily completed approved training in maintaining the safety and security of the vessel, crew, and passengers.

(b) Each candidate for a renewal of an STCW endorsement as chief engineer officer on vessels powered by main propulsion machinery of between 750 kW/1,000 HP and 3,000 kW/4,000 HP propulsion power, to be valid on or after January 1, 2017, must provide evidence of meeting the standard of competence in the following:

(1) Leadership and managerial skills; and

(2) Management of electrical and electronic control equipment.

(c) An engineer officer qualified to serve as second engineer officer on vessels powered by main propulsion machinery of 3,000 kW/4,000 HP or more, may serve as chief engineer officer on vessels powered by main propulsion machinery of between 750 kW/1000 HP and 3,000 kW/4000 HP provided the certificate is so endorsed.

(d) The Coast Guard may exempt an applicant from meeting any individual knowledge, understanding, and proficiency required in Section A-III/3 of the STCW Code. These exemptions must be approved by the Coast Guard based upon vessel type. Under these circumstances, the certificate may include a corresponding limitation.

(e) Seafarers with one of the following domestic officer endorsements are eligible to apply for this endorsement upon completion of the requirements in the table below:

Table 11.331(e)—STCW Endorsement as Chief Engineer Officer on Vessels Powered by Main Propulsion Machinery of Between 750 kW/1,000 HP and 3,000 kW/4,000 HP Propulsion Power
Entry path from domestic endorsements | Sea service * | Competence—STCW table A-III/2 ** | Training required by this section ***
Chief engineer |  | Yes | Yes.
First assistant engineer |  | Yes | Yes.
Chief engineer (limited-near-coastal) |  | Yes | Yes.
Chief engineer (limited-oceans) |  | Yes | Yes.
Chief engineer OSV |  | Yes | Yes
Chief engineer MODU | 12 months | Yes | Yes.
Designated Duty Engineer, 1,000 kW/4,000 HP | 12 months | Yes | Yes.
Designated Duty Engineer, 750 kW/1,000 HP | 24 months | Yes | Yes.
* This column provides the minimum additional service required of the seafarer in order to meet the requirements of this section.
** Complete any items in paragraph (a)(2) of this section not previously satisfied.
*** Complete any items in paragraph (a)(3) of this section not previously satisfied.

§ 11.333 Requirements to qualify for an STCW endorsement as second engineer officer on vessels powered by main propulsion machinery of between 750kW/1,000 HP and 3,000 kW/4,000 HP propulsion power (management level).

(a) To qualify for an STCW endorsement as second engineer officer, an applicant must:

(1) Provide evidence of meeting the requirements for certification as OICEW, as well as serving not less than 12 months as assistant engineer officer or engineer officer on vessels powered by main propulsion machinery of not less than 750 kW/1,000 HP. Experience gained in the deck department may be creditable for up to 1 month of the total service requirements;

(2) Provide evidence of meeting the standard of competence specified in Section A-III/3 of the STCW Code (incorporated by reference, see § 11.102 of this part); and

(3) Provide evidence of having satisfactorily completed approved training in maintaining the safety and security of the vessel, crew, and passengers.

(b) Each candidate for a renewal of an STCW endorsement as second engineer officer on vessels powered by main propulsion machinery of between 750 kW/1,000 HP and 3,000 kW/4,000 HP propulsion power, to be valid on or after January 1, 2017, must provide evidence of meeting the standard of competence in the following:

(1) Leadership and managerial skills; and

(2) Management of electrical and electronic control equipment.

(c) The Coast Guard may exempt an applicant from meeting any individual knowledge, understanding, and proficiency required in Section A-III/3 of the STCW Code. These exemptions must be approved by the Coast Guard based upon vessel type. Under these circumstances, the certificate may include a corresponding limitation.

(d) Seafarers with one of the following domestic officer endorsements are eligible to apply for this endorsement upon completion of the requirements in the table below:

Table 11.333(d)—STCW Endorsement as Second Engineer Officer on Vessels Powered by Main Propulsion Machinery of Between 750 kW/1,000 HP and 3,000 kW/4,000 HP Propulsion Power.
Entry path from domestic endorsements | Sea service * | Competence—STCW table A-III/2 ** | Training required by this section ***
First assistant engineer |  | Yes | Yes.
Second assistant engineer |  | Yes | Yes.
Third assistant engineer | 12 months | Yes | Yes.
Assistant engineer (limited-oceans) |  | Yes | Yes.
Engineer OSV |  | Yes | Yes.
Assistant engineer MODU | 12 months ¹ | Yes | Yes.
* This column provides the minimum additional service required of the seafarer in order to meet the requirements of this section.
** Complete any items in paragraph (a)(2) of this section not previously satisfied.
*** Complete any items in paragraph (a)(3) of this section not previously satisfied.
¹ Depending on the type of sea service used to obtain chief engineer (MODU) (refer to § 11.542 of this part).

§ 11.335 Requirements to qualify for an STCW endorsement as an electro-technical officer on vessels powered by main propulsion machinery of 750 kW/1,000 HP or more (operational level).

(a) To qualify for an STCW endorsement as an electro-technical officer, an applicant must:

(1) Provide evidence of 36 months combined workshop skills training and approved seagoing service of which not less than 30 months will be seagoing service in the engine department of vessels. Experience gained in the deck department may be creditable for up to 3 months of the service requirements; or completion of an approved training program, which includes a combination of workshop skill training and seagoing service of not less than 12 months, and that meets the requirements of Section A-III/6 of the STCW Code (incorporated by reference, see § 11.102 of this part);

(2) Provide evidence of meeting the standard of competence specified in Section A-III/6 of the STCW Code; and

(3) Provide evidence of having satisfactorily completed approved training in the following subject areas:

(i) Medical first-aid provider;

(ii) Basic and advanced firefighting; and

(iii) Proficiency in survival craft and rescue boats other than fast rescue boats.

(b) Any applicant who has served in a relevant capacity onboard a vessel for a period of not less than 12 months within the last 60 months and meets the standards of competence specified in Section A-III/6 of the STCW Code is considered by the Coast Guard to be suitably qualified but must provide evidence of:

(1) Twelve months of seagoing service; and

(2) Having achieved the standards of competence specified in Section A-III/6 of the STCW Code.

(c) An applicant who holds an STCW endorsement as OICEW, second engineer officer, or chief engineer officer issued on or after July 1, 2013, and who has served onboard a seagoing vessel powered by main-propulsion machinery of 750 kW/1,000 HP or more acting under the authority of the STCW endorsements, for a period of not less than 12 months in the previous 60 months, will qualify for this endorsement without additional training, service, or assessment.

(d) An applicant who holds an STCW endorsement as OICEW, second engineer officer, or chief engineer officer issued prior to July 1, 2013, must complete the assessment and training described in paragraph (a)(2) of this section, in order to qualify for this endorsement without additional training, service, or assessment.

(e) An applicant who does not hold any other domestic or STCW endorsement will be issued the electro-technical officer endorsement without any corresponding domestic endorsement.

Subpart D—Professional Requirements for Domestic Deck Officer Endorsements

§ 11.401 Ocean and near-coastal domestic officer endorsements.

(a) Subject to the provisions of §§ 11.464(g) and 11.465(b) of this subpart, any license or MMC endorsement for service as master or mate on ocean waters qualifies the mariner to serve in the same grade on any waters, except towing vessels upon western rivers subject to the limitations of the endorsement.

(b) Subject to the provisions of §§ 11.464(g) and 11.465(b) of this subpart, any license or MMC endorsement issued for service as master or mate on near-coastal waters qualifies the mariner to serve in the same grade on Great Lakes and inland waters, except towing vessels upon western rivers subject to the limitations of the endorsement.

(c) Near-coastal endorsements for unlimited tonnage require the same number of years of service as the ocean-unlimited endorsements. The primary differences in these endorsements are the nature of the service and the scope of the required training, examination, and assessment.

(d) A master or mate on vessels of 200 GRT/500 GT or more, and a master or mate on vessels under 200 GRT/500 GT, may be endorsed for sail or auxiliary sail as appropriate. The applicant must present the equivalent total service required for conventional officer endorsements, including at least 1 year of deck experience on that specific type of vessel. For example, for an officer endorsement as master of vessels of less than 1,600 GRT/3,000 GT endorsed for auxiliary sail, the applicant must meet the total experience requirements for the conventional officer endorsement, including time as mate, and the proper tonnage experience, including at least 1 year of deck service, on appropriately sized auxiliary sail vessels. For an endorsement to serve on vessels of less than 200 GRT/500 GT, see the individual endorsement requirements.

§ 11.402 Tonnage requirements for domestic ocean or near-coastal endorsements for vessels of 1,600 GRT/3,000 GT or more.

(a) To qualify for a domestic ocean or near-coastal endorsement for service on vessels of unlimited tonnage:

(1) All the required experience must be obtained on vessels of 100 GRT or more; and

(2) At least one-half of the required experience must be obtained on vessels of 1,600 GRT/3,000 GT or more.

(b) If an applicant for a domestic endorsement as master or mate of unlimited tonnage does not have the service on vessels of 1,600 GRT/3,000 GT or more as required by paragraph (a)(2) of this section, a tonnage limitation will be placed on the MMC based on the applicant's qualifying experience. The endorsement will be limited to the maximum tonnage on which at least 25 percent of the required experience was obtained, or 150 percent of the maximum tonnage on which at least 50 percent of the service was obtained, whichever is higher. However, the minimum tonnage limitation calculated according to this paragraph will be 2,000 GRT. Limitations are in multiples of 1,000 GRT using the next higher figure when an intermediate tonnage is calculated. When the calculated limitation equals or exceeds 10,000 GRT/GT, the applicant is issued an unlimited tonnage endorsement.

(c) Tonnage limitations imposed under paragraph (b) of this section may be raised or removed in the following manner:

(1) When the applicant provides evidence of 6 months of service on vessels of 1,600 GRT/3,000 GT or more in the highest grade endorsed, all tonnage limitations will be removed;

(2) When the applicant provides evidence of 6 months of service on vessels of 1,600 GRT/3,000 GT or more in any capacity as an officer other than the highest grade for which he or she is endorsed, all tonnage limitations for the grade in which the service is performed will be removed and the next higher grade endorsement will be raised to the tonnage of the vessel on which the majority of the service was performed. The total cumulative service before and after issuance of the limited license or MMC officer endorsement may be considered in removing all tonnage limitations; or

(3) When the applicant has 12 months of service as able seaman on vessels of 1,600 GRT/3,000 GT or more while holding a license or endorsement as third mate, all tonnage limitations on the third mate's license or MMC officer endorsement will be removed.

(d) No applicant holding any domestic endorsement as master or mate of vessels of less than 1,600 GRT/3,000 GT, less than 500 GRT, or less than 25-200 GRT may use the provisions of paragraph (c) of this section to increase the tonnages of his or her license or endorsement.

§ 11.403 Structure of domestic deck officer endorsements.

The following diagram illustrates the domestic deck officer endorsement structure, including crossover points. The section numbers on the diagram refer to the specific requirements applicable.

§ 11.404 Service requirements for domestic master of ocean or near-coastal self-propelled vessels of unlimited tonnage.

(a) The minimum service required to qualify an applicant for an endorsement as master of ocean or near-coastal self-propelled vessels of unlimited tonnage is:

(1) One year of service as chief mate on ocean self-propelled vessels; or

(2) One year of service on ocean self-propelled vessels of unlimited tonnage while holding a license or MMC endorsement as chief mate of ocean self-propelled vessels as follows:

(i) A minimum of 6 months of service as chief mate; and

(ii) Service as officer in charge of a navigational watch accepted on a two-for-one basis (12 months as second or third mate equals 6 months of creditable service).

(b) A person holding this endorsement may qualify for an STCW endorsement, according to § 11.305 of this part.

(c) An individual holding an endorsement or license as master of Great Lakes and inland, self-propelled vessels of unlimited tonnage, or master of inland, self-propelled vessels of unlimited tonnage, may obtain an endorsement as master of oceans or near-coastal, self-propelled vessels of unlimited tonnage by providing evidence of sea service of not less than 24 months under the authority of the credential and by completing the prescribed examination in subpart I of this part.

§ 11.405 Service requirements for domestic chief mate of ocean or near-coastal self-propelled vessels of unlimited tonnage.

(a) The minimum service required to qualify an applicant for an endorsement as chief mate of ocean or near-coastal self-propelled vessels of unlimited tonnage is 1 year of service as officer in charge of a navigational watch on ocean self-propelled vessels while holding a license or MMC endorsement as second mate.

(b) A person holding this endorsement may qualify for an STCW endorsement, according to § 11.307 of this part.

§ 11.406 Service requirements for domestic second mate of ocean or near-coastal self-propelled vessels of unlimited tonnage.

(a) The minimum service required to qualify an applicant for a domestic endorsement as second mate of ocean or near-coastal self-propelled vessels of unlimited tonnage is:

(1) One year of service as officer in charge of a navigational watch on ocean self-propelled vessels while holding a license or endorsement as third mate; or

(2) While holding a license or MMC endorsement as third mate of ocean self-propelled vessels of unlimited tonnage, 12 months of service on deck as follows:

(i) A minimum of 6 months service as officer in charge of a deck watch on ocean self-propelled vessels;

(ii) Service on ocean self-propelled vessels as boatswain, able seaman, or quartermaster while holding a certificate or MMC endorsement as able seaman, which may be accepted on a two-for-one basis to a maximum allowable substitution of six months (12 months of experience equals 6 months of creditable service); or

(iii) If an individual holds an endorsement or license as master of Great Lakes and inland self-propelled vessels of unlimited tonnage or master of inland self-propelled vessels of unlimited tonnage, he or she may obtain an endorsement as second mate of ocean or near-coastal self-propelled vessels of unlimited tonnage by completing the prescribed examination in subpart I of this part.

(b) A person holding this endorsement may qualify for an STCW endorsement, according to § 11.309 of this part.

§ 11.407 Service requirements for domestic third mate of ocean or near-coastal self-propelled vessels of unlimited tonnage.

(a) The minimum service or training required to qualify an applicant for a domestic endorsement as third mate of ocean or near-coastal self-propelled vessels of unlimited tonnage is:

(1) Three years of service in the deck department on ocean self-propelled vessels, 6 months of which must have been as able seaman, boatswain, or quartermaster. Experience gained in the engine department on vessels of appropriate tonnage may be creditable for up to 3 months of the service requirements for this officer endorsement; or

(2) Graduation from:

(i) The U.S. Merchant Marine Academy (deck curriculum);

(ii) The U.S. Coast Guard Academy with qualification as an underway officer in charge of a navigational watch, underway officer of the deck, or deck watch officer;

(iii) The U.S. Naval Academy with qualification as an underway officer in charge of a navigational watch, underway officer of the deck, or deck watch officer; or

(iv) The deck class of a maritime academy approved by and conducted under rules prescribed by the Maritime Administrator and listed in part 310 of this title, including the ocean option program in the deck class of the Great Lakes Maritime Academy; or

(3) Satisfactory completion of a 3-year apprentice mate training program approved by the Coast Guard.

(b) Graduation from the deck class of the Great Lakes Maritime Academy with no ocean sea service will qualify the graduate to be examined for an endorsement as third mate near-coastal self-propelled vessels of unlimited tonnage.

(c) While holding a license or MMC endorsement as master of ocean or near-coastal self-propelled vessels of less than 1,600 GRT/3,000 GT, 1 year of service as master on vessels of more than 200 GRT/500 GT operating on ocean or near-coastal waters will qualify the applicant for an endorsement as third mate of ocean or near-coastal self-propelled vessels of unlimited tonnage.

(d) An individual holding an endorsement or license as mate of Great Lakes and inland, self-propelled vessels of unlimited tonnage, or master of inland, self-propelled vessels of unlimited tonnage, may obtain an endorsement as third mate of oceans or near-coastal, self-propelled vessels of unlimited tonnage by completing the prescribed examination in subpart I of this part.

(e) A person holding this endorsement may qualify for an STCW endorsement, according to § 11.309 of this part.

§ 11.410 Requirements for domestic deck officer endorsements for vessels of less than 1,600 GRT/3,000 GT.

(a) Endorsements as master and mate of vessels of less than 1,600 GRT/3,000 GT are issued in the following tonnage categories:

(1) Less than 1,600 GRT/3,000 GT;

(2) Less than 500 GRT; or

(3) Between 25 and 200 GRT in 50-ton increments and with appropriate mode of propulsion such as self-propelled, sail, or auxiliary sail.

(b) Experience gained in the engine department on vessels of appropriate tonnage may be creditable for up to 90 days of the service requirements for any master or mate endorsement in this category.

(c) An officer's endorsement in this category obtained with an orally assisted examination will be limited to 500 GRT. In order to raise that tonnage limit to 1,600 GRT/3,000 GT, the written examination and service requirements must be satisfied.

§ 11.412 Service requirements for domestic master of ocean or near-coastal self-propelled vessels of less than 1,600 GRT/3,000 GT.

(a) The minimum service required to qualify an applicant for an endorsement as master of ocean or near-coastal self-propelled vessels of less than 1,600 GRT/3,000 GT is:

(1) Four years total service on ocean or near-coastal waters. Service on Great Lakes and inland waters may substitute for up to 2 years of the required service. Two years of the required service must have been on vessels of more than 100 GRT. Two years of the required service must have been as a master, mate, master or mate (pilot) of towing vessels, or equivalent position while holding a license or MMC endorsement as master, mate, or master or mate (pilot) of towing vessels. One year of the service as master, mate, master or mate (pilot) of towing vessels, or equivalent position must have been on vessels of more than 100 GRT.

(b) An applicant holding a license or MMC endorsement as chief mate or second mate of ocean or near-coastal self-propelled vessels of 1,600 GRT/3,000 GT or more is eligible for this endorsement upon completion of a limited examination.

(c) A person holding this endorsement may qualify for an STCW endorsement, according to § 11.311 of this part.

§ 11.414 Service requirements for domestic mate of ocean self-propelled vessels of less than 1,600 GRT/3,000 GT.

(a) The minimum service required to qualify an applicant for an endorsement as mate of self-propelled vessels of less than 1,600 GRT/3,000 GT is:

(1) Three years of total service in the deck department of ocean or near-coastal self-propelled, sail, or auxiliary sail vessels.

(i) Service on Great Lakes and inland waters may substitute for up to 18 months of the required service.

(ii) One year of the required service must have been on vessels of more than 100 GRT.

(iii) One year of the required service must have been as a master, mate, master or mate (pilot) of towing vessels, or equivalent position while holding a license or MMC endorsement as master, mate, or master or mate (pilot) of towing vessels. Six months of the required service as master, mate, master or mate (pilot) of towing vessels, or equivalent position must have been on vessels of more than 100 GRT; or

(2) Three years of total service in the deck department on ocean or near-coastal self-propelled, sail, or auxiliary sail vessels of more than 200 GRT/500 GT. Six months of the required service must have been as able seaman.

(b) A person holding this endorsement may qualify for an STCW endorsement, according to § 11.309 of this part.

§ 11.416 Service requirements for domestic mate of near-coastal self-propelled vessels of less than 1,600 GRT/3,000 GT.

(a) The minimum service required to qualify an applicant for an endorsement as mate of near-coastal self-propelled vessels of less than 1,600 GRT/3,000 GT is 2 years of total service in the deck department of ocean or near-coastal self-propelled, sail, or auxiliary sail vessels. Service on Great Lakes and inland waters may substitute for up to 1 year of the required service. One year of the required service must have been on vessels of more than 100 GRT. Six months of the required service must have been as able seaman, boatswain, quartermaster, or equivalent position on vessels of more than 100 GRT while holding a certificate or endorsement as able seaman.

(b) A person holding this endorsement may qualify for an STCW endorsement, according to § 11.309 of this part.

§ 11.418 Service requirements for domestic master of ocean or near-coastal self-propelled vessels of less than 500 GRT.

(a) The minimum service required to qualify an applicant for an endorsement as master of ocean or near-coastal self-propelled vessels of less than 500 GRT is:

(1) Three years total of service on ocean or near-coastal waters. Service on Great Lakes and inland waters may substitute for up to 18 months of the required service. Two years of the required service must have been as a master, mate, or equivalent position while holding a license or MMC endorsement as master, mate, or operator of uninspected passenger vessels. One year of the required service as master, mate, or equivalent position must have been on vessels of more than 50 GRT.

(b) The holder of a license or MMC endorsement as master or mate (pilot) of towing vessels authorizing service on oceans or near-coastal routes is eligible for an endorsement as master of ocean or near-coastal self-propelled vessels of less than 500 GRT after both 1 year of service as master or mate of towing vessels on oceans or near-coastal routes and completion of a examination.

(c) A person holding this endorsement may qualify for an STCW endorsement, according to §§ 11.307, 11.311, 11.313, and 11.315 of this part.

§ 11.420 Service requirements for domestic mate of ocean self-propelled vessels of less than 500 GRT.

(a) The minimum service required to qualify an applicant for an endorsement as mate of ocean self-propelled vessels of less than 500 GRT is 2 years of total service in the deck department of ocean or near-coastal self-propelled, sail, or auxiliary sail vessels. Service on Great Lakes and inland waters may substitute for up to 1 year of the required service. One year of the required service must have been as a master, mate, or equivalent position while holding a license or endorsement as master, mate, or operator of uninspected passenger vessels. Six months of the required service as master, mate, or equivalent position must have been on vessels of more than 50 GRT.

(b) A person holding this endorsement may qualify for an STCW endorsement, according to §§ 11.309, 11.317, 11.319, and 11.321 of this part.

§ 11.421 Service requirements for domestic mate of near-coastal self-propelled vessels of less than 500 GRT.

(a) The minimum service required to qualify an applicant for an endorsement as mate of near-coastal self-propelled vessels of less than 500 GRT is 2 years of total service in the deck department of ocean or near-coastal self-propelled, sail, or auxiliary sail vessels. Service on Great Lakes and inland waters may substitute for up to 1 year of the required service. One year of the required service must have been on vessels of more than 50 GRT. Three months of the required service must have been as able seaman, boatswain, quartermaster, or equivalent position on vessels of more than 50 GRT while holding a certificate or endorsement as able seaman.

(b) A person holding this endorsement may qualify for an STCW endorsement, according to §§ 11.309, 11.317, 11.319, and 11.321 of this part.

§ 11.422 Tonnage limitations and qualifying requirements for domestic endorsements as master or mate of vessels of less than 200 GRT.

(a) Each domestic endorsement as master or mate of vessels of less than 200 GRT is issued with a tonnage limitation based on the applicant's qualifying experience. The tonnage limitation will be issued at the 25, 50, 100, or 200 GRT level. The endorsement will be limited to the maximum GRT on which at least 25 percent of the required experience was obtained, or 150 percent of the maximum GRT on which at least 50 percent of the service was obtained, whichever is higher. Limitations are as stated above, using the next higher figure when an intermediate tonnage is calculated. If more than 75 percent of the qualifying experience is obtained on vessels of 5 GRT or less, the MMC will automatically be limited to vessels of less than 25 GRT.

(b) The tonnage limitation may be raised as follows:

(1) For an endorsement as mate, with at least 45 days of additional service on deck of a vessel in the highest tonnage increment authorized by the officer endorsement;

(2) For an endorsement as master, with at least 90 days of additional service on deck of a vessel in the highest tonnage increment authorized by the master endorsement;

(3) With additional service, which, when combined with all previously accumulated service, will qualify the applicant for a higher tonnage officer endorsement under the basic formula specified in paragraph (a) of this section; or

(4) With six months additional service in the deck department on vessels within the highest tonnage increment on the officer's license or MMC endorsement. In this case, the tonnage limitation may be raised one increment.

(c) When the service is obtained on vessels upon which no personnel need an officer endorsement or license, the Coast Guard must be satisfied that the nature of this required service (i.e., size of vessel, route, equipment, etc.) is a reasonable equivalent to the duties performed on vessels which are required to engage individuals with officer endorsements.

(d) Service gained in the engine room on vessels of 200 GRT may be creditable for up to 90 days of the deck service requirements for mate.

§ 11.424 Requirements for domestic master of ocean self-propelled vessels of less than 200 GRT.

(a) The minimum service required to qualify an applicant for an officer endorsement as master of ocean self-propelled vessels of less than 200 GRT is:

(1) Three years of total service on ocean or near-coastal waters. Service on Great Lakes and inland waters may substitute for up to 18 months of the required service. Two years of the required service must have been as master, mate, or equivalent position while holding a license or MMC endorsement as master, as mate, or as operator of uninspected passenger vessels; or

(2) Two years of total service as a master or mate of ocean or near-coastal towing vessels. Completion of an examination is also required.

(b) In order to obtain a domestic officer endorsement for sail or auxiliary sail vessels, the applicant must submit evidence of 12 months of service on sail or auxiliary sail vessels. The required 12 months of service may have been obtained prior to issuance of the master's license or MMC endorsement.

(c) A person holding this endorsement may qualify for an STCW endorsement, according to §§ 11.315, 11.317, 11.319, and 11.321 of this part.

§ 11.426 Requirements for domestic master of self-propelled seagoing vessels of less than 200 GRT limited to domestic voyages upon near-coastal waters.

(a) Within the limitations specified, this endorsement is valid for service only on the vessels identified in § 15.103(f) and (g) of this subchapter. The minimum service required to qualify for a master of near-coastal self-propelled vessels of less than 200 gross tons is:

(1) Two years total service on ocean or near-coastal waters. Service on Great Lakes and inland waters may substitute for up to 1 year of the required service. One year of the required service must have been as a master, mate, or equivalent position while holding a license or endorsement as master, mate, or operator of uninspected passenger vessels; or

(2) One year of total service as master or mate of towing vessels on oceans or near-coastal routes. Completion of an examination is also required.

(b) To obtain this domestic officer endorsement for sail or auxiliary sail vessels, the applicant must submit evidence of 12 months of service on sail or auxiliary sail vessels. These 12 months of experience may have been obtained before qualifying for an officer endorsement.

(c) Holders of this endorsement are considered to be in compliance with the STCW Convention (incorporated by reference, see § 11.102 of this part) while operating within the limitations of this endorsement, and they may be issued an STCW endorsement without further obligation.

§ 11.427 Requirements for domestic mate of self-propelled seagoing vessels of less than 200 GRT limited to domestic voyages upon near-coastal waters.

(a) Within the limitations specified, this endorsement is valid for service on the vessels identified in § 15.103(f) and (g) of this subchapter. The minimum service required to qualify for the endorsement as mate of near-coastal, self-propelled vessels of less than 200 gross tons is:

(1) Twelve months of total service in the deck department of ocean or near-coastal self-propelled, sail, or auxiliary sail vessels. Service on Great Lakes and inland waters may substitute for up to 6 months of the required service; or

(2) Three months of service in the deck department of self-propelled vessels operating on ocean, near-coastal, Great Lakes, or inland waters while holding a license or MMC endorsement as master of inland self-propelled, sail, or auxiliary sail vessels of less than 200 GRT/500 GT.

(b) The holder of a license or MMC endorsement as operator of uninspected passenger vessels with a near-coastal route endorsement may obtain this endorsement by successfully completing an examination on rules and regulations for small passenger vessels.

(c) To obtain this domestic officer endorsement for sail or auxiliary sail vessels, the applicant must submit evidence of 6 months of deck service on sail or auxiliary sail vessels.

(d) A license or MMC endorsement as master of near-coastal self-propelled vessels may be endorsed as mate of sail or auxiliary sail vessels upon presentation of 3 months of service on sail or auxiliary sail vessels.

(e) To obtain a tonnage endorsement for 100 GRT or more, the applicant must complete the additional examination topics indicated in subpart I of this part.

(f) A person holding this endorsement may qualify for an STCW endorsement, according to §§ 11.317, 11.319, and 11.321 of this part.

§ 11.428 Requirements for domestic master of self-propelled, seagoing vessels of less than 100 GRT limited to domestic voyages upon near-coastal waters.

(a) Within the limitations specified, this endorsement is valid for service on the vessels identified in § 15.103(f) and (g) of this subchapter. The minimum service required to qualify for the endorsement as master of self-propelled, seagoing vessels of less than 100 GRT limited to domestic voyages upon near-coastal waters is 2 years of service in the deck department of a self-propelled vessel on ocean or near-coastal waters. Service on Great Lakes and inland waters may substitute for up to 1 year of the required service.

(b) To obtain an endorsement for sail or auxiliary sail vessels, the applicant must submit evidence of 12 months of service on sail or auxiliary-sail vessels. This required service may have been obtained before issuance of the license or MMC.

(c) Holders of this endorsement are considered to be in compliance with the STCW Convention (incorporated by reference, see § 11.102 of this part) while operating within the limitations of this endorsement, and they may be issued an STCW endorsement without further obligation.

§ 11.429 Requirements for a domestic limited master of self-propelled, seagoing vessels of less than 100 GRT limited to domestic voyages upon near-coastal waters.

(a) Within the limitations specified, this domestic endorsement is valid for service on the vessels identified in § 15.103(f) and (g) of this subchapter. A limited masters' endorsement for service on near-coastal waters on vessels of less than 100 GRT may be issued to an applicant to be employed by organizations such as yacht clubs, marinas, formal camps, and educational institutions. A domestic endorsement issued under this section is limited to the specific activity and the locality of the yacht club, marina, or camp. To obtain this restricted endorsement, an applicant must:

(1) Have 4 months of service on any waters in the operation of the type of vessel for which the endorsement is requested;

(2) Satisfactorily complete a safe boating course approved by the National Association of State Boating Law Administrators, or a safe boating course conducted by the U.S. Power Squadron or the American Red Cross, or a Coast Guard-approved course. This course must have been completed within 5 years before the date of application; and

(3) Pass an examination appropriate for the activity to be conducted and the route authorized.

(b) The first aid and cardiopulmonary resuscitation (CPR) course certificates required by § 11.201(i) of this part will only be required when, in the opinion of the Coast Guard, the geographic area over which service is authorized precludes obtaining medical services within a reasonable time.

(c) To obtain an endorsement for sail or auxiliary sail vessels, the applicant must submit evidence of 4 months of service on sail or auxiliary sail vessels. The required 4 months of service may have been obtained prior to issuance of the license or MMC endorsement.

(d) Holders of this domestic endorsement are considered to be in compliance with the STCW Convention (incorporated by reference, see § 11.102 of this part) while operating within the limitations of this endorsement.

§ 11.430 Endorsements for the Great Lakes and inland waters.

(a) Any officer endorsement issued for service on Great Lakes and inland waters self-propelled vessels, excluding towing vessels, is valid on all of the inland waters of the United States as defined in § 10.107 of this subchapter.

(b) Any officer endorsement issued for service on inland waters self-propelled vessels, excluding towing vessels, is valid for the inland waters of the United States, excluding the Great Lakes.

(c) Any officer endorsement issued for service on inland waters or an inland route is valid for service on the sheltered waters of the Inside Passage between Puget Sound and Cape Spencer, Alaska.

(d) As these officer endorsements authorize service on waters seaward of the International Regulations for Preventing Collisions at Sea (COLREGS) demarcation lines, as defined in 33 CFR part 80, the applicant must complete an examination on the COLREGS or the endorsement will exclude such waters.

(e) To obtain a master or mate endorsement with a tonnage limit of 200 GRT/500 GT or more, whether an original, raise-in-grade, or increase in the scope of authority, the applicant must meet the training requirements in § 11.201(h) and (i) of this part and successfully complete radar observer training in § 11.480 of this part.

(f) The following diagram (Figure 11.430(f)) illustrates the deck officer endorsement structure, including crossover points, for Great Lakes and inland waters service. The section numbers on the diagram refer to the specific requirements that are applicable.

BILLING CODE 9110-04-P

BILLING CODE 9110-04-C

§ 11.431 Tonnage requirements for Great Lakes and inland domestic endorsements for vessels of 1,600 GRT/3,000 GT or more.

(a) All required experience for Great Lakes and inland unlimited endorsements must be obtained on vessels of 200 GRT/500 GT or more. At least one-half of the required experience must be obtained on vessels of 1,600 GRT/3,000 GT or more.

(b) Tonnage limitations may be imposed on these endorsements in accordance with § 11.402(b) and (c) of this subpart.

§ 11.433 Requirements for domestic master of Great Lakes and inland self-propelled vessels of unlimited tonnage.

(a) The minimum service required to qualify an applicant for an endorsement as master of Great Lakes and inland self-propelled vessels of unlimited tonnage is:

(1) One year of service as a mate or first-class pilot while acting in the capacity of first mate of Great Lakes self-propelled vessels of 1,600 GRT/3,000 GT or more while holding a license or MMC endorsement as mate inland or first-class pilot of Great Lakes and inland self-propelled vessels of unlimited tonnage; or

(2) Two years of service as master of self-propelled vessels of 1,600 GRT/3,000 GT or more on inland waters, excluding the Great Lakes; or

(3) One year of service upon Great Lakes waters while holding a license or MMC endorsement as mate or first-class pilot of Great Lakes and inland self-propelled vessels of 1,600 GRT/3,000 GT or more. A minimum of 6 months of this service must have been in the capacity of first mate. Service as second mate is accepted for the remainder on a two-for-one basis to a maximum of 6 months (12 months of service equals 6 months of creditable service).

(b) A person holding this endorsement may qualify for an STCW endorsement, according to §§ 11.305, 11.307, and 11.311 of this part.

§ 11.435 Requirements for domestic master of inland self-propelled vessels of unlimited tonnage.

(a) The minimum service required to qualify an applicant for an endorsement as master of self-propelled vessels of unlimited tonnage on inland waters, excluding the Great Lakes is:

(1) One year of service as first-class pilot (of other than canal and small lakes routes) or mate of Great Lakes or inland self-propelled vessels of 1,600 GRT/3,000 GT or more while holding a license or MMC endorsement as mate inland or first-class pilot of Great Lakes and inland self-propelled vessels of unlimited tonnage; or

(2) Two years of service as wheelsman or quartermaster while holding a mate/first-class pilot license or MMC endorsement.

(b) A person holding this endorsement may qualify for an STCW endorsement, according to § 11.307 of this part.

§ 11.437 Requirements for domestic mate of Great Lakes and inland self-propelled vessels of unlimited tonnage.

(a) The minimum service required to qualify an applicant for an endorsement as mate of Great Lakes and inland self-propelled vessels of unlimited tonnage is:

(1) Three years of service in the deck department of self-propelled vessels, at least 3 months of which must have been on vessels on inland waters and at least 6 months of which must have been as able seaman, inland mate, boatswain, wheelsman, quartermaster, or equivalent position;

(2) Graduation from the deck class of the Great Lakes Maritime Academy; or

(3) While holding a license or MMC endorsement as master of Great Lakes and inland self-propelled vessels of less than 1,600 GRT/3,000 GT, 1 year of service as master on vessels of 200 GRT/500 GT or more. A tonnage limitation may be placed on this license in accordance with § 11.431 of this subpart.

(b) Service gained in the engine department on vessels of appropriate tonnage may be creditable for up to 6 months of the service requirements under paragraph (a)(1) of this section.

(c) A person holding this endorsement may qualify for an STCW endorsement, according to § 11.309 of this part.

§ 11.442 Requirements for domestic master of Great Lakes and inland self-propelled vessels of less than 1,600 GRT/3,000 GT.

(a) The minimum service required to qualify an applicant for an endorsement as master of Great Lakes and inland self-propelled vessels of less than 1,600 GRT/3,000 GT is:

(1) Three years of total service on vessels. Eighteen months of the required service must have been on vessels of 100 GRT or more. One year of the required service must have been as a master, mate, or equivalent position on vessels of 100 GRT or more while holding a license or MMC endorsement as master, mate, or master of towing vessels; or

(2) Six months of service as operator on vessels of 100 GRT or more while holding a license or MMC endorsement as master of towing vessels.

§ 11.444 Requirements for domestic mate of Great lakes and inland self-propelled vessels of less than 1,600 GRT/3,000 GT.

(a) The minimum service required to qualify an applicant for an endorsement as mate of Great Lakes and inland self-propelled vessels of less than 1,600 GRT/3,000 GT is:

(1) Two years of total service in the deck department of self-propelled vessels. One year of the required service must have been on vessels of 100 GRT or more. Six months of the required service must have been as able seaman, boatswain, quartermaster, or equivalent position on vessels of 100 GRT or more while holding a certificate or endorsement as able seaman; or

(2) One year of total service as master of self-propelled, sail, or auxiliary sail vessels, or operator of uninspected passenger vessels of 50 GRT or more, while holding a license or MMC endorsement as master of self-propelled vessels of less than 200 GRT/500 GT or OUPV; or

(3) Six months of total service as mate (pilot) of towing vessels on vessels of 100 GRT or more.

§ 11.446 Requirements for domestic master of Great Lakes and inland self-propelled vessels of less than 500 GRT.

(a) The minimum service required to qualify an applicant for an endorsement as master of Great Lakes and inland self-propelled vessels of less than 500 GRT is:

(1) Three years of total service on vessels. One year of the required service must have been as a master, mate, or equivalent position on vessels of 50 GRT or more while holding a license or MMC endorsement as master, mate, or OUPV.

(2) [Reserved]

(b) An applicant holding a license or MMC endorsement as master of ocean, near-coastal, or Great Lakes and inland towing vessels is eligible for this endorsement after 6 months of service as master of towing vessels and completion of an examination. This requires 3½ years of service. Two years of this service must have been served while holding a license or MMC endorsement as master or mate (pilot) of towing vessels, or mate.

§ 11.448 Requirements for domestic mate of Great Lakes and inland self-propelled vessels of less than 500 GRT.

The minimum service required to qualify an applicant for an endorsement as mate of Great Lakes and inland self-propelled vessels of less than 500 GRT is 2 years of total service in the deck department of self-propelled vessels. One year of the required service must have been on vessels of 50 GRT or more. Three months of the required service must have been as able seaman, boatswain, quartermaster, or equivalent position on vessels of 50 GRT or more while holding an endorsement as able seaman.

§ 11.450 Tonnage limitations and qualifying requirements for domestic endorsements as master or mate of Great Lakes and inland vessels of less than 200 GRT.

(a) Except as noted in paragraph (d) of this section, all endorsements issued for master or mate of vessels of less than 200 GRT are issued in 50 GRT increments based on the applicant's qualifying experience in accordance with the provisions of § 11.422 of this subpart.

(b) Service gained in the engineroom on vessels of less than 200 GRT may be creditable for up to 25 percent of the deck service requirements for mate.

(c) When the service is obtained on vessels upon which personnel with licenses or endorsements are not required, the Coast Guard must be satisfied that the nature of this required service (i.e., size of vessel, route, equipment, etc.) is a reasonable equivalent to the duties performed on vessels which are required to engage individuals with endorsements.

(d) If more than 75 percent of the qualifying experience is obtained on vessels of 5 GRT or less, the license will automatically be limited to vessels of less than 25 GRT.

§ 11.452 Requirements for domestic master of Great Lakes and inland self-propelled vessels of less than 200 GRT/500 GT.

(a) The minimum service required to qualify an applicant for an endorsement or license as master of Great Lakes and inland self-propelled vessels of less than 200 GRT is 1 year of service on vessels. Six months of the required service must have been as master, mate, or equivalent position while holding a license or endorsement as master, mate, master or mate (pilot) of towing vessels, or OUPV. To obtain authority to serve on the Great Lakes, 3 months of the required service must have been on Great Lakes waters; otherwise the endorsement will be limited to the inland waters of the United States (excluding the Great Lakes).

(b) To obtain an endorsement for sail or auxiliary sail vessels, the applicant must have 6 months of service on sail or auxiliary sail vessels. This required service may have been obtained prior to issuance of the master's license or MMC endorsement.

§ 11.454 Requirements for domestic mate of Great Lakes and inland self-propelled vessels of less than 200 GRT/500 GT.

(a) The minimum service required to qualify an applicant for an endorsement as mate of Great Lakes and inland self-propelled vessels of less than 200 GRT/500 GT is 6 months of service in the deck department of self-propelled vessels. To obtain authority to serve on the Great Lakes, 3 months of the required service must have been on Great Lakes waters; otherwise the endorsement will be limited to the inland waters of the United States (excluding the Great Lakes).

(b) To obtain an endorsement for sail or auxiliary sail vessels, the applicant must submit evidence of 3 months of service on sail or auxiliary sail vessels.

(c) A mariner holding an endorsement as master of self-propelled vessels may be endorsed as mate of sail or auxiliary sail vessels upon presentation of 3 months service on sail or auxiliary sail vessels.

(d) The holder of a license or MMC endorsement as operator of inland uninspected passenger vessels may obtain this endorsement by successfully completing an examination on rules and regulations for small passenger vessels. To obtain authority to serve on the Great Lakes, 3 months of the required service must have been on Great Lakes waters; otherwise the endorsement will be limited to the inland waters of the United States (excluding the Great Lakes).

(e) To obtain a tonnage endorsement for 100 GRT or more, the applicant must complete the additional examination topics indicated in subpart I of this part.

§ 11.455 Requirements for domestic master of Great Lakes and inland self-propelled vessels of less than 100 GRT.

(a) The minimum service required to qualify an applicant for an endorsement as master of Great Lakes and inland self-propelled vessels of less than 100 GRT is 1 year of total service in the deck department of self-propelled, sail, or auxiliary sail vessels. To obtain authority to serve on the Great Lakes, 3 months of the required service must have been on Great Lakes waters; otherwise the endorsement will be limited to the inland waters of the United States (excluding the Great Lakes).

(b) To obtain an endorsement for sail or auxiliary sail vessels, the applicant must submit evidence of 6 months of service on sail or auxiliary sail vessels. The required 6 months of service may have been obtained prior to issuance of the endorsement.

§ 11.456 Requirements for domestic limited master of Great Lakes and inland self-propelled vessels of less than 100 GRT.

(a) An endorsement as limited master for vessels of less than 100 GRT upon Great Lakes and inland waters may be issued to an applicant to be employed by organizations such as formal camps, educational institutions, yacht clubs, and marinas with reduced service requirements. An endorsement issued under this paragraph is limited to the specific activity and the locality of the camp, yacht club, or marina. To obtain this restricted endorsement, an applicant must:

(1) Have 4 months of service in the operation of the type of vessel for which the endorsement is requested; and

(2) Satisfactorily complete a safe boating course approved by the National Association of State Boating Law Administrators, a public education course conducted by the U.S. Power Squadron or the American Red Cross, or a Coast Guard-approved course. This course must have been completed within 5 years before the date of application; and

(3) Pass an examination appropriate for the activity to be conducted and the route authorized.

(b) The first aid and cardiopulmonary resuscitation (CPR) course certificates required by § 11.201(i) of this part will only be required when, in the opinion of the Coast Guard, the geographic area over which service is authorized precludes obtaining medical services within a reasonable time.

§ 11.457 Requirements for domestic master of inland self-propelled vessels of less than 100 GRT.

(a) An applicant for an endorsement as master of inland self-propelled vessels of less than 100 GRT must present 1 year of service on any waters. In order to raise the tonnage limitation to more than 100 GRT, the examination topics indicated in subpart I of this part must be completed in addition to satisfying the experience requirements of § 11.452(a) of this subpart.

(b) To obtain an endorsement for sail or auxiliary sail vessels, the applicant must submit evidence of 6 months of service on sail or auxiliary sail vessels. The required 6 months of service may have been obtained prior to issuance of the license or MMC endorsement.

§ 11.459 Requirements for domestic master or mate of rivers.

(a) An applicant for an endorsement as master of river self-propelled vessels of unlimited tonnage must meet the same service requirements as master of inland self-propelled vessels of unlimited tonnage.

(b) An applicant for an endorsement as master or mate of river self-propelled vessels, with a limitation of 25 to 1,600 GRT/3,000 GT, must meet the same service requirements as those required by this subpart for the corresponding tonnage Great Lakes and inland self-propelled endorsement. Service on the Great Lakes is not, however, required.

§ 11.462 Endorsements for domestic master or mate of uninspected fishing industry vessels.

(a) This section applies to endorsements for masters and mates of all vessels, however propelled, navigating the high seas, which are documented to engage in the fishing industry, with the exception of:

(1) Wooden ships of primitive build;

(2) Unrigged vessels; and

(3) Vessels of less than 200 GRT/500 GT.

(b) Endorsements as master or mate of uninspected fishing industry vessels are issued for either ocean or near-coastal routes, depending on the examination completed. To qualify for an uninspected fishing industry vessel endorsement, the applicant must satisfy the training and examination requirements of § 11.201(h)(1) of this part.

(c) An applicant for an endorsement as master of uninspected fishing industry vessels must have 4 years of total service on ocean or near-coastal routes. Service on Great Lakes or inland waters may substitute for up to 2 years of the required service. One year of the required service must have been as master, mate, or equivalent position while holding a license or MMC endorsement as master, mate, master or mate (pilot) of towing vessels, or OUPV.

(1) To qualify for an endorsement for less than 500 GRT, at least 2 years of the required service, including the 1 year as master, mate or equivalent, must have been on vessels of 50 GRT or more.

(2) To qualify for an endorsement for less than 1,600 GRT/3,000 GT, at least 2 years of the required service, including the 1 year as master, mate, or equivalent, must have been on vessels of 100 GRT or more.

(3) To qualify for an endorsement for more than 1,600 GRT/3,000 GT, but not more than 5,000 GRT/GT, the vessel tonnage upon which the 4 years of required service was obtained will be used to compute the tonnage. The endorsement is limited to the maximum tonnage on which at least 25 percent of the required service was obtained or 150 percent of the maximum tonnage on which at least 50 percent of the service was obtained, whichever is higher. Limitations are in multiples of 1,000 GRT, using the next higher figure when an intermediate tonnage is calculated. An endorsement as master of uninspected fishing industry vessels authorizing service on vessels more than 1,600 GRT/3,000 GT also requires 1 year as master, mate, or equivalent on vessels of 100 GRT or more.

(4) The tonnage limitation for this endorsement may be raised using one of the following methods but cannot exceed 5,000 GRT/GT. Limitations are in multiples of 1,000 GRT, using the next higher figure when an intermediate tonnage is calculated.

(i) Three months of service as master on a vessel results in a limitation in that capacity equal to the tonnage of that vessel rounded up to the next multiple of 1,000 GRT;

(ii) Six months of service as master on a vessel results in a limitation in that capacity equal to 150 percent of the tonnage of that vessel;

(iii) Six months of service as master on vessels more than 1,600 GRT/3,000 GT results in raising the limitation to 5,000 GRT/GT;

(iv) Six months of service as mate on vessels more than 1,600 GRT/3,000 GT results in raising the limitation for master to the tonnage on which at least 50 percent of the service was obtained;

(v) Two years of service as a deckhand on a vessel while holding a license or MMC endorsement as master results in a limitation on the MMC equal to 150 percent of the tonnage of that vessel up to 5,000 GRT/GT; or

(vi) One year of service as deckhand on a vessel while holding a license or MMC endorsement as master results in a limitation on the MMC equal to the tonnage of that vessel.

(d) An applicant for an endorsement as mate of uninspected fishing industry vessels must have 3 years of total service on ocean or near-coastal routes. Service on Great Lakes or inland waters may substitute for up to 18 months of the required service.

(1) To qualify for an endorsement of less than 500 GRT, at least 1 year of the required service must have been on vessels of 50 GRT or more.

(2) To qualify for an endorsement of less than 1,600 GRT/3,000 GT, at least 1 year of the required service must have been on vessels of 100 GRT or more.

(3) To qualify for an endorsement of more than 1,600 GRT/3,000 GT, but not more than 5,000 GRT/GT, the vessel tonnage upon which the 3 years of required service was obtained will be used to compute the tonnage. The endorsement is limited to the maximum tonnage on which at least 25 percent of the required service was obtained, or 150 percent of the maximum tonnage on which at least 50 percent of the service was obtained, whichever is higher. Limitations are in multiples of 1,000 GRT, using the next higher figure when an intermediate tonnage is calculated.

(4) The tonnage limitation on this endorsement may be raised using one of the following methods, but cannot exceed 5,000 GRT/GT. Limitations are in multiples of 1,000 GRT, using the next higher figure when an intermediate tonnage is calculated.

(i) Three months of service as mate on a vessel results in a limitation in that capacity equal to the tonnage of that vessel rounded up to the next multiple of 1,000 GRT;

(ii) Six months of service as mate on a vessel results in a limitation in that capacity equal to 150 percent of the tonnage of that vessel;

(iii) Six months of service as mate on vessels more than 1,600 GRT/3,000 GT results in raising the limitation to 5,000 GRT/GT;

(iv) One year of service as deckhand on vessels more than 1,600 GRT/3,000 GT while holding a license or MMC endorsement as mate, results in raising the limitation on the MMC to 5,000 GRT/GT;

(v) Two years of service as a deckhand on a vessel while holding a license or MMC endorsed as mate results in a limitation on the MMC equal to 150 percent of the tonnage of that vessel up to 5,000 GRT/GT; or

(vi) One year of service as deckhand on a vessel while holding a license or MMC endorsement as mate results in a limitation on the MMC equal to the tonnage of that vessel.

(e) Applicants may request an oral examination on the subjects listed in subpart I of this part.

§ 11.463 General requirements for domestic endorsements as master, mate (pilot), and apprentice mate (steersman) of towing vessels.

(a) The Coast Guard issues the following endorsements for towing vessels:

(1) Master of towing vessels;

(2) Master of towing vessels, limited;

(3) Master of towing vessels, utility;

(4) Mate (pilot) of towing vessels;

(5) Apprentice mate (steersman);

(6) Apprentice mate (steersman), limited;

(7) Master of towing vessels (Harbor assist); and

(8) Apprentice mate, (steersman) utility.

(b) An endorsement as master of towing vessels means an endorsement to operate towing vessels not restricted to local areas designated by OCMIs. This also applies to a mate (pilot) of towing vessels.

(c) For this section, “limited” means an endorsement to operate a towing vessel of less than 200 GRT/500 GT limited to a local area within the Great Lakes, inland waters, or Western Rivers designated by the OCMI.

(d) For this section, utility towing is limited to a local area within the Great Lakes, inland or near-coastal waters, or Western Rivers designated by the OCMI.

(e) Mariners who met the training and service requirements for towing vessels before May 21, 2001 and have maintained a valid Coast Guard-issued credential may obtain a towing endorsement if they meet the following:

(1) Demonstrate at least 90 days of towing service before May 21, 2001;

(2) Provide evidence of successfully completing the apprentice mate exam, its predecessor exam, or a superior exam; and

(3) Meet the renewal requirements in § 10.227(e)(6).

(f) Deck officers who serve on the following seagoing vessels must comply with the requirements of §§ 11.412 and 11.414 of this subpart for the appropriate STCW endorsement:

(1) A towing vessel on an ocean's voyage operating beyond near-coastal waters;

(2) A towing vessel on an international voyage; and

(3) A towing vessel of 200 GRT/500 GT or more on a domestic, near-coastal voyage.

(g) Endorsements as mate (pilot) or master of towing vessels may be issued with a restriction to specific types of towing vessels and/or towing operations such as harbor-assist or articulated tug barge (ATB) vessels that do not routinely perform all of the tasks identified in the Towing Officer Assessment Record (TOAR).

(h) The following diagram (Figure 11.463(h)) illustrates the towing officer endorsement structure, including crossover points. The section numbers on the diagram refer to the specific requirements applicable.

BILLING CODE 9110-04-P

BILLING CODE 9110-04-C

§ 11.464 Requirements for domestic endorsements as master of towing vessels.

(a) If you would like to obtain an endorsement as master of towing vessels with a route listed in column 1 of Table 11.464(a) of this section, then you must complete the service requirements indicated in columns 2 through 5. You may serve on the subordinate routes listed in column 5 without further endorsement.

Table 11.464(a)—Requirements for Endorsement as Master of Towing Vessels ¹
Route endorsed | Total service ² | TOS ³ on T/V as mate (pilot) ⁴ | TOS ³ on particular route | Sub-ordinate route authorized
1 | 2 | 3 | 4 | 5
Oceans (O) | 48 | 18 | 3 | NC, GL-I.
Near-Coastal (NC) | 48 | 18 | 3 | GL-I.
Great Lakes—Inland (GL-I) | 48 | 18 | 3 | None.
Western Rivers (WR) | 48 | 18 | 3 | None.
¹ The holder of an endorsement as master of towing vessels may have an endorsement—as mate (pilot) of towing vessels for a route superior to the current route on which the holder has no operating experience—placed on the MMC after passing an examination for that additional route. After the holder completes 90 days of experience and completes a Towing Officer Assessment Record (TOAR) on that route, the Coast Guard will add it to the holder's endorsement as master of towing vessels and remove the endorsement for mate (pilot) of towing vessels.
² Service is in months.
³ TOS is time of service.
⁴ A maximum of 6 months of harbor assist can be used to qualify as mate (pilot).

(b) A person holding this endorsement may qualify for an STCW endorsement, according to §§ 11.307, 11.311, 11.313, and 11.315 of this part.

(c) To obtain an endorsement as master of towing vessels (limited), applicants must complete the requirements listed in columns 2 through 5 of Table 11.464(c) of this section.

Table 11.464(c)—Requirements for Endorsement as Master of Towing Vessels
[Limited]
Route endorsed | Total service ¹ | TOS ² on T/V as limited apprentice mate (steersman) | TOAR or an approved course | TOS ² on particular route
1 | 2 | 3 | 4 | 5
Limited Local Area (LLA) | 36 | 18 | Yes | 3
¹ Service is in months.
² TOS is time of service.

(d) To obtain an endorsement as master of towing vessels (harbor assist), applicants must hold an endorsement as master of towing vessel (limited) officer endorsement and complete the requirements in columns 2-5 of Table 11.464(d) of this section.

Table 11.464(d)—Requirements for Endorsement as Master of Towing Vessels
[Harbor Assist]
Route endorsed | Current endorsement status | Total service ¹ | TOS ² on TV as Master (LLA) | TOAR or an approved course
1 | 2 | 3 | 4 | 5
Harbor Assist (LLA) | Master (LLA) | 3 | 3 | Yes.
¹ Service is in months.
² TOS is time of service.

(e) To obtain an endorsement as master of towing vessels (utility), applicants must complete the requirements listed in columns 2 through 5 of Table 11.464(e) of this section.

Table 11.464(e)—Requirements for Endorsement as Master of Towing Vessels
[Utility]
Route endorsed | Current endorsement status | Total service ¹ | TOS ² on T/V as apprentice (steersman) utility | TOAR or an approved course
1 | 2 | 3 | 4 | 5
Limited Local Area (LLA) | Apprentice utility | 18 | 12 | Yes.
Limited Local Area (LLA) | Master Steam/Motor vessels less than 200 GRT | 12 | 0 | Yes plus exam.
¹ Service is in months.
² TOS is time of service.

(f) Those holding a license or MMC endorsement as mate (pilot) of towing vessels, may have master of towing vessels (limited) added to their MMC for a limited local area within the scope of their current route.

(g) Before serving as master of towing vessels on the Western Rivers, mariners must possess 90 days of observation and training and their MMC must include an endorsement for Western Rivers.

(h) Each company must maintain evidence that every vessel it operates is under the direction and control of a mariner with the appropriate endorsement and experience, including 30 days of observation and training on the intended route other than Western Rivers.

(i) Those holding a license or MMC endorsement as a master of self-propelled vessels of more than 200 GRT/500 GT, may operate towing vessels within any restrictions on their endorsement if they:

(1) Have a minimum of 30 days of training and observation on towing vessels for the route being assessed, except as noted in paragraph (h) of this section; and

(2) Either:

(i) Hold a completed Towing Officer Assessment Record (TOAR) described in § 10.404(c) of this subchapter that shows evidence of assessment of practical demonstration of skills; or

(ii) Complete an approved training course.

(j) A license or MMC does not need to include a towing endorsement if mariners hold a TOAR or complete an approved training course.

§ 11.465 Requirements for domestic endorsements as mate (pilot) of towing vessels.

(a) To obtain an endorsement as mate (pilot) of towing vessels endorsed with a route listed in column 1 of Table 11.465(a) of this section, applicants must complete the service in columns 2 through 5. Mariners holding a license or MMC endorsement as master of towing vessels (limited) wishing to upgrade it to mate (pilot) of towing vessels must complete the service in columns 5 and 6. An endorsement with a route endorsed in column 1 authorizes service on the subordinate routes listed in column 7 without further endorsement. Time of service requirements as an apprentice mate (steersman) of towing vessels may be reduced by an amount equal to the time specified in the approval letter for the completed Coast Guard-approved training programs.

Table 11.465(a)—Requirements for Endorsement as Mate (Pilot ¹) of Towing Vessels
Route endorsed | Total service ² | TOS ³ on T/V as apprentice mate (steersman) ⁵ | TOS ³ on particular route | TOAR ⁴ or an approved course | 30 days of observation and training while holding master (limited) and pass an examination | Subordinate route authorized
1 | 2 | 3 | 4 | 5 | 6 | 7
Oceans (O) | 30 | 12 | 3 | Yes | Yes | NC, GL-I.
Near-Coastal (NC) | 30 | 12 | 3 | Yes | Yes | GL-I.
Great Lakes-Inland (GL-I) | 30 | 12 | 3 | Yes | Yes |
Western Rivers (WR) | 30 | 12 | 3 | Yes | No (90 days service required) |
¹For all inland routes, as well as Western Rivers, the endorsement as pilot of towing vessels is equivalent to that as mate of towing vessels. All qualifications and equivalencies are the same.
² Service is in months unless otherwise indicated.
³ TOS is time of service.
⁴ TOAR is a Towing Officer Assessment Record completed within the previous 5 years.
⁵ Time of service requirements as an apprentice mate (steersman) of towing vessels may be reduced by an amount equal to the time specified in the approval letter for a completed Coast Guard-approved training program.

(b) Before serving as mate (pilot) of towing vessels on the Western Rivers, mariners must possess 90 days of observation and training and have your MMC include an endorsement for Western Rivers.

(c) Each company must maintain evidence that every vessel it operates is under the direction and control of a mariner with the appropriate endorsement and experience, including 30 days of observation and training on the intended route other than Western Rivers.

(d) Those holding a license or MMC endorsement as a mate of inspected, self-propelled vessels of more than 200 GRT/500 GT or one as first-class pilot, may operate towing vessels within any restrictions on their credential if they:

(1) Have a minimum of 30 days of training and observation on towing vessels for the route being assessed, except as noted in paragraph (b) of this section; and

(2) Hold a completed Towing Officer Assessment Record (TOAR) described in § 10.404(c) of this subchapter that shows evidence of assessment of practical demonstration of skills.

(e) A or MMC does not need to include a towing endorsement if you hold a TOAR or a course completion certificate.

(f) Those holding any endorsement as a master of self-propelled vessels of any tonnage that is less than 200 GRT, except for the limited masters endorsements specified in §§ 11.429 and 11.456 of this subpart, may obtain an endorsement as mate (pilot) of towing vessels by meeting the following requirements:

(1) Providing proof of 36 months of service as a master under the authority of an endorsement described in this paragraph;

(2) Successfully completing the appropriate TOAR;

(3) Successfully completing the appropriate apprentice mate exam; and

(4) Having a minimum of 30 days of training and observation on towing vessels for the route being assessed, except as noted in paragraph (b) of this section.

(g) An approved training course for mate (pilot) of towing vessels must include formal instruction and practical demonstration of proficiency either onboard a towing vessel or at a shoreside training facility before a designated examiner, and must cover the material (dependent upon route) required by Table 11.910-2 in § 11.910 of this part for apprentice mate (steersman), towing vessels on ocean and near-coastal routes; apprentice mate (steersman), towing vessels on Great Lakes and inland routes; or steersman, towing vessels on Western Rivers routes.

(h) A person holding this endorsement may qualify for an STCW endorsement, according to §§ 11.309, 11.317, 11.319, and 11.321 of this part.

§ 11.466 Requirements for domestic endorsements as apprentice mate (steersman) of towing vessels.

(a) As Table 11.466(a) shows, to obtain an endorsement as apprentice mate (steersman) of towing vessels listed in column 1, endorsed with a route listed in column 2, mariners must complete the service requirements indicated in columns 3 through 6.

Table 11.466(a)—Requirements for Endorsement as Apprentice Mate (Steersman) of Towing Vessels
Endorsement | Route endorsed | Total service ¹ | TOS ² on T/V | TOS ² on particular route | Pass examination ³
1 | 2 | 3 | 4 | 5 | 6
Apprentice Mate (Steersman) | Oceans (0) | 18 | 12 | 3 | Yes.
| Near-Coastal (NC) | 18 | 12 | 3 | Yes.
| Great Lakes | 18 | 12 | 3 | Yes.
| Inland (GL-I) | 18 | 12 | 3 | Yes.
| Western Rivers (WR) | 18 | 12 | 3 | Yes.
Apprentice Mate (Steersman) (Limited) | Not Applicable | 18 | 12 | 3 | Yes.
¹ Service is in months.
² TOS is time of service.
³ The examination for apprentice mate is specified in subpart I of this part.
⁴ For all inland routes, as well as Western Rivers, the endorsement as steersman is equivalent to that as apprentice mate. All qualifications and equivalencies are the same.

(b) Those holding a license or endorsement as apprentice mate (steersman) of towing vessels, may obtain a restricted endorsement as apprentice mate (steersman) (limited). This endorsement will go on the mariner's MMC after passing an examination for a route that is not included in the current endorsements and on which the mariner has no operating experience. Upon completion of 3 months of experience on that route, mariners may have the restriction removed.

(c) To obtain an endorsement as apprentice mate (steersman) of towing vessels (utility), mariners must complete the requirements listed in columns 2 through 5 of Table 11.466(c) of this section.

Table 11.466(c)—Requirements for Endorsement as Apprentice (Steersman) of Towing Vessels
[Utility]
Route endorsed | Current endorsement status | Total service ¹ | TOS ² on T/V or assistance towing vessel | Exam (utility)
1 | 2 | 3 | 4 | 5
Limited Local Area (LLA) | None | 6 | 6 | Yes.
Limited Local Area (LLA) | OUPV | 6 | 6 | Yes.
¹ Service is in months.
² TOS is time of service.

§ 11.467 Requirements for a domestic endorsement as operator of uninspected passenger vessels of less than 100 GRT.

(a) This section applies to an applicant for the endorsement to operate an uninspected vessel of less than 100 GRT, equipped with propulsion machinery of any type, carrying six or fewer passengers.

(b) A domestic endorsement as OUPV for near-coastal waters limits the holder to service on domestic, near-coastal waters not more than 100 miles offshore, the Great Lakes, and all inland waters. Endorsements issued for inland waters include all inland waters except the Great Lakes. Endorsements may be issued for a particular local area under paragraph (f) or paragraph (g) of this section.

(c) For an endorsement as OUPV on near-coastal waters, an applicant must have a minimum of 12 months of experience in the operation of vessels, including at least 3 months of service on vessels operating on ocean or near-coastal waters.

(d) For an endorsement as OUPV on the Great Lakes and inland waters, an applicant must have 12 months of service on Great Lakes or inland waters, including at least 3 months of service operating vessels on Great Lakes waters.

(e) For an endorsement as OUPV on inland waters, an applicant must have a minimum of 12 months of experience in the operation of vessels.

(f) A limited OUPV endorsement may be issued to an applicant to be employed by organizations such as formal camps, yacht clubs, educational institutions, and marinas. An endorsement issued under this paragraph will be limited to the specific activity and the locality of the camp, yacht club, or marina. In order to obtain this restricted endorsement, an applicant must:

(1) Have 3 months of service in the operation of the type of vessel for which the endorsement is requested;

(2) Satisfactorily complete a safe-boating course approved by the National Association of State Boating Law Administrators, or those public education courses conducted by the U.S. Power Squadron or the American National Red Cross, or a Coast Guard-approved course; and

(3) Pass an examination appropriate for the activity to be conducted and the route authorized.

(g) The first aid and cardiopulmonary resuscitation (CPR) course certificates required by § 11.201(i) of this part will only be required when, in the opinion of the Coast Guard, the geographic area over which service is authorized precludes obtaining medical services within a reasonable time.

(h) Restricted OUPV endorsements may be issued to applicants to be employed on inland navigable waters. An endorsement under this paragraph will be limited to specific bodies of water that have been approved by the cognizant OCMI. In order to obtain this endorsement, the applicant must be qualified for the endorsement under this section; however, the OCMI may modify the service and examination requirements as follows:

(1) At least 3 months of service in the operation of the type of vessel and on each body of water for which the endorsement is requested; and

(2) Satisfactorily pass an examination appropriate for the activity to be conducted and the waters authorized.

(i) An applicant for an officer endorsement as OUPV who speaks Spanish, but not English, may be issued an officer endorsement restricted to the navigable waters of the United States in the vicinity of Puerto Rico.

§ 11.468 Domestic officer endorsements for mobile offshore drilling units (MODUs).

Officer endorsements for service on mobile offshore drilling units (MODUs) authorize service on units of unlimited tonnage upon ocean waters while on location or while underway, as restricted on the endorsement, except when moving independently under their own power.

§ 11.470 Domestic officer endorsements as offshore installation manager.

(a) Officer endorsements as offshore installation manager (OIM) include:

(1) OIM Unrestricted;

(2) OIM Surface Units on Location;

(3) OIM Surface Units Underway;

(4) OIM Bottom Bearing Units on Location; or

(5) OIM Bottom Bearing Units Underway.

(b) To qualify for an endorsement as OIM unrestricted, an applicant must:

(1) Present evidence of the following experience:

(i) Four years of employment assigned to MODUs, including at least 1 year of service as driller, assistant driller, toolpusher, assistant toolpusher, barge supervisor, mechanical supervisor, electrician, crane operator, ballast control operator, or equivalent supervisory position on MODUs, with a minimum of 14 days of that supervisory service on surface units; or

(ii) A degree from a program in engineering or engineering technology which is accredited by the Accreditation Board for Engineering and Technology (ABET). The National Maritime Center will give consideration to accepting education credentials from programs having other than ABET accreditation. An applicant qualifying through a degree program must also have at least 168 days of service as driller, assistant driller, toolpusher, assistant toolpusher, barge supervisor, mechanical supervisor, electrician, crane operator, ballast control operator, or equivalent supervisory position on MODUs, with a minimum of 14 days of that supervisory service on surface units;

(2) Present evidence of training course completion as follows:

(i) A certificate from a Coast Guard-approved stability course approved for OIM unrestricted;

(ii) A certificate from a Coast Guard approved survival suit and survival craft training course;

(iii) Documentation consistent with those required by the Bureau of Ocean Energy Management Regulation and Enforcement (BOEMRE) demonstrating that the applicant has completed training in well control and blowout prevention necessary to perform the duties of an OIM; and

(iv) A certificate from a firefighting training course as required by § 11.201(h) of this part; and

(3) Provide a recommendation signed by a senior company official which:

(i) Provides a description of the applicant's experience and qualifications;

(ii) Certifies that the individual has successfully directed, while under the supervision of an experienced rig mover, two rig moves each of surface units and of bottom bearing units; and

(iii) Certifies that one of the rig moves required under paragraph (b)(3)(ii) of this section was completed within 1 year preceding date of application.

(c) An applicant for an endorsement as OIM unrestricted who holds an unlimited license or MMC endorsement as master or chief mate must satisfy the requirements in paragraphs (b)(2) and (b)(3) of this section and have at least 84 days of service on surface units and at least 28 days of service on bottom bearing units.

(d) To qualify for an endorsement as OIM surface units on location, an applicant must:

(1) Present evidence of the following experience:

(i) Four years of employment assigned to MODUs, including at least 1 year of service as driller, assistant driller, toolpusher, assistant toolpusher, barge supervisor, mechanical supervisor, electrician, crane operator, ballast control operator, or equivalent supervisory position on MODUs, with a minimum of 14 days of that supervisory service on surface units; or

(ii) A degree from a program in engineering or engineering technology which is accredited by ABET. The National Maritime Center will give consideration to accepting education credentials from programs having other than ABET accreditation. An applicant qualifying through a degree program must also have at least 168 days of service as driller, assistant driller, toolpusher, assistant toolpusher, barge supervisor, mechanical supervisor, electrician, crane operator, ballast control operator, or equivalent supervisory position of MODUs, with a minimum of 14 days of that supervisory service on surface units; and

(2) Present evidence of training course completion as follows:

(i) A certificate from a Coast Guard-approved stability course approved for a license or MMC endorsement as OIM surface units;

(ii) A certificate from a Coast Guard-approved survival suit and survival craft training course;

(iii) A letter or certificate from the applicant's employer or a training provider certifying that the applicant has completed well control and blowout prevention training necessary to perform the duties of an OIM; and

(iv) A certificate from a firefighting training course as required by § 11.201(h) of this part.

(e) An applicant for an endorsement as OIM surface units on location who holds an unlimited license or MMC endorsement as master or chief mate must satisfy the requirements of paragraph (d)(2) of this section and have at least 84 days of service on surface units.

(f) To qualify for an endorsement as OIM surface units underway, an applicant must:

(1) Provide the following:

(i) Evidence of the experience described in paragraph (d)(1) of this section and a recommendation signed by a senior company official which:

(A) Provides a description of the applicant's experience and qualifications;

(B) Certifies that the individual has successfully directed, while under the supervision of an experienced rig mover, three rig moves of surface units; and

(C) Certifies that one of the rig moves required under paragraph (f)(1)(i)(B) of this section was completed within 1 year preceding date of application; or

(ii) A recommendation signed by a senior company official which:

(A) Provides a description of the applicant's experience and company qualifications program completed;

(B) Certifies that the applicant has witnessed ten rig moves either as an observer in training or as a rig mover under supervision;

(C) Certifies that the individual has successfully directed, while under the supervision of an experienced rig mover, five rig moves of surface units; and

(D) Certifies that one of the rig moves required under paragraph (f)(1)(ii)(C) of this section was completed within 1 year preceding the date of application; and

(2) Present evidence of training course completion as follows:

(i) A certificate from a Coast Guard-approved stability course approved for an OIM surface units endorsement;

(ii) A certificate from a Coast Guard-approved survival suit and survival craft training course; and

(iii) A certificate from a firefighting training course as required by § 11.201(h) of this part.

(g) An applicant for endorsement as OIM surface units underway who holds an unlimited license or MMC endorsement as master or chief mate must satisfy the requirements in paragraph (f)(2) of this section and provide a company recommendation signed by a senior company official which:

(1) Provides a description of the applicant's experience and qualifications;

(2) Certifies that the individual has successfully directed, while under the supervision of an experienced rig mover, three rig moves on surface units; and

(3) Certifies that one of the rig moves required under paragraph (g)(2) of this section was completed within 1 year preceding the date of application.

(h) To qualify for an endorsement as OIM bottom bearing units on location, an applicant must:

(1) Present evidence of the following experience:

(i) Four years of employment assigned to MODUs, including at least 1 year of service as driller, assistant driller, toolpusher, assistant toolpusher, barge supervisor, mechanical supervisor, electrician, crane operator, ballast control operator, or equivalent supervisory position on MODUs; or

(ii) A degree from a program in engineering or engineering technology that is accredited by ABET. The National Maritime Center will give consideration to accepting education credentials from programs having other than ABET accreditation. An applicant qualifying through a degree program must also have at least 168 days of service as driller, assistant driller, toolpusher, assistant toolpusher, barge supervisor, mechanical supervisor, electrician, crane operator, ballast control operator, or equivalent supervisory position on MODUs; and

(2) Present evidence of training course completion as follows:

(i) A certificate from a Coast Guard-approved survival suit and survival craft training course;

(ii) A letter or certificate from the applicant's employer or a training provider certifying that the applicant has completed well control and blowout prevention training necessary to perform the duties of an OIM; and

(iii) A certificate from a firefighting training course as required by § 11.201(h) of this part.

(i) An applicant for an endorsement as OIM bottom bearing units on location who holds an unlimited license or MMC endorsement as master or chief mate must satisfy paragraph (h)(2) of this section and have at least 28 days of service on bottom bearing units.

(j) To qualify for an endorsement as OIM bottom bearing units underway, an applicant must:

(1) Provide the following:

(i) Evidence of the experience described in paragraph (h)(1) of this section with a recommendation signed by a senior company official which:

(A) Provides a description of the applicant's experience and qualifications;

(B) Certifies that the individual has successfully directed, while under the supervision of an experienced rig mover, three rig moves of bottom bearing units; and

(C) Certifies that one of the rig moves required under paragraph (j)(1)(i)(B) of this section was completed within 1 year preceding date of application; or

(ii) A recommendation signed by a senior company official which:

(A) Provides a description of the applicant's experience and company qualifications program completed;

(B) Certifies that the applicant has witnessed ten rig moves either as an observer in training or as a rig mover under supervision;

(C) Certifies that the individual has successfully directed, while under the supervision of an experienced rig mover, five rig moves of bottom bearing units; and

(D) Certifies that one of the rig moves required under paragraph (j)(1)(ii)(C) of this section was completed within 1 year preceding date of application; and

(2) Present evidence of training course completion as follows:

(i) A certificate from a Coast Guard-approved stability course approved for a license or MMC endorsement as OIM bottom bearing units;

(ii) A certificate from a Coast Guard-approved survival suit and survival craft training course; and

(iii) A certificate from a firefighting training course as required by § 11.201(h) of this part.

(k) An applicant for endorsement as OIM bottom bearing units underway who holds an unlimited license or MMC endorsement as master or chief mate must satisfy the requirements in paragraph (j)(2) of this section and provide a company recommendation signed by a senior company official, which:

(1) Provides a description of the applicant's experience and qualifications;

(2) Certifies that the individual has successfully directed, while under the supervision of an experienced rig mover, three rig moves of bottom bearing units; and

(3) Certifies that one of the rig moves required under paragraph (k)(2) of this section was completed within 1 year preceding the date of application.

§ 11.472 Domestic officer endorsements as barge supervisor.

(a) To qualify for an endorsement as barge supervisor (BS), an applicant must:

(1) Present evidence of the following experience:

(i) Three years of employment assigned to MODUs, including at least 168 days of service as driller, assistant driller, toolpusher, assistant tool pusher, mechanic, electrician, crane operator, subsea specialist, ballast control operator, or equivalent supervisory position on MODUs. At least 84 days of that service must have been as a ballast control operator or barge supervisor trainee; or

(ii) A degree from a program in engineering or engineering technology that is accredited by the Accreditation Board for Engineering and Technology (ABET). The National Maritime Center will give consideration to accepting education credentials from programs having other than ABET accreditation. An applicant qualifying through a degree program must also have at least 168 days of service as driller, assistant driller, toolpusher, assistant toolpusher, mechanic, electrician, crane operator, subsea specialist, ballast control operator, or equivalent supervisory position on MODUs. At least 84 days of that service must have been as a ballast control operator or barge supervisor trainee; and

(2) Present evidence of training course completion as follows:

(i) A certificate from a Coast Guard-approved stability course approved for barge supervisor;

(ii) A certificate from a Coast Guard-approved survival suit and survival craft training course; and

(iii) A certificate from a firefighting training course as required by § 11.201(h) of this part.

(b) An applicant for an endorsement as barge supervisor who holds an unlimited license or MMC endorsement as master or mate must satisfy the requirements in paragraph (a)(2) of this section and have at least 84 days of service as ballast control operator or barge supervisor trainee.

§ 11.474 Domestic officer endorsements as ballast control operator.

(a) To qualify for an endorsement as ballast control operator (BCO), an applicant must:

(1) Present evidence of the following experience:

(i) One year of employment assigned to MODUs, including at least 28 days of service as a trainee under the supervision of an individual holding a license or MMC endorsement as ballast control operator; or

(ii) A degree from a program in engineering or engineering technology that is accredited by the Accreditation Board for Engineering and Technology (ABET). The National Maritime Center will give consideration to accepting education credentials from programs having other than ABET accreditation. An applicant qualifying through a degree program must also have at least 28 days of service as a trainee under the supervision of an individual holding a license or MMC endorsement as ballast control operator; and

(2) Present evidence of training course completion as follows:

(i) A certificate from a Coast Guard-approved stability course approved for barge supervisor or ballast control operator;

(ii) A certificate from a Coast Guard-approved survival suit and survival craft training course; and

(iii) A certificate from a firefighting training course as required by § 11.201(h) of this part.

(b) An applicant for an endorsement as BCO who holds an unlimited license or MMC endorsement as master, mate, chief engineer, or assistant engineer must satisfy the requirements in paragraph (a)(2) of this section and have at least 28 days of service as a trainee under the supervision of an individual holding an endorsement as BCO.

§ 11.480 Radar observer.

(a) This section contains the requirements that an applicant must meet to qualify as a radar observer (part 15 of this subchapter specifies who must qualify as a radar observer).

(b) If an applicant meets the requirements of this section, one of the following radar observer endorsements will be added to his or her MMC:

(1) Radar observer (unlimited).

(2) Radar observer (inland waters and Gulf Intercoastal waterways (GIWW)).

(3) Radar observer (rivers).

(c) Radar observer (unlimited) is valid on all waters. Radar observer (inland waters and GIWW) is valid only for those waters other than the Great Lakes covered by the Inland Navigational Rules. Radar observer (rivers) is valid only on any river, canal, or similar body of water designated by the OCMI, but not beyond the boundary line.

(d) Except as provided by paragraph (e) of this section, each applicant for a radar observer endorsement or for renewal of an endorsement must complete the appropriate course approved by the Coast Guard, receive the appropriate certificate of training, and present the certificate to the Coast Guard.

(e) A radar observer endorsement issued under this section is valid for 5 years from the date of issuance of the certificate of training from a course approved by the Coast Guard.

(f) A mariner may maintain the validity of a radar observer endorsement by completing a refresher or re-certification course approved for that purpose.

(g) An applicant for renewal of a license or MMC that does not need a radar observer endorsement may renew without meeting the requirements for the endorsement. However, a radar endorsement will not be placed on the MMC unless the mariner submits a course completion certificate from an approved radar course.

(h) An applicant seeking to raise the grade of a license or MMC endorsement or increase its scope, where the increased grade or scope requires a radar observer certificate, may use an expired certificate to fulfill that requirement. However, a radar endorsement will not be placed on the MMC unless the mariner submits a course completion certificate from an approved radar course.

§ 11.482 Assistance towing.

(a) This section contains the requirements to qualify for an endorsement authorizing a mariner to engage in assistance towing. Except as noted in this paragraph, holders of MMC officer and OUPV endorsements must have an assistance towing endorsement to engage in assistance towing. Holders of endorsements as master or mate (pilot) of towing vessels or master or mate endorsements authorizing service on inspected vessels of 200 GRT/500 GT or more do not need the assistance towing endorsement.

(b) An applicant for an assistance towing endorsement must pass a written examination or complete a Coast Guard-approved course demonstrating his or her knowledge of assistance towing safety, equipment, and procedures.

(c) The holder of a license or MMC for master, mate, or operator endorsed for assistance towing is authorized to engage in assistance towing on any vessel within the scope of the license or MMC.

(d) The period of validity of the endorsement is the same as the license or MMC on which it is included, and it may be renewed with the MMC.

§ 11.491 Domestic officer endorsements for service on offshore supply vessels.

Each officer endorsement for service on offshore supply vessels (OSVs) authorizes service on OSVs as defined in 46 U.S.C. 2101(19) and as interpreted under 46 U.S.C. 14104(b), subject to any restrictions placed on the license or MMC.

§ 11.493 Master (OSV).

(a) An endorsement for service on an offshore supply vessel (OSV) may be issued as master. To qualify for a domestic endorsement for service as master (OSV), an applicant must:

(1) Meet the requirements for an STCW endorsement, according to § 11.305 of this part; and

(2) Complete the appropriate examination described in subpart I of this part.

(b) A person holding an endorsement as master (OSV) qualifies for an STCW endorsement, according to §§ 11.305 and 11.311 of this part.

§ 11.495 Chief Mate (OSV).

(a) An endorsement for service on an offshore supply vessel (OSV) may be issued as chief mate. To qualify for a domestic endorsement for service as chief mate (OSV), an applicant must:

(1) Meet the requirements for an STCW endorsement, according to § 11.307 of this part; and

(2) Complete the appropriate examination described in subpart I of this part.

(b) A person holding an endorsement as chief mate (OSV) qualifies for an STCW endorsement, according to §§ 11.307 and 11.313 of this part.

§ 11.497 Mate (OSV).

(a) An endorsement for service on an offshore supply vessel (OSV) may be issued as mate. To qualify for a domestic endorsement for service as mate (OSV), an applicant must:

(1) Meet the requirements for an STCW endorsement, according to § 11.309 of this part; and

(2) Complete the appropriate examination described in subpart I of this part.

(b) A person holding an endorsement as mate (OSV) qualifies for an STCW endorsement, according to § 11.309 of this part.

Subpart E—Professional Requirements for Domestic Engineer Officer Endorsements

§ 11.501 Grades and types of domestic engineer endorsements issued.

(a) Domestic engineer endorsements are issued in the grades of:

(1) Chief engineer;

(2) First assistant engineer;

(3) Second assistant engineer;

(4) Third assistant engineer;

(5) Chief engineer (limited);

(6) Assistant engineer (limited);

(7) Designated duty engineer;

(8) Chief engineer uninspected fishing industry vessels;

(9) Assistant engineer uninspected fishing industry vessels;

(10) Chief engineer (MODU);

(11) Assistant engineer (MODU);

(12) Chief engineer (OSV); and

(13) Engineer (OSV).

(b) Engineer endorsements issued in the grades of chief engineer (limited) and assistant engineer (limited) of steam, motor, and/or gas turbine-propelled vessels allow the holder to serve within any propulsion power limitations on vessels of unlimited tonnage on inland waters and of less than 1,600 GRT/3,000 GT in ocean, near-coastal, or Great Lakes service in the following manner:

(1) Assistant engineer (limited—oceans) may serve on ocean waters;

(2) Chief engineer (limited—near-coastal) may serve on near-coastal waters; and

(3) Chief engineer (limited—oceans) may serve on ocean waters.

(c) Engineer licenses or MMC endorsements issued in the grades of designated duty engineer of steam, motor, and/or gas turbine-propelled vessels allow the holder to serve within stated propulsion power limitations on vessels of less than 500 GRT in the following manner:

(1) Designated duty engineers limited to vessels of less than 1,000 HP or 4,000 HP may serve only on near-coastal or inland waters; and

(2) Designated duty engineers—unlimited may serve on any waters.

(d) An engineer officer's license or MMC endorsement authorizes service on steam, motor, or gas turbine-propelled vessels or may authorize all modes of propulsion.

(e) A person holding an engineer license or MMC endorsement that is restricted to near-coastal waters may serve within the limitations of the license or MMC upon near-coastal, Great Lakes, and inland waters.

§ 11.502 General requirements for domestic engineer endorsements.

(a) For all original and raise of grade of engineer endorsements, at least one-third of the minimum service requirements must have been obtained on the particular mode of propulsion for which applied.

(b) If an applicant desires to add a propulsion mode (steam, motor, or gas turbine) to his or her endorsement, the following alternative methods, while holding a license or MMC officer endorsement in that grade, are acceptable:

(1) Four months of service as an observer on vessels of the new propulsion mode;

(2) Four months of service as an engineer officer at the operational level on vessels of the new propulsion mode;

(3) Six months of service as oiler, watertender, or junior engineer on vessels of the new propulsion mode; or

(4) Completion of a Coast Guard-approved training course for this endorsement.

(c) Merchant Mariner Credential (MMC) officer endorsements issued in accordance with §§ 11.510, 11.512, 11.514, 11.516, 11.518, 11.520, 11.522, and 11.524 of this subpart for motor or gas turbine propulsion modes may be endorsed as limited to serve on vessels without auxiliary boilers, waste-heat boilers, or distilling plants. An applicant may qualify for removal of any of these limitations by completing Coast Guard-approved or -accepted training.

§ 11.503 Propulsion power limitations for domestic endorsements.

(a) Engineer endorsements of all grades and types may be subject to propulsion power limitations. Other than as provided in § 11.524 of this subpart for the designated duty engineer (DDE), the propulsion power limitation placed on a license or MMC endorsement is based on the applicant's qualifying experience considering the total shaft propulsion power of each vessel on which the applicant has served.

(b) When an applicant for an original or raise of grade of an engineer endorsement, other than a DDE, has not obtained at least 50 percent of the required experience on vessels of 4,000 or more horsepower, a horsepower limitation is placed on the MMC based on the applicant's qualifying experience. The endorsement is limited to the maximum propulsion power on which at least 25 percent of the required experience was obtained, or 150 percent of the maximum propulsion power on which at least 50 percent of the service was obtained, whichever is higher. Limitations are in multiples of 1,000 HP/750 kW, using the next higher figure when an intermediate horsepower is calculated. When the limitation as calculated equals or exceeds 10,000 HP/7,500 kW, an unlimited horsepower endorsement is issued.

(c) The following service on vessels of 4,000 HP/3,000 kW or more will be considered qualifying for raising or removing the propulsion power limitations placed on an engineer endorsement:

(1) Six months of service in the highest-grade endorsed: removal of all propulsion power limitations.

(2) Six months of service as an engineer officer in any capacity other than the highest grade for which the applicant is licensed or endorsed: removal of all propulsion power limitations for the grade in which service is performed and raise to the next higher grade endorsement to the propulsion power of the vessel on which service was performed. The total cumulative service before and after issuance of the limited engineer endorsement may be considered in removing all propulsion power limitations.

(3) Twelve months of service as oiler or junior engineer while holding a license or MMC endorsement as third assistant engineer or assistant engineer (limited oceans): removal of all propulsion power limitations on third assistant engineer or assistant engineer's (limited oceans) endorsement.

(4) Six months of service as oiler or junior engineer while holding a license or MMC endorsement as second assistant engineer: removal of all propulsion power limitations on third assistant engineer's endorsement.

(d) Raising or removing propulsion power limitations based on service required by paragraph (c) of this section may be granted without further written examination, if the Coast Guard considers further examination unnecessary.

§ 11.504 Application of deck service for domestic limited engineer endorsements.

Service gained in the deck department on vessels of appropriate tonnage may substitute for up to 25 percent or 6 months, whichever is less, of the service requirement for an endorsement as chief engineer (limited), assistant engineer (limited), or DDE.

§ 11.505 Domestic engineer officer endorsements.

(a) The following diagram illustrates the domestic engineering endorsement structure, including crossover points.

BILLING CODE 91108-04-P

BILLING CODE 91108-04-C

(b) [Reserved]

§ 11.510 Service requirements for domestic endorsement as chief engineer of steam, motor, and/or gas turbine-propelled vessels.

(a) The minimum service required to qualify an applicant for endorsement as chief engineer of steam, motor, and/or gas turbine-propelled vessels is:

(1) One year of service as first assistant engineer; or

(2) One year of service while holding a license or MMC endorsement as first assistant engineer. A minimum of 6 months of this service must have been as first assistant engineer. Service as an assistant engineer is accepted on a two-for-one basis to a maximum of 6 months (12 months of service as a second or third assistant engineer equals 6 months of creditable service).

(b) A person holding this endorsement may qualify for an STCW endorsement, according to §§ 11.325 and 11.331 of this part.

§ 11.512 Service requirements for domestic endorsement as first assistant engineer of steam, motor, and/or gas turbine-propelled vessels.

(a) The minimum service required to qualify an applicant for endorsement as first assistant engineer of steam, motor, and/or gas turbine-propelled vessels is 1 year of service as an assistant engineer, while holding a license or MMC endorsement as second assistant engineer.

(b) A person holding this endorsement may qualify for an STCW endorsement, according to §§ 11.327, 11.331, and 11.333 of this part.

§ 11.514 Service requirements for domestic endorsement as second assistant engineer of steam, motor, and/or gas turbine-propelled vessels.

(a) The minimum service required to qualify an applicant for endorsement as second assistant engineer of steam, motor, and/or gas turbine-propelled vessels is:

(1) One year of service as an assistant engineer, while holding a license or MMC endorsement as third assistant engineer; or

(2) One year of service while holding a license or MMC endorsement as third assistant engineer, which includes:

(i) A minimum of 6 months of service as third assistant engineer; and

(ii) Additional service as a qualified member of the engine department, calculated on a two-for-one basis; or

(3) One year of service as chief engineer (limited-oceans) of self-propelled vessels, and completing the appropriate examination described in subpart I of this part.

(b) A person holding this endorsement may qualify for an STCW endorsement, according to §§ 11.327, 11.329, and 11.333 of this part.

§ 11.516 Service requirements for domestic endorsement as third assistant engineer of steam, motor, and/or gas turbine-propelled vessels.

(a) The minimum service required to qualify an applicant for endorsement as third assistant engineer of steam, motor, and/or gas turbine-propelled vessels is:

(1) Three years of service in the engineroom of vessels, 2 years of which must have been as a qualified member of the engine department;

(2) Three years of service as an apprentice to the machinist trade engaged in the construction or repair of marine, locomotive, or stationary engines, together with 1 year of service in the engineroom as oiler, watertender, or junior engineer;

(3) Graduation from:

(i) The U.S. Merchant Marine Academy (engineering curriculum);

(ii) The U.S. Coast Guard Academy and completion of an onboard engineer officer qualification program required by the service;

(iii) The U.S. Naval Academy and completion of an onboard engineer officer qualification program required by the service; or

(iv) The engineering class of a Maritime Academy approved by and conducted under the rules prescribed by the Maritime Administrator and listed in part 310 of this title;

(4) Graduation from the marine engineering course of a school of technology accredited by the Accreditation Board for Engineering and Technology, together with 3 months of service in the engine department of steam, motor, or gas turbine-propelled vessels;

(5) Graduation from the mechanical or electrical engineering course of a school of technology accredited by the Accreditation Board for Engineering and Technology, together with 6 months of service in the engine department of steam, motor or gas turbine-propelled vessels;

(6) Satisfactory completion of a 3-year apprentice engineers training program approved by the Coast Guard; or

(7) One year of service as chief engineer (limited-near-coastal) of self-propelled vessels and completion of the appropriate examination described in subpart I of this part.

(b) Experience gained in the deck department on vessels of 100 GRT or more can be credited for up to 3 months of the service requirements under paragraph (a)(1) of this section.

(c) A person holding this endorsement may qualify for an STCW endorsement, according to §§ 11.327, 11.329, and 11.333 of this part.

§ 11.518 Service requirements for domestic endorsement as chief engineer (limited oceans) of steam, motor, and/or gas turbine-propelled vessels.

(a) The minimum service required to qualify an applicant for endorsement as chief engineer (limited oceans) of steam, motor, and/or gas turbine-propelled vessels is 5 years of total service in the engineroom of vessels. Two years of this service must have been as an engineer officer while holding an engineer officer endorsement. Thirty months of the service must have been as a qualified member of the engine department (QMED) or equivalent position.

(b) A person holding this endorsement may qualify for an STCW endorsement, according to §§ 11.325 and 11.331 of this part.

§ 11.520 Service requirements for domestic endorsement as chief engineer (limited near-coastal) of steam, motor, and/or gas turbine-propelled vessels.

(a) The minimum service required to qualify an applicant for endorsement as chief engineer (limited near-coastal) of steam, motor, and/or gas turbine-propelled vessels is 4 years of total service in the engineroom of vessels. One year of this service must have been as an engineer officer while holding an engineer officer endorsement. Two years of the service must have been as a QMED or equivalent position.

(b) A person holding this endorsement may qualify for an STCW endorsement, according to §§ 11.325 and 11.331 of this part.

§ 11.522 Service requirements for domestic endorsement as assistant engineer (limited oceans) of steam, motor, and/or gas turbine-propelled vessels.

(a) The minimum service required to qualify an applicant for endorsement as assistant engineer (limited oceans) of steam, motor, and/or gas turbine-propelled vessels is 3 years of service in the engineroom of vessels. Eighteen months of this service must have been as a QMED or equivalent position.

(b) A person holding this endorsement may qualify for an STCW endorsement, according to §§ 11.327, 11.329, and 11.333 of this part.

§ 11.524 Service requirements for domestic endorsement as designated duty engineer (DDE) of steam, motor, and/or gas turbine-propelled vessels.

(a) DDE endorsements are issued in three levels of propulsion power limitations dependent upon the total service of the applicant and completion of an appropriate examination. These endorsements are limited to vessels of less than 500 GRT on certain waters as specified in § 11.501 of this subpart.

(b) The service requirements for endorsements as DDE are:

(1) For designated duty engineer of steam, motor, and/or gas turbine-propelled vessels of unlimited propulsion power, the applicant must have 3 years of service in the engineroom. Eighteen months of this service must have been as a qualified member of the engine department or equivalent position.

(2) For designated duty engineer of steam, motor, and/or gas turbine-propelled vessels of less than 4,000 HP/3,000 kW, the applicant must have 2 years of service in the engineroom. One year of this service must have been as a qualified member of the engine department or equivalent position.

(3) For designated duty engineer of steam, motor, and/or gas turbine-propelled vessels of less than 1,000 HP/750 kW, the applicant must have 1 year of service in the engineroom. Six months of this service must have been as a qualified member of the engine department or equivalent position.

(c) A person holding this endorsement may qualify for an STCW endorsement, according to §§ 11.325, 11.327, 11.329, and 11.331 of this part.

§ 11.530 Endorsements for domestic engineers of uninspected fishing industry vessels.

(a) This section applies to endorsements for chief and assistant engineers of all vessels, however propelled, which are documented to engage in the fishing industry, with the exception of:

(1) Wooden ships of primitive build;

(2) Unrigged vessels; and

(3) Vessels of less than 200 GRT/500 GT.

(b) Endorsements as chief engineer and assistant engineer of uninspected fishing industry vessels are issued for ocean waters and with propulsion power limitations in accordance with the provisions of § 11.503 of this subpart.

(c) For an endorsement as chief engineer, the applicant must have served 4 years in the engineroom of vessels. One year of this service must have been as an assistant engineer officer or equivalent position.

(d) For an endorsement as assistant engineer, an applicant must have served 3 years in the engine room of vessels.

(e) Two-thirds of the service required under this section must have been on motor vessels.

(f) Applicants may request an orally assisted examination on the subjects listed in subpart I of this part.

§ 11.540 Endorsements for domestic engineers of mobile offshore drilling units (MODUs).

Endorsements as domestic chief engineer (MODU) or assistant engineer (MODU) authorize service on certain self-propelled or non-self-propelled units of unlimited propulsion power where authorized by the vessel's certificate of inspection.

§ 11.542 Endorsement as domestic chief engineer (MODU).

(a) To qualify for an endorsement as domestic chief engineer (MODU) an applicant must:

(1) Present evidence of the following experience:

(i) Six years of employment assigned to MODUs, including 3 years of employment as mechanic, motorman, subsea engineer, electrician, barge engineer, toolpusher, unit superintendent, crane operator, or equivalent. Eighteen months of that employment must have been assigned to self-propelled or propulsion-assisted units; or

(ii) Two years of employment assigned to MODUs as an assistant engineer (MODU). Twelve months of that employment must have been assigned to self-propelled or propulsion-assisted units; and

(2) Present evidence of completion of a firefighting training course as required by § 11.201(h) of this part.

(b) If an applicant successfully completes an examination and possesses the total required sea service for an endorsement as chief engineer (MODU), but does not possess the required sea service onboard self-propelled or propulsion-assisted units, the Coast Guard may issue the applicant an endorsement limited to non-self-propelled units. The Coast Guard may remove the limitation upon presentation of satisfactory evidence of the required self-propelled sea service and completion of any additional required examination.

(c) A person holding this endorsement may qualify for an STCW endorsement, according to §§ 11.325, 11.327, and 11.331 of this part.

§ 11.544 Endorsement as domestic assistant engineer (MODU).

(a) To qualify for an endorsement as domestic assistant engineer (MODU) an applicant must:

(1) Present evidence of the following experience:

(i) Three years of employment assigned to MODUs, including 18 months of employment as mechanic, motorman, subsea engineer, electrician, barge engineer, toolpusher, unit superintendent, crane operator, or equivalent. Nine months of that employment must have been assigned to self-propelled or propulsion-assisted units;

(ii) Three years of employment in the machinist trade engaged in the construction or repair of diesel engines and 1 year of employment assigned to MODUs in the capacity of mechanic, motorman, oiler, or equivalent. Nine months of that employment must have been assigned to self-propelled or propulsion-assisted units; or

(iii) A degree from a program in marine, mechanical, or electrical engineering technology that is accredited by the Accreditation Board for Engineering and Technology (ABET). The National Maritime Center will give consideration to accepting education credentials from programs having other than ABET accreditation. An applicant qualifying through a degree program must also have at least 6 months of employment in any of the capacities listed in paragraph (a)(1)(i) of this section aboard self-propelled or propulsion-assisted units; and

(2) Present evidence of completion of a firefighting training course as required by § 11.201(h) of this part.

(b) If an applicant successfully completes an examination and possesses the total required sea service for an endorsement as an assistant engineer (MODU), but does not possess the required sea service onboard self-propelled or propulsion assisted units, the Coast Guard may issue the applicant an endorsement limited to non-self-propelled units. The Coast Guard may remove the limitation upon presentation of the satisfactory evidence of the required self-propelled sea service and completion of any additional required examination.

(c) A person holding this endorsement may qualify for an STCW endorsement, according to §§ 11.329 and 11.333 of this part.

§ 11.551 Endorsements for service on offshore supply vessels.

Each endorsement for service on OSVs as chief engineer (OSV) or engineer (OSV) authorizes service on OSVs as defined in 46 U.S.C. 2101(19) and as interpreted under 46 U.S.C. 14104(b), subject to any restrictions placed on the MMC.

§ 11.553 Chief engineer (OSV).

(a) An endorsement for service on an offshore supply vessel (OSV) may be issued as chief engineer. To qualify for a domestic endorsement for service as chief engineer (OSV), an applicant must:

(1) Meet the requirements for an STCW endorsement, according to § 11.325 of this part; and

(2) Complete the appropriate examination described in subpart I of this part.

(b) A person holding an endorsement as chief engineer (OSV) qualifies for an STCW endorsement, according to §§ 11.325, 11.327, and 11.331 of this part.

§ 11.555 Assistant engineer (OSV).

(a) An endorsement for service on an offshore supply vessel (OSV) may be issued as assistant engineer. To qualify for a domestic endorsement for service as assistant engineer (OSV), an applicant must:

(1) Meet the requirements for an STCW endorsement, according to § 11.329 of this part; and

(2) Complete the appropriate examination described in subpart I of this part.

(b) A person holding an endorsement as assistant engineer (OSV) qualifies for an STCW endorsement, according to §§ 11.329 and 11.333 of this part.

Subpart F—Credentialing of Radio Officers

§ 11.601 Applicability.

This subpart provides for endorsement as radio officers for employment on vessels, and for the issue of STCW endorsements for those qualified to serve as radio operators on vessels subject to the provisions on the Global Maritime Distress and Safety System (GMDSS) of Chapter IV of SOLAS (incorporated by reference, see § 11.102 of this part).

§ 11.603 Requirements for radio officers' endorsements.

(a) Each applicant for an original endorsement or renewal of license must present a current first- or second-class radiotelegraph operator license issued by the Federal Communications Commission. The applicant must enter on the endorsement application form the number, class, and date of issuance of his or her Federal Communications Commission license.

§ 11.604 Requirements for an STCW endorsement for Global Maritime Distress and Safety System (GMDSS) radio operators.

Each applicant for an original endorsement must present a certificate of completion from a Coast Guard-approved course for operator of radio in the GMDSS, meeting the requirements of Section A-IV/2 of the STCW Code (incorporated by reference, see § 11.102 of this part).

Subpart G—Professional Requirements for Pilots

§ 11.701 Scope of pilot endorsements.

(a) An applicant for an endorsement as first-class pilot need not hold any other officer endorsement issued under this part.

(b) The issuance of an endorsement as first-class pilot to an individual qualifies that individual to serve as pilot over the routes specified on the endorsement, subject to any limitations imposed under paragraph (c) of this section.

(c) The OCMI issuing an endorsement as first-class pilot imposes appropriate limitations commensurate with the experience of the applicant, with respect to class or type of vessel, tonnage, route, and waters.

(d) A license or MMC endorsement issued for service as a master, mate, or operator of uninspected towing vessels authorizes service as a pilot under the provisions of § 15.812 of this subchapter. Therefore, first-class pilot endorsements will not be issued with tonnage limitations of 1,600 GRT/3,000 GT or less.

§ 11.703 Service requirements.

(a) The minimum service required to qualify an applicant for an endorsement as first-class pilot is predicated upon the nature of the waters for which pilotage is desired.

(1) General routes (routes not restricted to rivers, canals, and small lakes). The applicant must have at least 36 months of service in the deck department of self-propelled vessels navigating on oceans, coastwise, and Great Lakes, or bays, sounds, and lakes other than the Great Lakes, as follows:

(i) Eighteen months of the 36 months of service must be as quartermaster, wheelsman, able seaman, apprentice pilot, or in an equivalent capacity, standing regular watches at the wheel or in the pilothouse as part of routine duties.

(ii) At least 12 months of the 18 months of service required in paragraph (a)(1)(i) of this section must be on vessels operating on the class of waters for which pilotage is desired.

(2) River routes. The applicant must have at least 36 months of service in the deck department of any vessel, including at least 12 months of service on vessels operating on the waters of rivers while the applicant is serving in the capacity of quartermaster, wheelsman, apprentice pilot, or deckhand who stands watches at the wheel as part of routine duties.

(3) Canal and small lakes routes. The applicant must have at least 24 months of service in the deck department of any vessel, including at least 8 months of service on vessels operating on canals or small lakes.

(b) A graduate of the Great Lakes Maritime Academy in the deck class meets the service requirements of this section for a license as first-class pilot on the Great Lakes.

(c) Completion of an approved or accepted pilot training course may be substituted for a portion of the service requirements of this section in accordance with § 10.404 of this subchapter. Additionally, roundtrips made during this training may apply toward the route familiarization requirements of § 11.705 of this subpart. An individual using substituted service must have at least 9 months of shipboard service.

(d) An individual holding a license or MMC endorsement as master or mate of inspected self-propelled vessels of more than 1,600 GRT/3,000 GT meets the service requirements of this section for an endorsement as first-class pilot.

§ 11.705 Route familiarization requirements.

(a) The Officer in Charge, Marine Inspection (OCMI) has jurisdiction and determines within the range limitations specified in this section, the number of roundtrips required to qualify an applicant for a particular route, considering the following:

(1) The geographic configuration of the waterway;

(2) The type and size of vessels using the waterway;

(3) The abundance or absence of aids to navigation;

(4) The background lighting effects;

(5) The known hazards involved, including waterway obstructions or constrictions such as bridges, narrow channels, or sharp turns; and

(6) Any other factors unique to the route that the OCMI deems appropriate.

(b) An applicant holding no other deck officer endorsement seeking an endorsement as first-class pilot must furnish evidence of having completed a minimum number of roundtrips, while serving as quartermaster, wheelsman, able seaman, apprentice pilot, or in an equivalent capacity, standing regular watches at the wheel or in the pilot house as part of routine duties, over the route sought. Evidence of having completed a minimum number of roundtrips while serving as an observer, properly certified by the master and/or pilot of the vessel, is also acceptable. The range of roundtrips for an endorsement is a minimum of 12 roundtrips and a maximum of 20 roundtrips. An applicant may have additional routes added to the first-class pilot endorsement by meeting the requirements in paragraph (c) of this section.

(c) An applicant who currently holds a deck officer license or MMC endorsement seeking an endorsement as first-class pilot for a particular route must furnish evidence of having completed the number of roundtrips over the route, specified by the OCMI, within the range limitations of this paragraph, for the particular grade of existing license or MMC endorsement held. The range of roundtrips for an endorsement is a minimum of eight roundtrips and a maximum of 15 roundtrips.

(d) Unless determined impracticable by the OCMI, 25 percent of the roundtrips required by the OCMI under this section must be made during the hours of darkness.

(e) One of the roundtrips required by the OCMI under this section must be made over the route within the 6 months immediately preceding the date of application.

(f) For an endorsement of unlimited tonnage, applicants must meet tonnage requirements for roundtrips specified in § 11.711(c) of this subpart.

§ 11.707 Examination requirements.

(a) An applicant for an endorsement as first-class pilot, except as noted in paragraph (b) of this section, is required to pass the examination described in subpart I of this part.

(b) An applicant for an extension of route, or an applicant holding a license or MMC endorsement as master or mate authorized to serve on vessels of more than 1,600 GRT/3,000 GT seeking an endorsement as first-class pilot, is required to pass those portions of the examination described in subpart I of this part that concern the specific route for which endorsement is sought.

§ 11.709 Annual physical examination requirements.

(a) This section applies only to an individual who pilots a vessel of 1,600 GRT/3,000 GT and more.

(b) Every person holding a license or MMC endorsement as first-class pilot must have a thorough physical examination each year.

(c) Each annual physical examination must meet the requirements specified in 46 CFR, part 10, subpart C and be recorded on a CG-719-K.

(d) An individual's first-class pilot endorsement becomes invalid on the first day of the month following the first anniversary of the individual's most recent physical examination satisfactorily completed; the individual may not operate under the authority of that endorsement until a physical examination has been satisfactorily completed.

§ 11.711 Tonnage requirements.

(a) In order to obtain a first-class pilot endorsement authorizing service on vessels of unlimited tonnage over a particular route, the applicant must have sufficient experience on vessels of more than 1,600 GRT/3,000 GT.

(b) For purposes of this section, an applicant is considered to have sufficient experience if the applicant has 18 months of experience as master, mate, quartermaster, wheelsman, able seaman, apprentice pilot, or in an equivalent capacity, standing regular watches at the wheel or in the pilothouse as part of routine duties, on vessels of 1,600 GRT/3,000 GT or more, and two-thirds of the minimum number of roundtrips required for the route have been on vessels of 1,600 GRT/3,000 GT or more.

(c) If an applicant does not have sufficient experience on vessels of 1,600 GRT/3,000 GT or more, the endorsement will be for a limited tonnage until the applicant completes the 18 months of sea service, as mentioned in paragraph (b) of this section, on vessels of 1,600 GRT/3,000 GT or more.

(d) For purposes of this section, for experience with respect to tonnage on towing vessels, the combined gross tonnage of the towing vessels and the vessels towed will be considered. However, the Coast Guard may require that all or a portion of the required number of roundtrips be obtained on self-propelled vessels of 1,600 GRT/3,000 GT or more, when the Coast Guard determines that due to the nature of the waters and the overall experience of the applicant, self-propelled vessel experience is necessary to obtain a first-class pilot endorsement that is not restricted to tug and barge combinations.

§ 11.713 Requirements for maintaining current knowledge of waters to be navigated.

(a) If a first-class pilot has not served over a particular route within the past 60 months, that person's license or MMC endorsement is invalid for that route, and remains invalid until the individual has made one re-familiarization round trip over that route, except as provided in paragraph (b) of this section. Whether this requirement is satisfied or not has no effect on the renewal of a license or MMC endorsement. Roundtrips made within the 90-day period preceding renewal will be valid for the duration of the renewed license or MMC endorsement.

(b) For certain long or extended routes, the OCMI may, at his or her discretion, allow the re-familiarization requirement to be satisfied by reviewing appropriate navigation charts, coast pilots tide and current tables, local Notices to Mariners, and any other materials that would provide the pilot with current knowledge of the route. Persons using this method of re-familiarization must certify, when applying for renewal of their license or MMC endorsement, the material they have reviewed and the dates on which this was accomplished. Review within the 90-day period preceding renewal is valid for the duration of the renewed MMC endorsement.

Subpart H—Registration of Staff Officers and Miscellaneous Endorsements

§ 11.801 Applicability.

This subpart provides for the registration of staff officers for employment on vessels documented or numbered under the laws of the United States. Staff officers must be registered if serving on most vessels in ocean service or on the Great Lakes.

§ 11.805 General requirements.

(a) The applicant for an endorsement as staff officer is not required to take any examination; however, the applicant must present to the Coast Guard a letter justifying the need for the endorsement.

(b) An applicant for a higher grade in the staff department must apply in the same manner as for an original endorsement and must surrender the previous Coast Guard-issued credentials upon issuance of the new MMC. A staff officer may serve in a lower grade of service for which he or she is registered.

(c) Title 46 U.S.C. 8302 addresses uniforms for staff officers who are members of the Naval Reserve.

(d) A duplicate MMC may be issued by the Coast Guard. (See § 10.229 of this subchapter.)

(e) An MMC is valid for a term of 5 years from the date of issuance. Procedures for renewing endorsements are found in § 10.227 of this subchapter.

(f) Each applicant for an original or a higher grade of endorsement, as described in paragraph (b) of this section, must produce evidence of having passed a chemical test for dangerous drugs or of qualifying for an exception from testing in § 16.220 of this subchapter. An applicant who fails a chemical test for dangerous drugs will not be issued an MMC.

§ 11.807 Experience requirements for registry.

(a) The applicant for a certificate of registry as staff officer must submit evidence of experience as follows:

(1) Chief purser. Two years of service aboard vessels performing duties relating to work in the purser's office.

(2) Purser. One year of service aboard vessels performing duties relating to work in the purser's office.

(3) Senior assistant purser. Six months of service aboard vessels performing duties relating to work in the purser's office.

(4) Junior assistant purser. Previous experience not required.

(5) Medical doctor. A valid license as physician or surgeon issued under the authority of a state or territory of the United States, the Commonwealth of Puerto Rico, or the District of Columbia.

(6) Professional nurse. A valid license as a registered nurse issued under authority of a state or territory of the United States, the Commonwealth of Puerto Rico, or the District of Columbia.

(7) Marine physician assistant. Successful completion of an accredited course of instruction for a physician's assistant or nurse practitioner program.

(8) Hospital corpsman. A rating of at least hospital corpsman or health services technician, first class in the U.S. Navy, U.S. Coast Guard, U.S. Marine Corps, or an equivalent rating in the U.S. Army (not less than staff sergeant, Medical Department, U.S.A.), or in the U.S. Air Force (not less than technical sergeant, Medical Department, U.S.A.F.), and a period of satisfactory service of at least 1 month in a military hospital or U.S. Public Health Service Hospital.

(b) Employment on shore in connection with a vessel's business may be accepted instead of service aboard vessels. Related shore employment is accepted in the ratio of 2 months of shore service to count as 1 month of service aboard vessels.

(c) In computing the length of service required of an applicant for an endorsement, service of one season on vessels on the Great Lakes is counted as service of 1 year.

(d) In the event an applicant for an endorsement, other than medical doctor or professional nurse, presents evidence of other qualifications that, in the opinion of the Coast Guard, is equivalent to the experience requirements of this section and is consistent with the duties of a staff officer, the Coast Guard may issue the MMC.

§ 11.811 Requirements to qualify for an STCW endorsement as vessel security officer.

(a) The applicant for an endorsement as vessel security officer must present satisfactory documentary evidence in accordance with the requirements in 33 CFR 104.215.

(b) All applicants for an endorsement must meet the physical examination requirements in 46 CFR, part 10, subpart C.

(c) All applicants for an endorsement must meet the safety and suitability requirements and the National Driver Registry review requirements in § 10.209(e) of this subchapter, unless they have met these requirements within the previous 5 years in connection with another endorsement.

§ 11.821 High-speed craft type rating.

(a) To qualify for a high speed craft type rating certificate (TRC), an applicant must:

(1) Hold a valid officer endorsement for vessels of commensurate grade, tonnage, route, and/or horsepower; and

(2) Present evidence of successful completion of a Coast Guard-approved type rating training program.

(b) A separate TRC will be issued for each type and class of high speed craft. The original route will be as specified in the approved type rating program. Additional routes may be added to an existing TRC by completing at least 12 roundtrips over each route under the supervision of a type-rated master on the class of high speed craft the TRC will be valid for. Six of the trips must be made during the hours of darkness or a “daylight only” restriction will be imposed.

(c) A TRC will be valid for 2 years. The expiration date of a TRC will not be changed due to the addition of additional routes.

(d) To renew a TRC, an applicant must provide evidence of:

(1) At least 6 months of service in the appropriate position on the type crafts to which the TRC applies during the preceding 2 years, including at least 12 roundtrips over each route, together with evidence of a completed revalidation assessment; or

(2) Completion of an approved revalidation training program.

Subpart I—Subjects of Examinations

§ 11.901 General provisions.

(a) Where required by § 11.903 of this subpart, each applicant for an endorsement listed in that section must pass an examination on the appropriate subjects listed in this subpart.

(b) If the endorsement is to be limited in a manner that would render any of the subject matter unnecessary or inappropriate, the examination may be amended accordingly by the Coast Guard. Limitations that may affect the examination content are as follows:

(1) Restricted routes for reduced service officer endorsements (master or mate of vessels of less than 200 GRT/500 GT, OUPV, or master or mate (pilot) of towing vessels).

(2) Limitations to a certain class or classes of vessels.

(c) Simulators used in assessments of competence required by subpart C of this part must meet the appropriate performance standards set out in Section A-I/12 of the STCW Code (incorporated by reference, see § 11.102 of this part). However, simulators installed or brought into use before February 1, 2002, need not meet these performance standards if they fulfill the objective of the assessment of competence or demonstration of proficiency.

§ 11.903 Officer endorsements requiring examinations.

(a) The following officer endorsements require examinations for issuance:

(1) Chief mate of ocean or near-coastal, self-propelled vessels of unlimited tonnage (examined at the management level);¹

(2) Third mate of ocean or near-coastal, self-propelled vessels of unlimited tonnage (examined at the operational level);¹

(3) Chief mate of ocean or near-coastal, self-propelled vessels of less than 1,600 GRT/3,000 GT;¹

(4) Mate of ocean or near-coastal, self-propelled vessels of less than 1,600 GRT/3,000 GT;¹

(5) Master of near-coastal vessels less than 200 GRT/500 GT;

(6) Mate of near-coastal vessels less than 100 GRT;

(7) Master of Great Lakes and inland vessels of unlimited tonnage;

(8) Mate of Great Lakes and inland vessels of unlimited tonnage;

(9) Master of inland vessels of unlimited tonnage;

(10) Master of river vessels of unlimited tonnage;

(11) Master of Great Lakes and inland/river vessels less than 500 GRT or less than 1,600 GRT/3,000 GT;

(12) Mate of Great Lakes and inland/river vessels less than 500 GRT or less than 1,600 GRT/3,000 GT;

(13) Mate of Great Lakes and inland/river vessels less than 200 GRT/500 GT;

(14) Master of Great Lakes and inland/river vessels less than 100 GRT;

(15) First-class pilot;

(16) Apprentice mate (steersman) of towing vessels;

(17) Apprentice mate (steersman) of towing vessels, limited;

(18) Operator of uninspected passenger vessels;

(19) Master of uninspected fishing industry vessels;

(20) Mate of uninspected fishing industry vessels;

(21) Master (OSV);

(22) Chief mate (OSV);

(23) Mate (OSV);

(24) Chief engineer for service on Great Lakes and inland vessels (limited or unlimited propulsion power);

(25) First assistant engineer (limited or unlimited propulsion power);

(26) Second assistant engineer for service on Great Lakes and inland vessels (limited or unlimited propulsion power);

(27) Third assistant engineer (limited or unlimited propulsion power);

(28) Chief engineer (limited) steam/motor vessels;

(29) Assistant engineer (limited) steam/motor vessels;

(30) Designated duty engineer steam/motor vessels;

(31) Chief engineer (uninspected fishing industry vessels);

(32) Assistant engineer (uninspected fishing industry vessels);

(33) Chief engineer (OSV); and

(34) Assistant engineer (OSV).

¹ Examinations will vary depending on route desired.

(b) The following officer endorsements do not require examinations:

(1) Master of seagoing vessels of unlimited tonnage when upgrading from MMC officer endorsements, or a license and STCW endorsement as chief mate of seagoing vessels of unlimited tonnage, provided the applicant has already been examined at the management level;

(2) Master of seagoing vessels of unlimited tonnage when adding an endorsement as offshore installation manager (OIM);

(3) Master of ocean or near-coastal, self-propelled vessels of less than 1,600 GRT/3,000 GT, when upgrading from an MMC officer/STCW endorsement or a license and STCW endorsement as chief mate of seagoing vessels of less than 1,600 GRT/3,000 GT, provided that the applicant has already been examined at the management level;

(4) Master of ocean or near-coastal self-propelled vessels of less than 200 GRT/500 GT, when upgrading from mate of near-coastal self-propelled vessels of less than 200 GRT/500 GT. Master of ocean self-propelled vessels of less than 200 GRT/500 GT would, however, require an examination in celestial navigation;

(5) Second mate of seagoing vessels when upgrading from third mate of seagoing vessels, provided the applicant has already been examined at the operational level;

(6) Master of Great Lakes and inland vessels, or river vessels of less than 200 GRT/500 GT when upgrading from mate of less than 200 GRT/500 GT on the same route;

(7) Chief engineer unlimited, provided the applicant has already been examined at the management level;

(8) Chief engineer limited to service on steam, motor, or gas turbine-propelled vessels of less than 10,000 HP/7,500 kW on near-coastal routes, provided the applicant has already been examined at the management level;

(9) Chief engineer limited to service on steam, motor, or gas turbine-propelled vessels of less than 4,000 HP/3,000 kW on near-coastal routes, provided the applicant has already been examined at the management level; and

(10) Second assistant engineer when upgrading from third assistant engineer, provided the applicant has already been examined at the operational level.

§ 11.910 Subjects for deck officer endorsements.

Table 11.910-1 gives the codes used in Table 11.910-2 for all deck officers. Table 11.910-2 indicates the examination subjects for each endorsement, by code number. Figures in the body of Table 11.910-2, in place of the letter “x”, refer to notes.

Table 11.910-1: Codes for Deck Officer Endorsements

Deck Officer Endorsements:

1. Master/chief mate, oceans/near-coastal, unlimited tonnage.

2. Master/chief mate, oceans/near-coastal, less than 1,600 GRT/3,000 GT.

3. Second mate/third mate/mate, oceans/near-coastal, unlimited tonnage.

4. Master, oceans/near-coastal, and mate, near-coastal, less than 200 GRT/500 GT (includes master, near-coastal, less than 100 GRT).

5. Operator, uninspected passenger vessels, near-coastal.

6. Operator, uninspected passenger vessels, Great Lakes/inland.

7. Apprentice mate, towing vessels, ocean (domestic trade) and near-coastal routes.

8. Apprentice mate (steersman), towing vessels, Great Lakes, and inland routes.

9. Steersman, towing vessels, Western Rivers.

10. Master, Great Lakes/inland, or master, inland, unlimited tonnage.

11. Mate, Great Lakes/inland, unlimited tonnage.

12. Master, Great Lakes/inland, less than 500 GRT and less than 1,600 GRT/3,000 GT.

13. Mate, Great Lakes/inland, less than 500 GRT and less than 1,600 GRT/3,000 GT.

14. Master or mate, Great Lakes/inland, less than 200 GRT/500 GT (includes master, Great Lakes/inland, less than 100 GRT).

15. Master, rivers, unlimited tonnage.

16. Master, rivers, less than 500 GRT and less than 1,600 GRT/3,000 GT.

17. Mate, rivers, less than 500 GRT and less than 1,600 GRT/3,000 GT.

18. Master or mate, rivers, less than 200 GRT/500 GT (includes master, rivers, less than 100 GRT).

19. Master, uninspected fishing industry vessels, oceans/near-coastal.

20. Mate, uninspected fishing industry vessels, oceans/near-coastal.

21. First-class pilot.

22. Master (OSV).

23. Chief mate (OSV).

24. Mate (OSV).

Table 11.910-2—Deck Officer Endorsements
Examination topics | 1 | 2 | 3 | 4 | 5 | 6 | 7 | 8 | 9 | 10 | 11 | 12 | 13 | 14 | 15 | 16 | 17 | 18 | 19 | 20 | 21 | 22 | 23 | 24
Navigation and position determination:
Ocean Track Plotting:
Middle Latitude Sailing | 1 | 1 | 1 |  |  |  |  |  |  |  |  |  |  |  |  |  |  |  | 1 | 1 |  | 1 | 1 | 1
Mercator Sailing | X | X | X | 7 |  |  |  |  |  |  |  |  |  |  |  |  |  |  | X | X |  | X | X | X
Great Circle Sailing | 1 | 1 | 1 | 7 |  |  |  |  |  |  |  |  |  |  |  |  |  |  | 1 | 1 |  | 1 | 1 | 1
Parallel Sailing | 1 | 1 | 1 |  |  |  |  |  |  |  |  |  |  |  |  |  |  |  | 1 | 1 |  | 1 | 1 | 1
ETA | X | X | X |  |  |  | 1 |  |  |  |  |  |  |  |  |  |  |  | X | 1 | 1 | X | X | 1
Piloting:
Distance Off | X | X | X | X | X | X | X | X |  | X | X | X | X | X |  |  |  |  | X | X | X | X | X | X
Bearing Problems | X | X | X | X | X | X | X | X |  | X | X | X | X | X |  |  |  |  | X | X | X | X | X | X
Fix or Running Fix | X | X | X | X | X | X | X | X |  | X | X | X | X | X |  |  |  |  | X | X | X | X | X | X
Chart Navigation | X | X | X | X | X | X | X | X | 2 | X | X | X | X | X | 2 | 2 | 2 | 2 | X | X | X | X | X | X
Dead Reckoning | X | X | X | X | X | X | X | X |  | X | X | X | X | X |  |  |  |  | X | X | X | X | X | X
Celestial Observations:
Latitude by Polaris | 1 | 1 | 1 | 1 |  |  |  |  |  |  |  |  |  |  |  |  |  |  | 1 | 1 |  | 1 | 1 | 1
Latitude by Meridian Transit (Any Body) | 1 | 1 |  |  |  |  |  |  |  |  |  |  |  |  |  |  |  |  | 1 |  |  | 1 | 1 |
Latitude by Meridian Transit (Sun Only) |  |  | 1 | 1 |  |  | 1 |  |  |  |  |  |  |  |  |  |  |  |  | 1 |  |  |  | 1
Fix or Running Fix (Any Body) | 1 | 1 | 1 |  |  |  |  |  |  |  |  |  |  |  |  |  |  |  | 1 |  |  | 1 | 1 | 1
Fix or Running Fix (Sun Only) |  |  |  | 1 |  |  | 1 |  |  |  |  |  |  |  |  |  |  |  |  | 1 |  |  |  |
Star Identification | 1 | 1 | 1 |  |  |  | 1 |  |  |  |  |  |  |  |  |  |  |  | 1 |  |  | 1 | 1 | 1
Star Selection | 1 | 1 | 1 |  |  |  | 1 |  |  |  |  |  |  |  |  |  |  |  | 1 |  |  | 1 | 1 | 1
Times of Celestial Phenomena:
Time of Meridian Transit (Any Body) | 1 | 1 |  |  |  |  |  |  |  |  |  |  |  |  |  |  |  |  | 1 |  |  | 1 | 1 |
Time of Meridian Transit (Sun Only) |  |  | 1 | 1 |  |  | 1 |  |  |  |  |  |  |  |  |  |  |  |  | 1 |  |  |  | 1
Zone Time of Sun Rise/Set/Twilight | 1 | 1 | 1 | 1 |  |  | 1 |  |  |  |  |  |  |  |  |  |  |  | 1 | 1 |  | 1 | 1 | 1
Speed by RPM | X | X | X |  |  |  |  |  |  | 3 |  |  |  |  |  |  |  |  | X | X |  | X | X | X
Fuel Conservation | X | X |  | 1 |  |  | 1 |  |  | 3 |  |  |  |  |  |  |  |  | X |  |  | X | X |
Electronic Navigation | X | X | X | X | X | X | X | X |  | X | X | X | X | X |  |  |  |  | X | X | X | X | X | X
Instruments & Accessories | X | X | X | X | X | X | X | X | X | X | X | X | X | X | X | X | X | X | X | X | X | X | X | X
Aids to Navigation | X | X | X | X | X | X | X | X | X | X | X | X | X | X | X | X | X | X | X | X | X | X | X | X
Charts, Navigation Publication, & Notices to Mariners | X | X | X | X | X | X | X | X | X | X | X | X | X | X | X | X | X | X | X | X | X | X | X | X
Nautical Astronomy & Navigation Definitions | 1 | 1 | 1 | 1 |  |  | 1 |  |  |  |  |  |  |  |  |  |  |  | 1 | 1 |  | 1 | 1 | 1
Chart Sketch |  |  |  |  |  |  |  |  |  |  |  |  |  |  |  |  |  |  |  |  | 4 |  |  |
Seamanship:
Marlinspike Seamanship |  |  | X | X | X | X | X | X | X |  | X |  | X | X | X | X | X | X | X | X | X |  |  | X
Purchases, Blocks, & Tackle |  |  | X | X |  |  | X | X | X |  | X |  | X | X | X | X | X | X | X | X | X |  |  | X
Watchkeeping:
COLREGS | X | X | X | X | X | 5 | X | 5 |  | 5 | 5 | 5 | 5 | 5 |  |  |  |  | X | X | 5 | X | X | X
Inland Navigational Rules | X | X | X | X | X | X | X | X | X | X | X | X | X | X | X | X | X | X | X | X | X | X | X | X
Basic Principles, Watchkeeping | X | X | X | X | X | X | X | X | X | X | X | X | X | X | X | X | X | X | X | X | X | X | X | X
Navigation Safety Regulations (33 CFR 164) | X |  | X |  |  |  | X | X X | X | X | X |  |  |  | X |  |  |  | 6 | 6 | 6 | 6 | 6 | 6
Compass—Magnetic & Gyro:
Principles, Operation, and Maintenance of Gyro Compass | X | X | X | 7 |  |  | 1 |  |  | X | X | X | X | 7 | X |  |  |  | X | X |  | X | X | X
Principles of Magnetic Compass | X | X | X | X | X | 3 | X | 3 | X | X | X | X | X | X | X | X | X | X | X | X | X | X | X | X
Gyro Compass Error/Correction | X | X | X | 7 |  |  | 1 | X |  | X | X | X | X | 7 | X |  |  |  | X | X | X | X | X | X
Magnetic Compass Error/Correction | X | X | X | X | X | 3 | X | 3 | X | X | X | X | X | X | X | X | X | X | X | X | X | X | X | X
Determination of Compass Error:
Azimuth (Any Body) | X | X | X | 7 |  |  | X |  |  |  |  |  |  |  |  |  |  |  |  |  |  | X | X | X
Azimuth (Sun Only) |  |  |  |  |  |  |  |  |  | 3 |  |  |  |  |  |  |  |  | 1 | 1 |  |  |  |
Amplitude (Any Body) | X | X | X | 7 |  |  | X |  |  |  |  |  |  |  |  |  |  |  |  |  |  | X | X | X
Amplitude (Sun Only) |  |  |  |  |  |  |  |  |  | 3 |  |  |  |  |  |  |  |  | 1 | 1 |  |  |  |
Terrestrial Observation | X | X | X | X | X | X | X | X |  | X | X | X | X | X |  |  |  |  | X | X | X | X | X | X
Meteorology and Oceanography: |  |  |  |  |  |  |  |  |  |  |  |  |  |  |  |  |  |  |  |  |  |  |  |
Characteristics of Weather Systems | X | X | X | X | X | X | X | X | X | X | X | X | X | X | X | X | X | X | X | X |  | X | X | X
Ocean Current Systems | X | X | X | X |  |  | X |  |  |  |  |  |  |  |  |  |  |  | X | X |  | X | X |
Weather Charts and Reports | X | X | X | X | X | X | X | X |  | X | X | X | X | X |  |  |  |  | X | X |  | X | X | X
Tides and Tidal Currents:
Terms and Definitions | X | X | X | X | X | X | X | X |  | X | X | X | X | X |  |  |  |  | X | X | X | X | X | X
Publications | X | X | X | X | X | X | X | X |  | X | X | X | X | X |  |  |  |  | X | X | X | X | X | X
Calculations | X | X | X | X | X | X | X | X |  | X | X | X | X | X |  |  |  |  | X | X | X | X | X | X
Vessel Maneuvering and Handling:
Approaching Pilot Vessel or Station | X | X |  |  |  |  |  |  |  |  |  |  |  |  |  |  |  |  |  |  | X |  |  |
Vessel Handling in Rivers & Estuaries | X | X |  | X | X | X | X | X | X | X | X | X | X | X | X | X | X | X | X |  | X | X | X |
Maneuvering in Shallow Water | X | X |  | X | X | X | X | X | X | X | X | X | X | X | X | X | X | X | X |  | X | X | X |
Interaction with Bank/Passing Ship | X | X |  | X | X | X | X | X | X | X | X | X | X | X | X | X | X | X | X |  | X | X | X |
Berthing and Unberthing | X | X |  | X | X | X | X |  |  | X | X | X |  | X | X | X |  | X | X |  | X | X | X |
Anchoring and Mooring | X | X | X | X | X | X | X |  |  | X | X | X | X | X |  |  |  |  | X | X | X | X | X | X
Dragging of, Clearing Fouled Anchors | X | X | X | X |  |  |  |  |  | X | X | X | X | X |  |  |  |  | X | X |  | X | X | X
Heavy Weather Operations | X | X | X | X | X | X | X | X |  | 3 | 3 | 3 | 3 | 3 |  |  |  |  | X | X |  | X | X | X
Maneuvering for Launching of Lifeboats and Liferafts in Heavy Weather | X | X |  | X |  |  | X | X |  | 3 |  | 3 |  | 3 |  |  |  |  | X |  |  | X | X |
Receiving Survivors From Lifeboats/Liferafts | X | X |  | X |  |  | X | X |  |  |  |  |  |  |  |  |  |  |  |  |  | X | X |
General: Turn Circle, Pivot Point, Advance and Transfer |  |  | X | X | X | X | X | X | X | X | X | X | X | X | X | X | X | X | X | X | X |  |  | X
Determine Maneuvering Characteristics of Major Vessel Types | X | X |  |  |  |  |  |  |  | 3 |  |  |  |  |  |  |  |  |  |  |  | X | X |
Wake Reduction | X | X | X | X | X | X | X | X | X | X | X | X | X | X | X | X | X | X | X | X | X | X | X | X
Ice Operations/Ice Navigation | X | X | X |  |  |  | X | X | X | X | 3 | X | 3 |  |  |  |  |  | X | X |  | X | X | X
Towing Vessel Operations |  |  |  |  |  |  | X | X | X |  |  |  |  |  |  |  |  |  |  |  |  |  |  |
Stability, Construction, and Damage Control:
Principles of Vessel Construction | X | X | X | X |  |  | X | 3 | X | X | 3 | X | 3 | X | X | X |  |  |  |  |  | X | X | X
Trim and Stability | X | X | X | X |  |  | X | X | X | X | 3 | X | 3 | X | X | X |  | X | X | X |  | X | X | X
Damage Trim and Stability | X | X |  |  |  |  |  |  |  |  |  |  |  |  |  |  |  |  |  |  |  | X | X |
Stability, Trim, and Stress Calculation | X | X | X |  |  |  |  |  |  |  |  |  |  |  |  |  |  |  |  |  |  | X | X |
Vessel Structural Members | X | X | X | 7 |  |  |  |  |  |  | X | X | 3 | 7 |  |  |  |  |  |  |  | X | X | X
IMO Ship Stability Recommendations | X | X |  |  |  |  |  |  |  |  |  |  |  |  |  |  |  |  |  |  |  | X | X |
Damage Control | X | X | X | 7 |  |  | X | X |  | X | X | X | X | 7 | X | X | X | 7 | X | X |  | X | X | X
Change in Draft Due to Density | X |  |  |  |  |  |  |  |  |  |  |  |  |  |  |  |  |  |  |  |  |  |  |
Vessel Power Plants:
Marine Power Plant Operating Principles | X | X |  | 7 |  |  | X | X | X | X |  | X |  | 7 | X | X |  |  | X |  |  | X | X |
Vessel's Auxiliary Machinery | X | X |  |  |  |  |  |  |  | X |  | X |  |  | X | X |  |  |  |  |  | X | X |
Marine Engineering Terms | X | X | X | 7 |  |  | X | X | X | X | X | X | X | 7 | X | X | X | 7 | X | X |  | X | X | X
Small Engine Operations and Maintenance |  |  |  | X | X | X |  |  |  |  |  |  |  | X |  |  |  | X |  |  |  |  |  |
Cargo Handling and Stowage:
Cargo Stowage and Security, including Cargo Gear | X | X | X | 7 |  |  |  |  |  | X | X | X | X | 7 | X | X | X | 7 | X | X |  | X | X | X
Loading and Discharging Operations | X | X | X |  |  |  |  |  |  | X | X | X | X |  | X | X | X |  | X | X |  | X | X | X
International Regulations for Cargoes, especially IMDG | X | X |  |  |  |  |  |  |  |  |  |  |  |  |  |  |  |  |  |  |  | X | X |
Dangerous/Hazardous Cargo Regulations | X | X | X |  |  |  | X | X | X | X | X | X | X |  | X | X | X |  |  |  |  | X | X | X
Tank Vessel and Fuel Oil Operations | X | X | X | 7 |  |  |  |  |  | X | X | X | X | 7 | X | X | X | 7 | X | X |  | X | X | X
Cargo Piping and Pumping Systems |  |  |  |  |  |  |  |  |  |  |  |  |  |  |  |  |  |  |  |  |  | X | X | X
Cargo Oil Terms and Definitions |  |  |  |  |  |  |  |  |  |  |  |  |  |  |  |  |  |  |  |  |  | X | X | X
Barge Regulations (Operations) |  |  |  |  |  |  | X | X | X |  |  |  |  |  |  |  |  |  |  |  |  |  |  |
Fire Prevention and Firefighting Appliances:
Organization of Fire Drills | X | X | X | X |  |  | X | X | X | X | X | X | X | X | X | X | X | X | X | X |  | X | X | X
Classes and Chemistry of Fire | X | X | X | X | X | X | X | X | X | X | X | X | X | X | X | X | X | X | X | X |  | X | X | X
Firefighting Systems | X | X | X | X |  |  | X | X | X | X | X | X | X | X | X | X | X | X | X | X | X | X | X | X
Firefighting Equipment & Regulations | X | X | X | 7 |  |  | X | X | X | X | X | X | X | 7 | X | X | X | 7 | X | X | X | X | X | X
Firefighting Equipment & Regulations for T-Boats |  |  |  | 9 |  |  |  |  |  |  |  |  |  | 9 |  |  |  | 9 |  |  |  |  |  |
Basic Firefighting and Prevention | X | X | X | X | X | X | X | X | X | X | X | X | X | X | X | X | X | X | X | X | X | X | X | X
Emergency Procedures:
Ship Beaching Precautions | X | X |  |  |  |  |  |  |  | X |  | X |  |  |  |  |  |  | X |  |  | X | X |
Actions Prior to/after Grounding, Including Refloating | X | X |  |  |  |  |  |  |  | X |  | X |  |  | X | X |  |  | X |  |  | X | X |
Collision | X | X |  | X | X | X | X | X | X | X |  | X |  | X | X | X |  | X | X |  |  | X | X |
Temporary Repairs | X | X | X | X | X | X | X | X | X | X | X | X | X | X | X | X | X | X | X | X |  | X | X | X
Passenger/Crew Safety in Emergencies | X | X | X | X | X | X | X | X | X | X | X | X | X | X | X | X | X | X | X | X |  | X | X | X
Fire or Explosion | X | X | X | X | X | X | X | X | X | X | X | X | X | X | X | X | X | X | X | X |  | X | X | X
Abandon Ship Procedures | X | X | X | X | X | X | X | X | X | X | X | X | X | X | X | X | X | X | X | X |  | X | X | X
Emergency Steering | X | X | X | 7 |  |  | X | X | X | X | X | X | X | 7 | X | X | X | 7 | X | X |  | X | X | X
Rescuing Survivors from Ship/Aircraft in Distress | X | X | X | X |  |  | X | X | X | X | X | X | X | X | X | X | X | X | X | X |  | X | X | X
Man Overboard Procedures | X | X | X | X | X | X | X | X | X | X | X | X | X | X | X | X | X | X | X | X |  | X | X | X
Emergency Towing | X | X | X | X | X | X | X | X | X | X | X | X | X | X | X | X | X | X | X | X |  | X | X | X
Medical Care:
Knowledge and use of:
International Medical Guide for Ships | X | X |  |  |  |  |  |  |  |  |  |  |  |  |  |  |  |  |  |  |  | X | X |
Ship's Medical Chest & Medical Aid at Sea | X | X |  |  |  |  |  |  |  |  |  |  |  |  |  |  |  |  |  |  |  | X | X |
Medical Section, International Code of Signals | X | X | X |  |  |  |  |  |  |  |  |  |  |  |  |  |  |  |  |  |  | X | X | X
Maritime Law:
International Maritime Law:
International Convention on Load Lines | X | X |  |  |  |  |  |  |  |  |  |  |  |  |  |  |  |  |  |  |  | X | X |
SOLAS | X | X |  |  |  |  |  |  |  |  |  |  |  |  |  |  |  |  |  |  |  | X | X |
MARPOL 73/78 | X | X | X | X |  |  |  |  |  |  |  |  |  |  |  |  |  |  | X | X |  | X | X | X
International Health Regulations | X | X |  |  |  |  |  |  |  |  |  |  |  |  |  |  |  |  |  |  |  | X | X |
Other International Instruments for Ship/Passenger/Crew/ Cargo Safety | X | X |  | X |  |  |  |  |  |  |  |  |  |  |  |  |  |  |  |  |  | X | X |
National Maritime Law:
Load Lines | X | X | X | X |  |  | X | X |  | 3 | 3 | 3 | 3 | X |  |  |  |  |  |  |  | X | X | X
Certification & Documentation of Vessels | X | X |  | X | X | X | X | X | X | X |  | X |  | X | X | X |  | X | X |  |  | X | X |
Rules & Regulations for Inspected Vessels | X | X | X | 7 |  |  |  |  |  | X | X | X | X | 7 | X | X | X | 7 |  |  |  | X | X | X
Rules & Regulations for Inspected T-Boats |  |  |  | 9 |  |  |  |  |  |  |  |  |  | 9 |  |  |  | 9 |  |  |  |  |  |
Rules and Regulations for Uninspected Vessels |  |  |  |  | X | X | X | X | X |  |  |  |  |  |  |  |  |  | X | X |  |  |  |
Pollution Prevention Regulations | X | X | X | X | X | X | X | X | X | X | X | X | X | X | X | X | X | X | X | X |  | X | X | X
Pilotage | X | X |  |  |  |  | X | X | X |  |  |  |  |  |  |  |  |  |  |  | X | X | X |
Licensing & Certification of Seamen | X | X | X | X | X | X | X | X | X | X | X | X | X | X | X | X | X | X | X | X |  | X | X | X
Shipment and Discharge, Manning | X | X |  | X |  |  | X |  |  | X |  | X |  |  | X | X |  |  |  |  |  | X | X |
Title 46, U.S. Code | X | X |  |  |  |  |  |  |  | X |  | X |  |  | X | X |  |  |  |  |  | X | X |
Captain of the Port Regulations, Vessel Traffic Service Procedures for the Route Desired |  |  |  |  |  |  |  |  |  |  |  |  |  |  |  |  |  |  |  |  | X |  |  |
Shipboard Management and Training:
Personnel Management | X | X |  |  |  |  |  |  |  | X |  | X |  |  | X | X |  |  | X |  |  | X | X |
Shipboard Organization | X | X |  |  |  |  |  |  |  | X |  | X |  |  | X | X |  |  | X |  |  | X | X |
Required Crew Training | X | X |  |  |  |  |  |  |  | X |  | X |  |  | X | X |  |  | X |  |  | X | X |
Ship Sanitation | X | X |  | X | X | X | X | X | X | X |  | X |  | X | X | X |  | X | X |  |  | X | X |
Vessel Alteration/Repair Hot Work | X | X | X | X |  |  | X | X | X | X | X | X | X | X | X | X | X | X | X | X |  | X | X | X
Safety | X | X | X | X | X | X | X | X | X | X | X | X | X | X | X | X | X | X | X | X |  | X | X | X
Ship's Business:
Charters | X | X |  |  |  |  | X | X | X | X |  | X |  |  | X | X |  |  |  |  |  | X | X |
Liens and Salvage | X | X |  |  |  |  | X | X | X | X |  | X |  |  | X | X |  |  |  |  |  | X | X |
Insurance | X | X |  |  |  |  | X | X | X | X |  | X |  |  | X | X |  |  |  |  |  | X | X |
Entry and Clearance | X | X |  |  |  |  | X | X | X | X |  | X |  |  | X | X |  |  |  |  |  | X | X |
ISM and Safety Management Systems | X | X | X |  |  |  | X | X | X |  |  |  |  |  |  |  |  |  |  |  |  | X | X | X
Certificates and Documents Required | X | X | X | X | X | X | X | X | X | X | X | X | X | X | X | X | X | X | X | X |  | X | X | X
Communications:
Radiotelephone Communications | X | X | X | X | X | X | X | X | X | X | X | X | X | X | X | X | X | X | X | X | X | X | X | X
GMDSS | X | X |  |  |  |  |  |  |  |  |  |  |  |  |  |  |  |  |  |  |  | X | X |
Signals:
Storm/Wreck/Distress/ Special | X | X | X | X | X | X | X | X | X | X | X | X | X | X | X | X | X | X | X | X |  | X | X | X
International Code of Signals | X | X | X |  |  |  |  |  |  |  |  |  |  |  |  |  |  |  |  |  |  | X | X | X
IMO Standard Maritime Communication Phrases | X | X | X |  |  |  |  |  |  |  |  |  |  |  |  |  |  |  |  |  |  | X | X | X
Lifesaving:
Survival at Sea | X | X | X | X | X |  | X |  |  |  |  |  |  |  |  |  |  |  | X | X |  | X | X | X
Lifesaving Appliance Regulations | X | X | X | 7 |  |  |  |  |  | X | X | X | X | 7 | X | X | X | 7 |  |  |  | X | X | X
Lifesaving Appliance Regulations for T-Boats |  |  |  | 9 |  |  |  |  |  |  |  |  |  | 9 |  |  |  | 9 |  |  |  |  |  |
Lifesaving Appliance Operation | X | X | X | 7 | X | X | X | X | X | X | X | X | X | 7 | X | X | X | 7 | X | X |  | X | X | X
Lifesaving Appliance Operations for T-Boats |  |  |  | 9 |  |  |  |  |  |  |  |  |  | 9 |  |  |  | 9 |  |  |  |  |  |
Search and Rescue:
Search and Rescue Procedures | X | X | X |  |  |  |  |  |  | X |  | X |  |  |  |  |  |  | X |  |  | X | X | X
AMVER and IAMSAR | X | X | X |  |  |  |  |  |  |  |  |  |  |  |  |  |  |  |  |  |  | X | X | X
Sail/Auxiliary Sail Vessels Addendum (8) | X | X | X | X | X | X |  |  |  | X | X | X | X | X | X | X | X | X |  |  |  |  |  |
¹ For ocean routes only.
² River chart navigation only.
³ Only on Great Lakes specific modules taken for “Great Lakes and Inland” routes.
⁴ Including recommended courses, distances, prominent aids to navigation, depths of waters in channels and over hazardous shoals, and other important features of the route, such as character of the bottom. The Coast Guard may accept chart sketching of only a portion or portions of the route for long or extended routes.
⁵ COLREGS required if endorsement is not limited to non-COLREGS waters.
⁶ For officer endorsements of 1,600 GRT/3,000 GT or more.
⁷ Only for officer endorsements of 100 GRT or more.
⁸ Sail vessel safety precautions, rules of the road, operations, heavy weather procedures, navigation, maneuvering, and sailing terminology. Applicants for sail/auxiliary sail endorsements to master, mate or operator of uninspected passenger vessels are also tested in the subjects contained in this addendum.
⁹ For officer endorsements of less than 100 GRT.

§ 11.920 Subjects for MODU endorsements.

Table 11.920-1 gives the codes used in Table 11.920-2 for MODU endorsements. Table 11.920-2 indicates the examination subjects for each endorsement by the code number.

Table 11.920-1 Codes for MODU Endorsements

1. OIM/Unrestricted

2. OIM/Surface Units Underway

3. OIM/Surface Units on Location

4. OIM/Bottom Bearing Units Underway

5. OIM/Bottom Bearing Units on Location

6. Barge Supervisor

7. Ballast Control Operator

Table 11.920-2—Subjects for MODU Licenses
Examination topics | 1 | 2 | 3 | 4 | 5 | 6 | 7
Watchkeeping:
COLREGS | X | X |  | X |  | X |
“Basic Principles for Navigational Watch” | X | X | X | X | X | X |
MODU obstruction lights | X |  | X |  | X | X |
Meteorology and oceanography:
Synoptic chart weather forecasting | X | X | X | X | X | X |
Characteristics of weather systems | X | X | X | X | X | X | X
Ocean current systems | X | X | X | X | X | X |
Tide and tidal current publications | X | X | X | X | X | X |
Stability, ballasting, construction and damage control:
Principles of ship construction, structural members | X | X | X | X | X | X | X
Trim and stability | X | X | X | X | X | X | X
Damaged trim and stability countermeasures | X | X | X | X |  | X | X
Stability and trim calculations | X | X | X | X |  | X | X
Load line requirements | X | X | X | X | X | X | X
Operating manual:
Rig characteristics and limitations | X | X | X | X | X | X | X
Hydrostatics data | X | X | X | X |  | X | X
Tank tables | X | X | X | X | X | X | X
KG limitations | X | X | X | X |  | X | X
Severe storm instructions | X | X | X | X | X | X | X
Transit instructions | X | X |  | X |  | X | X
On-station instructions | X |  | X |  | X | X | X
Unexpected list or trim | X | X | X | X |  | X | X
Ballasting procedures | X | X | X |  |  | X | X
Operation of bilge system | X | X | X | X |  | X | X
Leg loading calculations | X |  |  | X | X |  |
Completion of variable load form | X | X | X | X | X | X | X
Evaluation of variable load form | X | X | X | X | X | X | X
Emergency procedures | X | X | X | X | X | X | X
Maneuvering and handling:
Anchoring and anchor handling | X | X | X |  |  | X |
Heavy weather operations | X | X | X | X | X | X | X
Mooring, positioning | X | X | X | X |  | X | X
Moving, positioning | X | X |  | X |  | X |
Fire prevention and firefighting appliances:
Organization of fire drills | X | X | X | X | X | X | X
Classes and chemistry of fire | X | X | X | X | X | X | X
Firefighting systems | X | X | X | X | X | X | X
Firefighting equipment and regulations | X | X | X | X | X | X | X
Basic firefighting and prevention of fires | X | X | X | X | X | X | X
Emergency procedures and contingency plans:
Temporary repairs | X | X | X | X |  | X |
Fire or explosion | X | X | X | X | X | X | X
Abandon unit | X | X | X | X | X | X | X
Man overboard | X | X | X | X | X | X | X
Heavy weather | X | X | X | X | X | X | X
Collision | X | X | X | X | X | X | X
Failure of ballast control system | X | X | X |  |  | X | X
Mooring emergencies | X |  | X |  |  | X | X
Blowouts | X |  | X |  | X | X | X
H2S safety | X |  | X |  | X | X | X
General Engineering—Power plants and auxiliary systems:
Marine engineering terminology | X | X | X | X | X | X | X
Engineering equipment, operations and failures | X | X | X | X | X | X |
Offshore drilling operations |  |  |  |  |  |  | X
Deck seamanship—general:
Transfer of personnel | X | X | X | X | X | X |
Support boats/helicopters | X | X | X | X | X | X |
Cargo stowage and securing | X | X | X | X | X | X |
Hazardous materials/dangerous goods precautions | X | X | X | X | X | X |
Mooring equipment | X | X | X | X | X | X |
Crane use procedures and inspections | X | X | X | X | X | X |
Medical care:
Knowledge and use of:
First aid | X | X | X | X | X | X | X
First response medical action | X | X | X | X | X | X | X
Maritime law and regulation:
National maritime law:
Certification and documentation of vessels | X | X | X | X | X |  |
Ship sanitation | X | X | X | X | X |  |
Regulations for vessel inspection | X | X | X | X | X |  |
Pollution prevention regulations | X | X | X | X | X | X | X
Credentialing regulations | X | X | X | X | X |  |
Rules and regulations for MODUs | X | X | X | X | X | X |
International Maritime law: |  |  |  |  |  |  |
International Maritime Organization | X | X | X | X | X |  |
International Convention on Load Lines | X | X | X | X |  |  | X
MARPOL 73/78 | X | X | X | X | X |  |
Personnel Management and Training:
Ship's business including:
Required logs and record keeping | X | X | X | X | X | X |
Casualty reports and records | X | X | X | X | X |  |
Communications:
Radio communications and FCC permit | X | X | X | X | X | X |
Radiotelephone procedures | X | X | X | X | X | X |
Lifesaving/Survival:
Lifesaving appliance operation (launching, boat handling) | X | X | X | X | X | X | X
Procedures/rules for lifeboats, survival suits, PFDs, life rafts and emergency signals | X | X | X | X | X | X | X
Emergency radio transmissions | X | X | X | X | X | X | X
Survival at sea | X | X | X | X | X | X | X

§ 11.950 Examination subjects for engineer officer endorsements.

Table 11.950-1:—Codes for engineer officer endorsements

1. Chief engineer (unlimited).

2. First assistant engineer (unlimited).

3. Second assistant engineer (unlimited).

4. Third assistant engineer (unlimited).

5. Chief engineer (limited).

6. Assistant engineer (limited).

7. Designated duty engineer (unlimited).

8. Designated duty engineer (4,000 HP).

9. Designated duty engineer (1,000 HP).

10. Chief engineer (uninspected fishing industry vessels).

11. Assistant engineer (uninspected fishing industry vessels).

12. Chief engineer (MODU).

13. Assistant engineer (MODU).

14. Chief engineer (OSV unlimited).

15. Assistant engineer (OSV unlimited).

16. Chief engineer (OSV 4,000 HP).

17. Assistant engineer (OSV 4,000 HP).

18. Electro-technical officer.

BILLING CODE 9110-04-P

BILLING CODE 9110-04-C

Subpart J—Recognition of Other Parties' STCW Certificates

§ 11.1001 Purpose of rules.

(a) The rules in this subpart implement Regulation I/10 of the International Convention on Standards of Training, Certification and Watchkeeping for Seafarers, 1978 as amended (STCW) by establishing requirements and procedures for the recognition and endorsement of officer certificates of competence issued by other Parties to STCW (incorporated by reference, see § 11.102 of this part).

(b) Specific regulations on the use of non-U.S. credentialed officers and mariners with officer endorsements (except those of master) are found in § 15.720 of this subchapter.

§ 11.1003 General requirements.

(a) The Coast Guard recognizes certificates only from countries that the United States has assured itself comply with requirements of the STCW Convention and STCW Code (incorporated by reference, see § 11.102 of this part).

(b) The Coast Guard will publish a list of countries whose certificates it will recognize.

(c) The Coast Guard will issue a “Certificate attesting recognition” to an applicant after ensuring the validity and authenticity of the credential (certificate of competency) issued by his or her country of origin.

(d) No application from a non-U.S. citizen for a “Certificate attesting recognition” issued pursuant to this subpart will be accepted unless the applicant's employer satisfies the requirements of § 11.1105 of this subpart.

§ 11.1005 Employer application requirements.

(a) The employer must submit the following to the Coast Guard, as a part of the applicant's application for a “Certificate attesting recognition”, on behalf of the applicant:

(1) A signed report that contains all material disciplinary actions related to the applicant, such as, but not limited to, violence or assault, theft, drug and alcohol policy violations, and sexual harassment, along with an explanation of the criteria used by the employer to determine the materiality of those actions; and

(2) A signed report regarding an employer-conducted background check. The report must contain:

(i) A statement that the applicant has successfully undergone an employer-conducted background check;

(ii) A description of the employer-conducted background check; and

(iii) All information derived from the employer-conducted background check.

(b) If a “Certificate attesting recognition” is issued to the applicant, the employer must maintain a detailed record of the seaman's total service on all authorized U.S. flag vessels, and must make that information available to the Coast Guard upon request.

(c) In addition to the initial material disciplinary actions report and the initial employer-conducted background check specified in paragraph (a) of this section, the employer must submit an annual material disciplinary actions report to update whether there have been any material disciplinary actions related to the applicant since the last material disciplinary actions report was submitted to the Coast Guard.

(d) The employer must also submit to the Coast Guard the applicant's copy of the following:

(1) Base credential (certificate of competency), as well as any other documentary evidence of proficiency (such as Basic Safety Training, Basic/Advanced Firefighting, Survival Craft, etc.) to verify that the applicant meets the manning requirements. The documentation must include any necessary official translation into the English language;

(2) Valid medical certificate; and

(3) Valid identification document, such as a passport or Seaman's Identity Document (SID).

(e) The employer is subject to the civil penalty provisions specified in 46 U.S.C. 8103(f) for any violation of this section.

§ 11.1007 Basis for denial.

An applicant for a “Certificate attesting recognition” of an officer certificate issued by another party must:

(a) Have no record of material disciplinary actions during employment on any U.S. flag vessel of the employer, as verified in writing by the owner or managing operator of the U.S. flag vessels on which the applicant will be employed; and

(b) Have successfully completed an employer-conducted background check, to the satisfaction of both the employer and the Coast Guard.

§ 11.1009 Restrictions.

(a) A “certificate attesting recognition” of an STCW certificate issued by another party to a non-resident alien under this subpart authorizes service only on vessels owned and/or operated in accordance with § 15.720 of this subchapter.

(b) The certificate will be issued for service only in the department for which the application was submitted.

(c) No other certificate is authorized, unless all applicable requirements of this subpart and the STCW Convention (incorporated by reference, see § 11.102 of this part) are met, and the employer makes subsequent application for a new endorsement.

(d) This certificate is not valid for service on U.S. vessels operating in U.S. waters.

Subpart K—Officers on a Passenger Ship When on an International Voyage

§ 11.1101 Purpose of rules.

The rules in this subpart establish requirements for officers serving on passenger ships as defined in § 11.1103 of this subpart.

§ 11.1103 Definitions.

“Passenger ship” in this subpart means a ship carrying more than 12 passengers when on an international voyage.

§ 11.1105 General requirements for officer endorsements.

(a) To serve on a passenger vessel on international voyages, masters, deck officers, chief engineers and engineer officers, must:

(1) Meet the appropriate requirements of the STCW Regulation V/2 and of Section A-V/2 of the STCW Code (incorporated by reference, see § 11.102 of this part); and

(2) Hold documentary evidence as proof of meeting these requirements through approved or accepted training.

(b) Seafarers who are required to be trained in accordance with paragraph (a) of this section must at intervals not exceeding 5 years, provide evidence of maintaining the standard of competence.

(c) The Coast Guard will accept onboard training and experience, through evidence of 1 year of sea service within the last 5 years, as meeting the requirements of paragraph (b) of this section.

(d) Personnel serving onboard small passenger vessels engaged in domestic, near-coastal voyages, as defined in § 11.301(j) of this subchapter, are not subject to any further obligation for the purpose of this STCW requirement.

31. Revise part 12 to read as follows:

PART 12—REQUIREMENTS FOR RATING ENDORSEMENTS

Subpart A—General
Sec.
12.101 Purpose.
12.103 Incorporation by reference.
12.105 Paperwork approval.
Subpart B-General Requirements for Rating Endorsements
12.201 General requirements for domestic and STCW rating endorsements.
12.203 Creditable service and equivalents for domestic and STCW ratings endorsements.
12.205 Examination procedures and denial of rating and STCW endorsements.
Subpart C—[Reserved]
Subpart D—Requirements for Domestic Deck Rating Endorsements
12.401 General requirements for able seaman (A/B) endorsements.
12.403 Service or training requirements for able seaman (A/B) endorsements.
12.405 Examination and demonstration of ability for able seaman (A/B) endorsements.
12.407 General requirements for lifeboatman endorsements.
12.409 General requirements for lifeboatman-limited endorsements.
Subpart E—Requirements for Domestic Engineer Rating Endorsements
12.501 General requirements for a qualified member of the engine department (QMED).
12.503 Service or training requirements.
12.505 Examination requirements.
Subpart F—Requirements for STCW rating endorsements
12.601 General requirements for STCW rating endorsements.
12.603 Requirements to qualify for an STCW endorsement as able seafarer-deck.
12.605 Requirements to qualify for an STCW endorsement as ratings forming part of a navigational watch (RFPNW).
12.607 Requirements to qualify for an STCW endorsement as ratings as able seafarer-engine.
12.609 Requirements to qualify for an STCW endorsement as Ratings Forming Part of an Engineering Watch (RFPEW).
12.611 Requirements to qualify for an STCW endorsement as electro-technical rating on vessels powered by main propulsion machinery of 750 kW/1,000 HP or more.
12.613 Requirements to qualify for an STCW endorsement in proficiency in survival craft and rescue boats other than fast rescue boats (PSC).
12.615 Requirements to qualify for an STCW endorsement in proficiency in survival craft and rescue boats other than lifeboats and fast rescue boats—limited (PSC—limited).
12.617 Requirements to qualify for an STCW endorsement in proficiency in fast rescue boats.
12.619 Requirements to qualify for an STCW endorsement as medical first-aid provider.
12.621 Requirements to qualify for an STCW endorsement as person in charge of medical care.
12.623 Requirements to qualify for an STCW endorsement as Global Maritime Distress and Safety System (GMDSS) at-sea maintainer.
12.625 Requirements to qualify for an STCW endorsement as vessel personnel with designated security duties.
12.627 Requirements to qualify for an STCW endorsement for security awareness.
Subpart G—Entry-Level Domestic Ratings and Miscellaneous Ratings
12.701 Credentials required for entry-level and miscellaneous ratings.
12.703 General requirements for entry-level ratings.
12.705 Endorsements for persons enrolled in a Maritime Administration approved training program.
12.707 Student observers.
12.709 Apprentice engineers.
12.711 Apprentice mate.
Subpart H—Non-resident Alien Members of the Steward's Department on U.S. Flag Large Passenger Vessels
12.801 Purpose.
12.803 General requirements.
12.805 Employer requirements.
12.807 Basis for denial.
12.809 Citizenship and identity.
12.811 Restrictions.
12.813 Alternative means of compliance.
Subpart I—Crewmembers on a Passenger Ship on an International Voyage
12.901 Purpose of rules.
12.903 Definition.
12.905 General requirements.

Authority: 31 U.S.C. 9701; 46 U.S.C. 2101, 2103, 2110, 7301, 7302, 7503, 7505, 7701, and 70105; Department of Homeland Security Delegation No. 0170.1.

Subpart A—General

§ 12.101 Purpose.

(a) The purpose of this part is to provide—

(1) A comprehensive and adequate means of determining and verifying the professional qualifications an applicant must possess to be eligible for certification to serve on merchant vessels of the United States; and

(2) A means of determining that an applicant is qualified to receive the endorsement required by the International Convention on Standards of Training, Certification and Watchkeeping for Seafarers, 1978, as amended (the STCW Convention or STCW).

(b) The requirements applicable to approved and accepted training, training for a particular rating endorsement, and training and assessment associated with meeting the standards of competence established by the STCW Convention have been moved to part 10, subpart D.

§ 12.103 Incorporation by reference.

(a) Certain material is incorporated by reference into this part with the approval of the Director of the Federal Register under 5 U.S.C. 552(a) and 1 CFR part 51. To enforce any edition other than that specified in this section, the Coast Guard must publish a notice of change in the Federal Register and the material must be available to the public. All approved material is available for inspection at the National Archives and Records Administration (NARA). For information on the availability of this material at NARA, call 202-741-6030 or go to http://www.archives.gov/federal_register/code_of_federal_regulations/ibr_locations.html. Also, it is available for inspection at the Coast Guard, Office of Operating and Environmental Standards (CG-5221), 2100 Second Street SW, Stop 7126, Washington, DC 20593-7126, and is available from the sources indicated in this section.

(b) International Maritime Organization (IMO), 4 Albert Embankment, London SE1 7SR, England.

(1) The Seafarers' Training, Certification and Watchkeeping Code as amended (the STCW Code), incorporation by reference approved for §§ 12.601, 12.603, 12.605, 12.607, 12.609, 12.611, 12.613, 12.615, 12.617, 12.619, 12.621, 12.623, 12.811, and 12.905.

(2) [Reserved]

§ 12.105 Paperwork approval.

(a) This section lists the control numbers assigned by the Office of Management and Budget under the Paperwork Reduction Act of 1980 (Pub. L. 96-511) for the reporting and record-keeping requirements in this part.

(b) The following control numbers have been assigned to the sections indicated:

(1) OMB 1625-0079—46 CFR 12.217 and 12.301.

(2) [Reserved]

Subpart B—General Requirements for Rating Endorsements

§ 12.201 General requirements for domestic and STCW rating endorsements.

(a) General. (1) An MMC issued to a deck or engineer officer will be endorsed for all entry-level ratings and any other ratings for which they qualify under this part.

(2) The authorized holder of any valid rating endorsement may serve in any capacity in the staff department of a vessel, except in those capacities requiring a staff officer; except that whenever the service includes the handling of food, no person may be so employed unless his or her credential bears the food handler's endorsement “(F.H.)”.

(3) When an applicant meets the requirements for certification set forth in this part, the Coast Guard will issue the appropriate endorsement.

(b) Physical and medical requirements. The physical and medical requirements applicable to the endorsements in this subpart are found in 46 CFR, part 10, subpart C.

§ 12.203 Creditable service and equivalents for domestic and STCW ratings endorsements.

Applicants for endorsements should refer to § 10.232 of this subchapter for information regarding requirements for documentation and proof of sea service.

§ 12.205 Examination procedures and denial of rating and STCW endorsements.

(a) The examination fee set out in Table 10.219(a) in § 10.219 of this subchapter must be paid before the applicant may take the first examination section.

(b) Upon receipt of application for a rating endorsement, the Coast Guard will give any required examination as soon as practicable after determining that the applicant is otherwise qualified for the endorsement.

(c) An applicant for a rating endorsement who has been duly examined and failed the examination may seek reexamination at any time after the initial examination. However, an applicant who fails an examination for the third time must wait 90 days before re-testing. All examinations and retests must be completed within 1 year of approval for examination.

(d) Upon receipt of an application for an STCW endorsement, the Coast Guard will evaluate the applicant's qualifications. The Coast Guard will issue the appropriate endorsement after determining that the applicant satisfactorily meets all requirements for any requested STCW rating or qualification.

Subpart C—[Reserved]

Subpart D—Requirements for Domestic Deck Rating Endorsements

§ 12.401 General requirements for able seaman (A/B) endorsements.

(a) General. An able seaman (A/B) is any person below officer and above the ordinary seaman who holds an MMC or MMD endorsed as A/B by the Coast Guard.

(b) Categories. The following categories of able seaman endorsements are established:

(1) Able seaman—any waters, unlimited.

(2) Able seaman—limited.

(3) Able seaman—special.

(4) Able seaman—offshore supply vessels.

(5) Able seaman—sail.

(6) Able seaman—fishing industry.

(c) Requirements for certification. To qualify for an endorsement as able seaman, an applicant must:

(1) Be at least 18 years of age;

(2) Pass the prescribed physical and medical examination requirements specified in 46 CFR, part 10, subpart C;

(3) Present evidence of having passed a chemical test for dangerous drugs or of qualifying for an exemption from testing described in § 16.220 of this subchapter;

(4) Meet the sea service or training requirements set forth in this part;

(5) Pass an examination for able seaman;

(6) Qualify for an endorsement as lifeboatman or lifeboatman-limited; and

(7) Speak and understand the English language as would be required in performing the general duties of able seaman and during an emergency aboard ship.

(d) Additional requirements. (1) The holder of an MMC or MMD endorsed for the rating of A/B may serve in any rating in the deck department without obtaining an additional endorsement, provided:

(i) That the holder possesses the appropriate A/B endorsement for the service of the vessel; and

(ii) That the holder possesses the appropriate STCW endorsement when serving as an able seafarer-deck or Ratings Forming Part of the Navigational Watch (RFPNW) on a seagoing ship of 200 GRT/500 GT or more.

(2) After [EFFECTIVE DATE OF THIS RULE] any MMC endorsed as A/B will also be endorsed as lifeboatman or lifeboatman-limited, as appropriate.

(3) The A/B endorsement will clearly describe the type of rating that it represents (See paragraph (a) of this section).

§ 12.403 Service or training requirements for able seaman (A/B) endorsements.

(a) The minimum service required to qualify for the various categories of endorsement as able seaman is:

(1) Able seaman—any waters, unlimited. Three years of service on deck on vessels operating on oceans or the Great Lakes.

(2) Able seaman—limited. Eighteen months of service on deck on vessels of 100 GRT or more which operate in a service not exclusively confined to the rivers and smaller inland lakes of the United States.

(3) Able seaman—special. Twelve months of service on deck on vessels operating on oceans or the navigable waters of the United States, including the Great Lakes.

(4) Able seaman—offshore supply vessels. Six months of service on deck on vessels operating on oceans or the navigable waters of the United States, including the Great Lakes.

(5) Able seaman—sail. Six months of service on deck on sailing school vessels, oceanographic research vessels powered primarily by sail, or equivalent sailing vessels operating on oceans or navigable waters of the United States, including the Great Lakes.

(6) Able seaman—fishing industry. Six months of service on deck, not as a processor, onboard vessels operating on oceans or navigable waters of the United States, including the Great Lakes.

(b) Approved training programs may be substituted for the required periods of service on deck as follows:

(1) A graduate of a school ship may be qualified for a rating endorsement as A/B, without further service, upon satisfactory completion of the course of instruction. For this purpose, school ship is interpreted to mean an institution that offers a complete approved course of instruction, including a period of at-sea training, in the skills appropriate to the rating of A/B.

(2) Training programs, other than those classified as a school ship, may be substituted for up to one-third of the required service on deck. The service/training ratio for each program is determined by the Coast Guard, which may allow a maximum of 3 days of deck service credit for each day of instruction.

§ 12.405 Examination and demonstration of ability for able seaman (A/B) endorsements.

(a) Before an applicant is issued an endorsement as an A/B, he or she must prove to the satisfaction of the Coast Guard, by oral or other means of examination, and by actual demonstration in a Coast Guard-approved course, his or her knowledge of seamanship and the ability to carry out effectively all the duties that may be required of an A/B, including those of a lifeboatman or lifeboatman-limited.

(b) The examination, whether administered orally or by other means, must be conducted only in the English language and must consist of questions regarding:

(1) The applicant's knowledge of nautical terms, use of the compass for navigation, running lights, passing signals, and fog signals for vessels on the high seas, inland waters, or Great Lakes, and distress signals; and

(2) The applicant's knowledge of commands in handling the wheel by obeying orders passed to him or her as helmsman, and knowledge of the use of the engineroom telegraph.

(c) The applicant must demonstrate knowledge of the principal knots, bends, splices, and hitches in common use by actually making them as part of a Coast Guard-approved course.

(d) The applicant must demonstrate, to the satisfaction of the Coast Guard, knowledge of pollution laws and regulations, procedures for discharge containment and cleanup, and methods for disposal of sludge and waste material from cargo and fueling operations.

§ 12.407 General requirements for lifeboatman endorsements.

(a) General. Every person serving under the authority of a rating endorsement as lifeboatman on any United States vessel requiring lifeboatman must hold an endorsement as lifeboatman. No endorsement as lifeboatman is required of any person employed on any unrigged vessel, except on a seagoing barge and on a tank barge navigating waters other than rivers and/or canals.

(b) Requirements for Certification. (1) To qualify for an endorsement as lifeboatman, an applicant must:

(i) Be at least 18 years of age;

(ii) Pass the prescribed physical and medical examination requirements specified in 46 CFR, part 10, subpart C; and

(iii) Present evidence of having passed a chemical test for dangerous drugs or qualifying for an exemption for testing described in § 16.220 of this subchapter.

(2) To be eligible for an endorsement as lifeboatman, an applicant must meet one of the following sea service requirements:

(i) At least 12 months of sea service in any department of vessels on ocean, coastwise, inland, and Great Lakes; or

(ii) At least 6 months of sea service in any department of vessels and successful completion of an approved course.

(3) Before an applicant is issued an endorsement as a lifeboatman, he or she must prove to the satisfaction of the Coast Guard by oral or other means of examination, and by actual practical demonstration of abilities, his or her knowledge of seamanship and the ability to carry out effectively all the duties that may be required of a lifeboatman.

(4) The practical demonstration must consist of a demonstration of the applicant's ability to:

(i) Take charge of a survival craft or rescue boat during and after launch;

(ii) Operate a survival craft engine;

(iii) Demonstrate the ability to row by actually pulling an oar in the boat;

(iv) Manage a survival craft and survivors after abandoning ship;

(v) Safely recover survival craft and rescue boats; and

(vi) Use locating and communication devices.

(5) The examination, whether administered orally or by other means, must be conducted only in the English language and must consist of questions regarding:

(i) Lifeboats and liferafts, the names of their essential parts, and a description of the required equipment;

(ii) The clearing away, swinging out, and lowering of lifeboats and liferafts, the handling of lifeboats under oars and sails, including questions relative to the proper handling of a boat in a heavy sea; and

(iii) The operation and functions of commonly used types of davits.

(6) An applicant, to be eligible for an endorsement as lifeboatman, must be able to speak and understand the English language as would be required in the rating of lifeboatman and in an emergency aboard ship.

§ 12.409 General requirements for lifeboatman-limited endorsements.

(a) General. Every person serving onboard vessels fitted with liferafts, but not fitted with lifeboats, must hold an MMC or MMD endorsed as lifeboatman or as lifeboatman-limited. No endorsement as lifeboatman or lifeboatman-limited is required of any person employed on any unrigged vessel, except on a seagoing barge and on a tank barge navigating waters other than rivers and/or canals.

(b) Requirements for Certification. (1) To qualify for an endorsement as lifeboatman-limited, an applicant must:

(i) Be at least 18 years of age;

(ii) Pass the prescribed physical and medical examination requirements specified in 46 CFR, part 10, subpart C; and

(iii) Present evidence of having passed a chemical test for dangerous drugs or qualifying for an exemption for testing described in § 16.220 of this subchapter.

(2) An applicant to be eligible for an endorsement as lifeboatman-limited must meet one of the following sea service requirements:

(i) At least 12 months of sea service in any department of vessels on ocean, coastwise, inland, and Great Lakes; or

(ii) At least 6 months of sea service in any department of vessels and successful completion of an approved course.

(3) Before an applicant is issued an endorsement as a lifeboatman, he or she must prove to the satisfaction of the Coast Guard by oral or other means of examination, and by actual practical demonstration of abilities, his or her knowledge of seamanship and the ability to carry out effectively all the duties that may be required of a lifeboatman-limited.

(4) The practical demonstration must consist of a demonstration of the applicant's ability to:

(i) Take charge of a rescue boat, liferaft, or other lifesaving apparatus during and after launch;

(ii) Operate a rescue boat engine;

(iii) Manage a survival craft and survivors after abandoning ship;

(iv) Safely recover rescue boats; and

(v) Use locating and communication devices.

(5) The examination, whether administered orally or by other means, must be conducted only in the English language and must consist of questions regarding:

(i) Liferafts, rescue boats, and other survival craft except lifeboats, the names of their essential parts, and a description and use of the required equipment;

(ii) The clearing away, launching, and handling of rescue craft except lifeboats; and

(iii) The operation and functions of commonly used launching devices for rescue boats and survival craft other than lifeboats.

(6) An applicant, to be eligible for an endorsement as lifeboatman-limited, must be able to speak and understand the English language as would be required in the rating of lifeboatman-limited and in an emergency aboard ship.

Subpart E—Requirements for Domestic Engineer Rating Endorsements

§ 12.501 General requirements for a qualified member of the engine department (QMED).

(a) General. A qualified member of the engine department (QMED) is any person below officer and above the rating of coal passer or wiper who holds an MMC or MMD endorsed as QMED by the Coast Guard.

(b) Categories. (1) Each QMED rating must be endorsed separately, unless the applicant qualifies for all QMED ratings, in which case the endorsement will read “QMED—any rating.” The ratings are:

(i) Watertender/Fireman;

(ii) Oiler;

(iii) Junior engineer;

(iv) Electrician/Refrigerating engineer; and

(v) Pumpman/Machinist.

(2) The Coast Guard will no longer issue new endorsements for deck engineer, deck/engine mechanic, or engineman, as well as individual endorsements for refrigerating engineer, machinist, electrician, and pumpman. However, a mariner who holds any of these endorsements may continue to renew it as long as he or she is otherwise qualified.

(3) If the holder of an endorsement as:

(i) Pumpman only or machinist only, seeks the combined endorsement of pumpman/machinist, the mariner must pass the examination described in Table 12.505(c) of this subpart.

(ii) Electrician only or refrigerating engineer only, seeks the combined endorsement of electrician/refrigerating engineer, the mariner must pass the examination described in Table 12.505(c) of this subpart.

(c) Requirements for certification. To qualify for any endorsement as QMED, an applicant must:

(1) Be at least 18 years of age;

(2) Pass the prescribed physical and medical examination requirements specified in 46 CFR, part 10, subpart C;

(3) Present evidence of having passed a chemical test for dangerous drugs or of qualifying for an exemption from testing described in § 16.220 of this subchapter;

(4) Meet the sea service or training requirements in § 12.503 of this subpart;

(5) Pass an examination as QMED; and

(6) Speak and understand the English language as would be required in performing the general duties of QMED and during an emergency aboard ship.

§ 12.503 Service or training requirements.

(a) An applicant for an endorsement as QMED must furnish the Coast Guard proof of qualification based on 6 months of service in a rating at least equal to that of wiper or coal passer.

(b) Approved training programs may be substituted for the required periods of service as follows:

(1) A graduate of a school ship may qualify for a rating endorsement as QMED, without further service, upon satisfactory completion of the course of instruction. For this purpose, school ship is interpreted to mean an institution that offers a complete approved course of instruction, including a period of at-sea training, in the skills appropriate to the rating of QMED.

(2) Training programs, other than those classified as a school ship, may be substituted for up to one-half of the required service. The service/training ratio for each program is determined by the Coast Guard.

§ 12.505 Examination requirements.

(a) Before an applicant is issued an endorsement as QMED in the rating of oiler, watertender/fireman, junior engineer, pumpman/machinist, or electrician/refrigerating engineer, he or she must prove to the satisfaction of the Coast Guard, by oral or other means of examination, his or her knowledge of the subjects listed in paragraph (c) of this section.

(b) The examination, whether administered orally or by other means, must be conducted only in the English language.

(c) List of subjects required:

Table 12.505(c)—Examination Subjects for QMED Ratings
Subjects | Pumpman/ machinist | Fireman/ watertender | Oiler | Electrician/ refrigerating engineer | Junior engineer
General subjects:
Auxiliary machinery | X | X | X | X | X
Basic safety procedures | X | X | X | X | X
Bearings | X |  | X | X | X
Care of equipment and machine parts | X | X | X | X | X
Deck machinery | X |  |  | X | X
Drawings and tables | X |  |  | X | X
Heat exchangers | X | X | X | X | X
Hydraulic principles | X |  |  | X | X
Instrumentation principles | X | X | X | X | X
Lubrication principles | X |  | X | X | X
Maintenance procedures | X | X | X | X | X
Measuring instruments | X | X | X | X | X
Pipes, fittings, and valves | X | X | X | X | X
Pollution prevention | X | X | X | X | X
Properties of fuel |  | X | X |  | X
Pumps, fans, and blowers | X |  |  | X | X
Refrigeration principles |  |  | X | X | X
Remote control equipment | X | X | X | X | X
Use of hand/power tools | X | X | X | X | X
Watch duties |  | X | X |  | X
Electrical subjects:
A/C circuits |  |  |  | X | X
Batteries |  |  |  | X | X
Calculations |  |  |  | X | X
Communication devices |  |  |  | X | X
D/C circuits |  |  |  | X | X
Distribution systems |  |  |  | X | X
Electronic principles |  |  |  | X | X
Generation equipment |  |  | X | X | X
Maintenance |  |  | X | X | X
Measuring devices |  |  |  | X | X
Motor controllers |  |  |  | X | X
Motors |  |  | X | X | X
Safety | X | X | X | X | X
Troubleshooting |  |  |  | X |
Safety and environmental protection subjects:
Communications | X | X | X | X | X
Damage control | X | X | X | X | X
Elementary first aid | X | X | X | X | X
Emergency equipment | X | X | X | X | X
Environmental awareness | X | X | X | X | X
Fire prevention | X | X | X | X | X
Firefighting equipment | X | X | X | X | X
Firefighting principles | X | X | X | X | X
General safety | X | X | X | X | X
Hazardous materials | X | X | X | X | X
Shipboard equipment and systems subjects:
Air conditioning |  |  |  | X | X
Ballast | X | X | X |  | X
Bilge | X | X | X |  | X
Compressed air | X | X | X | X | X
Desalination |  |  | X |  | X
Fuel oil storage/transfer |  | X | X |  | X
Fuel treatment |  | X | X |  | X
Heating/ventilation | X |  |  | X | X
Lubrication | X |  | X | X | X
Potable water |  |  | X |  | X
Refrigeration |  |  | X | X | X
Sanitary/sewage |  |  | X |  | X
Steering |  |  | X | X | X
Steam propulsion subjects:
Auxiliary turbines |  | X | X |  | X
Boiler fundamentals |  | X | X |  | X
Combustion principles |  | X | X |  | X
Condensate systems |  | X | X |  | X
Drive systems |  | X | X |  | X
Feedwater systems |  | X | X |  | X
Fuel service systems |  | X | X |  | X
Maintenance | X | X | X |  | X
Safety | X | X | X | X | X
Steam fundamentals | X | X | X |  | X
Turbine fundamentals |  | X | X |  | X
Motor propulsion subjects:
Air-charge systems |  |  | X |  | X
Cooling water systems |  |  | X |  | X
Diesel engine principles | X |  | X |  | X
Drive systems | X |  | X |  | X
Fuel service systems |  |  | X |  | X
Intake/exhaust |  |  | X |  | X
Lubrication systems | X |  | X |  | X
Starting systems |  |  | X |  | X
Waste heat/auxiliary boiler |  |  | X |  | X

Subpart F—Requirements for STCW Rating Endorsements

§ 12.601 General requirements for STCW rating endorsements.

(a) General. The Coast Guard will issue this endorsement to qualified applicants for any of the following ratings or qualifications:

(i) Able seafarer-deck;

(ii) Ratings forming part of a navigational watch (RFPNW);

(iii) Able seafarer-engine;

(iv) Ratings forming part of a watch in a manned engineroom or designated to perform duties in a periodically unmanned engine room (RFPEW);

(v) Electro-technical rating on vessels powered by main propulsion machinery of 750 kW/1,000 HP or more;

(vi) Proficiency in survival craft and rescue boats, other than fast rescue boats (PSC);

(vii) Proficiency in survival craft and rescue boats, other than lifeboats and fast rescue boats (PSC-limited);

(viii) Proficiency in fast rescue boats;

(ix) Medical first-aid provider;

(x) Person-in-charge of medical care;

(xi) GMDSS at-sea maintainer;

(xii) Vessel personnel with designated security duties; or

(xiii) Security awareness.

(b) Standard of competence. (1) The Coast Guard will accept one or more methods to demonstrate meeting the standard of competence in this subpart. The Coast Guard will accept the following as evidence for each one of the methods required in Column 3—Methods for demonstrating competence—of the Tables of Competence in the STCW Code (incorporated by reference, see § 12.103 of this part):

(i) In-service experience: documentation of successful completion of assessments, approved or accepted by the Coast Guard, and signed by a seafarer with a higher credential, deck or engineering, as appropriate, than the assessment related to the credential sought by the applicant.

(ii) Training ship experience: documentation of successful completion of an approved training program involving formal training and assessment onboard a training ship.

(iii) Simulator training: documentation of successful completion of training and assessment from a Coast Guard-approved course involving maritime simulation.

(iv) Laboratory equipment training: documentation of successful completion of training and assessments from an approved training course or completion certificate from an approved training school or facility.

(v) Practical training or instruction:

(A) Documentation of successful completion of assessment as part of structured/formal training or instruction provided by an organization or company as part of an accepted safety or quality management system; or

(B) Documentation of successful completion of an approved training course from a school or facility.

(vi) Specialist training: documentation of successful completion of assessment as part of a company training or specialized training provided by a maritime or equipment specialist.

(vii) Workshop skills training: documentation of successful completion of assessments or completion certificate from an approved training program, school or facility.

(viii) Training program: documentation of successful completion of an approved training program.

(ix) Practical demonstration and practical demonstration of competence: documentation of successful completion of assessments approved or accepted by the Coast Guard.

(x) Practical test and practical experience: documentation of successful completion of assessments approved or accepted by the Coast Guard.

(xi) Examination: Successful completion of a Coast Guard examination.

(xii) Instruction or course: documentation of successful completion of a course of instruction offered by an approved training school or facility.

(2) Knowledge components may be documented by:

(i) Successful completion of the Coast Guard examination for the associated rating endorsement;

(ii) Successful completion of an approved course; or

(iii) Successful completion of an approved program.

(3) The Coast Guard will publish assessment guidelines that should be used to document assessments that demonstrate meeting the standard of competence, as required by paragraph (b)(1) of this section. Organizations may develop alternative assessment documentation for demonstrations of competence; however, it must be approved by the Coast Guard prior to their use and submittal with an application.

(c) Basic Safety Training (BST). (1) Applicants seeking an STCW rating endorsement must provide evidence, with their application, of meeting the standard of competence for basic safety training as described below:

(i) Personal survival techniques as set out in Table A-VI/1-1 of the STCW Code;

(ii) Fire prevention and firefighting as set out in Table A-VI/1-2 of the STCW Code;

(iii) Elementary first aid as set out in Table A-VI/1-3 of the STCW Code; and

(iv) Personal safety and social responsibilities as set out in Table A-VI/1-4 of the STCW Code.

(2) Seafarers qualified in accordance with paragraph (c) of this section must provide evidence of maintaining the standard of competence every 5 years for the following elements of BST:

(i) Personal survival techniques as set out in Table A-VI/1-1 of the STCW Code.

(ii) Fire prevention and firefighting as set out in Table A-VI/1-2 of the STCW Code.

(3) The Coast Guard will accept onboard training and experience, through evidence of 1 year of sea service within the last 5 years, as meeting the requirements for BST of paragraph (c)(2) of this section for the following areas:

(i) Personal survival techniques as set out in Table A-VI/1-1 of the STCW Code:

(A) Don a lifejacket;

(B) Board a survival craft from the ship, while wearing a lifejacket;

(C) Take initial actions on boarding a lifeboat to enhance chance of survival;

(D) Stream a lifeboat drogue or sea-anchor;

(E) Operate survival craft equipment; and

(F) Operate location devices, including radio equipment.

(ii) Fire prevention and firefighting as set out in Table A-VI/1-2 of the STCW Code:

(A) Use self-contained breathing apparatus; and

(B) Effect a rescue in a smoke-filled space, using an approved smoke-generating device aboard, while wearing a breathing apparatus.

(4) The Coast Guard will only accept evidence of approved assessments conducted ashore as meeting the requirements for BST of paragraph (c)(2) of this section for the following areas:

(i) Personal survival techniques as set out in Table A-VI/1-1 of the STCW Code:

(A) Don and use an immersion suit;

(B) Safely jump from a height into the water;

(C) Right an inverted liferaft while wearing a lifejacket;

(D) Swim while wearing a lifejacket; and

(E) Keep afloat without a lifejacket.

(ii) Fire prevention and firefighting as set out in Table A-VI/1-2 of the STCW Code:

(A) Use various types of portable fire extinguishers;

(B) Extinguish smaller fires, e.g., electrical fires, oil fires, and propane fires;

(C) Extinguish extensive fires with water, using jet and spray nozzles;

(D) Extinguish fires with foam, powder, or any other suitable chemical agent;

(E) Fight fire in smoke-filled enclosed spaces wearing self-contained breathing apparatus;

(F) Extinguish fire with water fog or any other suitable firefighting agent in an accommodation room or simulated engineroom with fire and heavy smoke; and

(G) Extinguish oil fire with fog applicator and spray nozzles, dry chemical powder, or foam applicators.

(5) Applicants who cannot meet the 1 year of sea service within the last 5 years, as described in paragraph (c)(1) of this section, will be required to meet the requirements of paragraph (b)(1) of this section.

(d) Grandfathering. (1) Except as noted otherwise, each candidate who applies for a credential based on approved or accepted training or approved seagoing service that was started on or after July 1, 2013, or who applies for the MMC endorsement on or after January 1, 2017, must meet the requirements of these regulations.

(2) Except as noted by this subpart, seafarers holding an STCW endorsement prior to July 1, 2013 will not be required to complete any additional training required under this part to retain the STCW endorsements.

(3) Except as noted otherwise, candidates who commence Coast Guard-approved or -accepted training or approved seagoing service before July 1, 2013 will be required to comply with the requirements of this part existing before the publication of these regulations [EFFECTIVE DATE OF THE RULE]. This includes the assessments published prior to the date of publication of these regulations [EFFECTIVE DATE OF THE RULE], as well as the additional requirements for the STCW endorsement section.

(4) Except as noted by this subpart, the Coast Guard will continue to issue STCW endorsements meeting the requirements of this part existing before the publication of these regulations [EFFECTIVE DATE OF THE RULE], for seafarers identified in paragraph (d)(3) of this section, until January 1, 2017.

§ 12.603 Requirements to qualify for an STCW endorsement as able seafarer-deck.

(a) To qualify for this endorsement as able seafarer-deck, an applicant must:

(1) Be not less than 18 years of age;

(2) Meet the requirements for certification as a RFPNW;

(3) While qualified as an RFPNW, have seagoing service in the deck department of:

(i) Not less than 18 months; or

(ii) Not less than 12 months and have completed approved training;

(4) Provide evidence of meeting the standard of competence specified in Table A-II/5 of the STCW Code (incorporated by reference, see § 12.103 of this part); and

(5) Provide evidence of having satisfactorily completed approved training in:

(i) Proficiency in survival craft and rescue boats other than fast rescue boats (PSC); or

(ii) Proficiency in survival craft and rescue boats, other than lifeboats or fast rescue boats-limited (PSC-limited), as appropriate.

(b) Until January 1, 2017, seafarers may be considered to have met the requirements of this section if they have served as a watchstanding A/B, or as an RFPNW for a period of not less than 12 months within the 60 months prior to application.

(c) Seafarers holding a rating endorsement as able seaman, before January 1, 2017, will be eligible for this endorsement upon showing evidence of:

(1) Holding an endorsement as an RFPNW; and

(2) Proficiency in survival craft and rescue boats, other than fast rescue boats (PSC).

(d) The Coast Guard may exempt an applicant from meeting any individual knowledge, understanding, and proficiency required in Section A-II/5 of the STCW Code. These exemptions must be approved by the Coast Guard based upon vessel type. Under these circumstances, the certificate may include a corresponding limitation.

(e) Seafarers with the following domestic rating endorsements will be eligible for this endorsement upon completion of the requirements designated in this section:

Table 12.603(e)—STCW Endorsement as Able Seafarer-Deck
Entry path from domestic endorsements | Sea service under authority of the endorsement * | Competence—STCW table A-II/4 ** | Competence—STCW table A-II/5 *** | Training required by this section ****
A/B Unlimited, any waters |  | Y | Y | N
A/B Limited |  | Y | Y | N
A/B Special | 6 months | Y | Y | N
A/B-Offshore supply vessels | 12 months ¹ | Y | Y | N
A/B Sail | 12 months ¹ | Y | Y | N
A/B-Fishing Industry | 12 months ¹ | Y | Y | N
* This column provides the minimum additional service required of the seafarer in order to meet the requirements of this section.
** Complete any items in paragraph (a)(2) of this section not previously satisfied.
*** Complete any items in paragraph (a)(4) of this section not previously satisfied.
**** Complete any items in paragraph (a)(5) of this section not previously satisfied.
¹ The service may be reduced to 6 months if training has been completed as part of an approved training program meeting the requirements of (a)(3)(ii) of this section.

§ 12.605 Requirements to qualify for an STCW endorsement as ratings forming part of a navigational watch (RFPNW).

(a) To qualify for this endorsement as an RFPNW on a seagoing vessel of 200 GRT/500 GT or more, an applicant must:

(1) Be not less than 16 years of age;

(2) Provide evidence of service as follows:

(i) Six months of seagoing service, which includes training and experience associated with navigational watchkeeping functions, and involves the performance of duties carried out under the supervision of the master, mate, or qualified STCW deck rating; or

(ii) Proof of successful completion of Coast Guard-approved or -accepted training, which includes not less than 2 months of approved seagoing service; and

(3) The applicant must provide evidence of meeting standards of competence prescribed in Table A-II/4 of the STCW Code (incorporated by reference, see § 12.103 of this part).

(b) The Coast Guard may exempt an applicant from meeting any individual knowledge, understanding, and proficiency required in Section A-II/4 of the STCW Code. These exemptions must be approved by the Coast Guard based upon vessel type. Under these circumstances, the certificate may include a corresponding limitation.

(c) Seafarers with the following domestic rating endorsements will be eligible for this endorsement upon completion of requirements designated in this section:

Table 12.605(c)—STCW Endorsement as RFPNW
Entry path from domestic endorsements | Sea service under authority of the endorsement * | Competence—STCW table A-II/4 **
A/B Unlimited, any waters |  | Y
A/B Limited
A/B Special |  | Y
A/B-Offshore supply vessels |  | Y
A/B Sail
A/B-Fishing Industry |  | Y
Ordinary seaman | 6 mo. | Y
* This column provides the minimum additional service required of the seafarer in order to meet the requirements of this section.
** Complete any items in paragraph (a)(3) of this section not previously satisfied.

§ 12.607 Requirements to qualify for an STCW endorsement as rating as able seafarer-engine.

(a) To qualify for an STCW endorsement as an able seafarer-engine, an applicant must:

(1) Be not less than 18 years of age;

(2) Meet the requirements for certification as a ratings forming part of an engineering watch (RFPEW);

(3) While qualified as an RFNEW, have seagoing service in the engine department of:

(i) Not less than 12 months; or

(ii) Not less than 6 months and have completed approved training; and

(4) Provide evidence of meeting the standard of competence specified in Table A-III/5 of the STCW Code (incorporated by reference, see § 12.103 of this part).

(b) Until January 1, 2017, seafarers may be considered to have met the requirements of this section if they have served as a watchstanding QMED in the engine department, or an RFPEW for a period of not less than 12 months within the last 60 months prior to application.

(c) Seafarers holding a rating endorsement as Qualified Member of the Engine Department (QMED) before January 1, 2017 will be eligible for this endorsement upon showing evidence of holding an endorsement as an RFPEW.

(d) The Coast Guard may exempt an applicant from meeting any individual knowledge, understanding, and proficiency required in Section A-III/5 of the STCW Code. These exemptions must be approved by the Coast Guard based upon vessel type. Under these circumstances, the certificate may include a corresponding limitation.

(e) Seafarers with the following domestic rating endorsements will be eligible for this endorsement upon completion of requirements designated in this section:

Table 12.607(e)—STCW Endorsement As Able Seafarer-Engine
Entry path from domestic endorsements | Sea service under authority of the endorsement * | Competence—STCW table A-III/5 **
Oiler |  | Y
Fireman/watertender |  | Y
Junior engineer |  | Y
* This column provides the minimum additional service required of the seafarer in order to meet the requirements of this section.
** Complete any items in paragraph (a)(4) of this section not previously satisfied.

§ 12.609 Requirements to qualify for an STCW endorsement as Rating Forming Part of an Engineering Watch (RFPEW).

(a) To qualify for an STCW endorsement as an RFPEW in a manned engineroom or designated to perform duties in a periodically unmanned engineroom, an applicant must:

(1) Be not less than 16 years of age;

(2) Provide evidence of service as follows:

(i) Six months of seagoing service, which includes training and experience associated with engineroom functions, and involves the performance of duties carried out under the supervision of an engineer officer or a qualified STCW rating; or

(ii) Proof of successful completion of a Coast Guard-approved or -accepted training, which includes not less than 2 months approved seagoing service; and

(3) Provide evidence of meeting the standard of competence as specified in Table A-III/4 of the STCW Code (incorporated by reference, see § 12.103 of this part).

(b) The Coast Guard may exempt an applicant from meeting any individual knowledge, understanding, and proficiency required in Section A-III/4 of the STCW Code. These exemptions must be approved by the Coast Guard based upon vessel type. Under these circumstances, the certificate may include a corresponding limitation.

(c) Seafarers with the following domestic rating endorsements will be eligible for this endorsement upon completion of requirements designated in this section:

Table 12.609(c)—STCW Endorsement as RFPEW
Entry path from domestic endorsements | Sea service under authority of the endorsement * | Competence—STCW table A-III/4 **
Any QMED |  | Y
Wiper | 6 months | Y
* This column provides the minimum additional service required of the seafarer in order to meet the requirements of this section.
** Complete any items in paragraph (a)(3) of this section not previously satisfied.

§ 12.611 Requirements to qualify for an STCW endorsement as electro-technical rating on vessels powered by main propulsion machinery of 750 kW/1,000 HP or more.

(a) To qualify for an STCW endorsement as an electro-technical rating, an applicant must:

(1) Be not less than 18 years of age;

(2) Provide evidence of:

(i) Twelve months of seagoing service that includes training and experience associated with engineroom watchkeeping functions and involves the performance of duties carried out under the supervision of an engineer officer, electro-technical officer, or a qualified STCW rating;

(ii) Proof of successful completion of a Coast Guard-approved or -accepted course, which includes not less than 6 months of approved seagoing service; or

(iii) Qualifications meeting the standard of competence specified in Table A-III/7 of the STCW Code (incorporated by reference, see § 12.103 of this part) and approved seagoing service of not less than 3 months; and

(3) Provide evidence of meeting the standard of competence specified in Table A-III/7 of the STCW Code.

(b) An applicant who holds an STCW endorsement as able seafarer-engine and domestic rating endorsements as electrician, electrician/refrigerating engineer, or junior engineer issued on or after July 1, 2013, and who has served in a relevant capacity onboard a seagoing ship powered by main-propulsion machinery of 750 kW/1,000 HP for a period of not less than 12 months in the previous 60 months, will qualify for this endorsement without additional training, service, or assessment.

(c) An applicant who holds an STCW endorsement as able seafarer-engine and domestic rating endorsements as electrician, electrician/refrigerating engineer, or junior engineer issued before July 1, 2013, and who has completed the assessment and training described in paragraph (a)(3) of this section, will qualify for this endorsement without additional training, service, or assessment.

(d) Seafarers with the following domestic rating endorsement will be eligible for this endorsement upon completion of the requirements designated in this section:

Table 12.609(d)—STCW Endorsement as RFPEW
Entry path from domestic endorsements | Sea service under authority of the endorsement * | Competence—STCW table A-III/4 **
Electrician/Refrigerating engineer |  | Y
* This column provides the minimum additional service required of the seafarer in order to meet the requirements of this section.
** Complete any items in paragraph (a)(3) of this section not previously satisfied.

§ 12.613 Requirements to qualify for an STCW endorsement in proficiency in survival craft and rescue boats other than fast rescue boats (PSC).

(a) To qualify for an STCW endorsement in proficiency in survival craft and rescue boats other than fast rescue boats (PSC), the applicant must:

(1) Be at least 18 years of age;

(2) Meet the requirements for a lifeboatman endorsement in § 12.407 of this part; and

(3) Complete BST, found in § 12.601(c) of this subpart.

(b) Continued Professional Competence. (1) Seafarers qualified in accordance with paragraph (a) of this section must provide evidence of maintaining the standard of competence as set out in Table A-VI/2-1 of the STCW Code (incorporated by reference, see § 12.103 of this part) every 5 years.

(2) The Coast Guard will accept onboard training and experience, through evidence of 1 year of sea service within the last 5 years, as meeting the requirements of paragraph (b)(1) of this section for the following areas as set out in Table A-VI/2-1 of the STCW Code:

(i) Take charge of a survival craft or rescue boat during and after launch:

(A) Interpret the markings on survival craft as to the number of persons they are intended to carry;

(B) Give correct commands for launching and boarding survival craft, clearing the ship, and handling and disembarking persons from survival craft;

(C) Prepare and safely launch survival craft and clear the ship's side quickly; and

(D) Safely recover survival craft and rescue boats.

(ii) Manage survivors and survival craft after abandoning ship:

(A) Row and steer a boat and steer by compass;

(B) Use individual items of equipment of survival crafts, except for pyrotechnics; and

(C) Rig devices to aid location.

(iii) Use locating devices, including communication and signaling apparatus:

(A) Use of portable radio equipment for survival craft.

(iv) Apply first aid to survivors.

(3) The Coast Guard will only accept evidence of assessments conducted from ashore as meeting the requirements of paragraph (b)(1) of this section for the areas not included in paragraph (b)(2) of this section as set out in Table A-VI/2-1 of the STCW Code.

(c) Seafarers holding an MMD or MMC endorsement as lifeboatman before January 1, 2017 will be eligible for this endorsement upon showing evidence of sea service of not less than 12 months within the last 60 months. The sea service must be completed prior to January 1, 2017.

§ 12.615 Requirements to qualify for an STCW endorsement in proficiency in survival craft and rescue boats other than lifeboats and fast rescue boats—limited (PSC—limited).

(a) To qualify for an STCW endorsement in proficiency in survival craft and rescue boats other than lifeboats and fast rescue boats—limited (PSC—limited)—the applicant must:

(1) Be at least 18 years of age;

(2) Meet the requirements for a lifeboatman-limited endorsement in § 12.409 of this part; and

(3) Complete BST, found in § 12.601(c) of this subpart.

(b) Continued Professional Competence. (1) Seafarers qualified in accordance with paragraph (a) of this section must provide evidence of maintaining the standard of competence as set out in Table A-VI/2-1 of the STCW Code (incorporated by reference, see § 12.103 of this part) every 5 years.

(2) The Coast Guard will accept onboard training and experience, through evidence of 1 year of sea service within the last 5 years, as meeting the requirements of paragraph (b)(1) of this section for the following areas as set out in Table A-VI/2-1 of the STCW Code:

(i) Take charge of a survival craft or rescue boat during and after launch:

(A) Interpret the markings on survival craft as to the number of persons they are intended to carry;

(B) Give correct commands for launching and boarding rescue boats and survival craft other than lifeboats, clearing the ship, and handling and disembarking persons from survival craft;

(C) Prepare and safely launch rescue boats and survival craft other than lifeboats and clear the ship's side quickly; and

(D) Safely recover rescue boats.

(ii) Manage survivors and survival craft after abandoning ship:

(A) Steer a rescue boat and steer by compass;

(B) Use individual items of equipment of survival crafts other than lifeboats, except for pyrotechnics; and

(C) Rig devices to aid location.

(iii) Use locating devices, including communication and signaling apparatus:

(A) Use of portable radio equipment for rescue boats and survival craft.

(iv) Apply first aid to survivors.

(2) The Coast Guard will only accept evidence of assessments conducted from ashore as meeting the requirements of paragraph (b)(1) of this section for the areas not included in paragraph (b)(2) of this section as set out in Table A-VI/2-1 of the STCW Code.

§ 12.617 Requirements to qualify for an STCW endorsement in proficiency in fast rescue boats.

(a) To qualify for an STCW endorsement in proficiency in fast rescue boats, an applicant must:

(1) Be not less than 18 years of age;

(2) Hold an endorsement in proficiency in survival craft and rescue boats other than fast rescue boats (PSC) or in proficiency in survival craft and rescue boats other than lifeboats and fast rescue boats—limited (PSC—limited)—under this subpart;

(3) Provide evidence of successful completion of a Coast Guard-approved or -accepted course; and

(4) Provide evidence of meeting the standard of competence specified in Table A-VI/2 of the STCW Code (incorporated by reference, see § 12.103 of this part).

(b) Continued Professional Competence. (1) Seafarers qualified in accordance with paragraph (a) of this section must provide evidence of maintaining the standard of competence as set out in Table A-VI/2-2 of the STCW Code every 5 years.

(2) The Coast Guard will accept onboard training and experience, through evidence of 1 year of sea service within the last 5 years, as meeting the requirements of paragraph (b)(1) of this section for the following areas as set out in Table A-VI/2-2 of the STCW Code:

(i) Take charge of a fast rescue boat during and after launch:

(A) Control safe launching and recovery of a fast rescue boat;

(B) Handle a fast rescue boat in prevailing weather and sea conditions;

(C) Use communication and signaling equipment between the fast rescue boat and a helicopter and a ship;

(D) Use the emergency equipment carried; and

(E) Carry out search patterns, taking account of environmental factors.

(3) The Coast Guard will only accept evidence of assessments conducted ashore as meeting the requirements of paragraph (b)(1) of this section for the areas not included in paragraph (b)(2) of this section as set out in Table A-VI/2-2 of the STCW Code.

§ 12.619 Requirements to qualify for an STCW endorsement as medical first-aid provider.

(a) To qualify for an STCW endorsement as medical first-aid provider, an applicant must:

(1) Provide evidence of successful completion of an approved course in medical first aid; and

(2) Provide evidence of meeting the standard of competence specified in Table A-VI/4-1 of the STCW Code (incorporated by reference, see § 12.103 of this part).

(b) An applicant holding any of the following credentials is qualified for an endorsement as medical first-aid provider:

(1) A valid professional license listed in § 11.807(a)(5) or (a)(6) of this subchapter, without restriction or limitation placed upon it by the issuing State; or

(2) A rating listed in § 11.807(a)(7) or (a)(8) of this subchapter.

§ 12.621 Requirements to qualify for an STCW endorsement as person in charge of medical care.

(a) To qualify for an STCW endorsement as person in charge of medical care, an applicant must:

(1) Provide evidence of successful completion of an approved course in medical care; and

(2) Provide evidence of meeting the standard of competence specified in Table A-VI/4-2 of the STCW Code (incorporated by reference, see § 12.103 of this part).

(b) An applicant holding any of the following credentials is qualified for an endorsement as person-in-charge of medical care:

(1) A valid professional license listed in § 11.807(a)(5) or (a)(6) of this subchapter, without restriction or limitation placed upon it by the issuing State; or

(2) A rating listed in § 11.807(a)(7) or (a)(8) of this subchapter.

§ 12.623 Requirements to qualify for an STCW endorsement as Global Maritime Distress and Safety System (GMDSS) at-sea maintainer.

(a) To qualify for an STCW endorsement as GMDSS at-sea maintainer, an applicant must:

(1) Be not less than 18 years of age;

(2) Provide evidence of:

(i) Successful completion of a training program that covers at least the scope and content of the training outlined in Section B-IV/2 of the STCW Code (incorporated by reference, see § 12.103 of this part); or

(ii) Passing an approved GMDSS at-sea maintainer course; and

(3) Hold a valid Federal Communications Commission (FCC) certificate as GMDSS at-sea maintainer.

§ 12.625 Requirements to qualify for an STCW endorsement as vessel personnel with designated security duties.

(a) An applicant for an STCW endorsement as vessel personnel with designated security duties must:

(1) Present satisfactory documentary evidence of meeting the requirements in 33 CFR 104.220;

(2) Meet the physical examination requirements in 46 CFR, part 10, subpart C; and

(3) Meet the safety and suitability requirements and the National Driver Registry review requirements in § 10.209(e) of this subchapter, unless they have met these requirements within the previous 5 years in connection with another endorsement.

§ 12.627 Requirements to qualify for an STCW endorsement for security awareness.

(a) An applicant for an endorsement for security awareness must:

(1) Present satisfactory documentary evidence of meeting the requirements in 33 CFR 104.225;

(2) Meet the physical examination requirements in 46 CFR, part 10, subpart C; and

(3) Meet the safety and suitability requirements and the National Driver Registry review requirements in § 10.209(e) of this subchapter, unless they have met these requirements within the previous 5 years in connection with another endorsement.

Subpart G—Entry-level Domestic Ratings and Miscellaneous Ratings

§ 12.701 Credentials required for entry-level and miscellaneous ratings.

Every person employed in a rating other than able seaman (A/B) or QMED aboard U.S. flag vessels requiring such persons, must produce an MMC or MMD with the appropriate endorsement to the master or person in charge (PIC), if appropriate, before signing shipping articles.

§ 12.703 General requirements for entry-level ratings.

(a) Rating endorsements will be issued without professional examination to applicants in capacities other than able seaman, lifeboatman, lifeboatman-limited, tankerman, or QMED, including:

(1) Ordinary seaman;

(2) Wiper;

(3) Steward's department; and

(4) Steward's department (F.H.).

(b) Holders of MMCs or MMDs endorsed as ordinary seaman may serve in any unqualified rating in the deck or steward's department except as a food handler.

(c) Holders of MMCs or MMDs endorsed as wiper may serve in any unqualified rating in the engine or steward's department except as a food handler.

(d) Only MMCs or MMDs endorsed as steward's department (F.H.) will authorize the holder's service in any capacity in the steward's department, including food handler.

§ 12.705 Endorsements for persons enrolled in a Maritime Administration approved training program.

MMCs issued to individuals obtaining sea service as part of an approved training curriculum while enrolled at either the United States Merchant Marine Academy or a deck or engineering class of a Maritime Academy approved by and conducted under the rules prescribed by the Maritime Administrator and listed in part 310 of this title will include an endorsement of cadet (deck) or cadet (engine), as appropriate, and lifeboatman. Individuals obtaining sea service as part of such an approved training curriculum must do so in the capacity of cadet (deck) or cadet (engine), as appropriate, notwithstanding any other rating endorsements the individual may hold or any other capacity in which the individual may have previously served.

§ 12.707 Student observers.

Students in technical schools who are enrolled in courses in marine management, naval architecture, and ship operations, and who present a letter or other documentary evidence that they are enrolled, will be issued an MMC endorsed as “student observer—any department” and may be signed on ships as such. Students holding these endorsements will not take the place of any of the crew, or replace any of the regular required crew.

§ 12.709 Apprentice engineers.

(a) Persons enrolled in an apprentice engineer training program approved by the Coast Guard, and who present a letter or other documentary evidence that they are enrolled, may be issued an MMC endorsed as apprentice engineer and may be signed on ships as such. The endorsement as apprentice engineer may be in addition to other endorsements; however, this endorsement does not authorize the holder to replace any of the regular required crew.

(b) Persons holding the endorsement as apprentice engineer are deemed to be seamen.

§ 12.711 Apprentice mate.

(a) A person enrolled in an apprentice mate training program approved by the Coast Guard, and who presents a letter or other documentary evidence that he or she is enrolled, may be issued an MMC rating endorsement as apprentice mate and may be signed on a vessel in this capacity. The rating endorsement as apprentice mate may be in addition to other endorsements; however, this endorsement does not authorize the holder to replace any of the regular required crew.

(b) Persons holding the endorsement as apprentice mate are deemed to be seamen.

Subpart H—Non-resident Alien Members of the Steward's Department on U.S. Flag Large Passenger Vessels

§ 12.801 Purpose.

The rules in this subpart implement 46 U.S.C. 8103(k) by establishing requirements for the issuance of MMCs, valid only for service in the steward's department of U.S. flag large passenger vessels, to non-resident aliens.

§ 12.803 General requirements.

(a) Unless otherwise specified in this subpart, non-resident alien applicants for Coast Guard-issued MMCs are subject to all applicable requirements contained in this subchapter.

(b) No application for an MMC from a non-resident alien issued pursuant to this subpart will be accepted unless the applicant's employer satisfies all of the requirements of § 12.805 of this subpart.

§ 12.805 Employer requirements.

(a) The employer must submit the following to the Coast Guard, as a part of the applicant's MMC application, on behalf of the applicant:

(1) A signed report that contains all material disciplinary actions related to the applicant, such as, but not limited to, violence or assault, theft, drug and alcohol policy violations, and sexual harassment, along with an explanation of the criteria used by the employer to determine the materiality of those actions;

(2) A signed report regarding an employer-conducted background check. The report must contain:

(i) A statement that the applicant has successfully undergone an employer-conducted background check;

(ii) A description of the employer-conducted background check, including all databases and records searched. The background check must, at a minimum, show that the employer has reviewed all information reasonably and legally available to the owner or managing operator, including the review of available court and police records in the applicant's country of citizenship, and any other country in which the applicant has received employment referrals, or resided, for the past 20 years prior to the date of application; and

(iii) All information derived from the employer-conducted background check; and

(3) An employer-conducted background check, which must be conducted to the satisfaction of the Coast Guard for an MMC to be issued to the applicant.

(b) If an MMC is issued to the applicant, the report and information required in paragraph (a)(2) of this section must be securely kept by the employer on the U.S. flag large passenger vessel, or U.S. flag large passenger vessels, on which the applicant is employed. The report and information must remain on the last U.S. flag large passenger vessel on which the applicant was employed until such time as the MMC is returned to the Coast Guard in accordance with paragraph (d) of this section.

(c) If an MMC or a transportation worker identification credential (TWIC) is issued to the applicant, each MMC and TWIC must be securely kept by the employer on the U.S. flag large passenger vessel on which the applicant is employed. The employer must maintain a detailed record of the seaman's total service on all authorized U.S. flag large passenger vessels, and must make that information available to the Coast Guard upon request, to demonstrate that the limitations of § 12.811(c) of this subpart have not been exceeded.

(d) In the event that the seaman's MMC and/or TWIC expires, the seaman's visa status terminates, the seaman serves onboard the U.S. flag large passenger vessel(s) for 36 months in the aggregate as a nonimmigrant crewman, the employer terminates employment of the seaman, or, if the seaman otherwise ceases working with the employer, the employer must return the MMC to the Coast Guard and/or the TWIC to the Transportation Security Administration (TSA) within 10 days of the event.

(e) In addition to the initial material disciplinary actions report and the initial employer-conducted background check specified in paragraph (a) of this section, the employer must:

(1) Submit to the National Maritime Center an annual material disciplinary actions report to update whether there have been any material disciplinary actions related to the applicant since the last material disciplinary actions report was submitted to the Coast Guard. The annual material disciplinary actions report must:

(i) Be submitted to the satisfaction of the Coast Guard in accordance with the same criteria set forth in paragraph (a)(1) of this section, except that the period of time examined for the material disciplinary actions report need only extend back to the date of the last material disciplinary actions report; and

(ii) Be submitted to the Coast Guard on or before the anniversary of the issuance date of the MMC; and

(2) Conduct a background check each year that the MMC is valid to search for any changes that might have occurred since the last employer-conducted background check was performed. The annual background check must:

(i) Be conducted to the satisfaction of the Coast Guard in accordance with the same criteria set forth in paragraph (a)(2) of this section, except that the period of time examined during the annual background check need only extend back to the date of the last background check; and

(ii) Be submitted to the Coast Guard on or before the anniversary of the issuance date of the MMC.

(f) The employer is subject to the civil penalty provisions specified in 46 U.S.C. 8103(f) for any violation of this section.

§ 12.807 Basis for denial.

In addition to the requirements for an MMC established elsewhere in this subchapter, and the basis for denial established in §§ 10.209, 10.211, and 10.213 of this subchapter, an applicant for an MMC issued pursuant to this subpart must:

(a) Have been employed for a period of at least 1 year on a foreign flag passenger vessel that is under the same common ownership or control as the U.S. flag large passenger vessel, on which the applicant will be employed upon issuance of an MMC under this subpart;

(b) Have no record of material disciplinary actions during the employment required under paragraph (a) of this section, as verified in writing by the owner or managing operator of the U.S. flag large passenger vessel on which the applicant will be employed;

(c) Have successfully completed an employer-conducted background check to the satisfaction of both the employer and the Coast Guard; and

(d) Meet the citizenship and identity requirements of § 12.809 of this subpart.

§ 12.809 Citizenship and identity.

(a) Instead of the requirements of § 10.221 of this subchapter, a non-resident alien may apply for a Coast Guard-issued MMC, endorsed and valid only for service in the steward's department of a U.S. flag large passenger vessel, as defined in 46 U.S.C. 8103(k)(5)(B), if he or she is employable in the United States under the Immigration and Nationality Act (8 U.S.C. 1101, et seq.), including an alien crewman described in section 101(a)(15)(D)(i) of that Act.

(b) To meet the citizenship and identity requirements of this subpart, an applicant must present an unexpired passport issued by the government of the country of which the applicant is a citizen or subject; and either a valid U.S. C-1/D Crewman Visa or other valid U.S. visa or authority deemed acceptable by the Coast Guard.

(c) Any non-resident alien applying for an MMC under this subpart may not be a citizen of, or a temporary or permanent resident of, a country designated by the Department of State as a “State Sponsor of Terrorism” pursuant to section 6(j) of the Export Administration Act of 1979 (50 U.S.C. App. 2405(j)) or section 620A of the Foreign Assistance Act of 1961 (22 U.S.C. 2371).

§ 12.811 Restrictions.

(a) An MMC issued to a non-resident alien under this subpart authorizes service only in the steward's department of the U.S. flag large passenger vessel(s), that is/are under the same common ownership and control as the foreign flag passenger vessel(s), on which the non-resident alien served to meet the requirements of § 12.807(a) of this subpart:

(1) The MMC will be endorsed for service in the steward's department in accordance with § 12.703 of this part;

(2) The MMC may also be endorsed for service as a food handler if the applicant meets the requirements of § 12.703 of this part; and

(3) No other rating or endorsement is authorized, except lifeboatman or lifeboatman-limited, in which case all applicable requirements of this subchapter and the STCW Convention and STCW Code (incorporated by reference, see § 12.103 of this part) must be met.

(b) The following restrictions must be printed on the MMC, or be listed in an accompanying Coast Guard letter, or both:

(1) The name and official number of all U.S. flag vessels on which the non-resident alien may serve. Service is not authorized on any other U.S. flag vessel;

(2) Upon issuance, the MMC must remain in the custody of the employer at all times;

(3) Upon termination of employment, the MMC must be returned to the Coast Guard within 10 days in accordance with § 12.805 of this subpart;

(4) A non-resident alien issued an MMC under this subpart may not perform watchstanding, engineroom duty watch, or vessel navigation functions; and

(5) A non-resident alien issued an MMC under this subpart may perform emergency-related duties, provided:

(i) The emergency-related duties do not require any other rating or endorsement, except lifeboatman or lifeboatman-limited as specified in paragraph (a)(3) of this section;

(ii) The non-resident alien has completed familiarization and basic safety training (BST), as required in § 15.1105 of this subchapter;

(iii) That if the non-resident alien serves as a lifeboatman or lifeboatman-limited, he or she must have the necessary lifeboatman or lifeboatman-limited endorsement; and

(iv) The non-resident alien has completed the training for crewmembers on passenger ships performing duties involving safety or care for passengers, as required in § 15.1103 of this subchapter.

(c) A non-resident alien may only serve for an aggregate period of 36 months of actual service on all authorized U.S. flag large passenger vessels combined under the provisions of this subpart.

(d) Once this 36-month limitation is reached, the MMC becomes invalid and must be returned to the Coast Guard under § 12.805(d) of this subpart, and the non-resident alien is no longer authorized to serve in a position requiring an MMC on any U.S. flag large passenger vessel.

(e) An individual who successfully adjusts his or her immigration status to become either an alien lawfully admitted for permanent residence to the United States, or citizen of the United States, may apply for an MMC, subject to the requirements of § 10.221 of this subchapter, without any restrictions or limitations imposed by this subpart.

§ 12.813 Alternative means of compliance.

(a) The owner or managing operator of a U.S. flag large passenger vessel seeking to employ non-resident aliens issued MMCs under this subpart may submit a plan to the Coast Guard, which, if approved, will serve as an alternative means of complying with the requirements of this subpart.

(b) The plan must address all the elements contained in this subpart, as well as the related elements contained in § 15.530 of this subchapter, to the satisfaction of the Coast Guard.

Subpart I—Crewmembers on a Passenger Ship on an International Voyage

§ 12.901 Purpose of rules.

The rules in this subpart establish requirements for the qualification of ratings serving on passenger ships as defined in § 12.903 of this part.

§ 12.903 Definitions.

Passenger ship in this subpart means a ship carrying more than 12 passengers when on an international voyage.

§ 12.905 General requirements.

(a) Any seafarer may serve on a passenger vessel on an international voyage and perform duties that involve safety or care for passengers, only after:

(1) Meeting the appropriate requirements of the STCW Regulation V/2 and of section A-V/2 of the STCW Code (incorporated by reference, see § 12.103 of this part); and

(2) Holding documentary evidence to show that the mariner meets these requirements through approved or accepted training.

(b) Seafarers who are required to be trained in accordance with paragraph (a)(1) of this section must, at intervals not exceeding 5 years, provide evidence of maintaining the standard of competence.

(c) The Coast Guard will accept onboard training and experience, through evidence of 1 year of sea service within the last 5 years, as meeting the requirements of paragraph (a)(2) of this section.

(d) Personnel serving onboard small passenger vessels engaged in domestic, near-coastal voyages, as defined in § 15.103 of this subchapter, are not subject to any further obligation for the purpose of this STCW requirement.

PART 13—CERTIFICATION OF TANKERMAN

32. The authority citation for part 13 continues to read as follows:

Authority: 44 U.S.C. 3507; 46 U.S.C. 3703, 7317, 8703, 9102; Department of Homeland Security Delegation No. 0170.1.

33. Revise § 13.101 to read as follows:

§ 13.101 Purpose.

This part describes the various tankerman endorsements issued by the Coast Guard on a merchant mariner credential (MMC).

(a) This part prescribes the requirements for the following endorsements:

(1) Tankerman-PIC;

(2) Tankerman-PIC (Barge);

(3) Tankerman-assistant; and

(4) Tankerman-engineer.

(b) This part prescribes the requirements for the following STCW endorsements:

(1) Advanced oil tanker cargo operation;

(2) Advanced chemical tanker cargo operation;

(3) Advanced liquefied gas tanker cargo operation;

(4) Basic oil and chemical tanker cargo operation; and

(5) Basic liquefied gas tanker cargo operation.

34. Add § 13.103 to read as follows:

§ 13.103 Incorporation by reference.

(a) Certain material is incorporated by reference into this part with the approval of the Director of the Federal Register under 5 U.S.C. 552(a) and 1 CFR part 51. To enforce any edition other than that specified in this section, the Coast Guard must publish a notice of change in the Federal Register and the material must be available to the public. All approved material is available for inspection at the National Archives and Records Administration (NARA). For information on the availability of this material at NARA, call 202-741-6030 or go to http://www.archives.gov/federal_register/code_of_federal_regulations/ibr_locations.html. Also, it is available for inspection at the Coast Guard, Office of Operating and Environmental Standards (CG-5221), 2100 2nd St., SW., Stop 7126, Washington, DC 20593-7126, 202-372-1405, and is available from the sources indicated in this section.

(b) International Maritime Organization (IMO), 4 Albert Embankment, London SE1 7SR, England:

(1) The Seafarers' Training, Certification and Watchkeeping Code, as amended (the STCW Code), approved for incorporation by reference in §§ 13.601, 13.603, 13.605, 13.607, and 13.609; and

(2) [Reserved]

§ 13.106 [Amended]

35. In § 13.106, remove the word “chapter” and add, in its place, the word “subchapter”.

36. Amend § 13.107 as follows:

a. In paragraph (a), remove the words “OCMI at an REC” and add, in their place, the words “Coast Guard”; remove the words ““Tankerman-PIC”” and add, in their place, the words “tankerman-PIC”; and remove the words “Tankerman-Engineer” and add, in their place, the words “tankerman-engineer”;

b. In paragraph (b), remove the words “OCMI at an REC” and add, in their place, the words “Coast Guard”; and remove the words ““Tankerman-PIC (Barge)”” and add, in their place, the words “tankerman-PIC (barge)”;

c. In paragraph (c), remove the words “OCMI at an REC” and add, in their place, the words “Coast Guard”; remove the words ““Tankerman-Assistant”” and add, in their place, the words “tankerman-assistant”; and remove the word “shall” and add, in its place, the word “must”;

d. Revise paragraphs (d) and (e) to read as set down below; and

e. Remove paragraphs (f) and (g).

§ 13.107 Tankerman endorsement: General.

* * * * *

(d) If an applicant meets the requirements of subpart E of this part, the Coast Guard may endorse his or her MMC as tankerman-engineer. No person holding this endorsement may act as a PIC or tankerman-assistant of any transfer of liquid cargo in bulk, or of cargo-tank cleaning unless he or she also holds an endorsement authorizing such service. A person holding this endorsement and acting in this capacity has the primary responsibility, on his or her self-propelled tank vessel carrying dangerous liquid (DL) or liquefied gas (LG), for maintaining both the cargo systems and equipment for transfer of liquids in bulk; and for maintaining and operating the bunkering systems and equipment, including the loading of fuel oil. No person licensed or credentialed under part 11 of this chapter may serve as a chief engineer, first assistant engineer, or cargo engineer aboard an inspected self-propelled tank vessel when liquid cargo in bulk or cargo residue is carried unless he or she holds this endorsement or equivalent.

(e) If an applicant meets the requirements of § 13.111 of this subpart, the Coast Guard may place on his or her MMC an endorsement as a tankerman-PIC restricted according to the definitions of “restricted tankerman endorsement” in § 10.107 of this subchapter.

§ 13.109 [Amended]

37. Amend § 13.109 as follows:

a. In paragraph (a), after the words “described in § 13.107”, add the words “, except for § 13.107(d)”; and

b. Remove paragraph (c).

38. Revise § 13.111 to read as follows:

§ 13.111 Restricted tankerman endorsement.

(a) An applicant may apply for a tankerman endorsement restricted to specific cargoes, specific vessels, or groups of vessels (such as uninspected towing vessels and Oil Spill Response Vessels), specific facilities, and/or specific employers. The Coast Guard will evaluate each application and may modify the applicable requirements for the endorsement, allowing for special circumstances and for whichever restrictions the endorsement will state.

(b) To qualify for a restricted tankerman-PIC endorsement, an applicant must meet §§ 13.201 (excluding paragraph (c)(4)), 13.203, and 13.205 of this part.

(1) Twenty-five percent of the service described in § 13.203(a) of this part must have occurred within the past 5 years.

(2) Two of the transfers described in § 13.203(b) of this part must have occurred within the past 5 years.

(c) To qualify for a restricted tankerman-PIC (barge) endorsement, an applicant must meet §§ 13.301 (excluding paragraph (c)(4)), 13.303, and 13.305 of this part.

(1) Twenty-five percent of the service described in § 13.303(a) of this part must have occurred within the past 5 years.

(2) Two of the transfers described in § 13.303(b) of this part must have occurred within the past 5 years.

(d) To qualify for a restricted tankerman-PIC (barge) endorsement restricted to a tank-cleaning and gas-freeing facility, an applicant must—

(1) Be at least 18 years old;

(2) Apply on a form provided by the Coast Guard;

(3) Present evidence of passing a physical and medical examination according to § 13.125 of this part;

(4) Present evidence in the form of a letter, which must be dated within the 5 years prior to the application of the credential, on company letterhead from the operator of the facility stating that OSHA considers the applicant a “competent person (as designated under 29 CFR 1915.7)” for the facility and that the applicant has the knowledge necessary to supervise tank-cleaning and gas-freeing; and

(5) Be capable of speaking and understanding, in English, all instructions needed to commence, conduct, and complete a transfer of cargo, and of reading and understanding the English found in the Declaration of Inspection, vessel response plans, and Cargo Information Cards.

(e) The restricted tankerman-PIC (barge) endorsement restricted to a tank-cleaning and gas-freeing facility is valid only while the applicant is employed by the operator of the facility that provided the letter of service required by paragraph (d)(4) of this section, and this and any other appropriate restrictions will appear in the endorsement.

(f) A restricted tankerman-PIC endorsement limited to operation on vessels inside the boundary line is not valid where STCW certification is required.

39. Add § 13.115 to read as follows:

§ 13.115 Chemical testing requirements.

Each applicant for an original tankerman endorsement must provide evidence of having passed a chemical test for dangerous drugs or of qualifying for an exemption from testing in § 16.220 of this chapter as specified in § 10.225(b)(5) of this subchapter.

40. Add § 13.117 to read as follows:

§ 13.117 Re-issuance of expired tankerman endorsements

Whenever an applicant applies for re-issuance of an endorsement as any tankerman rating more than 12 months after expiration of the previous endorsement, the applicant must meet the requirements for an original endorsement.

41. Revise § 13.120 to read as follows:

§ 13.120 Renewal of tankerman endorsement.

An applicant seeking renewal of a tankerman endorsement or an STCW endorsement valid for service on tank vessels must meet the requirements of § 10.227 of this subchapter, except § 10.227(e)(1), for renewing an MMC and meet the following additional requirements:

(a) For endorsements as tankerman-PIC, advanced oil and chemical tanker cargo operation; and advanced liquefied gas tanker cargo operations, present evidence of:

(1) At least 90 days of service during the preceding 5 years onboard a tank vessel for which the endorsement is valid, performing duties appropriate to the tankerman endorsement held; and

(2) Participation in at least two transfers of liquid cargo in bulk of the type for which the endorsement is valid within the preceding 5 years; or

(3) Completion of an approved course for Tankship: Dangerous Liquids or Tankship: Liquefied Gases, appropriate for the endorsement to be renewed, within the previous 5 years.

(b) For endorsements as tankerman-assistant, basic oil and chemical tanker cargo operation; and basic liquefied gas tanker cargo operations, present evidence of:

(1) At least 90 days of service during the preceding 5 years onboard a tank vessel for which the endorsement is valid, performing duties appropriate to the tankerman endorsement held; or

(2) Completion of an approved course for Tankship: Dangerous Liquids or Tankship: Liquefied Gases, appropriate for the endorsement to be renewed, within the previous 5 years.

(c) For endorsements as tankerman-PIC (Barge), present evidence of:

(1) Participation in at least two transfers of liquid cargo in bulk of the type for which the endorsement is valid, within the preceding 5 years; or

(2) Completion of a course approved for this purpose, appropriate for the endorsement to be renewed, within the previous 5 years.

(d) For endorsements as tankerman-engineer, present evidence of:

(1) At least 90 days of service during the preceding 5 years onboard a tank vessel for which the endorsement is valid, performing duties appropriate to the tankerman endorsement held; or

(2) Completion of a course approved for this purpose, appropriate for the endorsement to be renewed, within the previous 5 years.

42. Revise § 13.121 to read as follows:

§ 13.121 Courses for tankerman endorsements.

(a) This section prescribes the requirements, beyond those in §§ 10.302 and 10.304 of this subchapter, applicable to schools offering courses required for a tankerman endorsement and courses that are a substitute for experience with transfers of liquid cargo in bulk required for the endorsement.

(b) A course that uses simulated transfers to train students in loading and discharging tank vessels may replace up to two loadings and two discharges, one commencement and one completion of loading, and one commencement and one completion of discharge required for a tankerman-PIC or tankerman-PIC (barge) endorsement. The request for approval of the course must specify those segments of a transfer that the course will simulate. The letter from the Coast Guard approving the course will state the number and kind of segments that the course will replace.

(c) The course in liquid cargo required for an endorsement as—

(1) Tankerman-PIC DL is Tankship: Dangerous Liquids;

(2) Tankerman-PIC (barge) DL is Tank Barge: Dangerous Liquids;

(3) Tankerman-PIC LG is Tankship: Liquefied Gases;

(4) Tankerman-PIC (barge) LG is Tank Barge: Liquefied Gases;

(5) Tankerman assistant DL is Tankship: Familiarization (Dangerous Liquids);

(6) Tankerman assistant LG is Tankship: Familiarization (Liquefied Gases);

(7) Tankerman-engineer DL is Tankship: Dangerous Liquids; and

(8) Tankerman-engineer LG is Tankship: Liquefied Gases.

(d) The course in firefighting required for an endorsement as—

(1) Tankerman-PIC (barge) is Tank Barge: Firefighting; and

(2) Tankerman-PIC, tankerman-assistant, and tankerman-engineer is basic firefighting.

(e) The Coast Guard will evaluate and approve the curricula of courses to ensure adequate coverage of the required subjects. Training may employ classroom instruction, demonstrations, or simulated or actual operations.

(1) The course curricula for Tankship Familiarization must consist of the topics identified in Table 1 to § 13.121.

(2) The course curricula for tankerman-PIC, tankerman-PIC (barge), and tankerman-engineer endorsements must consist of the topics identified in Table 2 to § 13.121.

(3) The course curricula for firefighting courses must consist of the topics identified in Table 3 to § 13.121.

Table 1 to § 13.121
Tankerman-assistant topics | 1 | 2
Basic knowledge of tankers:
Types of oil and chemical vessels or liquefied gas tanker vessels | X | X
General arrangement and construction | X | X
Basic knowledge of cargo operations:
Piping systems and valves | X | X
Cargo pumps and cargo handling equipment | X | X
Loading and unloading and care in transit | X | X
Tank cleaning, purging, gas-freeing and inerting | X | X
Basic knowledge of the physical properties of oil and chemicals:
Pressure and temperature, including vapor pressure/temperature relationship | X
Types of electrostatic charge generation | X
Chemical symbols | X
Basic knowledge of the physical properties of liquefied gases, including:
Properties and characteristics |  | X
Pressure and temperature, including vapor pressure/temperature relationship |  | X
Types of electrostatic charge generation |  | X
Chemical symbols |  | X
Knowledge and understanding of tanker safety culture and safety management | X | X
Basic knowledge of the hazards associated with tanker operations, including:
Health hazards | X | X
Environmental hazards | X | X
Reactivity hazards | X | X
Corrosion hazards | X | X
Explosion and flammability hazards | X | X
Sources of ignition | X | X
Electrostatic hazards | X | X
Toxicity hazards | X | X
Vapor leaks and clouds | X | X
Extremely low temperatures |  | X
Pressure hazards |  | X
Basic knowledge of hazard controls:
Inerting, water padding, drying agents and monitoring techniques | X | X
Anti-static measures | X | X
Ventilation | X | X
Segregation | X | X
Cargo inhibition | X | X
Importance of cargo compatibility | X | X
Atmospheric control | X | X
Gas testing | X | X
Understanding of information on a Material Safety Data Sheet (MSDS) | X | X
Function and proper use of gas-measuring instruments and similar equipment | X | X
Proper use of safety equipment and protective devices, including:
Breathing apparatus and tank-evacuating equipment | X | X
Protective clothing and equipment | X | X
Resuscitators | X | X
Rescue and escape equipment | X | X
Basic knowledge of safe working practices and procedures in accordance with legislation and industry guidelines and personal shipboard safety relevant to oil and chemical tankers, including:
Precautions to be taken when entering enclosed spaces | X | X
Precautions to be taken before and during repair and maintenance work | X | X
Safety measures for hot and cold work | X | X
Electrical safety | X | X
Ship/shore safety checklist | X | X
Basic knowledge of first aid with reference to a Material Safety Data Sheet (MSDS) | X | X
Basic knowledge of emergency procedures, including emergency shutdown | X | X
Basic knowledge of the effects of oil and chemical pollution on human and marine life | X | X
Basic knowledge of shipboard procedures to prevent pollution | X | X
Basic knowledge of measures to be taken in the event of spillage, including the need to:
Report relevant information to the responsible persons | X | X
Assist in implementing shipboard spill-containment procedures | X | X
Prevent brittle fracture |  | X
Column 1—Tankerman-Assistant DL.
Column 2—Tankerman-Assistant LG.

Table 2 to § 13.121
Tankerman-PIC and tankerman-PIC (Barge) course topics | 1 | 2 | 3 | 4
General characteristics, compatibility, reaction, firefighting procedures, and safety precautions for the cargoes of:
Bulk liquids defined as Dangerous Liquids in 46 CFR Part 13 | X | X |  |
Bulk liquefied gases & their vapors defined as Liquefied Gases in 46 CFR Part 13 |  |  | X | X
Knowledge and understanding of the physical and chemical properties of oil and chemical cargoes | X |  |  |
Physical phenomena of liquefied gas, including:
Basic concept |  |  | X | X
Compression and expansion |  |  | X | X
Mechanism of heat transfer |  |  | X | X
Potential hazards of liquefied gas, including:
Chemical and physical properties |  |  | X | X
Combustion characteristics |  |  | X | X
Results of gas release to the atmosphere |  |  | X | X
Health hazards (skin contact, inhalation, and ingestion) |  |  | X | X
Control of flammability range with inert gas |  |  | X | X
Thermal stress in structure and piping of vessel |  |  | X | X
Cargo systems, including:
Principles of containment systems | X | X | X | X
Construction, materials, coating, & insulation of cargo tanks |  |  | X | X
General arrangement of cargo tanks | X | X | X | X
Venting and vapor-control systems | X | X | X | X
Cargo-handling systems, including:
Piping systems, valves, pumps, and expansion systems | X | X | X | X
Operating characteristics | X | X | X | X
Instrumentation systems, including:
Cargo-level indicators | X | X | X | X
Gas-detecting systems | X |  | X | X
Temperature-monitoring systems, cargo | X |  | X | X
Temperature-monitoring systems, hull |  |  | X | X
Automatic-shutdown systems | X |  | X | X
Auxiliary systems, including:
Ventilation, inerting | X | X | X | X
Valves, including:
Quick-closing | X | X | X | X
Remote-control | X | X | X | X
Pneumatic | X | X | X | X
Excess-flow | X | X | X | X
Safety-relief | X | X | X | X
Pressure-vacuum | X | X | X | X
Heating-systems: cofferdams & ballast tanks |  |  | X | X
Operations connected with the loading and discharging of cargo, including:
Lining up the cargo and vapor-control systems | X | X | X | X
Pre-transfer inspections and completion of the Declaration of Inspection | X | X | X | X
Hooking up of cargo hose, loading arms, and grounding-strap | X | X | X | X
Starting of liquid flow | X | X | X | X
Calculation of loading rates | X |  | X |
Discussion of loading | X | X | X | X
Ballasting and deballasting | X | X | X | X
Topping off of the cargo tanks | X | X | X | X
Discussion of discharging | X | X | X | X
Stripping of the cargo tanks | X | X |  |
Monitoring of transfers | X | X | X | X
Gauging of cargo tanks | X | X | X | X
Disconnecting of cargo hoses or loading arms | X | X | X | X
Cargo-tank-cleaning procedures and precautions | X | X |  |
Slop arrangements | X |  |  |
Ship-to-ship transfers | X |  |  |
Operating procedures and sequence for:
Inerting of cargo tanks and void spaces | X | X | X | X
Cooldown and warmup of cargo tanks |  |  | X | X
Gas-freeing | X | X | X | X
Loaded or ballasted voyages | X |  | X |
Testing of cargo-tank atmospheres for oxygen & cargo vapor | X | X | X | X
Stability and stress considerations connected with loading and discharging of cargo | X | X | X | X
Loadline, draft, and trim | X | X | X | X
Disposal of boil-off, including:
System design |  |  | X | X
Safety features |  |  | X | X
Stability-letter requirements | X |  | X |
Emergency procedures, including notice to appropriate authorities, for:
Fire | X | X | X | X
Collision | X | X | X | X
Grounding | X | X | X | X
Equipment failure | X | X | X | X
Leaks and spills | X | X | X |
Structural failure | X | X | X | X
Emergency discharge of cargo | X | X | X | X
Entering cargo tanks | X | X | X | X
Emergency shutdown of cargo-handling | X | X | X | X
Emergency systems for closing cargo tanks | X | X |  |
Rules & regulations (international and Federal, for all tank vessels) on conducting operations and preventing pollution | X | X | X | X
Pollution prevention, including:
Procedures to prevent air and water pollution | X | X | X | X
Measures to take in event of spillage | X | X | X | X
Danger from drift of vapor cloud | X | X | X | X
Environmental protection equipment, including oil discharge monitoring equipment | X |  |  |
Terminology for tankships carrying oil and chemicals | X |  |  |
Terminology for tank barges carrying oil and chemicals |  | X |  |
Terminology for tankships carrying liquefied gases |  |  | X |
Terminology for tank barges carrying liquefied gases |  |  |  | X
Principles & procedures of crude-oil-washing (COW) systems, including:
Purpose | X |  |  |
Equipment and design | X |  |  |
Operations | X |  |  |
Safety precautions | X |  |  |
Maintenance of plant and equipment | X |  |  |
Principles & procedures of the inert-gas systems (IGSs), including:
Purpose | X |  | X |
Equipment and design | X |  | X |
Operations | X |  | X |
Safety precautions | X |  | X |
Maintenance of plant and equipment | X |  | X |
Principles & procedures of vapor-control systems, including:
Purpose | X | X | X | X
Principles | X | X | X | X
Coast Guard regulations | X | X | X | X
Hazards | X | X | X | X
Active system components | X | X | X | X
Passive system components | X | X | X | X
Operating procedures, including:
Testing and inspection requirements | X | X | X | X
Pre-transfer procedures | X | X | X | X
Connecting sequence | X | X | X | X
Start-up sequence | X | X | X | X
Normal operations | X | X | X | X
Loading and unloading plans | X |  |  |
Emergency procedures | X | X | X | X
Cargo-hazard-information systems | X | X | X | X
Safe entry into confined spaces, including:
Testing tank atmospheres for oxygen & hydrocarbon vapors | X | X |  |
Definition and hazards of confined spaces | X | X | X | X
Cargo tanks and pumprooms | X | X | X | X
Evaluation and assessment of risks and hazards | X | X | X | X
Safety precautions and procedures | X | X | X | X
Enclosed space rescue | X |  |  |
Personnel protective equipment (PPE) and clothing | X | X | X | X
Maintenance of PPE | X | X | X | X
Dangers of skin contact | X | X | X | X
Inhalation of vapors | X | X |  |
Electricity and static electricity—hazards and precautions | X | X | X | X
Emergency procedures | X | X | X | X
Federal regulations, national standards & industry guidelines | X | X | X | X
Inspections by marine chemists & competent persons, including hot-work permits & procedures | X | X | X | X
Vessel response plans:
Purpose, content, and location of information | X | X | X | X
Procedures for notice and mitigation of spills | X | X | X | X
Geographic-specific appendices | X | X | X | X
Vessel-specific appendices | X | X | X | X
Emergency-action checklist | X | X | X | X
Column 1—Tankship: Dangerous Liquids.
Column 2—Tank Barge: Dangerous Liquids.
Column 3—Tankship: Liquefied Gases.
Column 4—Tank Barge: Liquefied Gases.

Table 3 to 1 § 3.121
Firefighting course topics | 1 | 2
Elements of fire (Fire triangle):
Fuel | X | X
Source of ignition | X | X
Oxygen | X | X
Ignition sources (general):
Chemical |  | X
Biological |  | X
Physical |  | X
Ignition sources applicable to barges | X |
Definitions of flammability and combustibility:
Flammability | X | X
Ignition point | X | X
Burning temperature | X | X
Burning speed |  | X
Thermal value |  | X
Lower flammable limit | X | X
Upper flammable limit | X | X
Flammable range | X | X
Inerting |  | X
Static electricity | X | X
Flash point | X | X
Auto-ignition | X | X
Spread of fire:
By radiation | X | X
By convection | X | X
By conduction | X | X
Reactivity | X | X
Fire classifications and applicable extinguishing agents | X | X
Main causes of fires:
Oil leakage | X | X
Smoking | X | X
Overheating pumps | X | X
Galley appliances |  | X
Spontaneous ignition | X | X
Hot work | X | X
Electrical apparatus |  | X
Reaction, self-heating, and auto-ignition |  | X
Fire prevention:
General | X | X
Fire hazards of DL and LG | X | X
Fire detection:
Fire- and smoke-detection systems |  | X
Automatic fire alarms |  | X
Firefighting equipment:
Fire mains, hydrants |  | X
International shore-connection |  | X
Smothering-installations, carbon dioxide (CO2), foam |  | X
Halogenated hydrocarbons |  | X
Pressure-water spray system in special-category spaces |  | X
Automatic sprinkler system |  | X
Emergency fire pump, emergency generator |  | X
Chemical-powder applicants |  | X
General outline of required and mobile apparatus |  | X
Fireman's outfit, personal equipment |  | X
Breathing apparatus |  | X
Resuscitation apparatus |  | X
Smoke helmet or mask |  | X
Fireproof life-line and harness |  | X
Fire hose, nozzles, connections, and fire axes |  | X
Fire blankets |  | X
Portable fire extinguishers | X | X
Limitations of portable and semiportable extinguishers | X | X
Emergency procedures:
Arrangements:
Escape routes | X | X
Means of gas-freeing tanks | X | X
Class A, B, and C divisions |  | X
Inert-gas system |  | X
Ship firefighting organization:
General alarms |  | X
Fire-control plans, muster stations, and duties |  | X
Communications |  | X
Periodic shipboard drills |  | X
Patrol system |  | X
Basic firefighting techniques:
Sounding alarm | X | X
Locating and isolating fires | X | X
Stopping leakage of cargo | X | X
Jettisoning |  | X
Inhibiting |  | X
Cooling |  | X
Smothering |  | X
Sizing up situation | X |
Locating information on cargo | X |
Extinguishing | X | X
Extinguishing with portable units | X | X
Setting reflash watch | X | X
Using additional personnel | X | X
Firefighting extinguishing-agents:
Water (solid jet, spray, fog, and flooding) |  | X
Foam (high, medium and low expansion) |  | X
Carbon dioxide (CO2) | X | X
Halon |  | X
Aqueous-film-forming foam (AFFF) |  | X
Dry chemicals | X | X
Use of extinguisher on:
Flammable and combustible liquids | X | X
Manifold-flange fire | X | X
Drip-pan fire | X | X
Pump fire | X | X
Drills for typical fires on barges | X |
Field exercises:
Extinguish small fires using portable extinguishers:
Electrical | X | X
Manifold-flange | X | X
Drip-pan | X | X
Pump | X | X
Use self-contained breathing apparatus |  | X
Extinguish extensive fires with water |  | X
Extinguish fires with foam, or chemical |  | X
Fight fire in smoke-filled enclosed space wearing SCBA |  | X
Extinguish fire with water fog in an enclosed space with heavy smoke |  | X
Extinguish oil fire with fog applicator and spray nozzles, dry-chemical, or foam applicators |  | X
Effect a rescue in a smoke-filled space while wearing breathing apparatus |  | X
(1) Tankerman-PIC (Barge).
(2) Tankerman-PIC, tankerman-engineer, and tankerman-assistant.

§ 13.123 [Amended]

43. In § 13.123, remove the word “shall” and add, in its place, the word “must”; remove the symbol “%” and add, in its place, the word “percent”; and remove the word “five” and add, in its place, the number “5”.

§ 13.125 [Amended]

44. In § 13.125, remove the word “shall” and add, in its place, the word “must”; and after the words “physical requirements of”, remove the words “§ 10.215 of this chapter, excluding paragraph (d)(2) of that section” and add, in their place, the words “part 10, subpart C”.

45. Amend § 13.127 as follows:

a. Revise paragraph (a) to read as set down below;

b. In paragraph (b) introductory text, remove the words “paragraph (a)(2)” and add, in their place, the words “paragraph (a)(3)”;

c. In paragraphs (b)(2) and (b)(5), remove the word “four” and add, in its place, the number “4”;

d. In paragraph (b)(4), after the word “one discharge”, remove the word “a” and add, in its place, the words “conducted during each”;

e. In paragraph (b)(6), remove the word “cargo” wherever it appears;

f. In paragraph (b)(7), after the words “Declaration of Inspection, the connection of”, remove the word “cargo”; and after the words “the start of the”, remove the word “cargo”; and

g. In paragraph (b)(9), remove the words “§ 13.203(b) or 13.303(b)” and add, in their place, the words “§§ 13.203(b) or 13.303(b) of this subchapter”.

§ 13.127 Service: General.

(a) A service letter must be signed by the owner, operator, master, or chief engineer of the vessel and must specify—

(1) The name of the vessel, official number for the vessel, and date of service for each vessel;

(2) For endorsements as tankerman-PIC, tankerman-PIC (barge), and tankerman-assistant, the classification of cargo (DL, LG, or, for a restricted endorsement, a specific product) handled while the applicant accumulated the service;

(3) The dates, the numbers and kinds of transfers the applicants have participated in, the ports or terminals, and the number of transfers that involved commencement or completion of loading or discharge; and

(4) For endorsements as tankerman-PIC or tankerman-PIC (barge), that the applicant has demonstrated to the satisfaction of the signer that he or she is fully capable of supervising transfers of liquid cargo, including—

(i) Pre-transfer inspection;

(ii) Pre-transfer conference and execution of the Declaration of Inspection;

(iii) Connection of cargo hoses or loading-arms;

(iv) Line-up of the cargo system for loading and discharge;

(v) Start of liquid flow during loading;

(vi) Start of cargo pump and increase of pressure to normal discharge pressure;

(vii) Calculation of loading-rates;

(viii) Monitoring;

(ix) Topping-off of cargo tanks during loading;

(x) Stripping of cargo tanks;

(xi) Ballasting and deballasting, if appropriate;

(xii) Disconnection of the cargo hoses or loading-arms; and

(xiii) Securing of cargo systems.

(5) For endorsements as tankerman-engineer, that the applicant has demonstrated to the satisfaction of the signer that he or she is fully capable of supervising transfers of fuel oil, including:

(i) Pre-transfer inspection;

(ii) Pre-transfer conference and execution of the Declaration of Inspection;

(iii) Connection of hoses or loading-arms;

(iv) Line-up of the piping system for loading and transfer of fuel oil;

(v) Start of liquid flow during loading;

(vi) Calculation of loading rates;

(vii) Monitoring;

(viii) Topping-off of tanks during loading;

(ix) Disconnection of the hoses or loading arms; and

(x) Securing of fuel oil systems.

* * * * *

46. Revise § 13.129 to read as follows:

§ 13.129 Quick-reference table for tankerman endorsements.

Table 13.129 provides a guide to the requirements for various tankerman endorsements. Provisions in the reference sections are controlling.

Table 13.129
Category | Minimum age | Physical required | Service | Recency of service | Proof of service | Firefighting | Cargo Training | English language
Tankerman-PIC Subpart B | 18; 13.201(a) | Yes; Part 10, subpart C | 13.203 | 13.123 | 13.205 | 13.201(c)(3) | 13.201(c)(4) | 13.201(d)
Tankerman-PIC (Barge) Subpart C | 18; 13.301(a) | Yes; Part 10, subpart C | 13.303 | 13.123 | 13.305 | 13.301(c)(3) | 13.301(c)(4) | 13.301(d)
Tankerman-Assistant Subpart D | 18; 13.401(a) | Yes; Part 10, subpart C | 13.401(e)(2) | 13.123 | 13.405 | 13.401(d) | 13.401(e)(1) | 13.401(f)
Tankerman-Engineer Subpart E | 18; 13.501(a) | Yes; Part 10, subpart C | 13.503 | 13.123 | 13.505 | 13.501(c)(3) | 13.501(c)(4) | 13.501(d)
Restricted Tankerman-PIC | 18; 13.111(b) | Yes; Part 10, subpart C | 13.111(b) | 13.111(b) | 13.111(b) | 13.111(b) | No | 13.111(b)
Restricted Tankerman-PIC (Barge) | 18; 13.111(c) | Yes; Part 10, subpart C | 13.111(c) | 13.111(c) | 13.111(c) | 13.111(c) | No | 13.111(c)
Restricted Tankerman-PIC (Barge), Facility | 18; 13.111(d)(1) | Yes; Part 10, subpart C | 13.111(d)(4) | No | 13.111(d)(4) | No | No | 13.111(d)(5)

47. Revise the heading for subpart B to read as follows:

Subpart B—Requirements for Tankerman-PIC Endorsement

48. Revise § 13.201 to read as follows:

§ 13.201 Original application for tankerman-PIC endorsement.

Each applicant for an original tankerman-PIC endorsement must—

(a) Be at least 18 years old;

(b) Apply on a Coast Guard form;

(c) Present evidence of:

(1) Passing a physical and medical examination in accordance with § 13.125 of this part;

(2) Service on tankships in accordance with § 13.203 of this subpart;

(3) Completion of an approved firefighting course that provides training in the subjects listed in Table 13.121(g) of this part completed within 5 years of the date of application for the endorsement, unless he or she has previously submitted such a certificate for a license, tankerman endorsement, or officer endorsement on an MMC; and

(4) Completion of an approved course for Tankship: Dangerous Liquids or Tankship: Liquefied Gases appropriate to the endorsement applied for within the previous 5 years. A course certificate used for original issuance or renewal of an endorsement cannot be used for a subsequent renewal of the same endorsement.

(d) Be capable of speaking and understanding, in English, all instructions needed to commence, conduct, and complete a transfer of cargo, and be capable of reading and understanding the English language found in the Declaration of Inspection, vessel response plans, and Cargo Information Cards.

49. Amend § 13.203 as follows:

a. Revise the section heading to read as set down below;

b. In § 13.203 introductory text, remove the words ““Tankerman-PIC”” and add, in their place, the words “tankerman-PIC”; and remove the word “shall” and add, in its place, the word “must”;

c. In paragraph (a), remove the word “shall” and add, in its place, the word “must”; and

d. In paragraphs (b) and (c), remove the word “shall” and add, in its place, the word “must”; and remove the words ““Tankerman-PIC”” and add, in their place, the words “tankerman-PIC”.

§ 13.203 Service requirements.

* * * * *

50. Amend § 13.205 as follows:

a. Revise the section heading to read as set down below; and

b. In § 13.205 introductory text, remove the words “Service must be provided by” and add, in their place, the words “Proof of service must be provided in”.

§ 13.205 Proof of service for tankerman-PIC endorsement.

* * * * *

§ 13.207 [Removed]

51. Remove § 13.207.

§ 13.209 [Removed]

52. Remove § 13.209.

53. Revise the heading for subpart C to read as follows:

Subpart C—Requirements for Tankerman-PIC (Barge) Endorsement

54. Revise § 13.301 to read as follows:

§ 13.301 Original application for tankerman-PIC (barge) endorsement.

Each applicant for a tankerman-PIC (barge) endorsement must—

(a) Be at least 18 years old;

(b) Apply on a Coast Guard form;

(c) Present evidence of:

(1) Passing a physical and medical examination according to § 13.125 of this part;

(2) Service on tank vessels in accordance with § 13.303 of this subpart;

(3) Completion of an approved Tank-barge: Fire fighting course providing training in the subjects identified in Table 13.121(g) of this part completed within 5 years of the date of application for the endorsement, unless he or she has previously submitted such a certificate for a license, tankerman endorsement, or officer endorsement on an MMC; and

(4) Completion of an approved Tank Barge Dangerous Liquids or Tank Barge Liquefied Gases course appropriate for the endorsement applied for within the previous 5 years. A course certificate used for original issuance or renewal of an endorsement cannot be used for a subsequent renewal of the same endorsement; and

(d) Be capable of speaking, and understanding, in English, all instructions needed to commence, conduct, and complete a transfer of cargo, and be capable of reading and understanding the English language found in the Declaration of Inspection, vessel response plans, and Cargo Information Cards.

55. Amend § 13.303 to read as follows:

a. Revise the section heading to read as set down below;

b. In § 13.303 introductory text, remove the words “ “Tankerman-PIC (Barge)” ” and add, in their place, the words “tankerman-PIC (barge)”; and remove the word “shall” and add, in its place, the word “must”;

c. In paragraph (a), remove the word “shall” and add, in its place, the word “must”;

d. In paragraph (b), remove the words “ “Tankerman-PIC” or “Tankerman-PIC (barge),” ” and add, in their place, the words “tankerman-PIC or tankerman-PIC (barge),”; and

e. In paragraph (c), remove the words “Tankerman-PIC (Barge)” and add, in their place, the words “tankerman-PIC (barge)”; and remove the word “shall” and add, in its place, the word “must”.

§ 13.303 Service requirements.

* * * * *

56. Amend § 13.305 as follows:

a. Revise the section heading to read as set down below; and

b. In § 13.305 introductory text, remove the words “Service must be provided by” and add, in their place, the words “Proof of service must be provided in”; and remove the words “paragraph (a)(3)(vii)” and add, in their place, the words “paragraph (a)(4)(vii)”.

§ 13.305 Proof of service for tankerman-PIC (barge).

* * * * *

§ 13.307 [Removed]

57. Remove § 13.307.

§ 13.309 [Removed]

58. Remove § 13.309.

59. Revise the heading for subpart D to read as follows:

Subpart D—Requirements for Tankerman-Assistant Endorsement

60. Revise § 13.401 to read as follows:

§ 13.401 Original application for tankerman-assistant endorsement.

Each applicant for a tankerman-assistant endorsement must—

(a) Be at least 18 years old;

(b) Apply on a Coast Guard form;

(c) Present evidence of passing a physical and medical examination according to § 13.125 of this part;

(d) Present evidence of completion of an approved firefighting course providing training in the subjects identified in Table 13.121(g) of this part completed within 5 years of the date of application for the endorsement, unless he or she has previously submitted such a certificate for a license, tankerman endorsement, or officer endorsement on an MMC;

(e) Present evidence of either:

(1) Completion of an approved Tankship Familiarization course providing training in the subjects identified in Table 13.121(e) of this part within the previous 5 years. A course certificate used for original issuance or renewal of an endorsement cannot be used for a subsequent renewal of the same endorsement; or

(2) At least 90 days of deck service on tankships or self-propelled tank vessels certified to carry DL or LG appropriate to the endorsement applied for and successfully complete a professional examination for the topics identified in Table 13.121(e) of this part; and

(f) Be capable of speaking and understanding, in English, all instructions needed to commence, conduct, and complete a transfer of cargo.

61. Revise § 13.403 to read as follows:

§ 13.403 Service requirements.

(a) Each applicant already holding an MMD or MMC endorsed tankerman-assistant for DL and seeking one for LG, or the converse, must—

(1) Provide evidence of at least half the service required in § 13.401(e)(2) of this subpart; or

(2) Complete a course in DL or LG appropriate for the endorsement applied for as prescribed in § 13.401(e)(1) of this subpart and successfully complete a professional examination for the topics identified in Table 13.121(f) of this part.

62. Revise § 13.405 to read as follows:

§ 13.405 Proof of service for tankerman-assistant endorsement.

Service must be proved by either:

(a) A letter on company letterhead from the owner, operator, or master of a tankship or self-propelled tank vessel. The letter must specify—

(1) The name of the vessel(s), the applicable dates, and the port(s) or terminal(s);

(2) The classification of cargo (DL or LG) carried while the applicant accumulated the service;

(3) The number of days of deck service the applicant accumulated on the tankship or self-propelled tank vessel; and

(4) That the applicant has demonstrated an understanding of cargo transfer and a sense of responsibility that, in the opinion of the signer, will allow the applicant to safely carry out duties respecting cargo transfer and transfer equipment assigned by the PIC of the transfer without direct supervision by the PIC; or

(b) Certificates of Discharge from tankships with the appropriate classification of cargo (DL, LG, or both); and a letter on company letterhead from the owner, operator, or master of one of the tankships or self-propelled tank vessels stating that he or she has demonstrated—

(1) An understanding of cargo transfers; and

(2) A sense of responsibility that, in the opinion of the signer, will allow him or her to safely carry out duties respecting cargo and its equipment assigned by the PIC of the transfer without direct supervision by the PIC.

§ 13.407 [Removed]

63. Remove § 13.407.

§ 13.409 [Removed]

64. Remove § 13.409.

65. Revise the heading for subpart E to read as follows:

Subpart E—Requirements for Tankerman-Engineer Endorsement

66. Revise § 13.501 to read as follows:

§ 13.501 Original application for tankerman-engineer endorsement.

Each applicant for a tankerman-engineer endorsement must—

(a) Be at least 18 years old;

(b) Apply on a Coast Guard form;

(c) Present evidence of:

(1) Passing a physical and medical examination according to § 13.125 of this part;

(2) Service on tankships and self-propelled tank vessels in accordance with § 13.503 of this subpart;

(3) Completion of an approved firefighting course providing training in the subjects identified in Table 13.121(g) of this part completed within 5 years of the date of application for the endorsement, unless he or she has previously submitted such a certificate for a license, tankerman endorsement, or officer endorsement on an MMC; and

(4) Completion of an approved Tankship course in dangerous liquids or liquefied gases, appropriate for the endorsement applied for within the previous 5 years. A course certificate used for original issuance or renewal of an endorsement cannot be used for a subsequent renewal of the same endorsement; and

(d) Be capable of speaking and understanding, in English, all instructions needed to commence, conduct, and complete a transfer of cargo or fuel.

67. Amend § 13.503 as follows:

a. Revise the section heading to read as set down below;

b. In paragraph (a), remove the words “Tankerman-Engineer” and add, in their place, the words “tankerman-engineer”; and remove the word “shall” and add, in its place, the word “must”; and

c. Remove paragraph (b).

§ 13.503 Service requirements.

* * * * *

68. Amend § 13.505 as follows:

a. Revise the section heading to read as set down below;

b. Add new paragraph (a)(1) to read as set down below; and

c. In paragraph (b), remove the words “(DL, LG, or both)”.

§ 13.505 Proof of service for tankerman-engineer endorsement.

(a) * * *

(1) The name of the vessels, applicable dates, and ports or terminals;

* * * * *

§ 13.507 [Removed]

69. Remove § 13.507

§ 13.509 [Removed]

70. Remove § 13.509

71. Add new subpart F, consisting of §§ 13.601 through 13.609, to read as follows:

Subpart F—Requirements for STCW Tankerman Endorsements
Sec.
13.601 General.
13.603 Requirements to qualify for an STCW endorsement for advanced oil tanker cargo operations and advanced chemical tanker cargo operations.
13.605 Requirements to qualify for an STCW endorsement for advanced liquefied gas tanker cargo operations.
13.607 Requirements to qualify for an STCW endorsement for basic oil and chemical tanker cargo operations.
13.609 Requirements to qualify for an STCW endorsement for basic liquefied gas tanker cargo operations.

§ 13.601 General.

(a) When all tankerman endorsements are issued, renewed, or otherwise modified, the Coast Guard will determine, upon request, whether the applicant meets the requirements for an STCW tankerman endorsement for service on seagoing vessels. If the applicant is qualified, the Coast Guard will issue the appropriate endorsement.

(b) Applicants for an STCW tankerman endorsement must:

(1) Meet the training and service requirements for the endorsement sought; and

(2) Meet the appropriate standard of competence identified in the STCW Code (incorporated by reference, see § 13.103 of this part).

(c) The Coast Guard will accept the following proof as meeting the standards of competence:

(1) In-service experience: documentation of successful completion of assessments, approved or accepted by the Coast Guard, and signed by a seafarer with a higher credential, deck or engineering, as appropriate, than the assessment related to the credential sought by the applicant.

(2) Training ship experience: documentation of successful completion of an approved training program involving formal training and assessment onboard a school ship.

(3) Simulator training: documentation of successful completion of training and assessment from a Coast Guard-approved course involving maritime simulation.

(4) Training program: documentation in the form of a record of training attesting completion of a competence or a series of competences.

(d) The Coast Guard will publish assessment guidelines that should be used to document successful demonstrations of competence. Organizations may develop alternative assessment documentation for demonstrations of competence that must be approved by the Coast Guard prior to their use and submittal with an application.

§ 13.603 Requirements to qualify for an STCW endorsement for advanced oil tanker cargo operations and advanced chemical tanker cargo operations.

(a) Every applicant for an endorsement in advanced oil and advanced chemical tanker operations must:

(1) Meet the requirements of §§ 13.201 and 13.203 of this part for a dangerous liquids endorsement; and

(2) Provide evidence of meeting the standards of competence identified in Tables A-V/1-1-2 and A-V/1-1-3 of the STCW Code (incorporated by reference, see § 13.103 of this part).

(b) Grandfathering. Seafarers holding a valid tankerman-PIC for dangerous liquids endorsements issued prior to July 1, 2013 will be issued an STCW endorsement for advanced oil and chemical tanker cargo operations without meeting the requirements of paragraph (a) of this section. After January 1, 2017, all seafarers must meet the requirements of this section.

§ 13.605 Requirements to qualify for an STCW endorsement for advanced liquefied gas tanker cargo operations.

(a) Every applicant for an endorsement in advanced liquefied gas tanker operations must:

(1) Meet the requirements of §§ 13.201 and 13.203 of this part for a liquefied gases endorsement; and

(2) Provide evidence of meeting the standards of competence identified in Table A-V/1-2-2 of the STCW Code (incorporated by reference, see § 13.103 of this part).

(b) Grandfathering. Seafarers holding a valid tankerman-PIC for liquefied gases endorsements issued prior to July 1, 2013 will be issued an STCW endorsement for advanced liquefied gas tanker cargo operations without meeting the requirements of paragraph (a) of this section. After January 1, 2017, all seafarers must meet the requirements of this section.

§ 13.607 Requirements to qualify for an STCW endorsement for basic oil and chemical tanker cargo operations.

(a) Every applicant for an endorsement in basic oil and chemical tanker operations must provide evidence of meeting the standards of competence identified in Table A-V/1-1-1 of the STCW Code (incorporated by reference, see § 13.103 of this part) and—

(1) Meet the requirements of §§ 13.401 and 13.403 of this part for a dangerous liquids endorsement, as appropriate; or

(2) Meet the requirements of §§ 13.501 and 13.503 of this part for a dangerous liquids endorsement, as appropriate.

(b) Grandfathering. Seafarers holding a valid tankerman-assistant for dangerous liquids or tankerman-engineer endorsement issued prior to July 1, 2013 will be issued an STCW endorsement for basic oil and chemical tanker cargo operations without meeting the requirements of paragraph (a) of this section. After January 1, 2017, all seafarers must meet the requirements of this section.

§ 13.609 Requirements to qualify for an STCW endorsement for basic liquefied gas tanker cargo operations.

(a) Every applicant for an endorsement in basic liquefied gas tanker operations must provide evidence of meeting the standards of competence identified in Table A-V/1-2-1 of the STCW Code (incorporated by reference, see § 13.103 of this part) and—

(1) Meet the requirements of §§ 13.401 and 13.403 of this part for a liquefied gases endorsement, as appropriate; or

(2) Meet the requirements of §§ 13.501 and 13.503 of this part for a liquefied gases endorsement, as appropriate.

(b) Grandfathering. Seafarers holding a valid tankerman-assistant for liquefied gases or tankerman-engineer endorsement issued prior to July 1, 2013 will be issued an STCW endorsement for basic oil and chemical tanker cargo operations without meeting the requirements of paragraph (a) of this section. After January 1, 2017, all seafarers must meet the requirements of this section.

PART 14—SHIPMENT AND DISCHARGE OF MERCHANT MARINERS

72. The authority citation for part 14 continues to read as follows:

Authority: 5 U.S.C. 552; 46 U.S.C. Chapters 103 and 105; 46 U.S.C. 70105.

§ 14.201 [Amended]

73. Amend § 14.201 as follows:

a. In paragraph (a), remove the word “shall” wherever it appears and add, in its place, the word “must”;

b. In paragraph (b), after the words “Except as provided by § 14.203”, add the words “of this subpart”; and remove the words “gross tons” wherever they appear and add, in their place, the word “GRT”.

§ 14.205 [Amended]

74. In § 14.205, remove the word “shall” and add, in its place, the word “must”.

75. Revise § 14.207 to read as follows:

§ 14.207 Content and form of shipping articles.

(a)(1) The content and form of shipping articles for each vessel of the United States of 100 GRT or more upon a foreign or intercoastal voyage must comply with the requirements of 46 U.S.C. 10302, 10303, 10304, and 10305. The articles must identify the nature of the voyage and specify at least the name, license, MMD or MMC number, capacity of service, time due onboard to begin work, and name and address of the next of kin, and wages due to each merchant mariner, either who was discharged or whose services were otherwise terminated during the month.

(2) The content and form of articles for each such vessel upon a coastwise voyage (including a voyage on the Great Lakes) must also comply with the requirements of 46 U.S.C. 10502. The articles must specify at least the matter identified by paragraph (a)(1) of this section, except that they must not specify the wages due to the mariner. The wages section of the form must be left blank for coastwise voyages.

(b) Any shipping company that manually prepares the articles may, upon request, obtain a form from the Coast Guard.

(c) Any company that electronically prepares the articles may develop its own software or buy it off the shelf; but, in either of these cases, it must secure approval to use the software for these purposes from the National Maritime Center at any of the addresses provided in § 14.103 of this part.

§ 14.209 [Amended]

76. In § 14.209, remove the word “shall” and add, in its place, the word “must”.

§ 14.211 [Amended]

77. In § 14.211, remove the word “shall” and add, in its place, the word “must”.

78. Amend § 14.213 as follows:

a. In paragraph (a), remove the word “shall” wherever it appears, and add, in its place, the word “must”;

b. Revise paragraph (b) to read as set down below; and

c. In paragraph (c), remove the word “shall” and add, in its place, the word “must”.

§ 14.213 Report of shipment of merchant mariner.

* * * * *

(b) When a vessel of the United States sails exclusively on the Great Lakes:

(1) Each master or individual in charge must, at the commencement of the season, or once the vessel is put into service, whichever occurs earlier, send one copy of articles, signed by the master and by each mariner, to the owner, charterer, or managing operator.

(2) The master or individual in charge must every 60 days send supplementary particulars of engagement covering each mariner engaged during this period, signed by the master and by each mariner, to the owner, charterer, or managing operator.

(3) The master or individual in charge must, at the close of the season, or once the vessel is withdrawn from service, whichever occurs later, send articles, signed by the master and by each mariner, to the owner, charterer, or managing operator.

* * * * *

§ 14.301 [Amended]

79. In § 14.301, remove the word “shall” wherever it appears and add, in its place, the word “must”.

§ 14.303 [Amended]

80. In § 14.303, remove the words “the master shall” and add, in their place, the words “the master must”; and remove the words “the consular officer shall” and add, in their place, the words “the consular officer will”.

§ 14.305 [Amended]

81. In § 14.305, remove the word “shall” and add, in its place, the word “must”.

82. Amend § 14.307 as follows:

a. Revise paragraph (a) to read as set down below; and

b. In paragraphs (b) through (e), remove the word “shall” wherever it appears and add, in its place, the word “must”.

§ 14.307 Entries on certificate of discharge.

(a) Each master or individual in charge of a vessel must, for each merchant mariner being discharged from the vessel, prepare a certificate of discharge and two copies, whether by writing or typing them on the prescribed form with permanent ink or generating them from computer in the prescribed format, and must sign them with permanent ink. The prescribed format for a certificate of discharge is the same as the current form CG-718A. The form has the mariner's printed name, signature, citizenship, MMD or MMC number, certification statement, date, master's signature, rate/rank the mariner is serving on the voyage, date and place of shipment, date and place of discharge, name of the vessel, name of the operating company, official number of the vessel, class of the vessel, and nature of the voyage.

* * * * *

§ 14.309 [Amended]

83. Amend § 14.309 as follows:

a. In paragraph (a) introductory text, remove the word “shall” and add, in its place, the word “must”;

b. In paragraph (a)(3), after the word “certificate”, add the words “of discharge”;

c. In paragraph (a)(4), after the sentence “Pay to each merchant mariner all wages due.”, add the sentence “Instead of payment, a statement of wages due and when wages will be deposited or paid, in accordance with the provision in 46 U.S.C. 10313 and 46 U.S.C. 10504, may be provided.”; and

d. In paragraph (b), after the words “When paid off”, add the words “or provided a statement of wages due and when they will be paid, as indicated in paragraph (a)(4) of this section,”; and remove the word “shall” and add, in its place, the word “must”.

§ 14.311 [Amended]

84. Amend § 14.311 as follows:

a. In paragraph (a), remove the word “shall” and add, in its place, the word “must”; after the words “certificates of discharge to”, remove the word “an” and add, in its place, the word “the”; and remove the words “which the shipping company may request from the National Maritime Center” and add, in their place, the words “provided by the Coast Guard in § 14.103 of this part”; and

b. In paragraph (b), remove the word “shall” wherever it appears and add, in its place, the word “must”.

85. Amend § 14.313 as follows:

a. In paragraphs (a) and (b), remove the word “shall” wherever it appears and add, in its place, the word “must”;

b. Redesignate paragraph (c) as paragraph (d); and

c. Add new paragraph (c) to read as follows:

§ 14.313 Storage of shipping articles and of certificates of discharge.

* * * * *

(c) Articles sent to the address in § 14.103(a) of this part for storage that are not prepared in accordance with paragraph (a) of this section may be returned to the shipping company for correction.

* * * * *

§ 14.403 [Amended]

86. Amend § 14.403 as follows:

a. In paragraph (a) introductory text, remove the words “Department of Transportation” and add, in their place, the words “Department of Homeland Security”; and

b. In paragraph (a)(2), remove the word “shall” and add, in its place, the word “must”.

§ 14.405 [Amended]

87. Amend § 14.405 as follows:

a. In paragraph (a) introductory text, remove the words “OCMI of the Coast Guard” and add, in their place, the words “Coast Guard OCMI”;

b. In paragraph (c), remove the word “OCMI” wherever it appears; and remove the word “shall” and add, in its place, the word “must”; and

c. In paragraph (d), before the word “OCMI”, wherever it appears, add the words “Coast Guard”; and remove the word “shall” and add, in its place, the word “must”.

88. Amend § 14.407 as follows:

a. In paragraph (a), remove the words “gross tons” and add, in their place, the word “GRT”; remove the word “shall” wherever it appears and add, in its place, the word “must”; and after the words “in the form of a copy of a certificate of discharge, or electronically”, add the words “to the address provided in § 14.103 of this part”;

b. In paragraph (b), remove the word “shall” and add, in its place, the word “must”; after the words “a copy of each certificate”, add the words “of discharge”; remove the words “After January 3, 1997, the” and add, in their place, the word “The”; and after the words “copies of certificates”, add the words “of discharge”;

c. In paragraph (c), remove the word “shall” and add, in its place, the word “must”; and after the words “on a certificate”, add the words “of discharge”;

d. Revise paragraph (d) to read as set down below;

e. In paragraph (e), remove the word “shall” and add, in its place, the word “must”; and

f. Add new paragraph (f) to read as follows:

§ 14.407 Reports.

* * * * *

(d) Each oceanographic company must keep all original articles and copies of all certificates of discharge for 3 years. After 3 years the company must prepare the original shipping articles in alphabetical order by vessel name and send to the address in § 14.103(a) of this part for storage at the Federal Records Center at Suitland, Maryland. The company may dispose of the copies of certificates of discharge. The Coast Guard will dispose of copies of certificates submitted manually, once the data is entered into its sea-service database and are validated.

* * * * *

(f) Articles sent to the address in § 14.103(a) of this part for storage that are not prepared in accordance with paragraph (d) of this section may be returned to the company for correction.

PART 15—MANNING REQUIREMENTS

89. The authority citation for part 15 continues to read as follows:

Authority: 44 U.S.C. 3507; 46 U.S.C. 2101, 2103, 3306, 3703, 8101, 8102, 8104, 8105, 8301, 8304, 8502, 8503, 8701, 8702, 8901, 8902, 8903, 8904, 8905(b), 8906, 9102, and 8103; and Department of Homeland Security Delegation No. 0170.1.

§ 15.101 [Amended]

90. In § 15.101, remove the words “the regulations in”; and remove the words “parts E & F,”.

91. Revise § 15.103 to read as follows:

§ 15.103 Incorporation by reference.

(a) Certain material is incorporated by reference into this part with the approval of the Director of the Federal Register under 5 U.S.C. 552(a) and 1 CFR part 51. To enforce any edition other than that specified in this section, the Coast Guard must publish notice of change in the Federal Register and the material must be available to the public. All approved material is available for inspection at the National Archives and Records Administration (NARA). For information on the availability of this material at NARA, call 202-741-6030, or go to http://www.archives.gov/federal_register/code_of_federal_regulations/ibr_locations.html. Also, it is available for inspection at the Coast Guard, Office of Operating and Environmental Standards (CG-522), 2100 2nd St. SW., Stop 7126, Washington, DC 20593-7126, 202-372-1405, and is available from the sources indicated below.

(b) International Maritime Organization (IMO), 4 Albert Embankment, London, SE1 7SR England:

(1) The International Convention on Standards of Training, Certification and Watchkeeping for Seafarers, 1978, as amended (STCW Convention), incorporation by reference approved for §§ 15.103, 15.403, 15.404, 15.1101, 15.1103, 15.1105, and 15.1109.

(2) The Seafarer's Training, Certification and Watchkeeping Code, as amended (STCW Code), incorporation by reference approved for § 15.1109.

(3) The International Convention for the Safety of Life at Sea, 1974 (SOLAS), approved for incorporation by reference in §§ 15.818 and 15.1103.

(c) International Labour Organization (ILO), 4 route des Morillons, CH-1211 Genève 22, Switzerland:

(1) Officers Competency Certificates Convention, 1936, incorporation by reference approved for §§ 15.701 and 15.705; and

(2) [Reserved]

92. Revise § 15.105 to read as follows:

§ 15.105 General.

(a) The regulations in this part apply to all vessels that are subject to the manning requirements contained in the navigation and shipping laws of the United States, including uninspected vessels (46 U.S.C. 7101-9308).

(b) The navigation and shipping laws state that a vessel may not be operated unless certain manning requirements are met. In addition to establishing a minimum number of officers and rated crew to be carried onboard certain vessels, they establish minimum qualifications concerning licenses and MMC endorsements, citizenship, and conditions of employment. It is the responsibility of the owner, charterer, managing operator, master, or person in charge or in command of the vessel to ensure that appropriate personnel are carried to meet the requirements of the applicable navigation and shipping laws and regulations.

(c) Inspected vessels are issued a Certificate of Inspection (COI) which indicates the minimum complement of officers and crew (including lifeboatmen) considered necessary for safe operation. The COI complements the statutory requirements but does not supersede them.

(d) Uninspected vessels operating on an international voyage may be issued a safe manning certificate indicating the minimum complement of qualified mariners necessary for safe operation.

(e) The regulations in subpart K of this part apply to seagoing vessels subject to the International Convention on Standards of Training, Certification and Watchkeeping for Seafarers, 1978, as amended (STCW).

(f) Neither any person serving on any of the following vessels, nor any owner or operator of any of these vessels, need meet the requirements of subpart K of this part, because the vessels are exempt from application of STCW:

(1) Fishing vessels as defined in 46 U.S.C. 2101(11)(a).

(2) Fishing vessels used as fish-tender vessels as defined in 46 U.S.C. 2101(11)(c).

(3) Barges as defined in 46 U.S.C. 102, including non-self-propelled mobile offshore drilling units.

(4) Vessels operating exclusively on the Great Lakes or on the inland waters of the U.S. in the Straits of Juan de Fuca or on the Inside Passage between Puget Sound and Cape Spencer.

(g) Owners and operators, and personnel serving on the following small vessels engaged exclusively on domestic, near-coastal voyages are in compliance with subpart K of this part and are, therefore, not subject to further requirements for the purposes of the STCW Convention:

(1) Small passenger vessels subject to subchapter T or K of title 46 CFR.

(2) Vessels of less than 200 GRT/500 GT, other than passenger vessels subject to subchapter H of title 46 CFR.

(3) Uninspected passenger vessels (UPVs) as defined in 46 U.S.C. 2101(42)(B).

(h) Personnel serving on vessels identified in paragraphs (g)(1) and (g)(2) of this section may be issued, without additional proof of qualification, an appropriate STCW endorsement on their license or MMC when the Coast Guard determines that such an endorsement is necessary to enable the vessel to engage on a single international voyage of a non-routine nature. The STCW endorsement will be expressly limited to service on the vessel or the class of vessels and will not establish qualification for any other purpose.

Subpart C [Redesignated as subpart D and revised]

Subpart C through J [Redesignated as subpart D through K]

93. Redesignate subparts C through J as subparts D through K.

Subpart C [Reserved]

94. Reserve subpart C.

95 Revise newly redesignated subpart D to read as follows:

Subpart D—Manning Requirements; All Vessels
Sec.
15.401 Employment and service within restrictions of credential.
15.403 When credentials for ratings are required.
15.404 Requirements for serving onboard a vessel.
15.405 Familiarity with vessel characteristics.
15.410 Credentialed individuals for assistance towing vessels.
15.415 [Reserved]

§ 15.401 Employment and service within restrictions of credential.

(a) A person may not employ or engage an individual, and an individual may not serve, in a position in which an individual is required by law or regulation to hold a license, certificate of registry, Merchant Mariner's Document (MMD), Transportation Worker Identification Credential (TWIC) and/or Merchant Mariner Credential (MMC), unless the individual holds all credentials required, as appropriate, authorizing service in the capacity in which the individual is engaged or employed, and the individual serves within any restrictions placed on the credential. An individual holding an active license, certificate of registry, MMD, or MMC issued by the Coast Guard must also hold a valid TWIC issued by the Transportation Security Administration under 49 CFR part 1572.

(b) A person may not employ or engage an individual, and an individual may not serve in a position in which it is required by law or regulation that the individual hold an MMC endorsed with a domestic endorsement, as well as a corresponding STCW endorsement for service outside the boundary line.

(c) A person may not employ or engage an individual unless that individual maintains a current medical certificate/endorsement. Medical certificates/endorsements must be issued and will remain current for the following periods of time, unless otherwise noted on the certificate/endorsement:

(1) Two years for individuals serving on vessels to which STCW applies;

(2) Twelve months for individuals serving as a first-class pilot or those individuals serving as pilots on vessels of 1,600 GRT/3,000 GT or more under § 15.812 of this part; or

(3) Five years for all other mariners.

(d) Each individual referred to in paragraph (a) of this section must hold an MMD or MMC that serves as identification, with an appropriate endorsement for the position in which the seaman serves, and the MMD or MMC must be presented to the master of the vessel at the time of employment or before signing Articles of Agreement.

(e) Each individual below the grades of officer and staff officer employed on any U.S. flag merchant vessel of 100 GRT or more must possess a valid MMD or MMC issued by the Coast Guard, except as noted below:

(1) Mariners on vessels navigating exclusively on rivers and lakes, except the Great Lakes, as defined in § 10.107 of this subchapter;

(2) Mariners below the rank of licensed officer employed on any non-self-propelled vessel, except seagoing barges and certain tank barges; or

(3) Personnel not designated with any safety or security duties onboard casino vessels.

(f) Every person employed on a vessel with dual tonnages (both domestic and international) must hold a credential authorizing service appropriate to the tonnage scheme under which the vessel is manned and operating.

§ 15.403 When credentials for ratings are required.

(a) Every seaman referred to in this section, when required, must produce a valid MMC or MMD with all applicable rating endorsements for the position sought, and a valid TWIC, to the master of the vessel at the time of his or her employment before signing Articles of Agreement. Seamen who do not possess one of these credentials may be employed at a foreign port or place within the limitations specified in § 15.720 of this part.

(b)(1) Every person below the grades of officer and staff officer employed on any U.S. flag merchant vessel of 100 GRT or more, except those navigating rivers exclusively and the smaller inland lakes, must possess a valid MMC or MMD with all appropriate endorsements for the positions served.

(2) No endorsements are required of any person below the rank of officer employed on any barges except seagoing barges and certain tank barges.

(3) No endorsements are required of any person below the rank of officer employed on any sail vessel of less than 500 net tons while not carrying passengers for hire and while not operating outside the line dividing inland waters from the high seas. 33 U.S.C. 151.

(c) Each person serving as an able seafarer-deck, or a Ratings Forming Part of a Navigational Watch (RFPNW) on a seagoing vessel of 200 GRT/500 GT or more must hold an STCW endorsement certifying him or her as qualified to perform the navigational function at the support level, in accordance with the STCW Convention (incorporated by reference, see § 15.103 of this part).

(d) Each person serving as an able seafarer-engine, or a Ratings Forming Part of an Engineering Watch (RFPEW), on a seagoing vessel driven by main propulsion machinery of 1,000 HP/750 kW propulsion power or more, must hold an STCW endorsement certifying him or her as qualified to perform the marine-engineering function at the support level, in accordance with the STCW Convention.

(e) Notwithstanding any other rule in this part, no person subject to this part serving on any of the following vessels needs an STCW endorsement:

(1) Vessels exempted from the application of the STCW Convention, including:

(i) Fishing vessels as defined in 46 U.S.C. 2101(11)(a);

(ii) Fishing vessels used as fish-tender vessels as defined in 46 U.S.C. 2101(11)(c);

(iii) Barges as defined in 46 U.S.C. 102, including non-self-propelled mobile offshore-drilling units; or

(iv) Vessels operating exclusively on the Great Lakes.

(2) Vessels not subject to further obligation under the STCW Convention due to their special operating conditions as small vessels engaged in domestic, near-coastal voyages, including:

(i) Small passenger vessels subject to subchapter T or K of title 46 CFR;

(ii) Vessels of less than 200 GRT/500 GT (other than passenger vessels subject to subchapter H of title 46 CFR); or

(iii) Uninspected passenger vessels as defined in 46 U.S.C. 2101(42)(B).

§ 15.404 Requirements for serving onboard a vessel.

(a) Ratings Forming Part of a Navigational Watch (RFPNW). Each person serving as an RFPNW on a seagoing vessel of 200 GRT/500 GT or more, subject to the STCW Convention (incorporated by reference, see § 15.103 of this part), must hold an STCW endorsement attesting to his or her qualifications to perform the navigational function at the support level.

(b) Able Seaman. Each person serving as a rating as able seaman on a U.S. flag vessel must hold an MMC endorsed as able seaman, except that no credential as able seaman is required of any person employed on any tug or towboat on the bays and sounds connected directly with the seas, or on any barges except seagoing barges or tank barges. Persons serving on vessels subject to the STCW Convention must also hold an STCW endorsement as able seafarer-deck.

(c) Ratings Forming Part of an Engineering Watch (RFPEW). Each person serving as an RFPEW in a manned engine room or designated to perform duties in a periodically unmanned engine room, on a seagoing vessel driven by main propulsion machinery of 1,000 HP/750 kW propulsion power or more, must hold an STCW endorsement attesting to his or her qualifications to perform the marine-engineering function at the support level.

(d) Qualified Member of the Engineer Department (QMED). (1) The holder of an MMD or MMC endorsed with one or more QMED ratings may serve in any unqualified rating in the engine department without obtaining an additional endorsement.

(2) A QMED may serve as a qualified rating in the engineering department only in the specific ratings endorsed on his or her MMD or MMC.

(3) Persons serving on vessels subject to the STCW Convention must also hold an STCW endorsement as able seafarer-engine.

(e) Lifeboatman. Every person assigned duties as a lifeboatman must hold a credential attesting to such proficiency. Persons serving on vessels subject to the STCW Convention must also hold an STCW endorsement in proficiency in survival craft and rescue boats other than fast rescue boats (PSC).

(f) Lifeboatman-Limited. Every person assigned duties onboard a vessel that is not required to carry lifeboats and is required to employ a lifeboatman must hold an endorsement as either lifeboatman or lifeboatman-limited. Persons serving on vessels subject to the STCW Convention must also hold an STCW endorsement in proficiency in survival craft and rescue boats other than lifeboats and fast rescue boats—limited (PSC—limited).

(g) Fast Rescue Boats. Every person engaged or employed in a position requiring proficiency in fast rescue boats must hold an endorsement attesting to such proficiency.

(h) Entry Level. Every person employed in a rating other than able seaman or QMED on a U.S. flag vessel on which MMCs are required must hold an MMD or MMC endorsed as wiper, ordinary seaman, steward's department, or steward's department (F.H.).

(i) Person in charge of medical care. Every person designated to take charge of medical care must hold an MMD or MMC endorsed as person in charge of medical care.

(j) Medical first-aid provider. Every person designated to provide medical first aid onboard a ship must hold an MMD or MMC endorsed as medical first-aid provider or a deck or an engineer officer endorsement.

(k) GMDSS radio operator or maintainer. Every person responsible for the operation or shipboard maintenance of GMDSS radio equipment must hold an MMD or MMC endorsed as GMDSS radio operator or GMDSS radio maintainer, as appropriate.

§ 15.405 Familiarity with vessel characteristics.

Each credentialed crewmember must become familiar with the relevant characteristics of the vessel on which he or she is engaged prior to assuming his or her duties. As appropriate, these include, but are not limited to: general arrangement of the vessel; maneuvering characteristics; proper operation of the installed navigation equipment; proper operation of firefighting and lifesaving equipment; stability and loading characteristics; emergency duties; and main propulsion and auxiliary machinery, including steering gear systems and controls.

§ 15.410 Credentialed individuals for assistance towing vessels.

Every assistance towing vessel must be under the direction and control of an individual holding a license or MMC authorizing him or her to engage in assistance towing under the provisions of § 11.482 of this subchapter.

§ 15.415 [Reserved]

§ 15.505 [Amended]

96. In § 15.505, remove the words “changes in manning as indicated” and add, in their place, the words “changes to the manning required”; and remove the words “certificate of inspection”, wherever they appear, and add, in their place, the word “COI”.

97. Revise § 15.515 to read as follows:

§ 15.515 Compliance with certificate of inspection.

(a) Except as provided by § 15.725 of this part, no vessel may be navigated unless it has in its service and onboard the crew complement required by the COI.

(b) Any time passengers are embarked on a passenger vessel, the vessel must have the crew complement required by the COI, whether the vessel is underway, at anchor, made fast to shore, or aground. However, the master may allow reduced crew for limited or special operating conditions subject to the approval of the OCMI.

(c) No vessel subject to inspection under 46 U.S.C. 3301 will be navigated unless it is under the direction and control of an individual who holds an appropriate license or officer endorsement on his or her MMC.

98. Revise § 15.520 to read as follows:

§ 15.520 Mobile offshore drilling units (MODUs).

(a) The requirements in this section for MODUs supplement other requirements in this part.

(b) The OCMI determines the minimum number of officers and crew (including lifeboatmen) required for the safe operation of inspected MODUs. In addition to other factors listed in this part, the specialized nature of the MODU is considered in determining the specific manning levels.

(c) A license or officer endorsement on an MMC as offshore installation manager (OIM), barge supervisor (BS), or ballast control operator (BCO) authorizes service only on MODUs. A license or endorsement as OIM is restricted to the MODU type and mode of operation specified on the credential.

(d) A self-propelled MODU, other than a drillship, when underway must be under the command of an individual who holds a license as master endorsed as OIM or MMC endorsed as master and OIM. When not underway, such a vessel must be under the command of an individual holding the appropriate OIM credential.

(e) A drillship must be under the command of an individual who holds a license or MMC officer endorsement as master. When a drillship is on location, the individual in command must hold a license as master endorsed as OIM or an MMC with master and OIM officer endorsements.

(f) A non-self-propelled MODU must be under the command of an individual who holds a license or MMC officer or endorsement as OIM.

(g) An individual serving as mate on a self-propelled surface unit, other than a drillship, when underway must hold an appropriate license or MMC endorsed as mate and BS or BCO. When not underway, such a vessel may substitute an individual holding the appropriate BS or BCO endorsement for the mate, if permitted by the cognizant OCMI.

(h) An individual holding a license or MMC officer endorsement as BS is required on a non-self-propelled surface unit other than a drillship.

(i) An individual holding a license or MMC officer endorsement as BS may serve as BCO.

(j) The OCMI issuing the MODU's COI may authorize the substitution of chief or assistant engineer (MODU) for chief or assistant engineer, respectively, on self-propelled or propulsion-assisted surface units, except drillships. The OCMI may also authorize the substitution of assistant engineer (MODU) for assistant engineer on drillships.

(k) Requirements in this part concerning radar observers do not apply to non-self-propelled MODUs.

(l) A surface MODU underway or on location, when afloat and equipped with a ballast control room, must have that ballast control room manned by an individual holding a license or MMC officer endorsement authorizing service as BCO.

99. Revise the heading in § 15.525 to read as follows:

§ 15.525 Additional manning requirements for tank vessels.

* * * * *

100. Revise § 15.530 to read as follows:

§ 15.530 Large passenger vessels.

(a) The owner or operator of a U.S. flag large passenger vessel must ensure that any non-resident alien holding a Coast Guard-issued MMC described in part 12, subpart H of this subchapter is provided the rights, protections, and benefits of the International Labor Organization's Merchant Shipping (Minimum Standards) Convention of 1976.

(b) On U.S. flag large passenger vessels, non-resident aliens holding a Coast Guard-issued MMC described in part 12, subpart H of this subchapter:

(1) May only be employed in the steward's department on the vessel(s) specified on the MMC or accompanying Coast Guard letter under § 12.811 of this subchapter;

(2) May only be employed for an aggregate period of 36 months actual service on all authorized U.S. flag large passenger vessels combined, under § 12.811 of this subchapter;

(3) May not perform watchstanding, engine room duty watch, or vessel navigation functions, under § 12.811 of this subchapter; and

(4) May perform emergency-related duties only if, under § 12.811 of this subchapter:

(i) The emergency-related duties do not require any other rating or endorsement, except lifeboatman as specified in § 12.811 of this subchapter;

(ii) The non-resident alien has completed familiarization and basic safety training, as required in § 15.1105 of this part;

(iii) That if the non-resident alien serves as a lifeboatman, he or she must have the necessary lifeboatman's endorsement; and

(iv) The non-resident alien has completed the training for crewmembers on passenger ships performing duties involving safety or care for passengers, as required in part 12, subpart H of this subchapter.

(c) No more than 25 percent of the total number of ratings on a U.S. flag large passenger vessel may be aliens, whether admitted to the United States for permanent residence or authorized for employment in the United States as non-resident aliens.

(d) The owner or operator of a U.S. flag large passenger vessel employing non-resident aliens holding Coast Guard-issued MMCs described in part 12, subpart H of this subchapter must:

(1) Retain custody of all non-resident alien MMCs for the duration of employment, under § 12.811 of this subchapter; and

(2) Return all non-resident alien MMCs to the Coast Guard upon termination of employment, under § 12.811 of this subchapter.

(e) The owner or operator of a U.S. flag large passenger vessel employing non-resident aliens holding Coast Guard-issued MMCs described in part 12, subpart H of this subchapter is subject to the civil penalty provisions specified in 46 U.S.C. 8103(f), for any violation of this section.

101. Revise § 15.605 to read as follows:

§ 15.605 Credentialed operators for uninspected passenger vessels.

Each uninspected passenger vessel (UPV) must be under the direction and control of an individual credentialed by the Coast Guard, as follows:

(a) Every UPV of 100 GRT or more, as defined by 46 U.S.C. 2101(42)(A), must be under the command of an individual holding a license or MMC endorsed as master. When navigated, it must be under the direction and control of a credentialed master, pilot, or mate.

(b) Every self-propelled UPV as defined by 46 U.S.C. 2101(42)(B) must be under the direction and control of an individual holding a license or MMC endorsed as or equivalent to an operator of an uninspected passenger vessel (OUPV).

(c) Personnel serving on UPVs engaged on international voyages must meet the requirements of subpart K of this part.

102. Amend § 15.610 as follows:

a. Revise paragraphs (a) and (b)(1) to read as set down below;

b. In paragraph (b) introductory text, after the words “endorsement for that route”, remove the symbol “,” and add, in its place, the word “or”; after the words “for the Western Rivers, or”, add the word “who”; and after the words “meets the requirements of paragraph (a)”, add the words “of this section”; and

c. In paragraph (b)(2), after the words “during hours of darkness, and”, add the words “provide evidence of”; and remove the words “round trip of the 12” and add, in their place, the words “of the four round trips”.

§ 15.610 Master and mate (pilot) of towing vessels.

(a) Except as provided in this paragraph, every towing vessel of at least 8 meters (at least 26 feet) in length, measured from end to end over the deck (excluding sheer), must be under the direction and control of a person holding a license or MMC officer endorsement as master or mate (pilot) of towing vessels, or as master or mate of vessels of greater than 200 GRT/500 GT, holding either an endorsement on his or her license or MMC for towing vessels or a completed Towing Officer Assessment Record (TOAR) signed by a designated examiner indicating that the officer is proficient in the operation of towing vessels. This requirement does not apply to any vessel engaged in assistance towing, nor does it apply to any towing vessel of less than 200 GRT/500 GT if the vessel is going to or coming from equipment or a site that is exploiting offshore minerals or oil.

(b) * * *

(1) To operate a towing vessel with tank barges, or a tow of barges carrying hazardous materials regulated under subchapter N or O of this chapter, an officer in charge of the towing vessel must have completed 12 round trips over this route as an observer, with at least three of those trips during hours of darkness, and provide evidence of at least one of the 12 round trips completed within the last 5 years.

* * * * *

§ 15.701 [Amended]

103. Amend § 15.701 as follows:

a. In paragraph (a) introductory text, after the number “1936”, add the words “(incorporated by reference, see § 15.103 of this part)”;

b. In paragraph (a)(4), remove the words “gross tons” and add, in their place, the words “GRT/500 GT”;

c. In paragraph (b), remove the word “chapter” and add, in its place, the word “subchapter”; and

d. In paragraph (d), remove the word “five” and add, in its place, the number “5”.

104. Amend § 15.705 as follows:

a. In paragraph (a), remove the words “is the law applicable” and add, in their place, the word “applies”; remove the word “watch” in the third sentence and add, in its place, the word ““watch””; and remove the words “certificate of inspection” and add, in their place, the word “COI”;

b. Revise paragraph (b) to read as set down below;

c. In paragraph (c)(2), after the word “or”, remove the symbol “,”;

d. In paragraph (d), remove the words “26 feet” and add, in their place, the words “8 meters (26 feet)”; between the number “24” and the word “hour”, add the symbol “-”; and after the number “1936”, add the words “(incorporated by reference, see § 15.103 of this part)”;

e. Revise paragraph (e) to read as follows;

f. In paragraph (f), remove the words “gross tons” and add, in their place, the word “GRT”;

g. In paragraph (f)(1), after the words “remainder of that 24-hour period” add the symbol “,”; and

h. In paragraph (f)(2), after the words “in any 24-hour period” add the symbol “,”.

§ 15.705 Watches.

* * * * *

(b) Subject to exceptions, 46 U.S.C. 8104 requires that when a master of a seagoing vessel of more than 100 GRT establishes watches for the officers, sailors, coal passers, firemen, oilers, and watertenders, “the personnel shall be divided, when at sea, into at least three watches and shall be kept on duty successively to perform ordinary work incidental to the operation and management of the vessel.” The Coast Guard interprets “sailors” to mean those members of the deck department other than officers, whose duties involve the mechanics of conducting the ship on its voyage, such as helmsman (wheelsman), lookout, etc., and which are necessary to the maintenance of a continuous watch. The term “sailors” is not interpreted to include able seamen and ordinary seamen not performing these duties.

* * * * *

(e) Fish processing vessels are subject to various provisions of 46 U.S.C. 8104 concerning watches, including:

(1) For fish processing vessels that entered into service before January 1, 1988, the following watch requirements apply to the officers and deck crew:

(i) If more than 5,000 GRT—three watches;

(ii) If more than 1,600 GRT/3,000 GT and not more than 5,000 GRT—two watches; and

(iii) If not more than 1,600 GRT/3,000 GT—no watch division specified.

(2) For fish processing vessels that entered into service after December 31, 1987, the following watch requirements apply to the officers and deck crew:

(i) If more than 5,000 GRT—three watches;

(ii) If not more than 5,000 GRT and having more than 16 individuals onboard, primarily employed in the preparation of fish or fish products—two watches; and

(iii) If not more than 5,000 GRT and having not more than 16 individuals onboard, primarily employed in the preparation of fish or fish products—no watch division specified.

* * * * *

§ 15.710 [Amended]

105. In § 15.710, remove the words “on board” and add, in their place, the word “onboard”.

106. Amend § 15.720 as follows:

a. Revise the heading of § 15.720 to read as set down below; and

b. In paragraph (d), remove the word “shall” and add, in its place, the word “must”; remove the words “which is equivalent in” and add, in their place, the words “that required”; and after the words “other qualifications”, add the word “equivalent”.

§ 15.720 Use of non-U.S.-credentialed personnel.

* * * * *

§ 15.725 [Amended]

107. In § 15.725, remove the words “Officer in Charge, Marine Inspection” and add, in their place, the word “OCMI”; and remove the word “twelve” and add, in its place, the number “12”.

§ 15.730 [Amended]

108. Amend § 15.730 as follows:

a. In paragraph (a) introductory text, remove the words “gross tons” and add, in their place, the word “GRT”;

b. In paragraph (a)(1), after the words “and lakes”, remove the punctuation “(”; and after the word “Lakes”, remove the punctuation ”)”;

c. In paragraph (a)(2), after the words “manned barge”, remove the punctuation “(”; and after the word “applies”, remove the punctuation ”)”;

d. In paragraph (a)(6), remove the words “1600 gross tons” and add, in their place, the words “1,600 GRT/3,000 GT”; remove the word “enters” and add, in its place, the word “entered”; and remove the words “on board” and add, in their place, the word “onboard”; and

e. In paragraph (b), remove the words “on board” wherever they appear and add, in their place, the word “onboard”.

109. Amend § 15.805 as follows:

a. In paragraph (a) introductory text, remove the second instance of the word “master”;

b. In paragraph (a)(1), remove the words “gross tons” and add, in their place, the words “GRT/500 GT”;

c. In paragraphs (a)(2) and (a)(3), after the word “vessel”, remove the character “.” and add, in its place, the character “;”;

d. In paragraph (a)(5) introductory text, before the words “26 feet” remove the words “at least”; remove the words “under the” and add, in their place, the word “in”; and remove the words “gross register tons (GRT)” and add, in their place, the words “GRT/500 GT”;

e. In paragraph (a)(5)(ii), remove the words “with officer endorsement for” and add, in their place, the words “endorsed for master of”;

f. In paragraph (a)(6), remove the words “gross tons.” and add, in their place, the word “GRT; and”; and

g. Add new paragraph (a)(7) to read as follows:

§ 15.805 Master.

(a) * * *

(7) Every uninspected passenger vessel engaged on an international voyage.

§ 15.810 [Amended]

110. Amend § 15.810 as follows:

a. In paragraphs (b)(1) and (b)(2), remove the words “1000 gross tons” and add, in their place, the words “1,000 GRT”;

b. In paragraph (b)(3), remove the words “100 or more gross tons” and add, in their place, the words “100 GRT or more”; remove the words “1000 gross tons” and add, in their place, the words “1,000 GRT”; and remove the words “200 gross tons” and add, in their place, the words “200 GRT/500 GT”;

c. In paragraphs (b)(4) and (b)(5), remove the words “100 gross tons” and add, in their place, the words “100 GRT”;

d. In paragraph (c), remove the words “200 gross tons” and add, in their place, the words “200 GRT/500 GT”;

e. In paragraph (d) introductory text, before the words “26 feet” remove the words “at least”;

f. In paragraph (d)(2), after the words “200 GRT”, add the words “/500 GT”; and

g. In paragraph (d)(2)(i), remove the words “Towing Officer's Assessment Record (TOAR)” and add, in their place, the word “TOAR”.

111. Revise § 15.812 to read as follows:

§ 15.812 Pilots.

(a) Except as specified in paragraph (f) of this section, the following vessels, not sailing on register, when underway on the navigable waters of the United States, must be under the direction and control of an individual qualified to serve as pilot under paragraph (b) or (c) of this section, as appropriate:

(1) Coastwise seagoing vessels propelled by machinery and subject to inspection under 46 U.S.C. Chapter 33, and coastwise seagoing tank barges subject to inspection under 46 U.S.C. Chapter 37;

(2) Vessels that are not authorized by their COI to proceed beyond the Boundary Line established in part 7 of this chapter, and are in excess of 1,600 GRT/3,000 GT propelled by machinery, and subject to inspection under 46 U.S.C. chapter 33; and

(3) Vessels operating on the Great Lakes, that are propelled by machinery and subject to inspection under 46 U.S.C. Chapter 33, or are tank barges subject to inspection under 46 U.S.C. chapter 37.

(b) The following individuals may serve as a pilot on a vessel subject to paragraph (a) of this section, when underway on the navigable waters of the United States that are designated areas:

(1) An individual holding a valid first-class pilot's license or MMC officer endorsement as first-class pilot, operating within the restrictions of his or her credential, may serve as pilot on any vessel to which this section applies.

(2) An individual holding a valid license or MMC officer endorsement as master or mate, employed aboard a vessel within the restrictions of his or her credential, may serve as pilot on a vessel of not more than 1,600 GRT/3,000 GT propelled by machinery, described in paragraphs (a)(1) and (a)(3) of this section, provided he or she:

(i) Is at least 21 years old;

(ii) Is able to show current knowledge of the waters to be navigated, as required in § 11.713 of this subchapter;

(iii) Provide evidence of completing a minimum of four round trips over the route to be traversed while in the wheelhouse as watchstander or observer. At least one of the round trips must be made during the hours of darkness if the route is to be traversed during darkness; and

(iv) Has a current physical examination in accordance with the provisions of § 11.709 of this subchapter.

(3) An individual holding a valid license or MMC officer endorsement as master, mate, or operator employed aboard a vessel within the restrictions of his or her credential, may serve as pilot on a tank barge or tank barges totaling not more than 10,000 GRT/GT, described in paragraphs (a)(1) and (a)(3) of this section, provided he or she:

(i) Is at least 21 years old;

(ii) Is able to show current knowledge of the waters to be navigated, as required in § 11.713 of this subchapter;

(iii) Has a current physical examination in accordance with the provisions of § 11.709 of this subchapter;

(iv) Has at least 6 months of service in the deck department on towing vessels engaged in towing operations; and

(v) Provides evidence of completing a minimum of 12 round trips over the route to be traversed, as an observer or under instruction in the wheelhouse. At least three of the round trips must be made during the hours of darkness if the route is to be traversed during darkness.

(c) An individual holding a valid license or MMC officer endorsement as master, mate, or operator, employed aboard a vessel within the restrictions of his or her credential, may serve as a pilot for a vessel subject to paragraphs (a)(1) and (a)(2) of this section, when underway on the navigable waters of the United States that are not designated areas of pilotage waters, provided he or she:

(1) Is at least 21 years old;

(2) Is able to show current knowledge of the waters to be navigated, as required in § 11.713 of this subchapter; and

(3) Has a current physical examination in accordance with the provisions of § 11.709 of this subchapter.

(d) In any instance when the qualifications of a person satisfying the requirements for pilotage through the provisions of this subpart are questioned by the Coast Guard, the individual must, within a reasonable time, provide the Coast Guard with documentation proving compliance with the applicable portions of paragraphs (b) and (c) of this section.

(e) Federal pilotage requirements contained in paragraphs (a) through (d) of this section are summarized in two quick reference tables:

(1) Table 15.812(e)(1) provides a guide to the pilotage requirements for inspected, self-propelled vessels.

Table 15.812(e)(1)—Quick Reference Table for Federal Pilotage Requirements for U.S.-Inspected, Self-Propelled Vessels, Not Sailing on Register
| Designated areas of pilotage waters (routes for which first-class pilot's licenses or MMC officer endorsements are issued) | Non-designated areas of pilotage waters (between the 3-mile line and the start of traditional pilotage routes)
Inspected self-propelled vessels greater than 1,600 GRT, authorized by their COI to proceed beyond the Boundary Line, operating on the Great Lakes | First-Class Pilot | Master or Mate may serve as pilot if he or she: 1. Is at least 21 years old; 2. Has an annual physical exam; and 3. Maintains current knowledge of the waters to be navigated.¹
Inspected self-propelled vessels not more than 1,600 GRT, authorized by their COI to proceed beyond the Boundary Line, or operating on the Great Lakes | First-Class Pilot, or Master or Mate may serve as pilot if he or she: 1. Is at least 21 years old; 2. Maintains current knowledge of the waters to be navigated; and ¹ 3. Has four round trips over the route.² | Master or Mate may serve as pilot if he or she: 1. Is at least 21 years old; 2. Has an annual physical exam; and 3. Maintains current knowledge of the waters to be navigated.¹
Inspected self-propelled vessels greater than 1,600 GRT, not authorized by their COI to proceed beyond the Boundary Line (inland route vessels); other than vessels operating on the Great Lakes | First-Class Pilot | Master or Mate may serve as pilot if he or she: 1. Is at least 21 years old; 2. Has an annual physical exam; and 3. Maintains current knowledge of the waters to be navigated.¹
Inspected self-propelled vessels not more than 1,600 GRT, not authorized by their COI to proceed beyond the Boundary Line (inland route vessels); other than vessels operating on the Great Lakes | No pilotage requirement | No pilotage requirement.
¹ One round trip within the past 60 months.
² If the route is to be traversed during darkness, one of the four round trips must be made during darkness.

(2) Table 15.812(e)(2) provides a guide to the pilotage requirements for tank barges.

Table 15.812(e)(2)—Quick Reference Table for Federal Pilotage Requirements for U.S.-Inspected Tank Barges, Not Sailing on Register
| Designated areas of pilotage waters (routes for which first-class pilot's licenses or MMC officer endorsements are issued) | Non-designated areas of pilotage waters (between the 3-mile line and the start of traditional pilotage routes)
Tank Barges greater than 10,000 GRT/GT, authorized by their COI to proceed beyond the Boundary Line, or operating on the Great Lakes | First-Class Pilot | Master, Mate, or Master, Mate (Pilot) of towing vessels may serve as pilot if he or she: 1. Is at least 21 years old; 2. Has an annual physical exam; ¹ 3. Maintains current knowledge of the waters to be navigated; and ² 4. Has at least 6 months' service in the deck department on towing vessels engaged in towing.
Tank Barges 10,000 GRT/GT or less, authorized by their COI to proceed beyond the Boundary Line, or operating on the Great Lakes | First-Class Pilot, or Master, Mate, or Master, Mate (Pilot) of towing vessels may serve as pilot if he or she: 1. Is at least 21 years old; 2. Has an annual physical exam; ¹ 3. Maintains current knowledge of the waters to be navigated; ² 4. Has at least 6 months' service in the deck department on towing vessels engaged in towing operations; and 5. Has 12 round trips over the route.³ | Master, Mate, or Master, Mate (Pilot) of towing vessels may serve as pilot if he or she: 1. Is at least 21 years old; 2. Has an annual physical exam; ¹ 3. Maintains current knowledge of the waters to be navigated; and ² 4. Has at least 6 months' service in the deck department on towing vessels engaged in towing operations.
Tank Barges authorized by their COI for inland routes only (lakes, bays, and sounds/rivers); other than vessels operating on the Great Lakes | No pilotage requirement | No pilotage requirement.
¹ Annual physical exam does not apply to an individual who will serve as a pilot of a tank barge of less than 1,600 GRT.
² One round trip within the past 60 months.
³ If the route is to be traversed during darkness, three of the 12 round trips must be made during darkness.

(f) In Prince William Sound, Alaska, coastwise seagoing vessels over 1,600 GRT and propelled by machinery and subject to inspection under 46 U.S.C. Chapter 37 must:

(1) When operating from 60°49′ north latitude to the Port of Valdez, be under the direction and control of an individual holding a valid license or MMC endorsed as pilot who:

(i) Is operating under the authority of a license or MMC;

(ii) Holds a license issued by the State of Alaska; and

(iii) Is not a crewmember of the vessel.

(2) Navigate with either two credentialed deck officers on the bridge or an individual holding a valid license or MMC endorsed as pilot, when operating south of 60°49′ north latitude and in the approaches through Hinchinbrook Entrance and in the area bounded:

(i) On the West by a line 1 mile west of the western boundary of the Traffic Separation Scheme;

(ii) On the East by 146°00′ West longitude;

(iii) On the North by 60°49′ North latitude; and

(iv) On the South by that area of Hinchinbrook Entrance within the territorial sea bounded by 60°07′ North latitude and 146°31.5′ West longitude.

112. Amend § 15.815 as follows:

a. In paragraph (a), remove the words “gross tons” and add, in their place, the word “GRT”; and remove the word “shall” and add, in its place, the word “must”;

b. Revise paragraph (b) to read as set down below;

c. In paragraph (c), remove the words “on board” and add, in their place, the word “onboard”; and before the words “26 feet”, remove the word “approximately”;

d. In paragraph (d), remove the word “their” and add, in its place, the words “his or her”; and

e. Revise paragraph (e) to read as follows.

§ 15.815 Radar observers.

* * * * *

(b) Each person who is employed or serves as pilot in accordance with Federal law onboard radar-equipped vessels of 300 GRT or over must hold an endorsement as radar observer.

* * * * *

(e) For this section, “readily available” means that the documentation must be provided to the Coast Guard, or other appropriate Federal agency, within 48 hours of a request by the Coast Guard or other agency. The documentation may be provided by the individual, or his or her company representative, electronically, by facsimile, or physical copy.

113. Add § 15.816 to read as follows:

§ 15.816 Automatic radar plotting aids (ARPAs).

Every person in the required complement of deck officers, including the master, on seagoing vessels equipped with automatic radar plotting aids (ARPAs), except those vessels listed in § 15.103(f) and (g) of this part, must provide evidence of competence in the use of ARPAs.

114. Add § 15.817 to read as follows:

§ 15.817 Global Maritime Distress and Safety System (GMDSS) radio operator.

Every person in the required complement of deck officers, including the master, on seagoing vessels equipped with a GMDSS, except those vessels listed in § 15.103(f) and (g) of this part, must provide evidence of a valid STCW endorsement as GMDSS radio operator.

115. Add § 15.818 to read as follows:

§ 15.818 Global Maritime Distress and Safety System (GMDSS) at-sea maintainer.

Every person employed or engaged to maintain GMDSS equipment at sea, when the service of a person so designated is used to meet the maintenance requirements of SOLAS Regulation IV/15 (Incorporated by reference, see § 15.103 of this part), must provide documentary evidence that he or she is competent to maintain GMDSS equipment at sea.

§ 15.820 [Amended]

116. Amend § 15.820 as follows:

a. In paragraph (a) introductory, remove the words “on board” and add, in their place, the word “onboard”; after the word “the following”, remove the word “inspected”; and after the words “mechanically propelled”, add the word “inspected”;

b. In paragraph (a)(1), remove the words “200 gross tons and over.” and add, in their place, the words “200 GRT and over;”;

c. In paragraph (a)(2), remove the words “200 gross tons.” and add, in their place, the words “200 GRT; and”

d. In paragraph (a)(3), remove the words “300 gross tons and over” and add, in their place, the words “300 GRT or more”; and

e. In paragraph (b), remove the words “gross tons or over” and add, in their place, the words “GRT or more”.

§ 15.825 [Amended]

117. Amend § 15.825 as follows:

a. In paragraph (a), remove the words “gross tons or over” and add, in their place, the words “GRT or more”; and

b. In paragraph (b), remove the words “Officer in Charge, Marine Inspection” and add, in their place, the word “OCMI”.

§ 15.830 [Amended]

118. In § 15.830, after the word “requirements”, add the words “as found in 47 CFR 13 and 47 CFR 80”.

§ 15.840 [Amended]

119. Amend § 15.840 as follows:

a. In paragraph (a), remove the words “gross tons” and add, in their place, the word “GRT”; remove the word “1east” and add, in its place, the word “least”; and remove the words “two watch” and add, in their place, the words “two-watch”;

b. In paragraph (b), after the words “offshore supply vessel”, add the word “(OSV)”; and remove the word “chapter” and add, in its place, the word “subchapter”; and

c. In paragraph (c), after the words “person in charge”, add the word “(PIC)”.

120. Revise § 15.845 to read as follows:

§ 15.845 Lifeboatmen.

The number of lifeboatmen required for a vessel is specified in part 199 of this chapter; however, on vessels not equipped with lifeboats, a lifeboatman may be replaced by a lifeboatman-limited.

§ 15.855 [Amended]

121. Amend § 15.855 as follows:

a. In paragraph (a), remove the word “shall” and add, in its place, the word “must”;

b. In paragraph (b), remove the words “gross tons” and add, in their place, the word “GRT”; and remove the words “on board” and add, in their place, the word “onboard”;

c. In paragraph (c) introductory text, remove the words “gross tons” and add, in their place, the word “GRT”;

d. In paragraphs (c)(1) and (c)(2), after the word “chapter”, remove the character “.” and add, in its place, the character “;”;

e. In paragraph (c)(3), after the word “spaces”, remove the character “.” and add, in its place, the character “;”;

f. In paragraph (c)(4), after the word “deck”, remove the character “.” and add, in its place, the character “;”;

g. In paragraph (c)(5), after the word “condition”, remove the character “.” and add, in its place, the words “; and”; and

h. In paragraph (c)(6), after the words “in accordance with § 15.705”, add the words “of this part”.

122. Revise § 15.860 to read as follows:

§ 15.860 Tankerman.

(a) The OCMI enters on the COI issued to each manned tank vessel subject to the regulations in this chapter the number of crewmembers required to hold valid MMDs or MMCs with the proper tankerman endorsement. Table 1 to § 15.860 provides the minimum requirements for tankermen aboard manned tank vessels; Table 2 to § 15.860 provides the tankerman endorsements required for personnel aboard tankships.

(b) For each tankship of more than 5,000 GRT certified for voyages beyond the boundary line as described in part 7 of this chapter:

(1) The number of tankerman-PICs or restricted tankerman-PICs carried must be at least two;

(2) The number of tankerman-assistants carried must be at least three; and

(3) The number of tankerman-engineers carried must be at least two.

(c) For each tankship of 5,000 GRT or less certified for voyages beyond the boundary line, as described in part 7 of this chapter:

(1) The number of tankerman-PICs or restricted tankerman-PICs carried must be at least two; and

(2) The number of tankerman-engineers carried must be at least two, unless only one engineer is required, in which case the number of tankerman-engineers carried must be at least one.

(d) For each tankship not certified for voyages beyond the boundary line, as described in part 7 of this chapter, if the total crew complement is:

(1) One or two, the number of tankerman-PICs or restricted tankerman-PICs carried must be at least one; or

(2) More than two, the number of tankerman-PICs or restricted tankerman-PICs carried must be at least two.

(e) For each tank barge manned under § 31.15-5 of this chapter, if the total crew complement is:

(1) One or two, the number of tankerman-PICs, restricted tankerman-PICs, tankerman-PICs (barge), or restricted tankerman-PICs (barge) carried must be at least one; or

(2) More than two, the number of tankerman-PICs, restricted tankerman-PICs, tankerman-PICs (barge), or restricted tankerman-PICs (barge) carried must be at least two.

(f) The following personnel aboard each tankship certified for voyages beyond the boundary line, as described in part 7 of this chapter, must hold valid MMDs or MMCs, endorsed as follows:

(1) The master and chief mate must each hold a tankerman-PIC or restricted tankerman-PIC endorsement.

(2) The chief, first assistant, and cargo engineers must each hold a tankerman-engineer or tankerman-PIC endorsement.

(3) Each credentialed officer acting as the PIC of a transfer of liquid cargo in bulk must hold a tankerman-PIC or restricted tankerman-PIC endorsement.

(4) Each officer or crewmember who is assigned by the PIC duties and responsibilities related to the cargo or cargo-handling equipment during a transfer of liquid cargo in bulk, but is not directly supervised by the PIC, must hold a tankerman-assistant endorsement.

(g) The endorsements required by this section must be for the classification of the liquid cargo in bulk or of the cargo residue being carried.

(h) Because STCW does not recognize restricted tankerman-PIC endorsements, persons may act under these only aboard vessels conducting business inside the boundary line, as described in part 7 of this chapter.

(i) All individuals serving on tankships certified for voyages beyond the boundary line as described in part 7 of this chapter, must hold an appropriate STCW endorsement, as follows:

(1) For tankerman-PIC, an STCW endorsement as Advanced Oil Tanker Cargo Operations, Advanced Chemical Tanker Cargo Operations, or Advanced Liquefied Gas Tanker Cargo Operations, as appropriate.

(2) For tankerman-Assistant, an STCW endorsement as Basic Oil and Chemical Tanker Cargo Operations, or Basic Liquefied Gas Tanker Cargo Operations, as appropriate.

(j) For a tankerman-PIC (barge), an STCW endorsement as Advanced Oil Tanker Cargo Operations, Advanced Chemical Tanker Cargo Operations, or Advanced Liquefied Gas Tanker Cargo Operations, as appropriate, are not required to obtain an STCW endorsement with a limitation for non-self-propelled vessels.

Table 1 to 15.860—Minimum Requirements for Tankermen Aboard Manned Tank Vessels
Tank vessels | Tankerman- PIC | Tankerman assistant | Tankerman engineer | Tankerman-PIC or tankerman-PIC (barge)
Tankship Certified for Voyages Beyond Boundary Line:
Over 5,000 GRT | 2 | 3 | 2 |
5,000 GRT or less | 2 |  | *2 |
Tankship Not Certified for Voyages Beyond Boundary Line | **2 |  |  |
Tank Barge |  |  |  | ***2
*If only one engineer is required, then only one tankerman engineer is required.
**If the total crew complement is one or two persons, then only one tankerman-PIC is required.
***If the total crew complement is one or two persons, then only one tankerman-PIC or tankerman-PIC (barge) is required.

Table 2 to 15.860—Tankermen Endorsements Required for Personnel Aboard Tankships
[Endorsement for the classification of the bulk liquid cargo or residues carried]
Tankship certified for voyages beyond boundary line | Tankerman-PIC |  | Tankerman engineer | Tankerman assistant
Master | x |  |  |
Chief Mate | x |  |  |
Chief Engineer | x | or | x |
First Assistant Engineer | x | or | x |
Cargo Engineer | x | or | x |
Credentialed Officer Acting as PIC of Transfer of Liquid Cargo in Bulk | x |  |  |
Credentialed Officer or Crewmember Not Directly Supervised by PIC |  |  |  | x

123. Amend § 15.901 as follows:

a. Revise the heading of § 15.901 to read as set down below;

b. In paragraph (a), remove the words “over 200 gross tons” and add, in their place, the words “200 GRT/500 GT or more”; remove the words “100 gross tons” and add, in their place, the words “100 GRT”; and after the words “on the individual's license or MMC”, add the words “, without further endorsement”; and

c. In paragraphs (b), (c), and (d), after the words “on the individual's license or MMC”, add the words “, without further endorsement”.

§ 15.901 Inspected vessels of less than 100 GRT.

* * * * *

124. Amend § 15.905 as follows:

a. In paragraph (a), remove the words “under 100 gross tons” and add, in their place, the words “of less than 100 GRT”; and after the words “other than” and before the word “tonnage”, remove the word “gross”;

b. In paragraph (b), remove the words “at least 100 gross tons” and add, in their place, the words “100 GRT or more”; and

c. Revise paragraph (c) to read as follows:

§ 15.905 Uninspected passenger vessels.

* * * * *

(c) An individual holding a license or MMC endorsed as mate of an inspected, self-propelled vessel (other than Great Lakes, inland, or river vessels of less than 200 GRT/500 GT) is authorized to serve as operator of uninspected passenger vessels of less than 100 GRT within any restrictions, other than tonnage limitations, on the individual's license or MMC.

125. Revise § 15.915 to read as follows:

§ 15.915 Engineer officer endorsements.

The following licenses and MMC officer endorsements authorize the holder to serve as noted, within any restrictions on the license or MMC, and as provided by § 15.401 of this part:

(a) A designated duty engineer license or endorsement authorizes service as chief or assistant engineer on vessels of less than 200 GRT/500 GT in the following manners:

(1) A designated duty engineer limited to vessels of less than 1,000 horsepower or 4,000 horsepower may serve only on near-coastal, Great Lakes, or inland waters.

(2) A designated duty engineer with no horsepower limitations may serve on any waters.

(b) A chief engineer (limited-oceans) license or endorsement authorizes service as chief or assistant engineer on vessels of any gross tons on inland waters and of less than 1,600 GRT/3,000 GT on ocean, near-coastal, or Great Lakes waters.

(c) A chief engineer (limited near-coastal) license or endorsement authorizes service as chief or assistant engineer on vessels of any gross tons on inland waters and of less than 1,600 GRT/3,000 GT on near-coastal or Great Lakes waters.

(d) An assistant engineer (limited-oceans) license or endorsement authorizes service on vessels of any gross tons on inland waters and of less than 1,600 GRT/3,000 GT on ocean, near-coastal, or Great Lakes waters.

126. Revise newly redesignated subpart K to read as follows:

Subpart K—Vessels Subject to Requirements of STCW

Sec.
15.1101 General.
15.1103 Employment and service within the restrictions of an STCW endorsement or of a certificate of training.
15.1105 Familiarization and basic safety training (BST).
15.1107 Maintenance of merchant mariners' records by owner or operator.
15.1109 Watches.
15.1111 Work hours and rest periods.
15.1113 Security personnel.

§ 15.1101 General.

(a) Except as noted in paragraphs (1) and (2) of this paragraph, the regulations in this subpart apply to seagoing vessels as defined in § 10.107 of this subchapter, subject to the STCW Convention (incorporated by reference, see § 15.103 of this part).

(1) The following vessels are exempt from application of the STCW Convention:

(i) Fishing vessels as defined in 46 U.S.C. 2101(11)(a);

(ii) Fishing vessels used as fish-tender vessels as defined in 46 U.S.C. 2101(11)(c);

(iii) Barges as defined in 46 U.S.C. 102, including non-self-propelled MODUs; and

(iv) Vessels operating exclusively on the Great Lakes or on the inland waters of the U.S., in the Straits of Juan de Fuca, or on the Inside Passage between Puget Sound and Cape Spencer.

(2) The following small vessels engaged exclusively on domestic voyages are not subject to further obligation for the purposes of the STCW Convention:

(i) Small passenger vessels subject to subchapter T or K of title 46 CFR;

(ii) Vessels of less than 200 GRT/500 GT (other than passenger vessels subject to subchapter H of title 46 CFR); and

(iii) Uninspected passenger vessels as defined in 46 U.S.C. 2101(42)(B).

(b) Masters, mates, and engineers serving on vessels identified in paragraphs (a)(2)(i) and (a)(2)(ii) of this section may be issued, without additional proof of qualification, an appropriate STCW endorsement when the Coast Guard determines that such a document is necessary to enable the vessel to engage on a single international voyage of a non-routine nature. The STCW endorsement will be expressly limited to service on the vessel or the class of vessels and will not establish qualification for any other purpose.

§ 15.1103 Employment and service within the restrictions of an STCW endorsement or of a certificate of training.

(a) Onboard a seagoing vessel operating beyond the boundary line, as described in part 7 of this chapter, no person may employ or engage any person to serve, and no person may serve, in a position requiring a person to hold an STCW endorsement, including master, chief mate, chief engineer officer, second engineer officer, officer of the navigational or engineering watch, or GMDSS radio operator, unless the person serving holds an appropriate, valid STCW endorsement issued in accordance with part 11 of this subchapter.

(b) Onboard a seagoing vessel of 200 GRT/500 GT or more, no person may employ or engage any person to serve, and no person may serve, as an RFPNW or able seafarer-deck, except for training, unless the person serving holds an appropriate, valid STCW endorsement issued in accordance with part 12 of this subchapter.

(c) Onboard a seagoing vessel driven by main propulsion machinery of 1,000 HP/750 kW propulsion power or more, no person may employ or engage any person to serve, and no person may serve, as an RFPEW or able seafarer-engine, nor may any person be designated to perform duties in a periodically unmanned engine-room, except for training or for the performance of duties of an unskilled nature, unless the person serving holds an appropriate, valid STCW endorsement issued in accordance with part 12 of this subchapter.

(d) Onboard a passenger ship, as defined by the Convention for the Safety of Life at Sea, 1974, as amended (SOLAS) (incorporated by reference, see § 15.103 of this part), on an international voyage, any person serving as master, chief mate, mate, chief engineer, engineer officer, and any person holding a license, MMD, or MMC and performing duties relating to safety, cargo handling, or care for passengers, must meet the appropriate requirements of Regulation V/2 of the STCW Convention (incorporated by reference, see § 15.103 of this part). These individuals must hold documentary evidence to show they meet these requirements.

(e) Onboard a seagoing vessel required to comply with provisions of the GMDSS in Chapter IV of SOLAS, no person may employ or engage any person to serve, and no person may serve, as the person designated to maintain GMDSS equipment at sea, when the service of a person so designated is used to meet the maintenance requirements of SOLAS Regulation IV/15, which allows for capability of at-sea electronic maintenance to ensure that radio equipment is available for radio communication, unless the person so serving holds documentary evidence that he or she is competent to maintain GMDSS equipment at sea.

(f) Medical certificate/endorsement. (1) A person may not employ or engage an individual unless that individual maintains a current medical certificate/endorsement. Medical certificates/endorsements must be issued and will remain current for a period of 2 years for individuals serving on vessels to which STCW applies.

(2) If a mariner's medical certificate/endorsement expires during a voyage, it will remain valid until the next United States port of call, provided that the period after expiration does not exceed 90 days.

§ 15.1105 Familiarization and basic safety training (BST).

(a) Onboard a seagoing vessel except as noted in § 15.1101(a)(2) of this part, no person may assign any person to perform shipboard duties, and no person may perform those duties, unless the person performing them has received—

(1) Training in personal survival techniques as set out in the standard of competence under STCW Regulation VI/1 (incorporated by reference, see § 15.103 of this part); or

(2) Sufficient familiarization training or instruction that he or she—

(i) Can communicate with other persons onboard about elementary safety matters and understand informational symbols, signs, and alarm signals concerning safety;

(ii) Knows what to do if a person falls overboard; if fire or smoke is detected; or if the fire alarm or abandon-ship alarm sounds;

(iii) Can identify stations for muster and embarkation, and emergency-escape routes;

(iv) Can locate and don life jackets;

(v) Can raise the alarm and knows the use of portable fire extinguishers;

(vi) Can take immediate action upon encountering an accident or other medical emergency before seeking further medical assistance onboard; and

(vii) Can close and open the fire doors, weather-tight doors, and watertight doors fitted in the vessel other than those for hull openings.

(b) Onboard a seagoing vessel, no person may assign a shipboard duty or responsibility to any person who is serving in a position that must be filled as part of the required crew complement, and no person may perform any such duty or responsibility, unless he or she is familiar with it and with all vessel's arrangements, installations, equipment, procedures, and characteristics relevant to his or her routine and emergency duties or responsibilities, in accordance with STCW Regulation I/14.

(c) Onboard a seagoing vessel, no person may assign a shipboard duty or responsibility to any person who is serving in a position that must be filled as part of the required crew complement or who is assigned a responsibility on the muster list, and no person may perform any such duty or responsibility, unless the person performing it can produce evidence of having—

(1) Received appropriate approved basic safety training or instruction as set out in the standards of competence under STCW Regulation VI/1, with respect to personal survival techniques, fire prevention and fire-fighting, elementary first aid, and personal safety and social responsibilities; and

(2) Maintained the standard of competence under STCW Regulation VI/1, with respect to personal survival techniques, fire prevention and fire-fighting, elementary first aid, and personal safety and social responsibilities, every 5 years.

(d) Fish-processing vessels in compliance with the provisions of 46 CFR part 28 on instructions, drills, and safety orientation are deemed to be in compliance with the requirements of this section on familiarization and basic safety training.

§ 15.1107 Maintenance of merchant mariners' records by owner or operator.

For every credentialed mariner employed on a U.S.-documented seagoing vessel, the owner or operator must ensure that the following information is maintained and readily accessible to those in management positions, including the master of the vessel, who are responsible for the safety of the vessel, compliance with laws and regulations, and for the prevention of marine pollution:

(a) Experience and training relevant to assigned shipboard duties (i.e., record of training completed, ship-specific familiarization and of relevant on-the-job experience acquired); and

(b) Copies of the mariner's current credentials.

§ 15.1109 Watches.

Each master of a vessel that operates beyond the boundary line, as described in part 7 of this chapter, must ensure observance of the principles concerning watchkeeping set out in Regulation VIII/2 of the STCW Convention and section A-VIII/2 of the STCW Code (both incorporated by reference, see § 15.103 of this part).

§ 15.1111 Work hours and rest periods.

(a) Every person assigned duty as officer in charge of a navigational or engineering watch, or duty as ratings forming part of a navigational or engineering watch, or designated safety, prevention of pollution, and security duties onboard any vessel that operates beyond the boundary line, as described in part 7 of this chapter, must receive:

(1) A minimum of 10 hours of rest in any 24-hour period; and

(2) 77 hours in any 7-day period.

(b) The hours of rest required under paragraph (a) of this section may be divided into no more than two periods in any 24-hour period, one of which must be at least 6 hours in length, and the interval between consecutive periods of rest must not exceed 14 hours.

(c) The requirements of paragraph (a) and (b) of this section need not be maintained in the case of an emergency or drill or in other overriding operational conditions.

(d) The minimum period of rest required under paragraph (a) of this section may not be devoted to watchkeeping or other duties.

(e) Watchkeeping personnel remain subject to the work-hour limits in 46 U.S.C. 8104 and to the conditions when crewmembers may be required to work.

(f) The master must post watch schedules where they are easily accessible. They must cover each affected member of the crew and must take into account the rest requirements of this section as well as port rotations and changes in the vessel's itinerary.

(g) Records of daily hours of rest for mariners must be maintained onboard the vessel. These records must be endorsed by the master or a person authorized by the master and by the mariner. A copy of the records must be provided to the mariner.

(h) For every person on call, such as when a machinery space is unattended, the person must have an adequate compensatory rest period if the normal period of rest is disturbed by call-outs to work.

(i) The master of the vessel may suspend the schedule of hours of rest and require a mariner to perform any hours of work necessary for the immediate safety of the ship, persons onboard, or cargo, or for the purpose of giving assistance to other ships or persons in distress at sea. As soon as practicable after the situation has been restored, the master must ensure that any mariner who has performed work in a scheduled rest period is provided with an adequate period of rest.

(j) In exceptional circumstances, the master may authorize exceptions from the hours of rest required under paragraph (a)(2) of this section provided that the rest period is not less than 70 hours in any 7-day period. These exceptions must meet the following additional requirements:

(1) Exceptions shall not extend beyond two 24-hour periods in any 7-day period;

(2) Exceptions shall not extend for more than two consecutive weeks; and

(3) The intervals between two periods of exceptions shall not be less than twice the duration of the exception.

§ 15.1113 Security personnel.

(a) Onboard a seagoing vessel of 200 GRT/500 GT or more, all persons performing duties as Vessel Security Officer (VSO) must hold a valid endorsement as VSO.

(b) After July 1, 2012, all personnel with security duties must hold a valid endorsement as vessel personnel with designated security duties, or a certificate of course completion from an appropriate Coast Guard-accepted course meeting the requirements of 33 CFR 104.220.

(c) After July 1, 2012, all other vessel personnel, including contractors, whether part-time, full-time, temporary, or permanent, must hold a valid endorsement in security awareness, or a certificate of course completion from an appropriate Coast Guard-accepted course meeting the requirements of 33 CFR 104.225.

Dated: June 30, 2011.
Robert J. Papp, Jr.,
Admiral, U.S. Coast Guard, Commandant.

[FR Doc. 2011-17093 Filed 7-29-11; 8:45 am]

BILLING CODE 9110-04-P